DEPARTMENT OF HOMELAND SECURITY

U.S. Customs and Border Protection

Distribution of Continued Dumping and Subsidy Offset to Affected Domestic Producers

AGENCY: U.S. Customs and Border Protection, Department of Homeland Security.

ACTION: Notice of intent to distribute offset for Fiscal Year 2019.

SUMMARY: Pursuant to the Continued Dumping and Subsidy Offset Act of 2000, this document is U.S. Customs and Border Protection's (CBP) notice of intent to distribute assessed antidumping or countervailing duties (known as the continued dumping and subsidy offset) for Fiscal Year 2019 in connection with countervailing duty orders, antidumping duty orders, or findings under the Antidumping Act of 1921. This document provides the instructions for affected domestic producers, or anyone alleging eligibility to receive a distribution, to file certifications to claim a distribution in relation to the listed orders or findings.

DATES: Certifications to obtain a continued dumping and subsidy offset under a particular order or finding must be received by July 30, 2019. Any certification received after July 30, 2019 will be summarily denied, making claimants ineligible for the distribution.

ADDRESSES: Certifications and any other correspondence (whether by mail, or an express or courier service) must be addressed to U.S. Customs and Border Protection, Revenue Division, Attention: CDSOA Team, 6650 Telecom Drive, Suite 100, Indianapolis, IN 46278.

FOR FURTHER INFORMATION CONTACT: Sean Wuethrich, CDSOA Team, Revenue Division, 6650 Telecom Drive, Suite 100, Indianapolis, IN 46278; telephone (317) 614-4462.

SUPPLEMENTARY INFORMATION:

Background

The Continued Dumping and Subsidy Offset Act of 2000 (CDSOA) was enacted on October 28, 2000, as part of the Agriculture, Rural Development, Food and Drug Administration, and Related Agencies Appropriations Act, 2001 (the “Act”). The provisions of the CDSOA are contained in title X (sections 1001-1003) of the Appendix of the Act (H.R. 5426).

The CDSOA amended title VII of the Tariff Act of 1930 by adding a new section 754 (codified at 19 U.S.C. 1675c) in order to provide that assessed duties received pursuant to a countervailing duty order, an antidumping duty order, or a finding under the Antidumping Act of 1921 will be distributed to affected domestic producers for certain qualifying expenditures that these producers incur after the issuance of such an order or finding. The term “affected domestic producer” means any manufacturer, producer, farmer, rancher or worker representative (including associations of such persons) who:

(A) Was a petitioner or interested party in support of a petition with respect to which an antidumping duty order, a finding under the Antidumping Act of 1921, or a countervailing duty order has been entered;

(B) Remains in operation continuing to produce the product covered by the countervailing duty order, the antidumping duty order, or the finding under the Antidumping Act of 1921; and

(C) Has not been acquired by another company or business that is related to a company that opposed the antidumping or countervailing duty investigation that led to the order or finding (e.g., opposed the petition or otherwise presented evidence in opposition to the petition). The distribution that these parties may receive is known as the continued dumping and subsidy offset.

Section 7601(a) of the Deficit Reduction Act of 2005 repealed 19 U.S.C. 1675c. According to section 7701 of the Deficit Reduction Act, the repeal takes effect as if enacted on October 1, 2005. However, section 7601(b) provides that all duties collected on an entry filed before October 1, 2007, must be distributed as if 19 U.S.C. 1675c had not been repealed by section 7601(a). The funds available for distribution were also affected by section 822 of the Claims Resolution Act of 2010 and section 504 of the Tax Relief, Unemployment Insurance Reauthorization, and Job Creation Act of 2010.

Historically, the antidumping and countervailing duties assessed and received by CBP on CDSOA-subject entries, along with the interest assessed and received on those duties pursuant to 19 U.S.C. 1677g, were transferred to the CDSOA Special Account for distribution. 66 FR 48546, Sept. 21, 2001; see also 19 CFR 159.64(e). Other types of interest, including delinquency interest that accrued pursuant to 19 U.S.C. 1505(d), equitable interest under common law, and interest under 19 U.S.C. 580, were not subject to distribution. Id.

Section 605 of the Trade Facilitation and Trade Enforcement Act of 2015 (TFTEA) (Pub. L. 114-125, February 24, 2016; codified as 19 U.S.C. 4401), provided new authority for CBP to deposit into the CDSOA Special Account for distribution delinquency interest that accrued pursuant to 19 U.S.C. 1505(d), equitable interest under common law, and interest under 19 U.S.C. 580 for all surety payments received on or after October 1, 2014, on CDSOA subject entries.

On February 12, 2018, President Trump ordered the sequester of non-exempt budgetary resources for Fiscal Year 2019 pursuant to section 251A of the Balanced Budget and Emergency Deficit Control Act of 1985, as amended (83 FR 6789, February 15, 2018). To implement this sequester during Fiscal Year 2019, the calculation of the Office of Management and Budget (OMB) requires a reduction of 6.2 percent of the assessed duties and interest received in the CDSOA Special Account (account number 015-12-5688). OMB has concluded that any amounts sequestered in the CDSOA Special Account during Fiscal Year 2019 will become available in the subsequent fiscal year. See 2 U.S.C. 906(k)(6). As a result, CBP intends to include the funds that are temporarily reduced via sequester during Fiscal Year 2019 in the continued dumping and subsidy offset for Fiscal Year 2019, which will be distributed not later than 60 days after the first day of Fiscal Year 2020 in accordance with 19 U.S.C. 1675c(c). In other words, the continued dumping and subsidy offset that affected domestic producers receive for Fiscal Year 2019 will include the funds that were temporarily sequestered during Fiscal Year 2019.

Because of the statutory constraints in the assessments of antidumping and countervailing duties, as well as the additional time involved when the Government must initiate litigation to collect delinquent antidumping and countervailing duties, the CDSOA distribution process will be continued for an undetermined period. Consequently, the full impact of the CDSOA repeal on amounts available for distribution may be delayed for several years. It should also be noted that amounts distributed may be subject to recovery as a result of reliquidations, court actions, administrative errors, and other reasons.

List of Orders or Findings and Affected Domestic Producers

It is the responsibility of the U.S. International Trade Commission (USITC) to ascertain and timely forward to CBP a list of the affected domestic producers that are potentially eligible to receive an offset in connection with an order or finding. In this regard, it is noted that the USITC has supplied CBP with the list of individual antidumping and countervailing duty cases, and the affected domestic producers associated with each case who are potentially eligible to receive an offset. This list appears at the end of this document.

A significant amount of litigation has challenged various provisions of the CDSOA, including the definition of the term “affected domestic producer.” In two decisions the U.S. Court of Appeals for the Federal Circuit (Federal Circuit) upheld the constitutionality of the support requirement contained in the CDSOA. Specifically, in SKF USA Inc. v. United States Customs & Border Prot., 556 F.3d 1337 (Fed. Cir. 2009), the Federal Circuit held that the CDSOA's support requirement did not violate either the First or Fifth Amendment. The Supreme Court of the United States denied plaintiff's petition for certiorari, SKF USA, Inc. v. United States Customs & Border Prot., 560 U.S. 903 (2010). Similarly, in PS Chez Sidney, L.L.C. v. United States, 409 Fed. Appx. 327 (Fed. Cir. 2010), the Federal Circuit summarily reversed the U.S. Court of International Trade's judgment that the support requirement was unconstitutional, allowing only plaintiff's non-constitutional claims to go forward. See PS Chez Sidney, L.L.C. v. United States, 684 F.3d 1374 (Fed. Cir. 2012). Furthermore, in two cases interpreting the CDSOA's language, the Federal Circuit concluded that a producer who never indicates support for a dumping petition by letter or through questionnaire response, despite the act of otherwise filling out a questionnaire, cannot be an affected domestic producer. Ashley Furniture Indus., Inc. et al. v. United States, 734 F.3d 1306 (Fed. Cir. 2013), cert. denied, 135 S. Ct. 72 (2014); Giorgio Foods, Inc. v. United States et al., 785 F.3d 595 (Fed. Cir. 2015).

Domestic producers who are not on the USITC list but believe they nonetheless are eligible for a CDSOA distribution under one or more antidumping and/or countervailing duty cases are required, as are all potential claimants that expressly appear on the list, to properly file their certification(s) within 60 days after this notice is published. Such domestic producers must allege all other bases for eligibility in their certification(s). CBP will evaluate the merits of such claims in accordance with the relevant statutes, regulations, and decisions. Certifications that are not timely filed within the requisite 60 days and/or that fail to sufficiently establish a basis for eligibility will be summarily denied. Additionally, CBP may not make a final decision regarding a claimant's eligibility to receive funds until certain legal issues which may affect that claimant's eligibility are resolved. In these instances, CBP may withhold an amount of funds corresponding to the claimant's alleged pro rata share of funds from distribution pending the resolution of those legal issues.

It should also be noted that the Federal Circuit ruled in Canadian Lumber Trade Alliance v. United States, 517 F.3d 1319 (Fed. Cir. 2008), cert. denied sub nom. United States Steel v. Canadian Lumber Trade Alliance, 129 S. Ct. 344 (2008), that CBP was not authorized to distribute such antidumping and countervailing duties to the extent they were derived from goods from countries that are parties to the North American Free Trade Agreement (NAFTA). Due to this decision, CBP does not list cases related to NAFTA on the Preliminary Amounts Available report, and no distributions will be issued on these cases.

Regulations Implementing the CDSOA

It is noted that CBP published Treasury Decision (T.D.) 01-68 (Distribution of Continued Dumping and Subsidy Offset to Affected Domestic Producers) in the Federal Register (66 FR 48546) on September 21, 2001, which was effective as of that date, in order to implement the CDSOA. The final rule added a new subpart F to part 159 of title 19, Code of Federal Regulations (19 CFR part 159, subpart F (sections 159.61-159.64)). More specific guidance regarding the filing of certifications is provided in this notice in order to aid affected domestic producers and other domestic producers alleging eligibility (“claimants” or “domestic producers”).

Notice of Intent To Distribute Offset

This document announces that CBP intends to distribute to affected domestic producers the assessed antidumping or countervailing duties, section 1677g interest, and interest provided for in 19 U.S.C. 4401 that are available for distribution in Fiscal Year 2019 in connection with those antidumping duty orders or findings or countervailing duty orders that are listed in this document. All distributions will be issued by paper check to the address provided by the claimants. Section 159.62(a) of title 19, Code of Federal Regulations (19 CFR 159.62(a)) provides that CBP will publish such a notice of intention to distribute at least 90 calendar days before the end of a fiscal year. Failure to publish the notice at least 90 calendar days before the end of the fiscal year will not affect an affected domestic producer's obligation to file a timely certification within 60 days after the notice is published. See Dixon Ticonderoga v. United States, 468 F.3d 1353, 1354 (Fed. Cir. 2006).

Certifications; Submission and Content

To obtain a distribution of the offset under a given order or finding (including any distribution under 19 U.S.C. 4401), an affected domestic producer (and anyone alleging eligibility to receive a distribution) must submit a certification for each order or finding under which a distribution is sought, to CBP, indicating its desire to receive a distribution. To be eligible to obtain a distribution, certifications must be received by CBP no later than 60 calendar days after the date of publication of this notice of intent to distribute in the Federal Register. All certifications not received by the 60th day will not be eligible to receive a distribution.

As required by 19 CFR 159.62(b), this notice provides the case name and number of the order or finding concerned, as well as the specific instructions for filing a certification under section 159.63 to claim a distribution. Section 159.62(b) also provides that the dollar amounts subject to distribution that are contained in the Special Account for each listed order or finding are to appear in this notice. However, these dollar amounts were not available in time for inclusion in this publication. The preliminary amounts will be posted on the CBP website (http://www.cbp.gov). However, the final amounts available for disbursement may be higher or lower than the preliminary amounts.

CBP will provide general information to claimants regarding the preparation of certification(s). However, it remains the sole responsibility of the domestic producer to ensure that the certification is correct, complete, and accurate so as to demonstrate the eligibility of the domestic producer for the distribution requested. Failure to ensure that the certification is correct, complete, and accurate as provided in this notice will result in the domestic producer not receiving a distribution and/or a demand for the return of funds.

Specifically, to obtain a distribution of the offset under a given order or finding (including any distribution under 19 U.S.C. 4401), each potential claimant must timely submit a certification containing the required information detailed below as to the eligibility of the domestic producer (or anyone alleging eligibility) to receive the requested distribution and the total amount of the distribution that the domestic producer is claiming. Certifications should be submitted to U.S. Customs and Border Protection, Revenue Division, Attention: CDSOA Team, 6650 Telecom Drive, Suite 100, Indianapolis, IN 46278. The certification must enumerate the qualifying expenditures incurred by the domestic producer since the issuance of an order or finding and it must demonstrate that the domestic producer is eligible to receive a distribution as an affected domestic producer or allege another basis for eligibility. Any false statements made in connection with certifications submitted to CBP may give rise to liability under the False Claims Act (see 31 U.S.C. 3729-3733) and/or to criminal prosecution.

A successor to a company that was an affected domestic producer at the time of acquisition should consult 19 CFR 159.61(b)(1)(i). Any company that files a certification claiming to be the successor company to an affected domestic producer will be deemed to have consented to joint and several liability for the return of any overpayments arising under section 159.64(b)(3) that were previously paid to the predecessor. CBP may require the successor company to provide documents to support its eligibility to receive a distribution as set out in section 159.63(d). Additionally, any individual or company who purchases any portion of the operating assets of an affected domestic producer, a successor to an affected domestic producer, or an entity that otherwise previously received distributions may be jointly and severally liable for the return of any overpayments arising under section 159.64(b)(3) that were previously paid to the entity from which the operating assets were purchased or its predecessor, regardless of whether the purchasing individual or company is deemed a successor company for purposes of receiving distributions.

A member company (or its successor) of an association that appears on the list of affected domestic producers in this notice, where the member company itself does not appear on this list, should consult 19 CFR 159.61(b)(1)(ii). Specifically, for a certification under 19 CFR 159.61(b)(1)(ii), the claimant must name the association of which it is a member, specifically establish that it was a member of the association at the time the association filed the petition with the USITC, and establish that the claimant is a current member of the association.

In order to promote accurate filings and more efficiently process the distributions, we offer the following guidance:

• If claimants are members of an association but the association does not file on their behalf, the association will need to provide its members with a statement that contains notarized company-specific information including dates of membership and an original signature from an authorized representative of the association.

• An association filing a certification on behalf of a member must also provide a power of attorney or other evidence of legal authorization from each of the domestic producers it is representing.

• Any association filing a certification on behalf of a member is responsible for verifying the legal sufficiency and accuracy of the member's financial records, which support the claim, and is responsible for that certification. As such, an association filing a certification on behalf of a member is jointly and severally liable with the member for repayment of any claim found to have been paid or overpaid in error.

The association may file a certification in its own right to claim an offset for that order or finding, but its qualifying expenditures would be limited to those expenditures that the association itself has incurred after the date of the order or finding in connection with the particular case.

As provided in 19 CFR 159.63(a), certifications to obtain a distribution of an offset (including any distribution under 19 U.S.C. 4401) must be received by CBP no later than 60 calendar days after the date of publication of the notice of intent in the Federal Register. All certifications received after the 60-day deadline will be summarily denied, making claimants ineligible for the distribution regardless of whether or not they appeared on the USITC list.

A list of all certifications received will be published on the CBP website (http://www.cbp.gov) shortly after the receipt deadline. This publication will not confirm acceptance or validity of the certification, but merely receipt of the certification. Due to the high volume of certifications, CBP is unable to respond to individual telephone or written inquiries regarding the status of a certification appearing on the list.

While there is no required format for a certification, CBP has developed a standard certification form to aid claimants in filing certifications. The certification form is available at https://www.pay.gov under the Public Form Name “Continued Dumping and Subsidy Offset Act of 2000 Certification” (CBP Form Number 7401) or by directing a web browser to https://www.pay.gov/public/form/start/8776895/. The certification form can be submitted electronically through https://www.pay.gov or by mail. All certifications not submitted electronically must include original signatures.

Regardless of the format for a certification, per 19 CFR 159.63(b), the certification must contain the following information:

(1) The date of this Federal Register notice;

(2) The Department of Commerce antidumping or countervailing duty case number (for example, A-331-802);

(3) The case name (product/country);

(4) The name of the domestic producer and any name qualifier, if applicable (for example, any other name under which the domestic producer does business or is also known);

(5) The mailing address of the domestic producer (if a post office box, the physical street address must also appear) including, if applicable, a specific room number or department;

(6) The Internal Revenue Service (IRS) number (with suffix) of the domestic producer, employer identification number, or social security number, as applicable;

(7) The specific business organization of the domestic producer (corporation, partnership, sole proprietorship);

(8) The name(s) of any individual(s) designated by the domestic producer as the contact person(s) concerning the certification, together with the phone number(s), mailing address, and, if available, facsimile transmission number(s) and electronic mail (email) address(es) for the person(s). Correspondence from CBP may be directed to the designated contact(s) by either mail or phone or both;

(9) The total dollar amount claimed;

(10) The dollar amount claimed by category, as described in the section below entitled “Amount Claimed for Distribution”;

(11) A statement of eligibility, as described in the section below entitled “Eligibility to Receive Distribution”; and

(12) For certifications not submitted electronically through https://www.pay.gov, an original signature by an individual legally authorized to bind the producer.

Qualifying Expenditures That May Be Claimed for Distribution

Qualifying expenditures that may be offset under the CDSOA encompass those expenditures incurred by the domestic producer after issuance of an antidumping duty order or finding or a countervailing duty order (including expenditures incurred on the date of the order's issuance), and prior to its termination, provided that such expenditures fall within certain categories. See 19 CFR 159.61(c). The CDSOA repeal language parallels the termination of an order or finding. Therefore, for duty orders or findings that have not been previously revoked, expenses must be incurred before October 1, 2007, to be eligible for offset. For duty orders or findings that have been revoked, expenses must be incurred before the effective date of the revocation to be eligible for offset. For example, assume for case A-331-802 Certain Frozen Warm-Water Shrimp and Prawns from Ecuador, that the order date is February 1, 2005, and that the revocation effective date is August 15, 2007. In this case, eligible expenditures would have to be incurred on or after February 1, 2005, up to and including August 14, 2007; expenditures incurred on or after August 15, 2007 cannot be included as eligible qualifying expenditures for A-331-802.

For the convenience and ease of the domestic producers, CBP is providing guidance on what the agency takes into consideration when making a calculation for each of the following categories:

(1) Manufacturing facilities (Any facility used for the transformation of raw material into a finished product that is the subject of the related order or finding);

(2) Equipment (Goods that are used in a business environment to aid in the manufacturing of a product that is the subject of the related order or finding);

(3) Research and development (Seeking knowledge and determining the best techniques for production of the product that is the subject of the related order or finding);

(4) Personnel training (Teaching of specific useful skills to personnel, that will improve performance in the production process of the product that is the subject of the related order or finding);

(5) Acquisition of technology (Acquisition of applied scientific knowledge and materials to achieve an objective in the production process of the product that is the subject of the related order or finding);

(6) Health care benefits for employees paid for by the employer (Health care benefits paid to employees who are producing the specific product that is the subject of the related order or finding);

(7) Pension benefits for employees paid for by the employer (Pension benefits paid to employees who are producing the specific product that is the subject of the related order or finding);

(8) Environmental equipment, training, or technology (Equipment, training, or technology used in the production of the product that is the subject of the related order or finding, that will assist in preventing potentially harmful factors from affecting the environment);

(9) Acquisition of raw materials and other inputs (Purchase of unprocessed materials or other inputs needed for the production of the product that is the subject of the related order or finding); and

(10) Working capital or other funds needed to maintain production (Assets of a business that can be applied to its production of the product that is the subject of the related order or finding).

Amount Claimed for Distribution

In calculating the amount of the distribution being claimed as an offset, the certification must indicate:

(1) The total amount of any qualifying expenditures previously certified by the domestic producer, and the amount certified by category;

(2) The total amount of those expenditures which have been the subject of any prior distribution for the order or finding being certified under 19 U.S.C. 1675c; and

(3) The net amount for new and remaining qualifying expenditures being claimed in the current certification (the total amount previously certified as noted in item “(1)” above minus the total amount that was the subject of any prior distribution as noted in item “(2)” above). In accordance with 19 CFR 159.63(b)(2)(i)-(iii), CBP will deduct the amount of any prior distribution from the producer's claimed amount for that case. Total amounts disbursed by CBP under the CDSOA for some prior Fiscal Years are available on the CBP website.

Additionally, under 19 CFR 159.61(c), these qualifying expenditures must be related to the production of the same product that is the subject of the order or finding, with the exception of expenses incurred by associations which must be related to a specific case. Any false statements made to CBP concerning the amount of distribution being claimed as an offset may give rise to liability under the False Claims Act (see 31 U.S.C. 3729-3733) and/or to criminal prosecution.

Eligibility To Receive Distribution

As noted, the certification must contain a statement that the domestic producer desires to receive a distribution and is eligible to receive the distribution as an affected domestic producer or on another legal basis. Also, the domestic producer must affirm that the net amount certified for distribution does not encompass any qualifying expenditures for which distribution has previously been made (19 CFR 159.63(b)(3)(i)). Any false statements made in connection with certifications submitted to CBP may give rise to liability under the False Claims Act (see 31 U.S.C. 3729-3733) and/or to criminal prosecution.

Furthermore, under 19 CFR 159.63(b)(3)(ii), where a domestic producer files a separate certification for more than one order or finding using the same qualifying expenditures as the basis for distribution in each case, each certification must list all the other orders or findings where the producer is claiming the same qualifying expenditures.

Moreover, as required by 19 U.S.C. 1675c(b)(1) and 19 CFR 159.63(b)(3)(iii), the certification must include information as to whether the domestic producer remains in operation at the time the certifications are filed and continues to produce the product covered by the particular order or finding under which the distribution is sought. If a domestic producer is no longer in operation, or no longer produces the product covered by the order or finding, the producer will not be considered an affected domestic producer entitled to receive a distribution.

In addition, as required by 19 U.S.C. 1675c(b)(5) and 19 CFR 159.63(b)(3)(iii), the domestic producer must state whether it has been acquired by a company that opposed the investigation or was acquired by a business related to a company that opposed the investigation. If a domestic producer has been so acquired, the producer will not be considered an affected domestic producer entitled to receive a distribution. However, CBP may not make a final decision regarding a claimant's eligibility to receive funds until certain legal issues which may affect that claimant's eligibility are resolved. In these instances, CBP may withhold an amount of funds corresponding to the claimant's alleged pro rata share of funds from distribution pending the resolution of those legal issues.

The certification must be executed and dated by a party legally authorized to bind the domestic producer and it must state that the information contained in the certification is true and accurate to the best of the certifier's knowledge and belief under penalty of law, and that the domestic producer has records to support the qualifying expenditures being claimed (see section below entitled “Verification of Certification”). Moreover as provided in 19 CFR 159.64(b)(3), all overpayments to affected domestic producers are recoverable by CBP, and CBP reserves the right to use all available collection tools to recover overpayments, including but not limited to garnishments, court orders, administrative offset, enrollment in the Treasury Offset Program, and/or offset of tax refund payments. Overpayments may occur for a variety of reasons, including but not limited to: Reliquidations, court actions, settlements, insufficient verification of a certification in response to an inquiry from CBP, and administrative errors. With diminished amounts available over time, the likelihood that these events will require the recovery of funds previously distributed will increase. As a result, domestic producers who receive distributions under the CDSOA may wish to set aside any funds received in case it is subsequently determined that an overpayment has occurred. CBP considers the submission of a certification and the negotiation of any distribution checks received as acknowledgements and acceptance of the claimant's obligation to return those funds upon demand.

Review and Correction of Certification

A certification that is submitted in response to this notice of intent to distribute and received within 60 calendar days after the date of publication of the notice in the Federal Register may, at CBP's sole discretion, be subject to review before acceptance to ensure that all informational requirements are complied with and that any amounts set forth in the certification for qualifying expenditures, including the amount claimed for distribution, appear to be correct. A certification that is found to be materially incorrect or incomplete will be returned to the domestic producer within 15 business days after the close of the 60 calendar-day filing period, as provided in 19 CFR 159.63(c). In making this determination, CBP will not speculate as to the reason for the error (e.g., intentional, typographical, etc.). CBP must receive a corrected certification from the domestic producer and/or an association filing on behalf of an association member within 10 business days from the date of the original denial letter. Failure to receive a corrected certification within 10 business days will result in denial of the certification at issue. It is the sole responsibility of the domestic producer to ensure that the certification is correct, complete, and accurate so as to demonstrate the eligibility of the domestic producer to the distribution requested. Failure to ensure that the certification is correct, complete, and accurate will result in the domestic producer not receiving a distribution and/or a demand for the return of funds.

Verification of Certification

Certifications are subject to CBP's verification. The burden remains on each claimant to fully substantiate all elements of its certification. As such, claimants may be required to provide copies of additional records for further review by CBP. Therefore, parties are required to maintain, and be prepared to produce, records adequately supporting their claims for a period of five years after the filing of the certification (19 CFR 159.63(d)). The records must demonstrate that each qualifying expenditure enumerated in the certification was actually incurred, and they must support how the qualifying expenditures are determined to be related to the production of the product covered by the order or finding. Although CBP will accept comments and information from the public and other domestic producers, CBP retains complete discretion regarding the initiation and conduct of investigations stemming from such information. In the event that a distribution is made to a domestic producer from whom CBP later seeks verification of the certification and sufficient supporting documentation is not provided as determined by CBP, then the amounts paid to the affected domestic producer are recoverable by CBP as an overpayment. CBP reserves the right to use all available collection tools to recover overpayments, including but not limited to garnishments, court orders, administrative offset, enrollment in the Treasury Offset Program, and/or offset of tax refund payments. CBP considers the submission of a certification and the negotiation of any distribution checks received as acknowledgements and acceptance of the claimant's obligation to return those funds upon demand. Additionally, the submission of false statements, documents, or records in connection with a certification or verification of a certification may give rise to liability under the False Claims Act (see 31 U.S.C. 3729-3733) and/or to criminal prosecution.

Disclosure of Information in Certifications; Acceptance by Producer

The name of the claimant, the total dollar amount claimed by the party on the certification, as well as the total dollar amount that CBP actually disburses to that affected domestic producer as an offset, will be available for disclosure to the public, as specified in 19 CFR 159.63(e). To this extent, the submission of the certification is construed as an understanding and acceptance on the part of the domestic producer that this information will be disclosed to the public and a waiver of any right to privacy or non-disclosure. Additionally, a statement in a certification that this information is proprietary and exempt from disclosure may result in CBP's rejection of the certification.

List of Orders or Findings and Related Domestic Producers

The list of individual antidumping duty orders or findings and countervailing duty orders is set forth below together with the affected domestic producers associated with each order or finding who are potentially eligible to receive an offset. Those domestic producers not on the list must allege another basis for eligibility in their certification. Appearance of a domestic producer on the list is not a guarantee of distribution.

Dated: May 17, 2019.
Samuel D. Grable,
Assistant Commissioner and Chief Financial Officer, Office of Finance.

Commerce case No. | Commission case No. | Product/country | Petitioners/supporters
A-122-006 | AA1921-49 | Steel Jacks/Canada | Bloomfield Manufacturing (formerly Harrah Manufacturing). Seaburn Metal Products.
A-122-047 | AA1921-127 | Elemental Sulphur/Canada | Duval.
A-122-085 | 731-TA-3 | Sugar and Syrups/Canada | Amstar Sugar.
A-122-401 | 731-TA-196 | Red Raspberries/Canada | Northwest Food Producers' Association. Oregon Caneberry Commission.
|  |  | Rader Farms.
|  |  | Ron Roberts.
|  |  | Shuksan Frozen Food.
|  |  | Washington Red Raspberry Commission.
A-122-503 | 731-TA-263 | Iron Construction Castings/Canada | Alhambra Foundry. Allegheny Foundry.
|  |  | Bingham & Taylor.
|  |  | Campbell Foundry.
|  |  | Charlotte Pipe & Foundry.
|  |  | Deeter Foundry.
|  |  | East Jordan Foundry.
|  |  | Le Baron Foundry.
|  |  | Municipal Castings.
|  |  | Neenah Foundry.
|  |  | Opelika Foundry.
|  |  | Pinkerton Foundry.
|  |  | Tyler Pipe.
|  |  | US Foundry & Manufacturing.
|  |  | Vulcan Foundry.
A-122-506 | 731-TA-276 | Oil Country Tubular Goods/Canada | CF&I Steel. Copperweld Tubing.
|  |  | Cyclops.
|  |  | KPC.
|  |  | Lone Star Steel.
|  |  | LTV Steel.
|  |  | Maverick Tube.
|  |  | Quanex.
|  |  | US Steel.
A-122-601 | 731-TA-312 | Brass Sheet and Strip/Canada | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-122-605 | 731-TA-367 | Color Picture Tubes/Canada | Industrial Union Department, AFL-CIO. International Association of Machinists & Aerospace Workers.
|  |  | International Brotherhood of Electrical Workers.
|  |  | International Union of Electronic, Electrical, Technical, Salaried and Machine Workers.
|  |  | Philips Electronic Components Group.
|  |  | United Steelworkers of America.
|  |  | Zenith Electronics.
A-122-804 | 731-TA-422 | Steel Rails/Canada | Bethlehem Steel. CF&I Steel.
A-122-814 | 731-TA-528 | Pure Magnesium/Canada | Magnesium Corporation of America.
A-122-822 | 731-TA-614 | Corrosion-Resistant Carbon Steel Flat Products/Canada | Armco Steel. Bethlehem Steel. California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
-122-823 | 731-TA-575 | Cut-to-Length Carbon Steel Plate/Canada | Bethlehem Steel. California Steel Industries. Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-122-830 | 731-TA-789 | Stainless Steel Plate in Coils/Canada | Allegheny Ludlum. Armco Steel.
|  |  | J&L Specialty Steel.
|  |  | Lukens Steel.
|  |  | North American Stainless.
A-122-838 | 731-TA-928 | Softwood Lumber/Canada | 71 Lumber Co. Almond Bros Lbr Co.
|  |  | Anthony Timberlands.
|  |  | Balfour Lbr Co.
|  |  | Ball Lumber.
|  |  | Banks Lumber Company.
|  |  | Barge Forest Products Co.
|  |  | Beadles Lumber Co.
|  |  | Bearden Lumber.
|  |  | Bennett Lumber.
|  |  | Big Valley Band Mill.
|  |  | Bighorn Lumber Co Inc.
|  |  | Blue Mountain Lumber.
|  |  | Buddy Bean Lumber.
|  |  | Burgin Lumber Co Ltd.
|  |  | Burt Lumber Company.
|  |  | C&D Lumber Co.
|  |  | Ceda-Pine Veneer.
|  |  | Cersosimo Lumber Co Inc.
|  |  | Charles Ingram Lumber Co Inc.
|  |  | Charleston Heart Pine.
|  |  | Chesterfield Lumber
|  |  | Chips.
|  |  | Chocorua Valley Lumber Co.
|  |  | Claude Howard Lumber.
|  |  | Clearwater Forest Industries.
|  |  | CLW Inc.
|  |  | CM Tucker Lumber Corp.
|  |  | Coalition for Fair Lumber Imports Executive Committee.
|  |  | Cody Lumber Co.
|  |  | Collins Pine Co.
|  |  | Collums Lumber.
|  |  | Columbus Lumber Co.
|  |  | Contoocook River Lumber.
|  |  | Conway Guiteau Lumber.
|  |  | Cornwright Lumber Co.
|  |  | Crown Pacific.
|  |  | Daniels Lumber Inc.
|  |  | Dean Lumber Co Inc.
|  |  | Deltic Timber Corporation.
|  |  | Devils Tower Forest Products.
|  |  | DiPrizio Pine Sales.
|  |  | Dorchester Lumber Co.
|  |  | DR Johnson Lumber.
|  |  | East Brainerd Lumber Co.
|  |  | East Coast Lumber Company.
|  |  | Eas-Tex Lumber.
|  |  | ECK Wood Products.
|  |  | Ellingson Lumber Co.
|  |  | Elliott Sawmilling.
|  |  | Empire Lumber Co.
|  |  | Evergreen Forest Products.
|  |  | Excalibur Shelving Systems Inc.
|  |  | Exley Lumber Co.
|  |  | FH Stoltze Land & Lumber Co.
|  |  | FL Turlington Lbr Co Inc.
|  |  | Fleming Lumber.
|  |  | Flippo Lumber.
|  |  | Floragen Forest Products.
|  |  | Frank Lumber Co.
|  |  | Franklin Timber Co.
|  |  | Fred Tebb & Sons.
|  |  | Fremont Sawmill.
|  |  | Frontier Resources.
|  |  | Garrison Brothers Lumber Co and Subsidiaries.
|  |  | Georgia Lumber.
|  |  | Gilman Building Products.
|  |  | Godfrey Lumber.
|  |  | Granite State Forest Prod Inc.
|  |  | Great Western Lumber Co.
|  |  | Greenville Molding Inc.
|  |  | Griffin Lumber Company.
|  |  | Guess Brothers Lumber.
|  |  | Gulf Lumber.
|  |  | Gulf States Paper.
|  |  | Guy Bennett Lumber.
|  |  | Hampton Resources.
|  |  | Hancock Lumber.
|  |  | Hankins Inc.
|  |  | Hankins Lumber Co.
|  |  | Harrigan Lumber.
|  |  | Harwood Products.
|  |  | Haskell Lumber Inc.
|  |  | Hatfield Lumber.
|  |  | Hedstrom Lumber.
|  |  | Herrick Millwork Inc.
|  |  | HG Toler & Son Lumber Co Inc.
|  |  | HG Wood Industries LLC.
|  |  | Hogan & Storey Wood Prod.
|  |  | Hogan Lumber Co.
|  |  | Hood Industries.
|  |  | HS Hofler & Sons Lumber Co Inc.
|  |  | Hubbard Forest Ind Inc.
|  |  | HW Culp Lumber Co.
|  |  | Idaho Veneer Co.
|  |  | Industrial Wood Products.
|  |  | Intermountain Res LLC.
|  |  | International Paper.
|  |  | J Franklin Jones Lumber Co Inc.
|  |  | Jack Batte & Sons Inc.
|  |  | Jasper Lumber Company.
|  |  | JD Martin Lumber Co.
|  |  | JE Jones Lumber Co.
|  |  | Jerry G Williams & Sons.
|  |  | JH Knighton Lumber Co.
|  |  | Johnson Lumber Company.
|  |  | Jordan Lumber & Supply.
|  |  | Joseph Timber Co.
|  |  | JP Haynes Lbr Co Inc.
|  |  | JV Wells Inc.
|  |  | JW Jones Lumber.
|  |  | Keadle Lumber Enterprises.
|  |  | Keller Lumber.
|  |  | King Lumber Co.
|  |  | Konkolville Lumber.
|  |  | Langdale Forest Products.
|  |  | Laurel Lumber Company.
|  |  | Leavitt Lumber Co.
|  |  | Leesville Lumber Co.
|  |  | Limington Lumber Co.
|  |  | Longview Fibre Co.
|  |  | Lovell Lumber Co Inc.
|  |  | M Kendall Lumber Co.
|  |  | Manke Lumber Co.
|  |  | Marriner Lumber Co.
|  |  | Mason Lumber.
|  |  | MB Heath & Sons Lumber Co.
|  |  | MC Dixon Lumber Co Inc.
|  |  | Mebane Lumber Co Inc.
|  |  | Metcalf Lumber Co Inc.
|  |  | Millry Mill Co Inc.
|  |  | Moose Creek Lumber Co.
|  |  | Moose River Lumber.
|  |  | Morgan Lumber Co Inc.
|  |  | Mount Yonah Lumber Co.
|  |  | Nagel Lumber.
|  |  | New Kearsarge Corp.
|  |  | New South.
|  |  | Nicolet Hardwoods.
|  |  | Nieman Sawmills SD.
|  |  | Nieman Sawmills WY.
|  |  | North Florida.
|  |  | Northern Lights Timber & Lumber.
|  |  | Northern Neck Lumber Co.
|  |  | Ochoco Lumber Co.
|  |  | Olon Belcher Lumber Co.
|  |  | Owens and Hurst Lumber.
|  |  | Packaging Corp of America.
|  |  | Page & Hill Forest Products.
|  |  | Paper, Allied-Industrial, Chemical and Energy Workers.
|  |  | International Union.
|  |  | Parker Lumber.
|  |  | Pate Lumber Co Inc.
|  |  | PBS Lumber.
|  |  | Pedigo Lumber Co.
|  |  | Piedmont Hardwood Lumber Co.
|  |  | Pine River Lumber Co.
|  |  | Pinecrest Lumber Co.
|  |  | Pleasant River Lumber Co.
|  |  | Pleasant Western Lumber Inc.
|  |  | Plum Creek Timber.
|  |  | Pollard Lumber.
|  |  | Portac.
|  |  | Potlatch.
|  |  | Potomac Supply.
|  |  | Precision Lumber Inc.
|  |  | Pruitt Lumber Inc.
|  |  | R. Leon Williams Lumber Co.
|  |  | RA Yancey Lumber.
|  |  | Rajala Timber Co.
|  |  | Ralph Hamel Forest Products.
|  |  | Randy D. Miller Lumber.
|  |  | Rappahannock Lumber Co.
|  |  | Regulus Stud Mills Inc.
|  |  | Riley Creek Lumber.
|  |  | Roanoke Lumber Co.
|  |  | Robbins Lumber.
|  |  | Robertson Lumber.
|  |  | Roseburg Forest Products Co.
|  |  | Rough & Ready.
|  |  | RSG Forest Products.
|  |  | Rushmore Forest Products.
|  |  | RY Timber Inc.
|  |  | Sam Mabry Lumber Co.
|  |  | Scotch Lumber.
|  |  | SDS Lumber Co.
|  |  | Seacoast Mills Inc.
|  |  | Seago Lumber.
|  |  | Seattle-Snohomish.
|  |  | Seneca Sawmill.
|  |  | Shaver Wood Products.
|  |  | Shearer Lumber Products.
|  |  | Shuqualak Lumber.
|  |  | SI Storey Lumber.
|  |  | Sierra Forest Products.
|  |  | Sierra Pacific Industries.
|  |  | Sigfridson Wood Products.
|  |  | Silver City Lumber Inc.
|  |  | Somers Lbr & Mfg Inc.
|  |  | South & Jones.
|  |  | South Coast.
|  |  | Southern Forest Industries Inc.
|  |  | Southern Lumber.
|  |  | St Laurent Forest Products.
|  |  | Starfire Lumber Co.
|  |  | Steely Lumber Co Inc.
|  |  | Stimson Lumber.
|  |  | Summit Timber Co.
|  |  | Sundance Lumber.
|  |  | Superior Lumber.
|  |  | Swanson Superior Forest Products Inc.
|  |  | Swift Lumber.
|  |  | Tamarack Mill.
|  |  | Taylor Lumber & Treating Inc.
|  |  | Temple-Inland Forest Products.
|  |  | Thompson River Lumber.
|  |  | Three Rivers Timber.
|  |  | Thrift Brothers Lumber Co Inc.
|  |  | Timco Inc.
|  |  | Tolleson Lumber.
|  |  | Toney Lumber.
|  |  | TR Miller Mill Co.
|  |  | Tradewinds of Virginia Ltd.
|  |  | Travis Lumber Co.
|  |  | Tree Source Industries Inc.
|  |  | Tri-State Lumber.
|  |  | TTT Studs.
|  |  | United Brotherhood of Carpenters and Joiners.
|  |  | Viking Lumber Co.
|  |  | VP Kiser Lumber Co.
|  |  | Walton Lumber Co Inc.
|  |  | Warm Springs Forest Products.
|  |  | Westvaco Corp.
|  |  | Wilkins, Kaiser & Olsen Inc.
|  |  | WM Shepherd Lumber Co.
|  |  | WR Robinson Lumber Co Inc.
|  |  | Wrenn Brothers Inc.
|  |  | Wyoming Sawmills.
|  |  | Yakama Forest Products.
|  |  | Younce & Ralph Lumber Co Inc.
|  |  | Zip-O-Log Mills Inc.
A-122-840 | 731-TA-954 | Carbon and Certain Alloy Steel Wire Rod/Canada. | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-122-847 | 731-TA-1019B | Hard Red Spring Wheat/Canada | North Dakota Wheat Commission.
A-201-504 | 731-TA-297 | Porcelain-on-Steel Cooking Ware/Mexico | General Housewares.
A-201-601 | 731-TA-333 | Fresh Cut Flowers/Mexico | Burdette Coward. California Floral Council.
|  |  | Floral Trade Council.
|  |  | Florida Flower Association.
|  |  | Gold Coast Uanko Nursery.
|  |  | Hollandia Wholesale Florist.
|  |  | Manatee Fruit.
|  |  | Monterey Flower Farms.
|  |  | Topstar Nursery.
A-201-802 | 731-TA-451 | Gray Portland Cement and Clinker/Mexico | Alamo Cement. Blue Circle.
|  |  | BoxCrow Cement.
|  |  | Calaveras Cement.
|  |  | Capitol Aggregates.
|  |  | Centex Cement.
|  |  | Florida Crushed Stone.
|  |  | Gifford-Hill.
|  |  | Hanson Permanente Cement.
|  |  | Ideal Basic Industries.
|  |  | Independent Workers of North America (Locals 49, 52, 89, 192 and 471).
|  |  | International Union of Operating Engineers (Local 12).
|  |  | National Cement Company of Alabama.
|  |  | National Cement Company of California.
|  |  | Phoenix Cement.
|  |  | Riverside Cement.
|  |  | Southdown.
|  |  | Tarmac America.
|  |  | Texas Industries.
A-201-805 | 731-TA-534 | Circular Welded Nonalloy Steel Pipe/Mexico | Allied Tube & Conduit. American Tube.
|  |  | Bull Moose Tube.
|  |  | Century Tube.
|  |  | CSI Tubular Products.
|  |  | Cyclops.
|  |  | Laclede Steel.
|  |  | LTV Tubular Products.
|  |  | Maruichi American.
|  |  | Sharon Tube.
|  |  | USX.
|  |  | Western Tube & Conduit.
|  |  | Wheatland Tube.
A-201-806 | 731-TA-547 | Carbon Steel Wire Rope/Mexico | Bridon American. Macwhyte. Paulsen Wire Rope.
|  |  | The Rochester Corporation.
|  |  | United Automobile, Aerospace and Agricultural Implement Workers (Local 960).
|  |  | Williamsport.
|  |  | Wire-rope Works.
|  |  | Wire Rope Corporation of America.
A-201-809 | 731-TA-582 | Cut-to-Length Carbon Steel Plate/Mexico | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-201-817 | 731-TA-716 | Oil Country Tubular Goods/Mexico | IPSCO. Koppel Steel.
|  |  | Maverick Tube.
|  |  | Newport Steel.
|  |  | North Star Steel.
|  |  | US Steel.
|  |  | USS/Kobe.
A-201-820 | 731-TA-747 | Fresh Tomatoes/Mexico | Accomack County Farm Bureau. Ad Hoc Group of Florida, California, Georgia, Pennsylvania, South Carolina, Tennessee and Virginia Tomato Growers.
|  |  | Florida Farm Bureau Federation.
|  |  | Florida Fruit and Vegetable Association.
|  |  | Florida Tomato Exchange.
|  |  | Florida Tomato Growers Exchange.
|  |  | Gadsden County Tomato Growers Association.
|  |  | South Carolina Tomato Association.
A-201-822 | 731-TA-802 | Stainless Steel Sheet and Strip/Mexico | Allegheny Ludlum. Armco.
|  |  | Bethlehem Steel.
|  |  | Carpenter Technology Corp.
|  |  | J&L Specialty Steel.
|  |  | North American Stainless.
|  |  | United Steelworkers of America.
A-201-827 | 731-TA-848 | Large-Diameter Carbon Steel Seamless Pipe/Mexico | North Star Steel. Timken.
|  |  | US Steel.
|  |  | United Steelworkers of America.
|  |  | USS/Kobe.
A-201-828 | 731-TA-920 | Welded Large Diameter Line Pipe/Mexico | American Cast Iron Pipe. Berg Steel Pipe.
|  |  | Bethlehem Steel.
|  |  | Napa Pipe/Oregon Steel Mills.
|  |  | Saw Pipes USA.
|  |  | Stupp.
|  |  | US Steel.
A-201-830 | 731-TA-958 | Carbon and Certain Alloy Steel Wire Rod/Mexico | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-201-831 | 731-TA-1027 | Prestressed Concrete Steel Wire Strand/Mexico | American Spring Wire Corp. Insteel Wire Products Co.
|  |  | Sivaco Georgia LLC.
|  |  | Strand Tech Martin Inc.
|  |  | Sumiden Wire Products Corp.
A-201-834 | 731-TA-1085 | Purified Carboxymethylcellulose/Mexico | Aqualon Co a Division of Hercules Inc.
A-274-804 | 731-TA-961 | Carbon and Certain Alloy Steel Wire Rod/Trinidad & Tobago | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-301-602 | 731-TA-329 | Fresh Cut Flowers/Colombia | Burdette Coward.
|  |  | California Floral Council.
|  |  | Floral Trade Council.
|  |  | Florida Flower Association.
|  |  | Gold Coast Uanko Nursery.
|  |  | Hollandia Wholesale Florist.
|  |  | Manatee Fruit.
|  |  | Monterey Flower Farms.
|  |  | Pajaro Valley Greenhouses.
|  |  | Topstar Nursery.
A-307-803 | 731-TA-519 | Gray Portland Cement and Clinker/Venezuela | Florida Crushed Stone. Southdown.
|  |  | Tarmac America.
A-307-805 | 731-TA-537 | Circular Welded Nonalloy Steel Pipe/Venezuela | Allied Tube & Conduit. American Tube.
|  |  | Bull Moose Tube.
|  |  | Century Tube.
|  |  | CSI Tubular Products.
|  |  | Cyclops.
|  |  | Laclede Steel,
|  |  | LTV Tubular Products.
|  |  | Maruichi American.
|  |  | Sharon Tube.
|  |  | USX.
|  |  | Western Tube & Conduit.
|  |  | Wheatland Tube.
A-307-807 | 731-TA-570 | Ferrosilicon/Venezuela | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
A-307-820 | 731-TA-931 | Silicomanganese/Venezuela | Eramet Marietta. Paper, Allied-Industrial, Chemical and Energy Workers International Union, Local 5-0639.
A-331-602 | 731-TA-331 | Fresh Cut Flowers/Ecuador | Burdette Coward. California Floral Council.
|  |  | Floral Trade Council.
|  |  | Florida Flower Association.
|  |  | Gold Coast Uanko Nursery.
|  |  | Hollandia Wholesale Florist.
|  |  | Manatee Fruit.
|  |  | Monterey Flower Farms.
|  |  | Topstar Nursery.
A-337-803 | 731-TA-768 | Fresh Atlantic Salmon/Chile | Atlantic Salmon of Maine. Cooke Aquaculture US.
|  |  | DE Salmon.
|  |  | Global Aqua USA.
|  |  | Island Aquaculture.
|  |  | Maine Coast Nordic.
|  |  | Scan Am Fish Farms.
|  |  | Treats Island Fisheries.
|  |  | Trumpet Island Salmon Farm.
A-337-804 | 731-TA-776 | Preserved Mushrooms/Chile | LK Bowman. Modern Mushroom Farms.
|  |  | Monterey Mushrooms.
|  |  | Mount Laurel Canning.
|  |  | Mushroom Canning.
|  |  | Southwood Farms.
|  |  | Sunny Dell Foods
|  |  | United Canning.
A-337-806 | 731-TA-948 | Individually Quick Frozen Red Raspberries/Chile | A&A Berry Farms. Bahler Farms.
|  |  | Bear Creek Farms.
|  |  | David Burns.
|  |  | Columbia Farms.
|  |  | Columbia Fruit.
|  |  | George Culp.
|  |  | Dobbins Berry Farm.
|  |  | Enfield.
|  |  | Firestone Packing.
|  |  | George Hoffman Farms.
|  |  | Heckel Farms.
|  |  | Wendell Kreder.
|  |  | Curt Maberry.
|  |  | Maberry Packing.
|  |  | Mike & Jean's.
|  |  | Nguyen Berry Farms.
|  |  | Nick's Acres.
|  |  | North Fork.
|  |  | Parson Berry Farm.
|  |  | Pickin 'N' Pluckin.
|  |  | Postage Stamp Farm.
|  |  | Rader.
|  |  | RainSweet.
|  |  | Scenic Fruit.
|  |  | Silverstar Farms.
|  |  | Tim Straub.
|  |  | Thoeny Farms.
|  |  | Townsend.
|  |  | Tsugawa Farms.
|  |  | Updike Berry Farms.
|  |  | Van Laeken Farms.
A-351-503 | 731-TA-262 | Iron Construction Castings/Brazil | Alhambra Foundry. Allegheny Foundry.
|  |  | Bingham & Taylor.
|  |  | Campbell Foundry.
|  |  | Charlotte Pipe & Foundry.
|  |  | Deeter Foundry.
|  |  | East Jordan Foundry.
|  |  | Le Baron Foundry.
|  |  | Municipal Castings.
|  |  | Neenah Foundry.
|  |  | Opelika Foundry.
|  |  | Pinkerton Foundry.
|  |  | Tyler Pipe.
|  |  | US Foundry & Manufacturing.
|  |  | Vulcan Foundry.
A-351-505 | 731-TA-278 | Malleable Cast Iron Pipe Fittings/Brazil | Grinnell. Stanley G Flagg.
|  |  | Stockham Valves & Fittings.
|  |  | U-Brand.
|  |  | Ward Manufacturing.
A-351-602 | 731-TA-308 | Carbon Steel Butt-Weld Pipe Fittings/Brazil | Ladish. Mills Iron Works.
|  |  | Steel Forgings.
|  |  | Tube Forgings of America.
|  |  | Weldbend.
A-351-603 | 731-TA-311 | Brass Sheet and Strip/Brazil | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-351-605 | 731-TA-326 | Frozen Concentrated Orange Juice/Brazil | Alcoma Packing. B&W Canning. Berry Citrus Products.
|  |  | Caulkins Indiantown Citrus.
|  |  | Citrus Belle.
|  |  | Citrus World.
|  |  | Florida Citrus Mutual.
A-351-804 | 731-TA-439 | Industrial Nitrocellulose/Brazil | Hercules.
A-351-806 | 731-TA-471 | Silicon Metal/Brazil | American Alloys. Globe Metallurgical.
|  |  | International Union of Electronics, Electrical, Machine and Furniture Workers (Local 693).
|  |  | Oil, Chemical and Atomic Workers (Local 389).
|  |  | Silicon Metaltech.
|  |  | SiMETCO.
|  |  | Textile Processors, Service Trades, Health Care Professional and Technical Employees (Local 60).
|  |  | United Steelworkers of America (Locals 5171, 8538 and 12646).
A-351-809 | 731-TA-532 | Circular Welded Nonalloy Steel Pipe/Brazil | Allied Tube & Conduit. American Tube.
|  |  | Bull Moose Tube.
|  |  | Century Tube.
|  |  | CSI Tubular Products.
|  |  | Cyclops.
|  |  | Laclede Steel.
|  |  | LTV Tubular Products.
|  |  | Maruichi American.
|  |  | Sharon Tube.
|  |  | USX.
|  |  | Western Tube & Conduit.
|  |  | Wheatland Tube.
A-351-817 | 731-TA-574 | Cut-to-Length Carbon Steel Plate/Brazil | Bethlehem Steel. California Steel Industries. CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-351-819 | 731-TA-636 | Stainless Steel Wire Rod/Brazil | AL Tech Specialty Steel. Armco Steel. Carpenter Technology.
|  |  | Republic Engineered Steels.
|  |  | Talley Metals Technology.
|  |  | United Steelworkers of America.
A-351-820 | 731-TA-641 | Ferrosilicon/Brazil | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
A-351-824 | 731-TA-671 | Silicomanganese/Brazil | Elkem Metals. Oil, Chemical and Atomic Workers (Local 3-639).
A-351-825 | 731-TA-678 | Stainless Steel Bar/Brazil | AL Tech Specialty Steel. Carpenter Technology.
|  |  | Crucible Specialty Metals.
|  |  | Electralloy.
|  |  | Republic Engineered Steels.
|  |  | Slater Steels.
|  |  | Talley Metals Technology.
|  |  | United Steelworkers of America.
A-351-826 | 731-TA-708 | Seamless Pipe/Brazil | Koppel Steel. Quanex.
|  |  | Timken.
|  |  | United States Steel.
A-351-828 | 731-TA-806 | Hot-Rolled Carbon Steel Flat Products/Brazil | Acme Steel. Bethlehem Steel.
|  |  | California Steel Industries.
|  |  | Gallatin Steel.
|  |  | Geneva Steel.
|  |  | Gulf States Steel.
|  |  | Independent Steelworkers.
|  |  | IPSCO.
|  |  | Ispat/Inland.
|  |  | LTV Steel.
|  |  | National Steel.
|  |  | Nucor.
|  |  | Rouge Steel Co.
|  |  | Steel Dynamics.
|  |  | US Steel.
|  |  | United Steelworkers of America.
|  |  | WCI Steel.
|  |  | Weirton Steel.
|  |  | Wheeling-Pittsburgh Steel Corp.
A-351-832 | 731-TA-953 | Carbon and Certain Alloy Steel Wire Rod/Brazil | AmeriSteel. Birmingham Steel. Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-351-837 | 731-TA-1024 | Prestressed Concrete Steel Wire Strand/Brazil | American Spring Wire Corp. Insteel Wire Products Co. Sivaco Georgia LLC.
|  |  | Strand Tech Martin Inc.
|  |  | Sumiden Wire Products Corp.
A-351-840 | 731-TA-1089 | Certain Orange Juice/Brazil | A Duda & Sons Inc. Alico Inc.
|  |  | John Barnelt.
|  |  | Ben Hill Griffin Inc.
|  |  | Bliss Citrus.
|  |  | BTS A Florida General Partnership.
|  |  | Cain Groves.
|  |  | California Citrus Mutual.
|  |  | Cedar Haven Inc.
|  |  | Citrus World Inc.
|  |  | Clonts Groves Inc.
|  |  | Davis Enterprises Inc
|  |  | D Edwards Dickinson.
|  |  | Evans Properties Inc.
|  |  | Florida Citrus Commission.
|  |  | Florida Citrus Mutual.
|  |  | Florida Farm Bureau Federation.
|  |  | Florida Fruit & Vegetable Association.
|  |  | Florida State of Department of Citrus.
|  |  | Flying V Inc.
|  |  | GBS Groves Inc.
|  |  | Graves Brothers Co.
|  |  | H&S Groves.
|  |  | Hartwell Groves Inc.
|  |  | Holly Hill Fruit Products Co.
|  |  | Jack Melton Family Inc.
|  |  | K-Bob Inc.
|  |  | L Dicks Inc.
|  |  | Lake Pickett Partnership Inc.
|  |  | Lamb Revocable Trust Gerilyn Rebecca S. Lamb Trustee.
|  |  | Lykes Bros Inc.
|  |  | Martin J. McKenna.
|  |  | Orange & Sons Inc.
|  |  | Osgood Groves.
|  |  | William W. Parshall.
|  |  | PH Freeman & Sons.
|  |  | Pierie Grove.
|  |  | Raymond & Melissa Pierie.
|  |  | Roper Growers Cooperative.
|  |  | Royal Brothers Groves.
|  |  | Seminole Tribe of Florida Inc.
|  |  | Silverman Groves/Rilla Cooper.
|  |  | Smoak Groves Inc.
|  |  | Sorrells Groves Inc.
|  |  | Southern Gardens Groves Corp.
|  |  | Southern Gardens Processing Corp.
|  |  | Southern Groves Citrus.
|  |  | Sun Ag Inc.
|  |  | Sunkist Growers Inc.
|  |  | Texas Citrus Exchange.
|  |  | Texas Citrus Mutual.
|  |  | Texas Produce Association.
|  |  | Travis Wise Management Inc.
|  |  | Uncle Matt's Fresh Inc.
|  |  | Varn Citrus Growers Inc.
A-357-007 | 731-TA-157 | Carbon Steel Wire Rod/Argentina | Atlantic Steel. Continental Steel.
|  |  | Georgetown Steel.
|  |  | North Star Steel.
|  |  | Raritan River Steel.
A-357-405 | 731-TA-208 | Barbed Wire and Barbless Wire Strand/Argentina | CF&I Steel. Davis Walker.
|  |  | Forbes Steel & Wire.
|  |  | Oklahoma Steel Wire.
A-357-802 | 731-TA-409 | Light-Walled Rectangular Tube/Argentina | Bull Moose Tube. Hannibal Industries.
|  |  | Harris Tube.
|  |  | Maruichi American.
|  |  | Searing Industries.
|  |  | Southwestern Pipe.
|  |  | Western Tube & Conduit.
A-357-804 | 731-TA-470 | Silicon Metal/Argentina | American Alloys. Elkem Metals.
|  |  | Globe Metallurgical.
|  |  | International Union of Electronics, Electrical, Machine and Furniture Workers (Local 693).
|  |  | Oil, Chemical and Atomic Workers (Local 389).
|  |  | Silicon Metaltech.
|  |  | SiMETCO.
|  |  | SKW Alloys.
|  |  | Textile Processors, Service Trades, Health Care Professional and Technical Employees (Local 60). United Steelworkers of America (Locals 5171, 8538 and 12646).
A-357-809 | 731-TA-707 | Seamless Pipe/Argentina | Koppel Steel. Quanex.
|  |  | Timken.
|  |  | United States Steel.
A-357-810 | 731-TA-711 | Oil Country Tubular Goods/Argentina | IPSCO. Koppel Steel.
|  |  | Lone Star Steel.
|  |  | Maverick Tube.
|  |  | Newport Steel.
|  |  | North Star Steel.
|  |  | US Steel.
|  |  | USS/Kobe.
A-357-812 | 731-TA-892 | Honey/Argentina | AH Meyer & Sons. Adee Honey Farms.
|  |  | Althoff Apiaries.
|  |  | American Beekeeping Federation.
|  |  | American Honey Producers Association.
|  |  | Anderson Apiaries.
|  |  | Arroyo Apiaries.
|  |  | Artesian Honey Producers.
|  |  | B Weaver Apiaries.
|  |  | Bailey Enterprises.
|  |  | Barkman Honey.
|  |  | Basler Honey Apiary.
|  |  | Beals Honey.
|  |  | Bears Paw Apiaries.
|  |  | Beaverhead Honey.
|  |  | Bee Biz.
|  |  | Bee Haven Honey.
|  |  | Belliston Brothers Apiaries.
|  |  | Big Sky Honey.
|  |  | Bill Rhodes Honey.
|  |  | Richard E. Blake.
|  |  | Curt Bronnenberg.
|  |  | Brown's Honey Farms.
|  |  | Brumley's Bees.
|  |  | Buhmann Apiaries.
|  |  | Carys Honey Farms.
|  |  | Chaparrel Honey.
|  |  | Charles Apiaries.
|  |  | Mitchell Charles.
|  |  | Collins Honey.
|  |  | Conor Apiaries.
|  |  | Coy's Honey Farm.
|  |  | Dave Nelson Apiaries.
|  |  | Delta Bee.
|  |  | Eisele's Pollination & Honey.
|  |  | Ellingsoa's.
|  |  | Elliott Curtis & Sons.
|  |  | Charles L. Emmons, Sr.
|  |  | Gause Honey.
|  |  | Gene Brandi Apiaries.
|  |  | Griffith Honey.
|  |  | Haff Apiaries.
|  |  | Hamilton Bee Farms.
|  |  | Hamilton Honey.
|  |  | Happie Bee.
|  |  | Harvest Honey.
|  |  | Harvey's Honey.
|  |  | Hiatt Honey.
|  |  | Hoffman Honey.
|  |  | Hollman Apiaries.
|  |  | Honey House.
|  |  | Honeybee Apiaries.
|  |  | Gary M. Honl.
|  |  | Rand William Honl and Sydney Jo Honl.
|  |  | James R. & Joann Smith Trust.
|  |  | Jaynes Bee Products.
|  |  | Johnston Honey Farms.
|  |  | Larry Johnston.
|  |  | Ke-An Honey.
|  |  | Kent Honeybees.
|  |  | Lake-Indianhead Honey Farms.
|  |  | Lamb's Honey Farm.
|  |  | Las Flores Apiaries.
|  |  | Mackrill Honey Farms & Sales.
|  |  | Raymond Marquette.
|  |  | Mason & Sons Honey.
|  |  | McCoy's Sunny South Apiaries.
|  |  | Merrimack Valley Apiaries & Evergreen Honey.
|  |  | Met 2 Honey Farm.
|  |  | Missouri River Honey.
|  |  | Mitchell Brothers Honey.
|  |  | Monda Honey Farm.
|  |  | Montana Dakota Honey.
|  |  | Northern Bloom Honey.
|  |  | Noye's Apiaries.
|  |  | Oakes Honey.
|  |  | Oakley Honey Farms.
|  |  | Old Mill Apiaries.
|  |  | Opp Honey.
|  |  | Oro Dulce.
|  |  | Peterson's “Naturally Sweet” Honey.
|  |  | Potoczak Bee Farms.
|  |  | Price Apiaries.
|  |  | Pure Sweet Honey Farms.
|  |  | Robertson Pollination Service.
|  |  | Robson Honey.
|  |  | William Robson.
|  |  | Rosedale Apiaries.
|  |  | Ryan Apiaries.
|  |  | Schmidt Honey Farms.
|  |  | Simpson Apiaries.
|  |  | Sioux Honey Association.
|  |  | Smoot Honey.
|  |  | Solby Honey.
|  |  | Stahlman Apiaries.
|  |  | Steve E. Parks Apiaries.
|  |  | Stroope Bee & Honey.
|  |  | T&D Honey Bee.
|  |  | Talbott's Honey.
|  |  | Terry Apiaries.
|  |  | Thompson Apiaries.
|  |  | Triple A Farm.
|  |  | Tropical Blossom Honey.
|  |  | Tubbs Apiaries.
|  |  | Venable Wholesale.
|  |  | Walter L. Wilson Buzz 76 Apiaries.
|  |  | Wiebersiek Honey Farms.
|  |  | Wilmer Farms.
|  |  | Brent J. Woodworth.
|  |  | Wooten's Golden Queens.
|  |  | Yaddof Apiaries.
A-357-814 | 731-TA-898 | Hot-Rolled Steel Products/Argentina | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-401-040 | AA1921-114 | Stainless Steel Plate/Sweden | Jessop Steel.
A-401-601 | 731-TA-316 | Brass Sheet and Strip/Sweden | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-401-603 | 731-TA-354 | Stainless Steel Hollow Products/Sweden | AL Tech Specialty Steel. Allegheny Ludlum Steel.
|  |  | ARMCO.
|  |  | Carpenter Technology.
|  |  | Crucible Materials.
|  |  | Damacus Tubular Products.
|  |  | Specialty Tubing Group.
A-401-801 | 731-TA-397-A | Ball Bearings/Sweden | Barden Corp. Emerson Power Transmission.
|  |  | Kubar Bearings.
|  |  | MPB.
|  |  | Rollway Bearings.
|  |  | Torrington.
A-401-801 | 731-TA-397-B | Cylindrical Roller Bearings/Sweden | Barden Corp. Emerson Power Transmission.
|  |  | MPB.
|  |  | Rollway Bearings.
|  |  | Torrington.
A-401-805 | 731-TA-586 | Cut-to-Length Carbon Steel Plate/Sweden | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-401-806 | 731-TA-774 | Stainless Steel Wire Rod/Sweden | AL Tech Specialty Steel. Carpenter Technology.
|  |  | Republic Engineered Steels.
|  |  | Talley Metals Technology.
|  |  | United Steelworkers of America.
A-401-808 | 731-TA-1087 | Purified Carboxymethylcellulose/Sweden | Aqualon Co a Division of Hercules Inc.
A-403-801 | 731-TA-454 | Fresh and Chilled Atlantic Salmon/Norway | Heritage Salmon. The Coalition for Fair Atlantic Salmon Trade.
A-405-802 | 731-TA-576 | Cut-to-Length Carbon Steel Plate/Finland | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-405-803 | 731-TA-1084 | Purified Carboxymethylcellulose/Finland | Aqualon Co a Division of Hercules Inc.
A-412-801 | 731-TA-399-A | Ball Bearings/United Kingdom | Barden Corp.
|  |  | Emerson Power Transmission.
|  |  | Kubar Bearings.
|  |  | McGill Manufacturing Co.
|  |  | MPB.
|  |  | Rexnord Inc.
|  |  | Rollway Bearings.
|  |  | Torrington.
A-412-801 | 731-TA-399-B | Cylindrical Roller Bearings/United Kingdom | Barden Corp. Emerson Power Transmission.
|  |  | MPB.
|  |  | Rollway Bearings.
|  |  | Torrington.
A-412-803 | 731-TA-443 | Industrial Nitrocellulose/United Kingdom | Hercules.
A-412-805 | 731-TA-468 | Sodium Thiosulfate/United Kingdom | Calabrian.
A-412-814 | 731-TA-587 | Cut-to-Length Carbon Steel Plate/United Kingdom | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-412-818 | 731-TA-804 | Stainless Steel Sheet and Strip/United Kingdom | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
A-412-822 | 731-TA-918 | Stainless Steel Bar/United Kingdom | Carpenter Technology. Crucible Specialty Metals.
|  |  | Electralloy.
|  |  | Empire Specialty Steel.
|  |  | Republic Technologies International.
|  |  | Slater Steels.
|  |  | United Steelworkers of America.
A-421-701 | 731-TA-380 | Brass Sheet and Strip/Netherlands | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | North Coast Brass & Copper.
|  |  | Olin.
|  |  | Pegg Metals.
|  |  | Revere Copper Products.
|  |  | United Steelworkers of America.
A-421-804 | 731-TA-608 | Cold-Rolled Carbon Steel Flat Products/Netherlands | Armco Steel. Bethlehem Steel.
|  |  | California Steel Industries.
|  |  | Gulf States Steel.
|  |  | Inland Steel Industries.
|  |  | LTV Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-421-805 | 731-TA-652 | Aramid Fiber/Netherlands | E I du Pont de Nemours.
A-421-807 | 731-TA-903 | Hot-Rolled Steel Products/Netherlands | Bethlehem Steel. Gallatin Steel. Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-421-811 | 731-TA-1086 | Purified Carboxymethylcellulose/Netherlands | Aqualon Co a Division of Hercules Inc.
A-423-077 | AA1921-198 | Sugar/Belgium | Florida Sugar Marketing and Terminal Association.
A-423-602 | 731-TA-365 | Industrial Phosphoric Acid/Belgium | Albright & Wilson. FMC.
|  |  | Hydrite Chemical.
|  |  | Monsanto.
|  |  | Stauffer Chemical.
A-423-805 | 731-TA-573 | Cut-to-Length Carbon Steel Plate/Belgium | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-423-808 | 731-TA-788 | Stainless Steel Plate in Coils/Belgium | Allegheny Ludlum. Armco Steel.
|  |  | Lukens Steel.
|  |  | North American Stainless.
|  |  | United Steelworkers of America.
A-427-001 | 731-TA-44 | Sorbitol/France | Lonza. Pfizer.
A-427-009 | 731-TA-96 | Industrial Nitrocellulose/France | Hercules.
A-427-078 | AA1921-199 | Sugar/France | Florida Sugar Marketing and Terminal Association.
A-427-098 | 731-TA-25 | Anhydrous Sodium Metasilicate/France | PQ.
A-427-602 | 731-TA-313 | Brass Sheet and Strip/France | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-427-801 | 731-TA-392-A | Ball Bearings/France | Barden Corp. Emerson Power Transmission.
|  |  | Kubar Bearings.
|  |  | McGill Manufacturing Co.
|  |  | MPB.
|  |  | Rexnord Inc.
|  |  | Rollway Bearings.
|  |  | Torrington.
A-427-801 | 731-TA-392-B | Cylindrical Roller Bearings/France | Barden Corp. Emerson Power Transmission.
|  |  | MPB.
|  |  | Rollway Bearings.
|  |  | Torrington.
A-427-801 | 731-TA-392-C | Spherical Plain Bearings/France | Barden Corp. Emerson Power Transmission.
|  |  | Kubar Bearings.
|  |  | McGill Manufacturing Co.
|  |  | Rexnord Inc.
|  |  | Rollway Bearings.
|  |  | Torrington.
A-427-804 | 731-TA-553 | Hot-Rolled Lead and Bismuth Carbon Steel Products/France | Bethlehem Steel. Inland Steel Industries.
|  |  | USS/Kobe Steel.
A-427-808 | 731-TA-615 | Corrosion-Resistant Carbon Steel Flat Products/France | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-427-811 | 731-TA-637 | Stainless Steel Wire Rod/France | AL Tech Specialty Steel. Armco Steel.
|  |  | Carpenter Technology.
|  |  | Republic Engineered Steels.
|  |  | Talley Metals Technology.
|  |  | United Steelworkers of America.
A-427-814 | 731-TA-797 | Stainless Steel Sheet and Strip/France | Allegheny Ludlum. Armco Steel.
|  |  | Bethlehem Steel.
|  |  | Butler Armco Independent Union.
|  |  | Carpenter Technology Corp.
|  |  | North American Stainless.
|  |  | United Steelworkers of America.
|  |  | Zanesville Armco Independent Organization.
A-427-816 | 731-TA-816 | Cut-to-Length Carbon Steel Plate/France | Bethlehem Steel. Geneva Steel.
|  |  | IPSCO Steel.
|  |  | National Steel.
|  |  | US Steel.
|  |  | United Steelworkers of America.
A-427-818 | 731-TA-909 | Low Enriched Uranium/France | United States Enrichment Corp. USEC Inc.
A-427-820 | 731-TA-913 | Stainless Steel Bar/France | Carpenter Technology. Crucible Specialty Metals.
|  |  | Electralloy.
|  |  | Empire Specialty Steel.
|  |  | Republic Technologies International.
|  |  | Slater Steels.
|  |  | United Steelworkers of America.
A-428-082 | AA1921-200 | Sugar/Germany | Florida Sugar Marketing and Terminal Association.
A-428-602 | 731-TA-317 | Brass Sheet and Strip/Germany | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-428-801 | 731-TA-391-A | Ball Bearings/Germany | Barden Corp. Emerson Power Transmission.
|  |  | Kubar Bearings.
|  |  | McGill Manufacturing Co.
|  |  | MPB.
|  |  | Rexnord Inc.
|  |  | Rollway Bearings.
|  |  | Torrington.
A-428-801 | 731-TA-391-B | Cylindrical Roller Bearings/Germany | Barden Corp. Emerson Power Transmission.
|  |  | MPB.
|  |  | Rollway Bearings.
|  |  | Torrington.
A-428-801 | 731-TA-391-C | Spherical Plain Bearings/Germany | Barden Corp. Emerson Power Transmission.
|  |  | Rollway Bearings.
|  |  | Torrington.
A-428-802 | 731-TA-419 | Industrial Belts/Germany | The Gates Rubber Company. The Goodyear Tire and Rubber Company.
A-428-803 | 731-TA-444 | Industrial Nitrocellulose/Germany | Hercules.
A-428-807 | 731-TA-465 | Sodium Thiosulfate/Germany | Calabrian.
A-428-814 | 731-TA-604 | Cold-Rolled Carbon Steel Flat Products/Germany | Armco Steel. Bethlehem Steel.
|  |  | California Steel Industries.
|  |  | Gulf States Steel.
|  |  | Inland Steel Industries.
|  |  | LTV Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-428-815 | 731-TA-616 | Corrosion-Resistant Carbon Steel Flat Products/Germany | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-428-816 | 731-TA-578 | Cut-to-Length Carbon Steel Plate/Germany | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-428-820 | 731-TA-709 | Seamless Pipe/Germany | Koppel Steel. Quanex.
|  |  | Timken.
|  |  | United States Steel.
A-428-821 | 731-TA-736 | Large Newspaper Printing Presses/Germany | Rockwell Graphics Systems.
A-428-825 | 731-TA-798 | Stainless Steel Sheet and Strip/Germany | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
A-428-830 | 731-TA-914 | Stainless Steel Bar/Germany | Carpenter Technology. Crucible Specialty Metals.
|  |  | Electralloy.
|  |  | Empire Specialty Steel.
|  |  | Republic Technologies International.
|  |  | Slater Steels.
|  |  | United Steelworkers of America.
A-437-601 | 731-TA-341 | Tapered Roller Bearings/Hungary | L&S Bearing. Timken.
|  |  | Torrington.
A-437-804 | 731-TA-426 | Sulfanilic Acid/Hungary | Nation Ford Chemical.
A-447-801 | 731-TA-340C | Solid Urea/Estonia | Agrico Chemical. American Cyanamid.
|  |  | CF Industries.
|  |  | First Mississippi.
|  |  | Mississippi Chemical.
|  |  | Terra International.
|  |  | WR Grace.
A-449-804 | 731-TA-878 | Steel Concrete Reinforcing Bar/Latvia | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-451-801 | 731-TA-340D | Solid Urea/Lithuania | Agrico Chemical. American Cyanamid.
|  |  | CF Industries.
|  |  | First Mississippi.
|  |  | Mississippi Chemical.
|  |  | Terra International.
|  |  | WR Grace.
A-455-802 | 731-TA-583 | Cut-to-Length Carbon Steel Plate/Poland | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-455-803 | 731-TA-880 | Steel Concrete Reinforcing Bar/Poland | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-469-007 | 731-TA-126 | Potassium Permanganate/Spain | Carus Chemical.
A-469-803 | 731-TA-585 | Cut-to-Length Carbon Steel Plate/Spain | Bethlehem Steel. California Steel Industries.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-469-805 | 731-TA-682 | Stainless Steel Bar/Spain | AL Tech Specialty Steel. Carpenter Technology.
|  |  | Crucible Specialty Metals.
|  |  | Electralloy.
|  |  | Republic Engineered Steels.
|  |  | Slater Steels.
|  |  | Talley Metals Technology.
|  |  | United Steelworkers of America.
A-469-807 | 731-TA-773 | Stainless Steel Wire Rod/Spain | AL Tech Specialty Steel. Carpenter Technology.
|  |  | Republic Engineered Steels.
|  |  | Talley Metals Technology.
|  |  | United Steelworkers of America.
A-469-810 | 731-TA-890 | Stainless Steel Angle/Spain | Slater Steels. United Steelworkers of America.
A-469-814 | 731-TA-1083 | Chlorinated Isocyanurates/Spain | BioLab Inc. Clearon Corp.
|  |  | Occidental Chemical Corp.
A-471-806 | 731-TA-427 | Sulfanilic Acid/Portugal | Nation Ford Chemical.
A-475-059 | AA1921-167 | Pressure-Sensitive Plastic Tape/Italy | Minnesota Mining & Manufacturing.
A-475-601 | 731-TA-314 | Brass Sheet and Strip/Italy | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-475-703 | 731-TA-385 | Granular Polytetrafluoroethylene/Italy | E I du Pont de Nemours. ICI Americas.
A-475-801 | 731-TA-393-A | Ball Bearings/Italy | Barden Corp. Emerson Power Transmission.
|  |  | Kubar Bearings.
|  |  | McGill Manufacturing Co.
|  |  | MPB.
|  |  | Rexnord Inc.
|  |  | Rollway Bearings.
|  |  | Torrington.
A-475-801 | 731-TA-393-B | Cylindrical Roller Bearings/Italy | Barden Corp. Emerson Power Transmission.
|  |  | MPB.
|  |  | Rollway Bearings.
|  |  | Torrington.
A-475-802 | 731-TA-413 | Industrial Belts/Italy | The Gates Rubber Company. The Goodyear Tire and Rubber Company.
A-475-811 | 731-TA-659 | Grain-Oriented Silicon Electrical Steel/Italy | Allegheny Ludlum. Armco Steel.
|  |  | Butler Armco Independent Union.
|  |  | United Steelworkers of America.
|  |  | Zanesville Armco Independent Union.
A-475-814 | 731-TA-710 | Seamless Pipe/Italy | Koppel Steel. Quanex.
|  |  | Timken.
|  |  | United States Steel.
A-475-816 | 731-TA-713 | Oil Country Tubular Goods/Italy | Bellville Tube. IPSCO.
|  |  | Koppel Steel.
|  |  | Lone Star Steel.
|  |  | Maverick Tube.
|  |  | Newport Steel.
|  |  | North Star Steel.
|  |  | US Steel.
|  |  | USS/Kobe.
A-475-818 | 731-TA-734 | Pasta/Italy | A Zerega's Sons. American Italian Pasta.
|  |  | Borden.
|  |  | D Merlino & Sons.
|  |  | Dakota Growers Pasta.
|  |  | Foulds.
|  |  | Gilster-Mary Lee.
|  |  | Gooch Foods.
|  |  | Hershey Foods.
|  |  | LaRinascente Macaroni Co.
|  |  | Pasta USA.
|  |  | Philadelphia Macaroni.
|  |  | ST Specialty Foods.
A-475-820 | 731-TA-770 | Stainless Steel Wire Rod/Italy | AL Tech Specialty Steel. Carpenter Technology.
|  |  | Republic Engineered Steels.
|  |  | Talley Metals Technology.
|  |  | United Steelworkers of America.
A-475-822 | 731-TA-790 | Stainless Steel Plate in Coils/Italy | Allegheny Ludlum.
|  |  | Armco Steel.
|  |  | J&L Specialty Steel.
|  |  | Lukens Steel.
|  |  | North American Stainless.
|  |  | United Steelworkers of America.
A-475-824 | 731-TA-799 | Stainless Steel Sheet and Strip/Italy | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
A-475-826 | 731-TA-819 | Cut-to-Length Carbon Steel Plate/Italy | Bethlehem Steel. CitiSteel USA Inc.
|  |  | Geneva Steel.
|  |  | Gulf States Steel.
|  |  | IPSCO Steel.
|  |  | National Steel.
|  |  | US Steel.
|  |  | United Steelworkers of America.
A-475-828 | 731-TA-865 | Stainless Steel Butt-Weld Pipe Fittings/Italy | Flo-Mac Inc. Gerlin.
|  |  | Markovitz Enterprises.
|  |  | Shaw Alloy Piping Products.
|  |  | Taylor Forge Stainless.
A-475-829 | 731-TA-915 | Stainless Steel Bar/Italy | Carpenter Technology.
|  |  | Crucible Specialty Metals.
|  |  | Electralloy.
|  |  | Empire Specialty Steel.
|  |  | Republic Technologies International.
|  |  | Slater Steels.
|  |  | United Steelworkers of America.
A-479-801 | 731-TA-445 | Industrial Nitrocellulose/Yugoslavia | Hercules.
A-484-801 | 731-TA-406 | Electrolytic Manganese Dioxide/Greece | Chemetals. Kerr-McGee.
|  |  | Rayovac.
A-485-601 | 731-TA-339 | Solid Urea/Romania | Agrico Chemical. American Cyanamid.
|  |  | CF Industries.
|  |  | First Mississippi.
|  |  | Mississippi Chemical.
|  |  | Terra International.
|  |  | WR Grace.
A-485-602 | 731-TA-345 | Tapered Roller Bearings/Romania | L&S Bearing. Timken.
|  |  | Torrington.
A-485-801 | 731-TA-395 | Ball Bearings/Romania | Barden Corp. Emerson Power Transmission.
|  |  | Kubar Bearings.
|  |  | MPB.
|  |  | Rollway Bearings.
|  |  | Torrington.
A-485-803 | 731-TA-584 | Cut-to-Length Carbon Steel Plate/Romania | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
A-485-805 | 731-TA-849 | Small-Diameter Carbon Steel Seamless Pipe/Romania | Koppel Steel. Sharon Tube.
|  |  | Timken.
|  |  | US Steel.
|  |  | United Steelworkers of America.
|  |  | USS/Kobe.
|  |  | Vision Metals' Gulf States Tube.
A-485-806 | 731-TA-904 | Hot-Rolled Steel Products/Romania | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-489-501 | 731-TA-273 | Welded Carbon Steel Pipe and Tube/Turkey | Allied Tube & Conduit American Tube.
|  |  | Bernard Epps.
|  |  | Bock Industries.
|  |  | Bull Moose Tube.
|  |  | Central Steel Tube.
|  |  | Century Tube.
|  |  | Copperweld Tubing.
|  |  | Cyclops.
|  |  | Hughes Steel & Tube.
|  |  | Kaiser Steel.
|  |  | Laclede Steel.
|  |  | Maruichi American.
|  |  | Maverick Tube.
|  |  | Merchant Metals.
|  |  | Phoenix Steel.
|  |  | Pittsburgh Tube.
|  |  | Quanex.
|  |  | Sharon Tube.
|  |  | Southwestern Pipe.
|  |  | UNR-Leavitt.
|  |  | Welded Tube.
|  |  | Western Tube & Conduit.
|  |  | Wheatland Tube.
A-489-602 | 731-TA-364 | Aspirin/Turkey | Dow Chemical.
|  |  | Monsanto.
|  |  | Norwich-Eaton.
A-489-805 | 731-TA-735 | Pasta/Turkey | A Zerega's Sons.
|  |  | American Italian Pasta.
|  |  | Borden.
|  |  | D Merlino & Sons.
|  |  | Dakota Growers Pasta.
|  |  | Foulds.
|  |  | Gilster-Mary Lee.
|  |  | Gooch Foods.
|  |  | Hershey Foods.
|  |  | LaRinascente Macaroni Co.
|  |  | Pasta USA.
|  |  | Philadelphia Macaroni.
|  |  | ST Specialty Foods.
A-489-807 | 731-TA-745 | Steel Concrete Reinforcing Bar/Turkey | AmeriSteel. Auburn Steel.
|  |  | Birmingham Steel.
|  |  | Commercial Metals.
|  |  | Marion Steel.
|  |  | New Jersey Steel.
A-507-502 | 731-TA-287 | Raw In-Shell Pistachios/Iran | Blackwell Land. California Pistachio Orchard.
|  |  | Keenan Farms.
|  |  | Kern Pistachio Hulling & Drying.
|  |  | Los Ranchos de Poco Pedro.
|  |  | Pistachio Producers of California.
|  |  | TM Duche Nut.
A-508-604 | 731-TA-366 | Industrial Phosphoric Acid/Israel | Albright & Wilson. FMC.
|  |  | Hydrite Chemical.
|  |  | Monsanto.
|  |  | Stauffer Chemical.
A-533-502 | 731-TA-271 | Welded Carbon Steel Pipe and Tube/India | Allied Tube & Conduit. American Tube.
|  |  | Bernard Epps.
|  |  | Bock Industries.
|  |  | Bull Moose Tube.
|  |  | Central Steel Tube.
|  |  | Century Tube.
|  |  | Copperweld Tubing.
|  |  | Cyclops.
|  |  | Hughes Steel & Tube.
|  |  | Kaiser Steel.
|  |  | Laclede Steel.
|  |  | Maruichi American.
|  |  | Maverick Tube.
|  |  | Merchant Metals.
|  |  | Phoenix Steel.
|  |  | Pittsburgh Tube.
|  |  | Quanex.
|  |  | Sharon Tube.
|  |  | Southwestern Pipe.
|  |  | UNR-Leavitt.
|  |  | Welded Tube.
|  |  | Western Tube & Conduit.
|  |  | Wheatland Tube.
A-533-806 | 731-TA-561 | Sulfanilic Acid/India | R-M Industries.
A-533-808 | 731-TA-638 | Stainless Steel Wire Rod/India | AL Tech Specialty Steel.
|  |  | Armco Steel.
|  |  | Carpenter Technology.
|  |  | Republic Engineered Steels.
|  |  | Talley Metals Technology.
|  |  | United Steelworkers of America.
A-533-809 | 731-TA-639 | Forged Stainless Steel Flanges/India | Gerlin. Ideal Forging.
|  |  | Maass Flange.
|  |  | Markovitz Enterprises.
A-533-810 | 731-TA-679 | Stainless Steel Bar/India | AL Tech Specialty Steel.
|  |  | Carpenter Technology.
|  |  | Crucible Specialty Metals.
|  |  | Electralloy.
|  |  | Republic Engineered Steels.
|  |  | Slater Steels.
|  |  | Talley Metals Technology.
|  |  | United Steelworkers of America.
A-533-813 | 731-TA-778 | Preserved Mushrooms/India | LK Bowman. Modern Mushroom Farms.
|  |  | Monterey Mushrooms.
|  |  | Mount Laurel Canning.
|  |  | Mushroom Canning.
|  |  | Southwood Farms.
|  |  | Sunny Dell Foods.
|  |  | United Canning.
A-533-817 | 731-TA-817 | Cut-to-Length Carbon Steel Plate/India | Bethlehem Steel. CitiSteel USA Inc.
|  |  | Geneva Steel.
|  |  | Gulf States Steel.
|  |  | IPSCO Steel.
|  |  | National Steel.
|  |  | Tuscaloosa Steel.
|  |  | US Steel.
|  |  | United Steelworkers of America.
A-533-820 | 731-TA-900 | Hot-Rolled Steel Products/India | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-533-823 | 731-TA-929 | Silicomanganese/ndia | Eramet Marietta. Paper, Allied-Industrial, Chemical and Energy Workers International Union, Local 5-0639.
A-533-824 | 731-TA-933 | Polyethylene Terephthalate Film, Sheet and Strip (PET Film)/India | DuPont Teijin Films. Mitsubishi Polyester Film LLC. SKC America Inc.
|  |  | Toray Plastics (America).
A-533-828 | 731-TA-1025 | Prestressed Concrete Steel Wire Strand/India | American Spring Wire Corp. Insteel Wire Products Co.
|  |  | Sivaco Georgia LLC.
|  |  | Strand Tech Martin Inc.
|  |  | Sumiden Wire Products Corp.
A-533-838 | 731-TA-1061 | Carbazole Violet Pigment 23/India | Allegheny Color Corp. Barker Fine Color Inc.
|  |  | Clariant Corp.
|  |  | Nation Ford Chemical Co.
|  |  | Sun Chemical Co.
A-533-843 | 731-TA-1096 | Certain Lined Paper School Supplies/India | Fay Paper Products Inc. MeadWestvaco Consumer & Office Products.
|  |  | Norcom Inc.
|  |  | Pacon Corp.
|  |  | Roaring Spring Blank Book Co.
|  |  | Top Flight Inc.
|  |  | United Steel, Paper and Forestry, Rubber, Manufacturing, Energy, Allied Industrial and Service Workers International Union, AFL-CIO-CLC (USW).
A-538-802 | 731-TA-514 | Cotton Shop Towels/Bangladesh | Milliken.
A-549-502 | 731-TA-252 | Welded Carbon Steel Pipe and Tube/Thailand | Allied Tube & Conduit. American Tube.
|  |  | Bernard Epps.
|  |  | Bock Industries.
|  |  | Bull Moose Tube.
|  |  | Central Steel Tube.
|  |  | Century Tube.
|  |  | Copperweld Tubing.
|  |  | Cyclops.
|  |  | Hughes Steel & Tube.
|  |  | Kaiser Steel.
|  |  | Laclede Steel.
|  |  | Maruichi American.
|  |  | Maverick Tube.
|  |  | Merchant Metals.
|  |  | Phoenix Steel.
|  |  | Pittsburgh Tube.
|  |  | Quanex.
|  |  | Sharon Tube.
|  |  | Southwestern Pipe.
|  |  | UNR-Leavitt.
|  |  | Welded Tube.
|  |  | Western Tube & Conduit.
|  |  | Wheatland Tube.
A-549-601 | 731-TA-348 | Malleable Cast Iron Pipe Fittings/Thailand | Grinnell. Stanley G Flagg.
|  |  | Stockham Valves & Fittings.
|  |  | U-Brand.
|  |  | Ward Manufacturing.
A-549-807 | 731-TA-521 | Carbon Steel Butt-Weld Pipe Fittings/Thailand | Hackney. Ladish.
|  |  | Mills Iron Works.
|  |  | Steel Forgings.
|  |  | Tube Forgings of America.
A-549-812 | 731-TA-705 | Furfuryl Alcohol/Thailand | QO Chemicals.
A-549-813 | 731-TA-706 | Canned Pineapple/Thailand | International Longshoreman's and Warehouseman's Union. Maui Pineapple.
A-549-817 | 731-TA-907 | Hot-Rolled Steel Products/Thailand | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-549-820 | 731-TA-1028 | Prestressed Concrete Steel Wire Strand/Thailand | American Spring Wire Corp. Insteel Wire Products Co.
|  |  | Sivaco Georgia LLC.
|  |  | Strand Tech Martin Inc.
|  |  | Sumiden Wire Products Corp.
A-549-821 | 731-TA-1045 | Polyethylene Retail Carrier Bags/Thailand | Aargus Plastics Inc. Advance Polybags Inc.
|  |  | Advance Polybags (Nevada) Inc.
|  |  | Advance Polybags (Northeast) Inc.
|  |  | Alpha Industries Inc.
|  |  | Alpine Plastics Inc.
|  |  | Ampac Packaging LLC.
|  |  | API Enterprises Inc.
|  |  | Command Packaging.
|  |  | Continental Poly Bags Inc.
|  |  | Durabag Co Inc.
|  |  | Europackaging LLC.
|  |  | Genpak LLC (formerly Continental Superbag LLC).
|  |  | Genpak LLC (formerly Strout Plastics).
|  |  | Hilex Poly Co LLC.
|  |  | Inteplast Group Ltd.
|  |  | PCL Packaging Inc.
|  |  | Poly-Pak Industries Inc.
|  |  | Roplast Industries Inc.
|  |  | Superbag Corp.
|  |  | Unistar Plastics LLC.
|  |  | Vanguard Plastics Inc.
|  |  | VS Plastics LLC.
A-552-801 | 731-TA-1012 | Certain Frozen Fish Fillets/Vietnam | America's Catch Inc. Aquafarms Catfish Inc.
|  |  | Carolina Classics Catfish Inc.
|  |  | Catfish Farmers of America.
|  |  | Consolidated Catfish Companies Inc.
|  |  | Delta Pride Catfish Inc.
|  |  | Fish Processors Inc.
|  |  | Guidry's Catfish Inc.
|  |  | Haring's Pride Catfish.
|  |  | Harvest Select Catfish (Alabama Catfish Inc).
|  |  | Heartland Catfish Co (TT&W Farm Products Inc).
|  |  | Prairie Lands Seafood (Illinois Fish Farmers Cooperative).
|  |  | Pride of the Pond.
|  |  | Pride of the South Catfish Inc.
|  |  | Prime Line Inc.
|  |  | Seabrook Seafood Inc.
|  |  | Seacat (Arkansas Catfish Growers).
|  |  | Simmons Farm Raised Catfish Inc.
|  |  | Southern Pride Catfish LLC.
|  |  | Verret Fisheries Inc.
A-557-805 | 731-TA-527 | Extruded Rubber Thread/Malaysia | Globe Manufacturing. North American Rubber Thread.
A-557-809 | 731-TA-866 | Stainless Steel Butt-Weld Pipe Fittings/Malaysia | Flo-Mac Inc. Gerlin.
|  |  | Markovitz Enterprises.
|  |  | Shaw Alloy Piping Products.
|  |  | Taylor Forge Stainless.
A-557-813 | 731-TA-1044 | Polyethylene Retail Carrier Bags/Malaysia | Aargus Plastics Inc. Advance Polybags Inc.
|  |  | Advance Polybags (Nevada) Inc.
|  |  | Advance Polybags (Northeast) Inc.
|  |  | Alpha Industries Inc.
|  |  | Alpine Plastics Inc.
|  |  | Ampac Packaging LLC.
|  |  | API Enterprises Inc.
|  |  | Command Packaging.
|  |  | Continental Poly Bags Inc.
|  |  | Durabag Co Inc.
|  |  | Europackaging LLC.
|  |  | Genpak LLC (formerly Continental Superbag LLC).
|  |  | Genpak LLC (formerly Strout Plastics).
|  |  | Hilex Poly Co LLC.
|  |  | Inteplast Group Ltd.
|  |  | PCL Packaging Inc.
|  |  | Poly-Pak Industries Inc.
|  |  | Roplast Industries Inc.
|  |  | Superbag Corp.
|  |  | Unistar Plastics LLC.
|  |  | Vanguard Plastics Inc.
|  |  | VS Plastics LLC.
A-559-502 | 731-TA-296 | Small Diameter Standard and Rectangular Pipe and | Allied Tube & Conduit Tube/Singapore. American Tube.
|  |  | Bull Moose Tube,
|  |  | Cyclops.
|  |  | Hannibal Industries.
|  |  | Laclede Steel.
|  |  | Pittsburgh Tube.
|  |  | Sharon Tube.
|  |  | Western Tube & Conduit.
|  |  | Wheatland Tube.
A-559-601 | 731-TA-370 | Color Picture Tubes/Singapore | Industrial Union Department, AFL-CIO. International Association of Machinists & Aerospace Workers.
|  |  | International Brotherhood of Electrical Workers.
|  |  | International Union of Electronic, Electrical, Technical, Salaried and Machine Workers.
|  |  | Philips Electronic Components Group.
|  |  | United Steelworkers of America.
|  |  | Zenith Electronics.
A-559-801 | 731-TA-396 | Ball Bearings/Singapore | Barden Corp. Emerson Power Transmission.
|  |  | Kubar Bearings.
|  |  | McGill Manufacturing Co.
|  |  | MPB.
|  |  | Rexnord Inc.
|  |  | Rollway Bearings.
|  |  | Torrington.
A-559-802 | 731-TA-415 | Industrial Belts/Singapore | The Gates Rubber Company. The Goodyear Tire and Rubber Company.
A-560-801 | 731-TA-742 | Melamine Institutional Dinnerware/Indonesia | Carlisle Food Service Products. Lexington United.
|  |  | Plastics Manufacturing.
A-560-802 | 731-TA-779 | Preserved Mushrooms/Indonesia | LK Bowman. Modern Mushroom Farms.
|  |  | Monterey Mushrooms.
|  |  | Mount Laurel Canning.
|  |  | Mushroom Canning.
|  |  | Southwood Farms.
|  |  | Sunny Dell Foods.
|  |  | United Canning.
A-560-803 | 731-TA-787 | Extruded Rubber Thread/Indonesia | North American Rubber Thread.
A-560-805 | 731-TA-818 | Cut-to-Length Carbon Steel Plate/Indonesia | Bethlehem Steel. CitiSteel USA Inc.
|  |  | Geneva Steel.
|  |  | Gulf States Steel.
|  |  | IPSCO Steel.
|  |  | National Steel.
|  |  | Tuscaloosa Steel.
|  |  | US Steel.
|  |  | United Steelworkers of America.
A-560-811 | 731-TA-875 | Steel Concrete Reinforcing Bar/Indonesia | AB Steel Mill Inc. AmeriSteel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-560-812 | 731-TA-901 | Hot-Rolled Steel Products/Indonesia | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-560-815 | 731-TA-957 | Carbon and Certain Alloy Steel Wire Rod/Indonesia | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-560-818 | 731-TA-1097 | Certain Lined Paper School Supplies/Indonesia | Fay Paper Products Inc. MeadWestvaco Consumer & Office Products.
|  |  | Norcom Inc.
|  |  | Pacon Corp.
|  |  | Roaring Spring Blank Book Co.
|  |  | Top Flight Inc.
|  |  | United Steel, Paper and Forestry, Rubber, Manufacturing, Energy, Allied Industrial and Service Workers International Union, AFL-CIO-CLC (USW).
A-565-801 | 731-TA-867 | Stainless Steel Butt-Weld Pipe Fittings/Philippines | Flo-Mac Inc. Gerlin.
|  |  | Markovitz Enterprises.
|  |  | Shaw Alloy Piping Products.
|  |  | Taylor Forge Stainless.
A-570-001 | 731-TA-125 | Potassium Permanganate/China | Carus Chemical.
A-570-002 | 731-TA-130 | Chloropicrin/China | LCP Chemicals & Plastics. Niklor Chemical.
A-570-003 | 731-TA-103 | Cotton Shop Towels/China | Milliken. Texel Industries.
|  |  | Wikit.
A-570-007 | 731-TA-149 | Barium Chloride/China | Chemical Products.
A-570-101 | 731-TA-101 | Greige Polyester Cotton Printcloth/China | Alice Manufacturing. Clinton Mills.
|  |  | Dan River.
|  |  | Greenwood Mills.
|  |  | Hamrick Mills.
|  |  | M Lowenstein.
|  |  | Mayfair Mills.
|  |  | Mount Vernon Mills.
A-570-501 | 731-TA-244 | Natural Bristle Paint Brushes/China | Baltimore Brush. Bestt Liebco.
|  |  | Elder & Jenks.
|  |  | EZ Paintr.
|  |  | H&G Industries.
|  |  | Joseph Lieberman & Sons.
|  |  | Purdy.
|  |  | Rubberset.
|  |  | Thomas Paint Applicators.
|  |  | Wooster Brush.
A-570-502 | 731-TA-265 | Iron Construction Castings/China | Alhambra Foundry. Allegheny Foundry.
|  |  | Bingham & Taylor.
|  |  | Campbell Foundry.
|  |  | Charlotte Pipe & Foundry.
|  |  | Deeter Foundry.
|  |  | East Jordan Foundry.
|  |  | Le Baron Foundry.
|  |  | Municipal Castings.
|  |  | Neenah Foundry.
|  |  | Opelika Foundry.
|  |  | Pinkerton Foundry.
|  |  | Tyler Pipe.
|  |  | US Foundry & Manufacturing.
|  |  | Vulcan Foundry.
A-570-504 | 731-TA-282 | Petroleum Wax Candles/China | The AI Root Company. Candle Artisans Inc.
|  |  | Candle-Lite.
|  |  | Cathedral Candle.
|  |  | Colonial Candle of Cape Cod.
|  |  | General Wax & Candle.
|  |  | Lenox Candles.
|  |  | Lumi-Lite Candle.
|  |  | Meuch-Kreuzer Candle.
|  |  | National Candle Association.
|  |  | Will & Baumer.
|  |  | WNS.
A-570-506 | 731-TA-298 | Porcelain-on-Steel Cooking Ware/China | General Housewares.
A-570-601 | 731-TA-344 | Tapered Roller Bearings/China | L&S Bearing. Timken.
|  |  | Torrington.
A-570-802 | 731-TA-441 | Industrial Nitrocellulose/China | Hercules.
A-570-803 | 731-TA-457-A | Axes and Adzes/China | Council Tool Co Inc. Warwood Tool.
|  |  | Woodings-Verona.
A-570-803 | 731-TA-457-B | Bars and Wedges/China | Council Tool Co Inc. Warwood Tool.
|  |  | Woodings-Verona.
A-570-803 | 731-TA-457-C | Hammers and Sledges/China | Council Tool Co Inc. Warwood Tool.
|  |  | Woodings-Verona.
A-570-803 | 731-TA-457-D | Picks and Mattocks/China | Council Tool Co Inc. Warwood Tool.
|  |  | Woodings-Verona.
A-570-804 | 731-TA-464 | Sparklers/China | BJ Alan. Diamond Sparkler.
|  |  | Elkton Sparkler.
A-570-805 | 731-TA-466 | Sodium Thiosulfate/China | Calabrian.
A-570-806 | 731-TA-472 | Silicon Metal/China | American Alloys. Elkem Metals.
|  |  | Globe Metallurgical.
|  |  | International Union of Electronics, Electrical, Machine and Furniture Workers (Local 693).
|  |  | Oil, Chemical and Atomic Workers (Local 389).
|  |  | Silicon Metaltech.
|  |  | SiMETCO.
|  |  | SKW Alloys.
|  |  | Textile Processors, Service Trades, Health Care Professional and Technical Employees (Local 60).
|  |  | United Steelworkers of America (Locals 5171, 8538 and 12646).
A-570-808 | 731-TA-474 | Chrome-Plated Lug Nuts/China | Consolidated International Automotive. Key Manufacturing.
|  |  | McGard.
A-570-811 | 731-TA-497 | Tungsten Ore Concentrates/China | Curtis Tungsten. US Tungsten.
A-570-814 | 731-TA-520 | Carbon Steel Butt-Weld Pipe Fittings/China | Hackney. Ladish.
|  |  | Mills Iron Works.
|  |  | Steel Forgings.
|  |  | Tube Forgings of America.
A-570-815 | 731-TA-538 | Sulfanilic Acid/China | R-M Industries.
A-570-819 | 731-TA-567 | Ferrosilicon/China | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
A-570-822 | 731-TA-624 | Helical Spring Lock Washers/China | Illinois Tool Works.
A-570-825 | 731-TA-653 | Sebacic Acid/China | Union Camp.
A-570-826 | 731-TA-663 | Paper Clips/China | ACCO USA. Labelon/Noesting.
|  |  | TRICO Manufacturing.
A-570-827 | 731-TA-669 | Cased Pencils/China | Blackfeet Indian Writing Instrument. Dixon-Ticonderoga.
|  |  | Empire Berol.
|  |  | Faber-Castell.
|  |  | General Pencil.
|  |  | JR Moon Pencil.
|  |  | Musgrave Pen & Pencil.
|  |  | Panda.
|  |  | Writing Instrument Manufacturers Association, Pencil Section.
A-570-828 | 731-TA-672 | Silicomanganese/China | Elkem Metals. Oil, Chemical and Atomic Workers (Local 3-639).
A-570-830 | 731-TA-677 | Coumarin/China | Rhone-Poulenc.
A-570-831 | 731-TA-683 | Fresh Garlic/China | A&D Christopher Ranch. Belridge Packing.
|  |  | Colusa Produce.
|  |  | Denice & Filice Packing.
|  |  | El Camino Packing.
|  |  | The Garlic Company.
|  |  | Vessey and Company.
A-570-832 | 731-TA-696 | Pure Magnesium/China | Dow Chemical. International Union of Operating Engineers (Local 564).
|  |  | Magnesium Corporation of America.
|  |  | United Steelworkers of America (Local 8319).
A-570-835 | 731-TA-703 | Furfuryl Alcohol/China | QO Chemicals.
A-570-836 | 731-TA-718 | Glycine/China | Chattem. Hampshire Chemical.
A-570-840 | 731-TA-724 | Manganese Metal/China | Elkem Metals. Kerr-McGee.
A-570-842 | 731-TA-726 | Polyvinyl Alcohol/China | Air Products and Chemicals.
A-570-844 | 731-TA-741 | Melamine Institutional Dinnerware/China | Carlisle Food Service Products. Lexington United.
|  |  | Plastics Manufacturing.
A-570-846 | 731-TA-744 | Brake Rotors/China | Brake Parts. Coalition for the Preservation of American Brake Drum and Rotor Aftermarket Manufacturers.
|  |  | Iroquois Tool Systems.
|  |  | Kelsey Hayes.
|  |  | Kinetic Parts Manufacturing.
|  |  | Overseas Auto Parts.
|  |  | Wagner Brake.
A-570-847 | 731-TA-749 | Persulfates/China | FMC.
A-570-848 | 731-TA-752 | Crawfish Tail Meat/China | A&S Crawfish. Acadiana Fisherman's Co-Op.
|  |  | Arnaudville Seafood.
|  |  | Atchafalaya Crawfish Processors.
|  |  | Basin Crawfish Processors.
|  |  | Bayou Land Seafood.
|  |  | Becnel's Meat & Seafood.
|  |  | Bellard's Poultry & Crawfish.
|  |  | Bonanza Crawfish Farm.
|  |  | Cajun Seafood Distributors.
|  |  | Carl's Seafood.
|  |  | Catahoula Crawfish.
|  |  | Choplin SFD.
|  |  | CJ's Seafood & Purged Crawfish.
|  |  | Clearwater Crawfish.
|  |  | Crawfish Processors Alliance.
|  |  | Harvey's Seafood.
|  |  | Lawtell Crawfish Processors.
|  |  | Louisiana Premium Seafoods.
|  |  | Louisiana Seafood.
|  |  | LT West.
|  |  | Phillips Seafood.
|  |  | Prairie Cajun Wholesale Seafood Dist.
|  |  | Riceland Crawfish.
|  |  | Schexnider Crawfish.
|  |  | Seafood International Distributors.
|  |  | Sylvester's Processors.
|  |  | Teche Valley Seafood.
A-570-849 | 731-TA-753 | Cut-to-Length Carbon Steel Plate/China | Acme Metals Inc. Bethlehem Steel.
|  |  | CitiSteel USA Inc.
|  |  | Geneva Steel.
|  |  | Gulf States Steel.
|  |  | Lukens Inc.
|  |  | National Steel.
|  |  | US Steel.
|  |  | United Steelworkers of America.
A-570-850 | 731-TA-757 | Collated Roofing Nails/China | Illinois Tool Works. International Staple and Machines.
|  |  | Stanley-Bostitch.
A-570-851 | 731-TA-777 | Preserved Mushrooms/China | LK Bowman. Modern Mushroom Farms.
|  |  | Monterey Mushrooms.
|  |  | Mount Laurel Canning.
|  |  | Mushroom Canning.
|  |  | Southwood Farms.
|  |  | Sunny Dell Foods.
|  |  | United Canning.
A-570-852 | 731-TA-814 | Creatine Monohydrate/China | Pfanstiehl Laboratories.
A-570-853 | 731-TA-828 | Aspirin/China | Rhodia.
A-570-855 | 731-TA-841 | Non-Frozen Apple Juice Concentrate/China | Coloma Frozen Foods. Green Valley Apples of California.
|  |  | Knouse Foods Coop.
|  |  | Mason County Fruit Packers Coop.
|  |  | Tree Top.
A-570-856 | 731-TA-851 | Synthetic Indigo/China | Buffalo Color. United Steelworkers of America.
A-570-860 | 731-TA-874 | Steel Concrete Reinforcing Bar/China | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-570-862 | 731-TA-891 | Foundry Coke/China | ABC Coke. Citizens Gas and Coke Utility.
|  |  | Erie Coke.
|  |  | Sloss Industries Corp.
|  |  | Tonawanda Coke.
|  |  | United Steelworkers of America.
A-570-863 | 731-TA-893 | Honey/China | AH Meyer & Sons.
|  |  | Adee Honey Farms.
|  |  | Althoff Apiaries.
|  |  | American Beekeeping Federation.
|  |  | American Honey Producers Association.
|  |  | Anderson Apiaries.
|  |  | Arroyo Apiaries.
|  |  | Artesian Honey Producers.
|  |  | B Weaver Apiaries.
|  |  | Bailey Enterprises.
|  |  | Barkman Honey.
|  |  | Basler Honey Apiary.
|  |  | Beals Honey.
|  |  | Bears Paw Apiaries.
|  |  | Beaverhead Honey.
|  |  | Bee Biz.
|  |  | Bee Haven Honey.
|  |  | Belliston Brothers Apiaries.
|  |  | Big Sky Honey.
|  |  | Bill Rhodes Honey.
|  |  | Richard E. Blake.
|  |  | Curt Bronnenberg.
|  |  | Brown's Honey Farms.
|  |  | Brumley's Bees.
|  |  | Buhmann Apiaries.
|  |  | Carys Honey Farms.
|  |  | Chaparrel Honey.
|  |  | Charles Apiaries.
|  |  | Mitchell Charles.
|  |  | Collins Honey.
|  |  | Conor Apiaries.
|  |  | Coy's Honey Farm.
|  |  | Dave Nelson Apiaries.
|  |  | Delta Bee.
|  |  | Eisele's Pollination & Honey.
|  |  | Ellingsoa's.
|  |  | Elliott Curtis & Sons.
|  |  | Charles L Emmons Sr.
|  |  | Gause Honey.
|  |  | Gene Brandi Apiaries.
|  |  | Griffith Honey.
|  |  | Haff Apiaries.
|  |  | Hamilton Bee Farms.
|  |  | Hamilton Honey.
|  |  | Happie Bee.
|  |  | Harvest Honey.
|  |  | Harvey's Honey.
|  |  | Hiatt Honey.
|  |  | Hoffman Honey.
|  |  | Hollman Apiaries.
|  |  | Honey House.
|  |  | Honeybee Apiaries.
|  |  | Gary M Honl.
|  |  | Rand William Honl and Sydney Jo Honl.
|  |  | James R & Joann Smith Trust.
|  |  | Jaynes Bee Products.
|  |  | Johnston Honey Farms.
|  |  | Larry Johnston.
|  |  | Ke-An Honey.
|  |  | Kent Honeybees.
|  |  | Lake-Indianhead Honey Farms.
|  |  | Lamb's Honey Farm.
|  |  | Las Flores Apiaries.
|  |  | Mackrill Honey Farms & Sales.
|  |  | Raymond Marquette.
|  |  | Mason & Sons Honey.
|  |  | McCoy's Sunny South Apiaries.
|  |  | Merrimack Valley Apiaries & Evergreen Honey.
|  |  | Met 2 Honey Farm.
|  |  | Missouri River Honey.
|  |  | Mitchell Brothers Honey.
|  |  | Monda Honey Farm.
|  |  | Montana Dakota Honey.
|  |  | Northern Bloom Honey.
|  |  | Noye's Apiaries.
|  |  | Oakes Honey.
|  |  | Oakley Honey Farms.
|  |  | Old Mill Apiaries.
|  |  | Opp Honey.
|  |  | Oro Dulce.
|  |  | Peterson's “Naturally Sweet” Honey.
|  |  | Potoczak Bee Farms.
|  |  | Price Apiaries.
|  |  | Pure Sweet Honey Farms.
|  |  | Robertson Pollination Service.
|  |  | Robson Honey.
|  |  | William Robson.
|  |  | Rosedale Apiaries.
|  |  | Ryan Apiaries.
|  |  | Schmidt Honey Farms.
|  |  | Simpson Apiaries.
|  |  | Sioux Honey Association.
|  |  | Smoot Honey.
|  |  | Solby Honey.
|  |  | Stahlman Apiaries.
|  |  | Steve E Parks Apiaries.
|  |  | Stroope Bee & Honey.
|  |  | T&D Honey Bee.
|  |  | Talbott's Honey.
|  |  | Terry Apiaries.
|  |  | Thompson Apiaries.
|  |  | Triple A Farm.
|  |  | Tropical Blossom Honey.
|  |  | Tubbs Apiaries.
|  |  | Venable Wholesale.
|  |  | Walter L Wilson Buzz 76 Apiaries.
|  |  | Wiebersiek Honey Farms.
|  |  | Wilmer Farms.
|  |  | Brent J Woodworth.
|  |  | Wooten's Golden Queens.
|  |  | Yaddof Apiaries.
A-570-864 | 731-TA-895 | Pure Magnesium (Granular)/China | Concerned Employees of Northwest Alloys. Magnesium Corporation of America.
|  |  | United Steelworkers of America.
|  |  | United Steelworkers of America (Local 8319).
A-570-865 | 731-TA-899 | Hot-Rolled Steel Products/China | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-570-866 | 731-TA-921 | Folding Gift Boxes/China | Field Container. Harvard Folding Box.
|  |  | Sterling Packaging.
|  |  | Superior Packaging.
A-570-867 | 731-TA-922 | Automotive Replacement Glass Windshields/China | PPG Industries. Safelite Glass.
|  |  | Viracon/Curvlite Inc.
|  |  | Visteon Corporation.
A-570-868 | 731-TA-932 | Folding Metal Tables and Chairs/China | Krueger International. McCourt Manufacturing.
|  |  | Meco.
|  |  | Virco Manufacturing.
A-570-873 | 731-TA-986 | Ferrovanadium/China | Bear Metallurgical Co. Shieldalloy Metallurgical Corp.
A-570-875 | 731-TA-990 | Non-Malleable Cast Iron Pipe Fittings/China | Anvil International Inc. Buck Co Inc.
|  |  | Frazier & Frazier Industries.
|  |  | Ward Manufacturing Inc.
A-570-877 | 731-TA-1010 | Lawn and Garden Steel Fence Posts/China | Steel City Corp.
A-570-878 | 731-TA-1013 | Saccharin/China | PMC Specialties Group Inc.
A-570-879 | 731-TA-1014 | Polyvinyl Alcohol/China | Celanese Ltd. E I du Pont de Nemours & Co.
A-570-880 | 731-TA-1020 | Barium Carbonate/China | Chemical Products Corp.
A-570-881 | 731-TA-1021 | Malleable Iron Pipe Fittings/China | Anvil International Inc. Buck Co Inc.
|  |  | Ward Manufacturing Inc.
A-570-882 | 731-TA-1022 | Refined Brown Aluminum Oxide/China | C-E Minerals. Treibacher Schleifmittel North America Inc.
|  |  | Washington Mills Co Inc.
A-570-884 | 731-TA-1034 | Certain Color Television Receivers/China | Five Rivers Electronic Innovations LLC. Industrial Division of the Communications Workers of America (IUECWA).
|  |  | International Brotherhood of Electrical Workers (IBEW).
A-570-886 | 731-TA-1043 | Polyethylene Retail Carrier Bags/China | Aargus Plastics Inc. Advance Polybags Inc.
|  |  | Advance Polybags (Nevada) Inc.
|  |  | Advance Polybags (Northeast) Inc.
|  |  | Alpha Industries Inc.
|  |  | Alpine Plastics Inc.
|  |  | Ampac Packaging LLC.
|  |  | API Enterprises Inc.
|  |  | Command Packaging.
|  |  | Continental Poly Bags Inc.
|  |  | Durabag Co Inc.
|  |  | Europackaging LLC.
|  |  | Genpak LLC (formerly Continental Superbag LLC).
|  |  | Genpak LLC (formerly Strout Plastics).
|  |  | Hilex Poly Co LLC.
|  |  | Inteplast Group Ltd.
|  |  | PCL Packaging Inc.
|  |  | Poly-Pak Industries Inc.
|  |  | Roplast Industries Inc.
|  |  | Superbag Corp.
|  |  | Unistar Plastics LLC.
|  |  | Vanguard Plastics Inc.
|  |  | VS Plastics LLC.
A-570-887 | 731-TA-1046 | Tetrahydrofurfuryl Alcohol/China | Penn Specialty Chemicals Inc.
A-570-888 | 731-TA-1047 | Ironing Tables and Certain Parts Thereof/China | Home Products International Inc.
A-570-890 | 731-TA-1058 | Wooden Bedroom Furniture/China | American Drew. American of Martinsville.
|  |  | Bassett Furniture Industries Inc.
|  |  | Bebe Furniture.
|  |  | Carolina Furniture Works Inc.
|  |  | Carpenters Industrial Union Local 2093.
|  |  | Century Furniture Industries.
|  |  | Country Craft Furniture Inc.
|  |  | Craftique.
|  |  | Crawford Furniture Mfg Corp.
|  |  | EJ Victor Inc.
|  |  | Forest Designs.
|  |  | Harden Furniture Inc.
|  |  | Hart Furniture.
|  |  | Higdon Furniture Co.
|  |  | IUE Industrial Division of CWA Local 82472.
|  |  | Johnston Tombigbee Furniture Mfg Co.
|  |  | Kincaid Furniture Co Inc.
|  |  | L & J G Stickley Inc.
|  |  | Lea Industries.
|  |  | Michels & Co.
|  |  | MJ Wood Products Inc.
|  |  | Mobel Inc.
|  |  | Modern Furniture Manufacturers Inc.
|  |  | Moosehead Mfg Co.
|  |  | Oakwood Interiors.
|  |  | O'Sullivan Industries Inc.
|  |  | Pennsylvania House Inc.
|  |  | Perdues Inc.
|  |  | Sandberg Furniture Mfg Co Inc.
|  |  | Stanley Furniture Co Inc.
|  |  | Statton Furniture Mfg Assoc.
|  |  | T Copeland & Sons.
|  |  | Teamsters, Chauffeurs, Warehousemen and Helpers Local 991.
|  |  | Tom Seely Furniture.
|  |  | UBC Southern Council of Industrial Workers Local Union 2305.
|  |  | United Steelworkers of America Local 193U.
|  |  | Vaughan Furniture Co Inc.
|  |  | Vaughan-Bassett Furniture Co Inc.
|  |  | Vermont Tubbs.
|  |  | Webb Furniture Enterprises Inc.
A-570-891 | 731-TA-1059 | Hand Trucks and Certain Parts Thereof/China | B&P Manufacturing. Gleason Industrial Products Inc.
|  |  | Harper Trucks Inc.
|  |  | Magline Inc.
|  |  | Precision Products Inc.
|  |  | Wesco Industrial Products Inc.
A-570-892 | 731-TA-1060 | Carbazole Violet Pigment 23/China | Allegheny Color Corp. Barker Fine Color Inc.
|  |  | Clariant Corp.
|  |  | Nation Ford Chemical Co.
|  |  | Sun Chemical Co.
A-570-894 | 731-TA-1070 | Certain Tissue Paper Products/China | American Crepe Corp. Cindus Corp.
|  |  | Eagle Tissue LLC.
|  |  | Flower City Tissue Mills Co and Subsidiary.
|  |  | Garlock Printing & Converting Corp.
|  |  | Green Mtn Specialties Inc.
|  |  | Hallmark Cards Inc.
|  |  | Pacon Corp.
|  |  | Paper, Allied-Industrial, Chemical and Energy Workers International Union AFL-CIO (“PACE”).
|  |  | Paper Service LTD.
|  |  | Putney Paper.
|  |  | Seaman Paper Co of MA Inc.
A-570-895 | 731-TA-1069 | Certain Crepe Paper Products/China | American Crepe Corp. Cindus Corp.
|  |  | Paper, Allied-Industrial, Chemical and Energy Workers International Union AFL-CIO (“PACE”).
|  |  | Seaman Paper Co of MA Inc.
A-570-896 | 731-TA-1071 | Alloy Magnesium/China | Garfield Alloys Inc. Glass, Molders, Pottery, Plastics & Allied Workers International Local 374.
|  |  | Halaco Engineering.
|  |  | MagReTech Inc.
|  |  | United Steelworkers of America Local 8319.
|  |  | US Magnesium LLC.
A-570-899 | 731-TA-1091 | Artists' Canvas/China | Duro Art Industries. ICG/Holliston Mills Inc.
|  |  | Signature World Class Canvas LLC.
|  |  | Tara Materials Inc.
A-570-898 | 731-TA-1082 | Chlorinated Isocyanurates/China | BioLab Inc. Clearon Corp.
|  |  | Occidental Chemical Corp.
A-570-901 | 731-TA-1095 | Certain Lined Paper School Supplies/China | Fay Paper Products Inc. MeadWestvaco Consumer & Office Products.
|  |  | Norcom Inc.
|  |  | Pacon Corp.
|  |  | Roaring Spring Blank Book Co.
|  |  | Top Flight Inc.
|  |  | United Steel, Paper and Forestry, Rubber, Manufacturing, Energy, Allied Industrial and Service Workers International Union, AFL-CIO-CLC (USW).
A-570-904 | 731-TA-1103 | Certain Activated Carbon/China | Calgon Carbon Corp. Norit Americas Inc.
A-570-905 | 731-TA-1104 | Certain Polyester Staple Fiber/China | DAK Americas LLC. Formed Fiber Technologies LLC.
|  |  | Nan Ya Plastics Corp America.
|  |  | Palmetto Synthetics LLC.
|  |  | United Synthetics Inc (USI).
|  |  | Wellman Inc.
A-570-908 | 731-TA-1110 | Soium Hexametaphosphate (SHMP)/China | ICL Performance Products LP. Innophos Inc.
A-580-008 | 731-TA-134 | Color Television Receivers/Korea | Committee to Preserve American Color Television. Independent Radionic Workers of America.
|  |  | Industrial Union Department, AFL-CIO.
|  |  | International Brotherhood of Electrical Workers.
|  |  | International Union of Electrical, Radio and Machine Workers.
A-580-507 | 731-TA-279 | Malleable Cast Iron Pipe Fittings/Korea | Grinnell. Stanley G Flagg.
|  |  | Stockham Valves & Fittings.
|  |  | U-Brand.
|  |  | Ward Manufacturing.
A-580-601 | 731-TA-304 | Top-of-the-Stove Stainless Steel Cooking Ware/Korea | Farberware. Regal Ware.
|  |  | Revere Copper & Brass.
|  |  | WearEver/Proctor Silex.
A-580-603 | 731-TA-315 | Brass Sheet and Strip/Korea | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
A-580-605 | 731-TA-369 | Color Picture Tubes/Korea | Industrial Union Department, AFL-CIO. International Association of Machinists & Aerospace Workers.
|  |  | International Brotherhood of Electrical Workers.
|  |  | International Union of Electronic, Electrical, Technical, Salaried and Machine Workers.
|  |  | Philips Electronic Components Group.
|  |  | United Steelworkers of America.
|  |  | Zenith Electronics.
A-580-803 | 731-TA-427 | Small Business Telephone Systems/Korea | American Telephone & Telegraph. Comdial.
|  |  | Eagle Telephonic.
A-580-805 | 731-TA-442 | Industrial Nitrocellulose/Korea | Hercules.
A-580-807 | 731-TA-459 | Polyethylene Terephthalate Film/Korea | E I du Pont de Nemours. Hoechst Celanese.
|  |  | ICI Americas.
A-580-809 | 731-TA-533 | Circular Welded Nonalloy Steel Pipe/Korea | Allied Tube & Conduit. American Tube.
|  |  | Bull Moose Tube.
|  |  | Century Tube.
|  |  | CSI Tubular Products.
|  |  | Cyclops.
|  |  | Laclede Steel.
|  |  | LTV Tubular Products.
|  |  | Maruichi American.
|  |  | Sharon Tube.
|  |  | USX.
|  |  | Western Tube & Conduit.
|  |  | Wheatland Tube.
A-580-810 | 731-TA-540 | Welded ASTM A-312 Stainless Steel Pipe/Korea | Avesta Sandvik Tube. Bristol Metals.
|  |  | Crucible Materials.
|  |  | Damascus Tubular Products.
|  |  | United Steelworkers of America.
A-580-811 | 731-TA-546 | Carbon Steel Wire Rope/Korea | Bridon American. Macwhyte.
|  |  | Paulsen Wire Rope.
|  |  | The Rochester Corporation.
|  |  | United Automobile, Aerospace and Agricultural Implement Workers (Local 960).
|  |  | Williamsport.
|  |  | Wire-rope Works.
|  |  | Wire Rope Corporation of America.
A-580-812 | 731-TA-556 | DRAMs of 1 Megabit and Above/Korea | Micron Technology. NEC Electronics.
|  |  | Texas Instruments.
A-580-813 | 731-TA-563 | Stainless Steel Butt-Weld Pipe Fittings/Korea | Flo-Mac Inc. Gerlin.
|  |  | Markovitz Enterprises.
|  |  | Shaw Alloy Piping Products.
|  |  | Taylor Forge Stainless.
A-580-815 | 731-TA-607 | Cold-Rolled Carbon Steel Flat Products/Korea | Armco Steel. Bethlehem Steel.
|  |  | California Steel Industries.
|  |  | Gulf States Steel.
|  |  | Inland Steel Industries.
|  |  | LTV Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-580-816 | 731-TA-618 | Corrosion-Resistant Carbon Steel Flat Products/Korea | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-580-825 | 731-TA-715 | Oil Country Tubular Goods/Korea | Bellville Tube. IPSCO.
|  |  | Koppel Steel.
|  |  | Lone Star Steel.
|  |  | Maverick Tube.
|  |  | Newport Steel.
|  |  | North Star Steel.
|  |  | US Steel.
|  |  | USS/Kobe.
A-580-829 | 731-TA-772 | Stainless Steel Wire Rod/Korea | AL Tech Specialty Steel. Carpenter Technology.
|  |  | Republic Engineered Steels.
|  |  | Talley Metals Technology.
|  |  | United Steelworkers of America.
A-580-831 | 731-TA-791 | Stainless Steel Plate in Coils/Korea | Allegheny Ludlum. Armco Steel.
|  |  | J&L Specialty Steel.
|  |  | Lukens Steel.
|  |  | North American Stainless.
|  |  | United Steelworkers of America.
A-580-834 | 731-TA-801 | Stainless Steel Sheet and Strip/Korea | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
A-580-836 | 731-TA-821 | Cut-to-Length Carbon Steel Plate/Korea | Bethlehem Steel. CitiSteel USA Inc.
|  |  | Geneva Steel.
|  |  | Gulf States Steel.
|  |  | IPSCO Steel.
|  |  | National Steel.
|  |  | Tuscaloosa Steel.
|  |  | US Steel.
|  |  | United Steelworkers of America.
A-580-839 | 731-TA-825 | Polyester Staple Fiber/Korea | Arteva Specialties Sarl. E I du Pont de Nemours.
|  |  | Intercontinental Polymers.
|  |  | Nan Ya Corporation America.
|  |  | Wellman.
A-580-841 | 731-TA-854 | Structural Steel Beams/Korea | Northwestern Steel and Wire. Nucor.
|  |  | Nucor-Yamato Steel.
|  |  | TXI-Chaparral Steel.
|  |  | United Steelworkers of America.
A-580-844 | 731-TA-877 | Steel Concrete Reinforcing Bar/Korea | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-580-846 | 731-TA-889 | Stainless Steel Angle/Korea | Slater Steels. United Steelworkers of America.
A-580-847 | 731-TA-916 | Stainless Steel Bar/Korea | Carpenter Technology. Crucible Specialty Metals.
|  |  | Electralloy.
|  |  | Empire Specialty Steel.
|  |  | Republic Technologies International.
|  |  | Slater Steels.
|  |  | United Steelworkers of America.
A-580-850 | 731-TA-1017 | Polyvinyl Alcohol/Korea | Celanese Ltd. E I du Pont de Nemours & Co.
A-580-852 | 731-TA-1026 | Prestressed Concrete Steel Wire Strand/Korea | American Spring Wire Corp. Insteel Wire Products Co.
|  |  | Sivaco Georgia LLC.
|  |  | Strand Tech Martin Inc.
|  |  | Sumiden Wire Products Corp.
A-583-008 | 731-TA-132 | Small Diameter Carbon Steel Pipe and Tube/Tawian | Allied Tube & Conduit. American Tube.
|  |  | Bull Moose Tube.
|  |  | Copperweld Tubing.
|  |  | J&L Steel.
|  |  | Kaiser Steel.
|  |  | Merchant Metals.
|  |  | Pittsburgh Tube.
|  |  | Southwestern Pipe.
|  |  | Western Tube & Conduit.
A-583-009 | 731-TA-135 | Color Television Receivers/Taiwan | Committee to Preserve American Color Television. Independent Radionic Workers of America.
|  |  | Industrial Union Department, AFL-CIO.
|  |  | International Brotherhood of Electrical Workers.
|  |  | International Union of Electrical, Radio and Machine Workers.
A-583-080 | AA1921-197 | Carbon Steel Plate/Taiwan | No Petition (self-initiated by Treasury); Commerce service list identifies: Bethlehem Steel.
|  |  | China Steel.
|  |  | US Steel.
A-583-505 | 731-TA-277 | Oil Country Tubular Goods/Taiwan | CF&I Steel. Copperweld Tubing.
|  |  | Cyclops.
|  |  | KPC.
|  |  | Lone Star Steel.
|  |  | LTV Steel.
|  |  | Maverick Tube
|  |  | Quanex.
|  |  | US Steel.
A-583-507 | 731-TA-280 | Malleable Cast Iron Pipe Fittings/Taiwan | Grinnell. Stanley G. Flagg.
|  |  | Stockham Valves & Fittings.
|  |  | U-Brand.
|  |  | Ward Manufacturing.
A-583-508 | 731-TA-299 | Porcelain-on-Steel Cooking Ware/Taiwan | General Housewares.
A-583-603 | 731-TA-305 | Top-of-the-Stove Stainless Steel Cooking Ware/Taiwan | Farberware. Regal Ware.
|  |  | Revere Copper & Brass.
|  |  | WearEver/Proctor Silex.
A-583-605 | 731-TA-310 | Carbon Steel Butt-Weld Pipe Fittings/Taiwan | Ladish. Mills Iron Works.
|  |  | Steel Forgings.
|  |  | Tube Forgings of America.
|  |  | Weldbend.
A-583-803 | 731-TA-410 | Light-Walled Rectangular Tube/Taiwan | Bull Moose Tube. Hannibal Industries.
|  |  | Harris Tube.
|  |  | Maruichi American.
|  |  | Searing Industries.
|  |  | Southwestern Pipe.
|  |  | Western Tube & Conduit.
A-583-806 | 731-TA-428 | Small Business Telephone Systems/Taiwan | American Telephone & Telegraph. Comdial.
|  |  | Eagle Telephonic.
A-583-810 | 731-TA-475 | Chrome-Plated Lug Nuts/Taiwan | Consolidated International Automotive. Key Manufacturing.
|  |  | McGard.
A-583-814 | 731-TA-536 | Circular Welded Nonalloy Steel Pipe/Taiwan | Allied Tube & Conduit. American Tube.
|  |  | Bull Moose Tube.
|  |  | Century Tube.
|  |  | CSI Tubular Products.
|  |  | Cyclops.
|  |  | Laclede Steel.
|  |  | LTV Tubular Products.
|  |  | Maruichi American.
|  |  | Sharon Tube.
|  |  | USX.
|  |  | Western Tube & Conduit.
|  |  | Wheatland Tube.
A-583-815 | 731-TA-541 | Welded ASTM A-312 Stainless Steel Pipe/Taiwan | Avesta Sandvik Tube. Bristol Metals.
|  |  | Crucible Materials.
|  |  | Damascus Tubular Products.
|  |  | United Steelworkers of America.
A-583-816 | 731-TA-564 | Stainless Steel Butt-Weld Pipe Fittings/Taiwan | Flo-Mac Inc. Gerlin.
|  |  | Markovitz Enterprises.
|  |  | Shaw Alloy Piping Products.
|  |  | Taylor Forge Stainless.
A-583-820 | 731-TA-625 | Helical Spring Lock Washers/Taiwan | Illinois Tool Works.
A-583-821 | 731-TA-640 | Forged Stainless Steel Flanges/Taiwan | Gerlin. Ideal Forging.
|  |  | Maass Flange.
|  |  | Markovitz Enterprises.
A-583-824 | 731-TA-729 | Polyvinyl Alcohol/Taiwan | Air Products and Chemicals.
A-583-825 | 731-TA-743 | Melamine Institutional Dinnerware/Taiwan | Carlisle Food Service Products. Lexington United.
|  |  | Plastics Manufacturing.
A-583-826 | 731-TA-759 | Collated Roofing Nails/Taiwan | Illinois Tool Works. International Staple and Machines.
|  |  | Stanley-Bostitch.
A-583-827 | 731-TA-762 | SRAMs/Taiwan | Micron Technology.
A-583-828 | 731-TA-775 | Stainless Steel Wire Rod/Taiwan | AL Tech Specialty Steel. Carpenter Technology.
|  |  | Republic Engineered Steels.
|  |  | Talley Metals Technology.
|  |  | United Steelworkers of America.
A-583-830 | 731-TA-793 | Stainless Steel Plate in Coils/Taiwan | Allegheny Ludlum. Armco Steel.
|  |  | J&L Specialty Steel.
|  |  | Lukens Steel.
|  |  | North American Stainless.
|  |  | United Steelworkers of America.
A-583-831 | 731-TA-803 | Stainless Steel Sheet and Strip/Taiwan | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
A-583-833 | 731-TA-826 | Polyester Staple Fiber/Taiwan | Arteva Specialties Sarl. Intercontinental Polymers.
|  |  | Nan Ya Plastics Corporation America.
|  |  | Wellman.
A-583-835 | 731-TA-906 | Hot-Rolled Steel Products/Taiwan | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-583-837 | 731-TA-934 | Polyethylene Terephthalate Film, Sheet and Strip (PET Film)/Taiwan | DuPont Teijin Films. Mitsubishi Polyester Film LLC. SKC America Inc.
|  |  | Toray Plastics (America).
A-588-005 | 731-TA-48 | High Power Microwave Amplifiers/Japan | Aydin. MCL.
A-588-015 | AA1921-66 | Television Receivers/Japan | AGIV (USA). Casio Computer.
|  |  | CBM America.
|  |  | Citizen Watch.
|  |  | Funai Electric.
|  |  | Hitachi.
|  |  | Industrial Union Department.
|  |  | JC Penny.
|  |  | Matsushita.
|  |  | Mitsubishi Electric.
|  |  | Montgomery Ward.
|  |  | NEC.
|  |  | Orion Electric.
|  |  | PT Imports.
|  |  | Philips Electronics.
|  |  | Philips Magnavox.
|  |  | Sanyo.
|  |  | Sharp.
|  |  | Toshiba.
|  |  | Toshiba America Consumer Products.
|  |  | Victor Company of Japan.
|  |  | Zenith Electronics.
A-588-028 | AA1921-111 | Roller Chain/Japan | Acme Chain Division, North American Rockwell. American Chain Association.
|  |  | Atlas Chain & Precision Products.
|  |  | Diamond Chain.
|  |  | Link-Belt Chain Division, FMC.
|  |  | Morse Chain Division, Borg Warner.
|  |  | Rex Chainbelt.
A-588-029 | AA1921-85 | Fish Netting of Man-Made Fiber/Japan | Jovanovich Supply. LFSI.
|  |  | Trans-Pacific Trading.
A-588-038 | AA1921-98 | Bicycle Speedometers/Japan | Avocet. Cat Eye.
|  |  | Diversified Products.
|  |  | NS International.
|  |  | Sanyo Electric.
|  |  | Stewart-Warner.
A-588-041 | AA1921-115 | Synthetic Methionine/Japan | Monsanto.
A-588-045 | AA1921-124 | Steel Wire Rope/Japan | AMSTED Industries.
A-588-046 | AA1921-129 | Polychloroprene Rubber/Japan | E I du Pont de Nemours.
A-588-054 | AA1921-143 | Tapered Roller Bearings 4 Inches and Under/Japan | No companies identified as petitioners at the Commission; Commerce service list identifies: American Honda Motor.
|  |  | Federal Mogul.
|  |  | Ford Motor.
|  |  | General Motors.
|  |  | Honda.
|  |  | Hoover-NSK Bearing.
|  |  | Isuzu.
|  |  | Itocho.
|  |  | ITOCHU International.
|  |  | Kanematsu-Goshu USA.
|  |  | Kawasaki Heavy Duty Industries.
|  |  | Komatsu America.
|  |  | Koyo Seiko.
|  |  | Kubota Tractor.
|  |  | Mitsubishi.
|  |  | Motorambar.
|  |  | Nachi America.
|  |  | Nachi Western.
|  |  | Nachi-Fujikoshi.
|  |  | Nippon Seiko.
|  |  | Nissan Motor.
|  |  | Nissan Motor USA.
|  |  | NSK.
|  |  | NTN
|  |  | Subaru of America.
|  |  | Sumitomo.
|  |  | Suzuki Motor.
|  |  | Timken.
|  |  | Toyota Motor Sales.
|  |  | Yamaha Motors.
A-588-055 | AA1921-154 | Acrylic Sheet/Japan | Polycast Technology.
A-588-056 | AA1921-162 | Melamine/Japan | Melamine Chemical.
A-588-068 | AA1921-188 | Prestressed Concrete Steel Wire Strand/Japan | American Spring Wire. Armco Steel.
|  |  | Bethlehem Steel.
|  |  | CF&I Steel.
|  |  | Florida Wire & Cable.
A-588-405 | 731-TA-207 | Cellular Mobile Telephones/Japan | EF Johnson. Motorola.
A-588-602 | 731-TA-309 | Carbon Steel Butt-Weld Pipe Fittings/Japan | Ladish. Mills Iron Works.
|  |  | Steel Forgings.
|  |  | Tube Forgings of America.
|  |  | Weldbend.
A-588-604 | 731-TA-343 | Tapered Roller Bearings Over 4 Inches/Japan | L&S Bearing. Timken.
|  |  | Torrington.
A-588-605 | 731-TA-347 | Malleable Cast Iron Pipe Fittings/Japan | Grinnell. Stanley G. Flagg.
|  |  | Stockham Valves & Fittings.
|  |  | U-Brand.
|  |  | Ward Manufacturing.
A-588-609 | 731-TA-368 | Color Picture Tubes/Japan | Industrial Union Department, AFL-CIO. International Association of Machinists & Aerospace Workers.
|  |  | International Brotherhood of Electrical Workers.
|  |  | International Union of Electronic, Electrical, Technical, Salaried and Machine Workers.
|  |  | Philips Electronic Components Group.
|  |  | United Steelworkers of America.
|  |  | Zenith Electronics.
A-588-702 | 731-TA-376 | Stainless Steel Butt-Weld Pipe Fittings/Japan | Flo-Mac Inc. Flowline.
|  |  | Shaw Alloy Piping Products.
|  |  | Taylor Forge Stainless.
A-588-703 | 731-TA-377 | Internal Combustion Industrial Forklift Trucks/Japan | Ad-Hoc Group of Workers from Hyster's Berea, Kentucky and Sulligent, Alabama Facilities. Allied Industrial Workers of America.
|  |  | Hyster.
|  |  | Independent Lift Truck Builders Union.
|  |  | International Association of Machinists & Aerospace Workers.
|  |  | United Shop & Service Employees.
A-588-704 | 731-TA-379 | Brass Sheet and Strip/Japan | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | North Coast Brass & Copper.
|  |  | Olin.
|  |  | Pegg Metals.
|  |  | Revere Copper Products.
|  |  | United Steelworkers of America.
A-588-706 | 731-TA-384 | Nitrile Rubber/Japan | Uniroyal Chemical.
A-588-707 | 731-TA-386 | Granular Polytetrafluoroethylene/Japan | E I du Pont de Nemours. ICI Americas.
A-588-802 | 731-TA-389 | 3.5″ Microdisks/Japan | Verbatim.
A-588-804 | 731-TA-394-A | Ball Bearings/Japan | Barden Corp. Emerson Power Transmission.
|  |  | Kubar Bearings.
|  |  | McGill Manufacturing Co.
|  |  | MPB.
|  |  | Rexnord Inc.
|  |  | Rollway Bearings.
|  |  | Torrington.
A-588-804 | 731-TA-394-B | Cylindrical Roller Bearings/Japan | Barden Corp. Emerson Power Transmission.
|  |  | Kubar Bearings.
|  |  | MPB.
|  |  | Rollway Bearings.
|  |  | Torrington.
A-588-804 | 731-TA-394-C | Spherical Plain Bearings/Japan | Barden Corp. Emerson Power Transmission.
|  |  | Kubar Bearings.
|  |  | Rollway Bearings.
|  |  | Torrington.
A-588-806 | 731-TA-408 | Electrolytic Manganese Dioxide/Japan | Chemetals. Kerr-McGee.
|  |  | Rayovac.
A-588-807 | 731-TA-414 | Industrial Belts/Japan | The Gates Rubber Company. Goodyear Tire and Rubber Company.
A-588-809 | 731-TA-426 | Small Business Telephone Systems/Japan | American Telephone & Telegraph. Comdial.
|  |  | Eagle Telephonic.
A-588-810 | 731-TA-429 | Mechanical Transfer Presses/Japan | Allied Products. United Autoworkers of America.
|  |  | United Steelworkers of America.
A-588-811 | 731-TA-432 | Drafting Machines/Japan | Vemco.
A-588-812 | 731-TA-440 | Industrial Nitrocellulose/Japan | Hercules.
A-588-815 | 731-TA-461 | Gray Portland Cement and Clinker/Japan | Calaveras Cement. Hanson Permanente Cement.
|  |  | Independent Workers of North America (Locals 49, 52, 89, 192 and 471).
|  |  | International Union of Operating Engineers (Local 12).
|  |  | National Cement Co Inc.
|  |  | National Cement Company of California.
|  |  | Southdown.
A-588-817 | 731-TA-469 | Electroluminescent Flat-Panel Displays/Japan | The Cherry Corporation. Electro Plasma.
|  |  | Magnascreen.
|  |  | OIS Optical Imaging Systems.
|  |  | Photonics Technology.
|  |  | Planar Systems.
|  |  | Plasmaco.
A-588-823 | 731-TA-571 | Professional Electric Cutting Tools/Japan | Black & Decker.
A-588-826 | 731-TA-617 | Corrosion-Resistant Carbon Steel Flat Products/Japan | Bethlehem Steel. California Steel Industries.
|  |  | Geneva Steel.
|  |  | Gulf States Steel.
|  |  | Lukens Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-588-831 | 731-TA-660 | Grain-Oriented Silicon Electrical Steel/Japan | Allegheny Ludlum. Armco Steel.
|  |  | United Steelworkers of America.
A-588-833 | 731-TA-681 | Stainless Steel Bar/Japan | AL Tech Specialty Steel. Carpenter Technology.
|  |  | Crucible Specialty Metals.
|  |  | Electralloy.
|  |  | Republic Engineered Steels.
|  |  | Slater Steels.
|  |  | Talley Metals Technology.
|  |  | United Steelworkers of America.
A-588-835 | 731-TA-714 | Oil Country Tubular Goods/Japan | IPSCO. Koppel Steel.
|  |  | Lone Star Steel Co.
|  |  | Maverick Tube.
|  |  | Newport Steel.
|  |  | North Star Steel.
|  |  | US Steel.
A-588-836 | 731-TA-727 | Polyvinyl Alcohol/Japan | Air Products and Chemicals.
A-588-837 | 731-TA-737 | Large Newspaper Printing Presses/Japan | Rockwell Graphics Systems.
A-588-838 | 731-TA-739 | Clad Steel Plate/Japan | Lukens Steel.
A-588-839 | 731-TA-740 | Sodium Azide/Japan | American Azide.
A-588-840 | 731-TA-748 | Gas Turbo-Compressor Systems/Japan | Demag Delaval. Dresser-Rand.
|  |  | United Steelworkers of America.
A-588-841 | 731-TA-750 | Vector Supercomputers/Japan | Cray Research.
A-588-843 | 731-TA-771 | Stainless Steel Wire Rod/Japan | AL Tech Specialty Steel. Carpenter Technology.
|  |  | Republic Engineered Steels.
|  |  | Talley Metals Technology.
|  |  | United Steelworkers of America.
A-588-845 | 731-TA-800 | Stainless Steel Sheet and Strip/Japan | Allegheny Ludlum. Armco Steel.
|  |  | Bethlehem Steel
|  |  | Butler Armco Independent Union.
|  |  | Carpenter Technology Corp.
|  |  | J&L Specialty Steel.
|  |  | North American Stainless.
|  |  | United Steelworkers of America.
|  |  | Zanesville Armco Independent Organization.
A-588-846 | 731-TA-807 | Hot-Rolled Carbon Steel Flat Products/Japan | Acme Steel. Bethlehem Steel.
|  |  | California Steel Industries.
|  |  | Gallatin Steel.
|  |  | Geneva Steel.
|  |  | Gulf States Steel.
|  |  | Independent Steelworkers.
|  |  | IPSCO.
|  |  | Ispat/Inland.
|  |  | LTV Steel.
|  |  | Nucor.
|  |  | Rouge Steel Co.
|  |  | Steel Dynamics.
|  |  | US Steel.
|  |  | United Steelworkers of America.
|  |  | WCI Steel.
|  |  | Weirton Steel.
|  |  | Wheeling-Pittsburgh Steel Corp.
A-588-847 | 731-TA-820 | Cut-to-Length Carbon Steel Plate/Japan | Bethlehem Steel. CitiSteel USA Inc.
|  |  | Geneva Steel.
|  |  | Gulf States Steel.
|  |  | IPSCO Steel.
|  |  | Tuscaloosa Steel.
|  |  | US Steel.
|  |  | United Steelworkers of America.
A-588-850 | 731-TA-847 | Large-Diameter Carbon Steel Seamless Pipe/Japan | North Star Steel. Timken.
|  |  | US Steel.
|  |  | United Steelworkers of America.
|  |  | USS/Kobe.
A-588-851 | 731-TA-847 | Small-Diameter Carbon Steel Seamless Pipe/Japan | Koppel Steel. North Star Steel.
|  |  | Sharon Tube.
|  |  | Timken.
|  |  | US Steel.
|  |  | United Steelworkers of America.
|  |  | USS/Kobe.
|  |  | Vision Metals' Gulf States Tube.
A-588-852 | 731-TA-853 | Structural Steel Beams/Japan | Northwestern Steel and Wire. Nucor.
|  |  | Nucor-Yamato Steel.
|  |  | TXI-Chaparral Steel.
|  |  | United Steelworkers of America.
A-588-854 | 731-TA-860 | Tin-Mill Products/Japan | Independent Steelworkers. United Steelworkers of America.
|  |  | Weirton Steel.
A-588-856 | 731-TA-888 | Stainless Steel Angle/Japan | Slater Steels. United Steelworkers of America.
A-588-857 | 731-TA-919 | Welded Large Diameter Line Pipe/Japan | American Cast Iron Pipe. Berg Steel Pipe.
|  |  | Bethlehem Steel.
|  |  | Napa Pipe/Oregon Steel Mills.
|  |  | Saw Pipes USA.
|  |  | Stupp.
|  |  | US Steel.
A-588-861 | 731-TA-1016 | Polyvinyl Alcohol/Japan | Celenex Ltd. E I du Pont de Nemours & Co.
A-588-862 | 731-TA-1023 | Certain Ceramic Station Post Insulators/Japan | Lapp Insulator Co LLC. Newell Porcelain Co Inc.
|  |  | Victor Insulators Inc.
A-588-866 | 731-TA-1090 | Superalloy Degassed Chromium/Japan | Eramet Marietta Inc.
A-602-803 | 731-TA-612 | Corrosion-Resistant Carbon Steel Flat Products/Australia | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
A-791-805 | 731-TA-792 | Stainless Steel Plate in Coils/South Africa | Allegheny Ludlum. Armco Steel.
|  |  | J&L Specialty Steel.
|  |  | Lukens Steel.
|  |  | North American Stainless.
|  |  | United Steelworkers of America.
A-791-808 | 731-TA-850 | Small-Diameter Carbon Steel Seamless Pipe/South Africa | Koppel Steel. North Star Steel.
|  |  | Sharon Tube.
|  |  | Timken.
|  |  | US Steel.
|  |  | United Steelworkers of America.
|  |  | USS/Kobe.
|  |  | Vision Metals' Gulf States Tube.
A-791-809 | 731-TA-905 | Hot-Rolled Steel Products/South Africa | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-791-815 | 731-TA-987 | Ferrovanadium/South Africa | Bear Metallurgical Co. Shieldalloy Metallurgical Corp.
A-821-801 | 731-TA-340E | Solid Urea/Russia | Agrico Chemical. American Cyanamid.
|  |  | CF Industries.
|  |  | First Mississippi.
|  |  | Mississippi Chemical.
|  |  | Terra International.
|  |  | WR Grace.
A-821-802 | 731-TA-539-C | Uranium/Russia | Ferret Exploration. First Holding.
|  |  | Geomex Minerals.
|  |  | IMC Fertilizer.
|  |  | Malapai Resources.
|  |  | Oil, Chemical and Atomic Workers.
|  |  | Pathfinder Mines.
|  |  | Power Resources.
|  |  | Rio Algom Mining.
|  |  | Solution Mining.
|  |  | Total Minerals
|  |  | Umetco Minerals.
|  |  | Uranium Resources.
A-821-804 | 731-TA-568 | Ferrosilicon/Russia | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
A-821-805 | 731-TA-697 | Pure Magnesium/Russia | Dow Chemical. International Union of Operating Engineers (Local 564).
|  |  | Magnesium Corporation of America.
|  |  | United Steelworkers of America (Local 8319).
A-821-807 | 731-TA-702 | Ferrovanadium and Nitrided Vanadium/Russia | Shieldalloy Metallurgical.
A-821-809 | 731-TA-808 | Hot-Rolled Carbon Steel Flat Products/Russia | Acme Steel. Bethlehem Steel.
|  |  | California Steel Industries.
|  |  | Gallatin Steel.
|  |  | Geneva Steel.
|  |  | Gulf States Steel.
|  |  | Independent Steelworkers.
|  |  | IPSCO.
|  |  | Ispat/Inland.
|  |  | LTV Steel.
|  |  | National Steel.
|  |  | Nucor.
|  |  | Rouge Steel Co.
|  |  | Steel Dynamics.
|  |  | US Steel.
|  |  | United Steelworkers of America.
|  |  | WCI Steel.
|  |  | Weirton Steel.
|  |  | Wheeling-Pittsburgh Steel Corp.
A-821-811 | 731-TA-856 | Ammonium Nitrate/Russia | Agrium. Air Products and Chemicals.
|  |  | El Dorado Chemical.
|  |  | LaRoche.
|  |  | Mississippi Chemical.
|  |  | Nitram.
|  |  | Wil-Gro Fertilizer.
A-821-817 | 731-TA-991 | Silicon Metal/Russia | Globe Metallurgical Inc. SIMCALA Inc.
A-821-819 | 731-TA1072 | Pure and Alloy Magnesium/Russia | Garfield Alloys Inc. Glass, Molders, Pottery, Plastics & Allied Workers International Local 374.
|  |  | Halaco Engineering.
|  |  | MagReTech Inc.
|  |  | United Steelworkers of America Local 8319.
|  |  | US Magnesium LLC.
A-822-801 | 731-TA-340B | Solid Urea/Belarus | Agrico Chemical. American Cyanamid.
|  |  | CF Industries.
|  |  | First Mississippi.
|  |  | Mississippi Chemical.
|  |  | Terra International.
|  |  | WR Grace.
A-822-804 | 731-TA-873 | Steel Concrete Reinforcing Bar/Belarus | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-823-801 | 731-TA-340H | Solid Urea/Ukraine | Agrico Chemical. American Cyanamid.
|  |  | CF Industries.
|  |  | First Mississippi.
|  |  | Mississippi Chemical.
|  |  | Terra International.
|  |  | WR Grace.
A-823-802 | 731-TA-539-E | Uranium/Ukraine | Ferret Exploration. First Holding.
|  |  | Geomex Minerals.
|  |  | IMC Fertilizer.
|  |  | Malapai Resources.
|  |  | Oil, Chemical and Atomic Workers.
|  |  | Pathfinder Mines.
|  |  | Power Resources.
|  |  | Rio Algom Mining.
|  |  | Solution Mining.
|  |  | Total Minerals.
|  |  | Umetco Minerals
|  |  | Uranium Resources.
A-823-804 | 731-TA-569 | Ferrosilicon/Ukraine | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
A-823-805 | 731-TA-673 | Silicomanganese/Ukraine | Elkem Metals. Oil, Chemical and Atomic Workers (Local 3-639).
A-823-809 | 731-TA-882 | Steel Concrete Reinforcing Bar/Ukraine | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-823-810 | 731-TA-894 | Ammonium Nitrate/Ukraine | Agrium. Air Products and Chemicals.
|  |  | Committee for Fair Ammonium Nitrate Trade.
|  |  | El Dorado Chemical.
|  |  | LaRoche Industries.
|  |  | Mississippi Chemical.
|  |  | Nitram.
|  |  | Prodica.
A-823-811 | 731-TA-908 | Hot-Rolled Steel Products/Ukraine | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-823-812 | 731-TA-962 | Carbon and Certain Alloy Steel Wire Rod/Ukraine | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-831-801 | 731-TA-340A | Solid Urea/Armenia | Agrico Chemical. American Cyanamid.
|  |  | CF Industries.
|  |  | First Mississippi.
|  |  | Mississippi Chemical.
|  |  | Terra International.
|  |  | WR Grace.
A-834-806 | 731-TA-902 | Hot-Rolled Steel Products/Kazakhstan | Bethlehem Steel. Gallatin Steel.
|  |  | Independent Steelworkers.
|  |  | IPSCO.
|  |  | LTV Steel.
|  |  | National Steel.
|  |  | Nucor.
|  |  | Rouge Steel Co.
|  |  | Steel Dymanics.
|  |  | US Steel.
|  |  | United Steelworkers of America.
|  |  | WCI Steel Inc.
|  |  | Weirton Steel.
|  |  | Wheeling-Pittsburgh Steel Corp.
A-834-807 | 731-TA-930 | Silicomanganese/Kazakhstan | Eramet Marietta. Paper, Allied-Industrial, Chemical and Energy Workers International Union, Local 5-0639.
A-841-804 | 731-TA-879 | Steel Concrete Reinforcing Bar/Moldova | AB Steel Mill Inc. AmeriSteel.
|  |  | Auburn Steel.
|  |  | Birmingham Steel.
|  |  | Border Steel.
|  |  | Cascade Steel Rolling Mills Inc.
|  |  | CMC Steel Group.
|  |  | Co-Steel Inc.
|  |  | Marion Steel.
|  |  | North Star Steel Co.
|  |  | Nucor Steel.
|  |  | Rebar Trade Action Coalition.
|  |  | Riverview Steel.
|  |  | Sheffield Steel.
|  |  | TAMCO.
|  |  | TXI-Chaparral Steel Co.
A-841-805 | 731-TA-959 | Carbon and Certain Alloy Steel Wire Rod/Moldova | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel-Nebraska (a division of Nucor Corp).
|  |  | Republic Technologies International.
|  |  | Rocky Mountain Steel Mills.
A-842-801 | 731-TA-340F | Solid Urea/Tajikistan | Agrico Chemical. American Cyanamid.
|  |  | CF Industries.
|  |  | First Mississippi.
|  |  | Mississippi Chemical.
|  |  | Terra International.
|  |  | WR Grace.
A-843-801 | 731-TA-340G | Solid Urea/Turkmenistan | Agrico Chemical. American Cyanamid.
|  |  | CF Industries.
|  |  | First Mississippi.
|  |  | Mississippi Chemical.
|  |  | Terra International.
|  |  | WR Grace.
A-843-802 | 731-TA-539 | Uranium/Kazakhstan | Ferret Exploration. First Holding.
|  |  | Geomex Minerals.
|  |  | IMC Fertilizer.
|  |  | Malapai Resources.
|  |  | Oil, Chemical and Atomic Workers.
|  |  | Pathfinder Mines.
|  |  | Power Resources.
|  |  | Rio Algom Mining.
|  |  | Solution Mining.
|  |  | Total Minerals.
|  |  | Umetco Minerals.
|  |  | Uranium Resources.
A-843-804 | 731-TA-566 | Ferrosilicon/Kazakhstan | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
A-844-801 | 731-TA-340I | Solid Urea/Uzbekistan | Agrico Chemical. American Cyanamid.
|  |  | CF Industries.
|  |  | First Mississippi.
|  |  | Mississippi Chemical.
|  |  | Terra International.
|  |  | WR Grace.
A-844-802 | 731-TA-539-F | Uranium/Uzbekistan | Ferret Exploration. First Holding.
|  |  | Geomex Minerals.
|  |  | IMC Fertilizer.
|  |  | Malapai Resources.
|  |  | Oil, Chemical and Atomic Workers.
|  |  | Pathfinder Mines.
|  |  | Power Resources.
|  |  | Rio Algom Mining.
|  |  | Solution Mining.
|  |  | Total Minerals.
|  |  | Umetco Minerals.
|  |  | Uranium Resources.
A-851-802 | 731-TA-846 | Small-Diameter Carbon Steel Seamless Pipe/Czech Republic | Koppel Steel. North Star Steel.
|  |  | Sharon Tube.
|  |  | Timken.
|  |  | US Steel.
|  |  | United Steelworkers of America.
|  |  | USS/Kobe.
|  |  | Vision Metals' Gulf States Tube.
C-122-404 | 701-TA-224 | Live Swine/Canada | National Pork Producers Council. Wilson Foods.
C-122-805 | 701-TA-297 | Steel Rails/Canada | Bethlehem Steel. CF&I Steel.
C-122-815 | 701-TA-309-A | Alloy Magnesium/Canada | Magnesium Corporation of America.
C-122-815 | 701-TA-309-B | Pure Magnesium/Canada | Magnesium Corporation of America.
C-122-839 | 701-TA-414 | Softwood Lumber/Canada | 71 Lumber Co. Almond Bros Lbr Co.
|  |  | Anthony Timberlands.
|  |  | Balfour Lbr Co.
|  |  | Ball Lumber.
|  |  | Banks Lumber Company.
|  |  | Barge Forest Products Co.
|  |  | Beadles Lumber Co.
|  |  | Bearden Lumber.
|  |  | Bennett Lumber.
|  |  | Big Valley Band Mill.
|  |  | Bighorn Lumber Co Inc.
|  |  | Blue Mountain Lumber.
|  |  | Buddy Bean Lumber.
|  |  | Burgin Lumber Co Ltd.
|  |  | Burt Lumber Company.
|  |  | C&D Lumber Co.
|  |  | Ceda-Pine Veneer.
|  |  | Cersosimo Lumber Co Inc.
|  |  | Charles Ingram Lumber Co Inc.
|  |  | Charleston Heart Pine.
|  |  | Chesterfield Lumber.
|  |  | Chips.
|  |  | Chocorua Valley Lumber Co.
|  |  | Claude Howard Lumber.
|  |  | Clearwater Forest Industries.
|  |  | CLW Inc.
|  |  | CM Tucker Lumber Corp
|  |  | Coalition for Fair Lumber Imports Executive Committee.
|  |  | Cody Lumber Co.
|  |  | Collins Pine Co.
|  |  | Collums Lumber.
|  |  | Columbus Lumber Co.
|  |  | Contoocook River Lumber.
|  |  | Conway Guiteau Lumber.
|  |  | Cornwright Lumber Co.
|  |  | Crown Pacific.
|  |  | Daniels Lumber Inc.
|  |  | Dean Lumber Co Inc.
|  |  | Deltic Timber Corporation.
|  |  | Devils Tower Forest Products.
|  |  | DiPrizio Pine Sales.
|  |  | Dorchester Lumber Co.
|  |  | DR Johnson Lumber.
|  |  | East Brainerd Lumber Co.
|  |  | East Coast Lumber Company.
|  |  | Eas-Tex Lumber.
|  |  | ECK Wood Products.
|  |  | Ellingson Lumber Co.
|  |  | Elliott Sawmilling.
|  |  | Empire Lumber Co.
|  |  | Evergreen Forest Products.
|  |  | Excalibur Shelving Systems Inc.
|  |  | Exley Lumber Co.
|  |  | FH Stoltze Land & Lumber Co.
|  |  | FL Turlington Lbr Co Inc.
|  |  | Fleming Lumber.
|  |  | Flippo Lumber.
|  |  | Floragen Forest Products.
|  |  | Frank Lumber Co.
|  |  | Franklin Timber Co.
|  |  | Fred Tebb & Sons.
|  |  | Fremont Sawmill.
|  |  | Frontier Resources.
|  |  | Garrison Brothers Lumber Co. and Subsidiaries.
|  |  | Georgia Lumber.
|  |  | Gilman Building Products.
|  |  | Godfrey Lumber.
|  |  | Granite State Forest Prod Inc.
|  |  | Great Western Lumber Co.
|  |  | Greenville Molding Inc.
|  |  | Griffin Lumber Company.
|  |  | Guess Brothers Lumber.
|  |  | Gulf Lumber.
|  |  | Gulf States Paper.
|  |  | Guy Bennett Lumber.
|  |  | Hampton Resources.
|  |  | Hancock Lumber.
|  |  | Hankins Inc.
|  |  | Hankins Lumber Co.
|  |  | Harrigan Lumber.
|  |  | Harwood Products.
|  |  | Haskell Lumber Inc.
|  |  | Hatfield Lumber.
|  |  | Hedstrom Lumber.
|  |  | Herrick Millwork Inc.
|  |  | HG Toler & Son Lumber Co Inc.
|  |  | HG Wood Industries LLC.
|  |  | Hogan & Storey Wood Prod.
|  |  | Hogan Lumber Co.
|  |  | Hood Industries.
|  |  | HS Hofler & Sons Lumber Co Inc.
|  |  | Hubbard Forest Ind Inc.
|  |  | HW Culp Lumber Co.
|  |  | Idaho Veneer Co.
|  |  | Industrial Wood Products.
|  |  | Intermountain Res LLC.
|  |  | International Paper.
|  |  | J Franklin Jones Lumber Co Inc.
|  |  | Jack Batte & Sons Inc.
|  |  | Jasper Lumber Company.
|  |  | JD Martin Lumber Co.
|  |  | JE Jones Lumber Co.
|  |  | Jerry G Williams & Sons.
|  |  | JH Knighton Lumber Co.
|  |  | Johnson Lumber Company.
|  |  | Jordan Lumber & Supply.
|  |  | Joseph Timber Co.
|  |  | JP Haynes Lbr Co Inc.
|  |  | JV Wells Inc.
|  |  | JW Jones Lumber.
|  |  | Keadle Lumber Enterprises.
|  |  | Keller Lumber.
|  |  | King Lumber Co.
|  |  | Konkolville Lumber.
|  |  | Langdale Forest Products.
|  |  | Laurel Lumber Company.
|  |  | Leavitt Lumber Co.
|  |  | Leesville Lumber Co.
|  |  | Limington Lumber Co.
|  |  | Longview Fibre Co.
|  |  | Lovell Lumber Co Inc.
|  |  | M Kendall Lumber Co.
|  |  | Manke Lumber Co.
|  |  | Marriner Lumber Co.
|  |  | Mason Lumber.
|  |  | MB Heath & Sons Lumber Co.
|  |  | MC Dixon Lumber Co Inc.
|  |  | Mebane Lumber Co Inc.
|  |  | Metcalf Lumber Co Inc.
|  |  | Millry Mill Co Inc.
|  |  | Moose Creek Lumber Co.
|  |  | Moose River Lumber.
|  |  | Morgan Lumber Co Inc.
|  |  | Mount Yonah Lumber Co.
|  |  | Nagel Lumber.
|  |  | New Kearsarge Corp.
|  |  | New South.
|  |  | Nicolet Hardwoods.
|  |  | Nieman Sawmills SD.
|  |  | Nieman Sawmills WY.
|  |  | North Florida.
|  |  | Northern Lights Timber & Lumber.
|  |  | Northern Neck Lumber Co.
|  |  | Ochoco Lumber Co.
|  |  | Olon Belcher Lumber Co.
|  |  | Owens and Hurst Lumber.
|  |  | Packaging Corp of America.
|  |  | Page & Hill Forest Products.
|  |  | Paper, Allied-Industrial, Chemical and Energy Workers International Union.
|  |  | Parker Lumber.
|  |  | Pate Lumber Co Inc.
|  |  | PBS Lumber.
|  |  | Pedigo Lumber Co.
|  |  | Piedmont Hardwood Lumber Co.
|  |  | Pine River Lumber Co.
|  |  | Pinecrest Lumber Co.
|  |  | Pleasant River Lumber Co.
|  |  | Pleasant Western Lumber Inc.
|  |  | Plum Creek Timber.
|  |  | Pollard Lumber.
|  |  | Portac.
|  |  | Potlatch.
|  |  | Potomac Supply.
|  |  | Precision Lumber Inc.
|  |  | Pruitt Lumber Inc.
|  |  | R. Leon Williams Lumber Co.
|  |  | RA Yancey Lumber.
|  |  | Rajala Timber Co.
|  |  | Ralph Hamel Forest Products.
|  |  | Randy D. Miller Lumber.
|  |  | Rappahannock Lumber Co.
|  |  | Regulus Stud Mills Inc.
|  |  | Riley Creek Lumber.
|  |  | Roanoke Lumber Co.
|  |  | Robbins Lumber.
|  |  | Robertson Lumber.
|  |  | Roseburg Forest Products Co.
|  |  | Rough & Ready.
|  |  | RSG Forest Products.
|  |  | Rushmore Forest Products.
|  |  | RY Timber Inc.
|  |  | Sam Mabry Lumber Co.
|  |  | Scotch Lumber.
|  |  | SDS Lumber Co.
|  |  | Seacoast Mills Inc.
|  |  | Seago Lumber.
|  |  | Seattle-Snohomish.
|  |  | Seneca Sawmill.
|  |  | Shaver Wood Products.
|  |  | Shearer Lumber Products.
|  |  | Shuqualak Lumber.
|  |  | SI Storey Lumber.
|  |  | Sierra Forest Products.
|  |  | Sierra Pacific Industries.
|  |  | Sigfridson Wood Products.
|  |  | Silver City Lumber Inc.
|  |  | Somers Lbr & Mfg Inc.
|  |  | South & Jones.
|  |  | South Coast.
|  |  | Southern Forest Industries Inc.
|  |  | Southern Lumber.
|  |  | St Laurent Forest Products.
|  |  | Starfire Lumber Co.
|  |  | Steely Lumber Co Inc.
|  |  | Stimson Lumber.
|  |  | Summit Timber Co.
|  |  | Sundance Lumber.
|  |  | Superior Lumber.
|  |  | Swanson Superior Forest Products Inc.
|  |  | Swift Lumber.
|  |  | Tamarack Mill.
|  |  | Taylor Lumber & Treating Inc.
|  |  | Temple-Inland Forest Products.
|  |  | Thompson River Lumber.
|  |  | Three Rivers Timber.
|  |  | Thrift Brothers Lumber Co Inc.
|  |  | Timco Inc.
|  |  | Tolleson Lumber.
|  |  | Toney Lumber.
|  |  | TR Miller Mill Co.
|  |  | Tradewinds of Virginia Ltd.
|  |  | Travis Lumber Co.
|  |  | Tree Source Industries Inc.
|  |  | Tri-State Lumber.
|  |  | TTT Studs.
|  |  | United Brotherhood of Carpenters and Joiners.
|  |  | Viking Lumber Co.
|  |  | VP Kiser Lumber Co.
|  |  | Walton Lumber Co Inc.
|  |  | Warm Springs Forest Products.
|  |  | Westvaco Corp.
|  |  | Wilkins, Kaiser & Olsen Inc.
|  |  | WM Shepherd Lumber Co.
|  |  | WR Robinson Lumber Co Inc.
|  |  | Wrenn Brothers Inc.
|  |  | Wyoming Sawmills.
|  |  | Yakama Forest Products.
|  |  | Younce & Ralph Lumber Co Inc.
|  |  | Zip-O-Log Mills Inc.
C-122-841 | 701-TA-418 | Carbon and Certain Alloy Steel Wire Rod/Canada | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel—Nebraska (a division of Nucor Corp).
|  |  | Republic Technologies International.
|  |  | Rocky Mountain Steel Mills.
C-122-848 | 701-TA-430B | Hard Red Spring Wheat/Canada | North Dakota Wheat Commission.
C-201-505 | 701-TA-265 | Porcelain-on-Steel Cooking Ware/Mexico | General Housewares.
C-201-810 | 701-TA-325 | Cut-to-Length Carbon Steel Plate/Mexico | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
C-307-804 | 303-TA-21 | Gray Portland Cement and Clinker/Venezuela | Florida Crushed Stone. Southdown.
|  |  | Tarmac America.
C-307-808 | 303-TA-23 | Ferrosilicon/Venezuela | AIMCOR. Alabama Silicon.
|  |  | American Alloys.
|  |  | Globe Metallurgical.
|  |  | Oil, Chemical and Atomic Workers (Local 389).
|  |  | Silicon Metaltech.
|  |  | United Autoworkers of America (Local 523).
|  |  | United Steelworkers of America (Locals 2528, 3081, 5171 and 12646).
C-333-401 | 701-TA-E | Cotton Shop Towels/Peru | No case at the Commission; Commerce service list identifies: Durafab.
|  |  | Kleen-Tex Industries.
|  |  | Lewis Eckert Robb.
|  |  | Milliken.
|  |  | Pavis & Harcourt.
C-351-037 | 104-TAA-21 | Cotton Yarn/Brazil | American Yarn Spinners Association. Harriet & Henderson Yarns.
|  |  | LaFar Industries.
C-351-504 | 701-TA-249 | Heavy Iron Construction Castings/Brazil | Alhambra Foundry. Allegheny Foundry.
|  |  | Bingham & Taylor.
|  |  | Campbell Foundry.
|  |  | Charlotte Pipe & Foundry.
|  |  | Deeter Foundry.
|  |  | East Jordan Foundry.
|  |  | Le Baron Foundry.
|  |  | Municipal Castings.
|  |  | Neenah Foundry.
|  |  | Opelika Foundry.
|  |  | Pinkerton Foundry.
|  |  | Tyler Pipe.
|  |  | US Foundry & Manufacturing.
|  |  | Vulcan Foundry.
C-351-604 | 701-TA-269 | Brass Sheet and Strip/Brazil | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
C-351-818 | 701-TA-320 | Cut-to-Length Carbon Steel Plate/Brazil | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
C-351-829 | 701-TA-384 | Hot-Rolled Carbon Steel Flat Products/Brazil | Acme Steel. Bethlehem Steel.
|  |  | California Steel Industries.
|  |  | Gallatin Steel.
|  |  | Geneva Steel.
|  |  | Gulf States Steel.
|  |  | Independent Steelworkers.
|  |  | IPSCO.
|  |  | Ispat/Inland.
|  |  | LTV Steel.
|  |  | National Steel.
|  |  | Nucor.
|  |  | Rouge Steel Co.
|  |  | Steel Dynamics.
|  |  | US Steel.
|  |  | United Steelworkers of America.
|  |  | WCI Steel.
|  |  | Weirton Steel.
|  |  | Wheeling-Pittsburgh Steel Corp.
C-351-833 | 701-TA-417 | Carbon and Certain Alloy Steel Wire Rod/Brazil | AmeriSteel. Birmingham Steel.
|  |  | Cascade Steel Rolling Mills.
|  |  | Connecticut Steel Corp.
|  |  | Co-Steel Raritan.
|  |  | GS Industries.
|  |  | Keystone Consolidated Industries.
|  |  | North Star Steel Texas.
|  |  | Nucor Steel—Nebraska (a division of Nucor Corp).
|  |  | Republic Technologies International.
|  |  | Rocky Mountain Steel Mills.
C-357-004 | 701-TA-A | Carbon Steel Wire Rod/Argentina | Atlantic Steel. Continental Steel.
|  |  | Georgetown Steel.
|  |  | North Star Steel.
|  |  | Raritan River Steel.
C-357-813 | 701-TA-402 | Honey/Argentina | AH Meyer & Sons. Adee Honey Farms.
|  |  | Althoff Apiaries.
|  |  | American Beekeeping Federation.
|  |  | American Honey Producers Association.
|  |  | Anderson Apiaries.
|  |  | Arroyo Apiaries.
|  |  | Artesian Honey Producers.
|  |  | B Weaver Apiaries.
|  |  | Bailey Enterprises.
|  |  | Barkman Honey.
|  |  | Basler Honey Apiary.
|  |  | Beals Honey.
|  |  | Bears Paw Apiaries.
|  |  | Beaverhead Honey.
|  |  | Bee Biz.
|  |  | Bee Haven Honey.
|  |  | Belliston Brothers Apiaries.
|  |  | Big Sky Honey.
|  |  | Bill Rhodes Honey.
|  |  | Richard E Blake.
|  |  | Curt Bronnenberg.
|  |  | Brown's Honey Farms.
|  |  | Brumley's Bees.
|  |  | Buhmann Apiaries.
|  |  | Carys Honey Farms.
|  |  | Chaparrel Honey.
|  |  | Charles Apiaries.
|  |  | Mitchell Charles.
|  |  | Collins Honey.
|  |  | Conor Apiaries.
|  |  | Coy's Honey Farm.
|  |  | Dave Nelson Apiaries.
|  |  | Delta Bee.
|  |  | Eisele's Pollination & Honey.
|  |  | Ellingsoa's.
|  |  | Elliott Curtis & Sons.
|  |  | Charles L Emmons Sr.
|  |  | Gause Honey.
|  |  | Gene Brandi Apiaries.
|  |  | Griffith Honey.
|  |  | Haff Apiaries.
|  |  | Hamilton Bee Farms.
|  |  | Hamilton Honey.
|  |  | Happie Bee.
|  |  | Harvest Honey.
|  |  | Harvey's Honey.
|  |  | Hiatt Honey.
|  |  | Hoffman Honey.
|  |  | Hollman Apiaries.
|  |  | Honey House.
|  |  | Honeybee Apiaries.
|  |  | Gary M Honl.
|  |  | Rand William Honl and Sydney Jo Honl.
|  |  | James R & Joann Smith Trust.
|  |  | Jaynes Bee Products.
|  |  | Johnston Honey Farms.
|  |  | Larry Johnston.
|  |  | Ke-An Honey.
|  |  | Kent Honeybees.
|  |  | Lake-Indianhead Honey Farms.
|  |  | Lamb's Honey Farm.
|  |  | Las Flores Apiaries.
|  |  | Mackrill Honey Farms & Sales.
|  |  | Raymond Marquette.
|  |  | Mason & Sons Honey.
|  |  | McCoy's Sunny South Apiaries.
|  |  | Merrimack Valley Apiaries & Evergreen Honey.
|  |  | Met 2 Honey Farm.
|  |  | Missouri River Honey.
|  |  | Mitchell Brothers Honey.
|  |  | Monda Honey Farm.
|  |  | Montana Dakota Honey.
|  |  | Northern Bloom Honey.
|  |  | Noye's Apiaries.
|  |  | Oakes Honey.
|  |  | Oakley Honey Farms.
|  |  | Old Mill Apiaries.
|  |  | Opp Honey.
|  |  | Oro Dulce.
|  |  | Peterson's “Naturally Sweet” Honey.
|  |  | Potoczak Bee Farms.
|  |  | Price Apiaries.
|  |  | Pure Sweet Honey Farms.
|  |  | Robertson Pollination Service.
|  |  | Robson Honey.
|  |  | William Robson.
|  |  | Rosedale Apiaries.
|  |  | Ryan Apiaries.
|  |  | Schmidt Honey Farms.
|  |  | Simpson Apiaries.
|  |  | Sioux Honey Association.
|  |  | Smoot Honey.
|  |  | Solby Honey.
|  |  | Stahlman Apiaries.
|  |  | Steve E Parks Apiaries.
|  |  | Stroope Bee & Honey.
|  |  | T&D Honey Bee.
|  |  | Talbott's Honey.
|  |  | Terry Apiaries.
|  |  | Thompson Apiaries.
|  |  | Triple A Farm.
|  |  | Tropical Blossom Honey.
|  |  | Tubbs Apiaries.
|  |  | Venable Wholesale.
|  |  | Walter L Wilson Buzz 76 Apiaries.
|  |  | Wiebersiek Honey Farms.
|  |  | Wilmer Farms.
|  |  | Brent J Woodworth.
|  |  | Wooten's Golden Queens.
|  |  | Yaddof Apiaries.
C-357-815 | 701-TA-404 | Hot-Rolled Steel Products/Argentina | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
C-401-401 | 701-TA-231 | Cold-Rolled Carbon Steel Flat Products/Sweden | Bethlehem Steel. Chaparral.
|  |  | US Steel.
C-401-804 | 701-TA-327 | Cut-to-Length Carbon Steel Plate/Sweden | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel
|  |  | Thompson Steel.
|  |  | US Steel.
|  |  | United Steelworkers of America.
C-403-802 | 701-TA-302 | Fresh and Chilled Atlantic Salmon/Norway | Heritage Salmon. The Coalition for Fair Atlantic Salmon Trade.
C-408-046 | 104-TAA-7 | Sugar/EU | No petition at the Commission; Commerce service list identifies: AJ Yates.
|  |  | Alexander & Baldwin.
|  |  | American Farm Bureau Federation.
|  |  | American Sugar Cane League.
|  |  | American Sugarbeet Growers Association.
|  |  | Amstar Sugar.
|  |  | Florida Sugar Cane League.
|  |  | Florida Sugar Marketing and Terminal Association.
|  |  | H&R Brokerage.
|  |  | Hawaiian Agricultural Research Center.
|  |  | Leach Farms.
|  |  | Michigan Farm Bureau.
|  |  | Michigan Sugar.
|  |  | Rio Grande Valley Sugar Growers Association.
|  |  | Sugar Cane Growers Cooperative of Florida.
|  |  | Talisman Sugar.
|  |  | US Beet Sugar Association.
|  |  | United States Beet Sugar Association.
|  |  | United States Cane Sugar Refiners' Association.
C-412-815 | 701-TA-328 | Cut-to-Length Carbon Steel Plate/United Kingdom | Bethlehem Steel. California Steel Industries.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
C-412-821 | 701-TA-412 | Low Enriched Uranium/United Kingdom | United States Enrichment Corp. USEC Inc.
C-421-601 | 701-TA-278 | Fresh Cut Flowers/Netherlands | Burdette Coward. California Floral Council.
|  |  | Floral Trade Council.
|  |  | Florida Flower Association.
|  |  | Gold Coast Uanko Nursery.
|  |  | Hollandia Wholesale Florist.
|  |  | Manatee Fruit.
|  |  | Monterey Flower Farms.
|  |  | Topstar Nursery.
C-421-809 | 701-TA-411 | Low Enriched Uranium/Netherlands | United States Enrichment Corp. USEC Inc.
C-423-806 | 701-TA-319 | Cut-to-Length Carbon Steel Plate/Belgium | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
C-423-809 | 701-TA-376 | Stainless Steel Plate in Coils/Belgium | Allegheny Ludlum. Armco Steel.
|  |  | Lukens Steel.
|  |  | North American Stainless.
|  |  | United Steelworkers of America.
C-427-603 | 701-TA-270 | Brass Sheet and Strip/France | Allied Industrial Workers of America. American Brass.
|  |  | Bridgeport Brass.
|  |  | Chase Brass & Copper.
|  |  | Hussey Copper.
|  |  | International Association of Machinists & Aerospace Workers.
|  |  | Mechanics Educational Society of America (Local 56).
|  |  | The Miller Company.
|  |  | Olin.
|  |  | Revere Copper Products.
|  |  | United Steelworkers of America.
C-427-805 | 701-TA-315 | Hot-Rolled Lead and Bismuth Carbon Steel Products/France | Bethlehem Steel. Inland Steel Industries.
|  |  | USS/Kobe Steel.
C-427-810 | 701-TA-348 | Corrosion-Resistant Carbon Steel Flat Products/France | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
C-427-815 | 701-TA-380 | Stainless Steel Sheet and Strip/France | Allegheny Ludlum. Armco Steel.
|  |  | Bethlehem Steel.
|  |  | Butler Armco Independent Union.
|  |  | Carpenter Technology Corp.
|  |  | North American Stainless.
|  |  | United Steelworkers of America.
|  |  | Zanesville Armco Independent Organization.
C-427-817 | 701-TA-387 | Cut-to-Length Carbon Steel Plate/France | Bethlehem Steel. Geneva Steel.
|  |  | IPSCO Steel.
|  |  | National Steel.
|  |  | US Steel.
|  |  | United Steelworkers of America.
C-427-819 | 701-TA-409 | Low Enriched Uranium/France | United States Enrichment Corp. USEC Inc.
C-428-817 | 701-TA-340 | Cold-Rolled Carbon Steel Flat Products/Germany | Armco Steel. Bethlehem Steel.
|  |  | California Steel Industries.
|  |  | Gulf States Steel.
|  |  | Inland Steel Industries.
|  |  | LTV Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
C-428-817 | 701-TA-349 | Corrosion-Resistant Carbon Steel Flat Products/Germany | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
C-428-817 | 701-TA-322 | Cut-to-Length Carbon Steel Plate/Germany | Bethlehem Steel. California Steel Industries.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
C-428-829 | 701-TA-410 | Low Enriched Uranium/Germany | United States Enrichment Corp. USEC Inc.
C-437-805 | 701-TA-426 | Sulfanilic Acid/Hungary | Nation Ford Chemical.
C-469-004 | 701-TA-178 | Stainless Steel Wire Rod/Spain | AL Tech Specialty Steel. Armco Steel.
|  |  | Carpenter Technology.
|  |  | Colt Industries.
|  |  | Cyclops.
|  |  | Guterl Special Steel.
|  |  | Joslyn Stainless Steels.
|  |  | Republic Steel.
C-469-804 | 701-TA-326 | Cut-to-Length Carbon Steel Plate/Spain | Bethlehem Steel. California Steel Industries.
|  |  | CitiSteel USA Inc.
|  |  | Geneva Steel.
|  |  | Gulf States Steel.
|  |  | Inland Steel Industries.
|  |  | Lukens Steel.
|  |  | National Steel.
|  |  | Nextech.
|  |  | Sharon Steel.
|  |  | Theis Precision Steel.
|  |  | Thompson Steel.
|  |  | US Steel.
|  |  | United Steelworkers of America.
C-475-812 | 701-TA-355 | Grain-Oriented Silicon Electrical Steel/Italy | Allegheny Ludlum. Armco Steel.
|  |  | Butler Armco Independent Union.
|  |  | United Steelworkers of America.
|  |  | Zanesville Armco Independent Union.
C-475-815 | 701-TA-362 | Seamless Pipe/Italy | Koppel Steel. Quanex.
|  |  | Timken.
|  |  | United States Steel.
C-475-817 | 701-TA-364 | Oil Country Tubular Goods/Italy | IPSCO. Koppel Steel.
|  |  | Lone Star Steel
|  |  | Maverick Tube.
|  |  | Newport Steel.
|  |  | North Star Steel.
|  |  | US Steel.
|  |  | USS/Kobe.
C-475-819 | 701-TA-365 | Pasta/Italy | A Zerega's Sons. American Italian Pasta.
|  |  | Borden.
|  |  | D Merlino & Sons.
|  |  | Dakota Growers Pasta.
|  |  | Foulds.
|  |  | Gilster-Mary Lee.
|  |  | Gooch Foods.
|  |  | Hershey Foods.
|  |  | LaRinascente Macaroni Co.
|  |  | Pasta USA.
|  |  | Philadelphia Macaroni.
|  |  | ST Specialty Foods.
C-475-821 | 701-TA-373 | Stainless Steel Wire Rod/Italy | AL Tech Specialty Steel. Carpenter Technology.
|  |  | Republic Engineered Steels.
|  |  | Talley Metals Technology.
|  |  | United Steelworkers of America.
C-475-823 | 701-TA-377 | Stainless Steel Plate in Coils/Italy | Allegheny Ludlum. Armco Steel.
|  |  | J&L Specialty Steel.
|  |  | Lukens Steel.
|  |  | North American Stainless.
|  |  | United Steelworkers of America.
C-475-825 | 701-TA-381 | Stainless Steel Sheet and Strip/Italy | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
C-475-827 | 701-TA-390 | Cut-to-Length Carbon Steel Plate/Italy | Bethlehem Steel. CitiSteel USA Inc.
|  |  | Geneva Steel.
|  |  | Gulf States Steel.
|  |  | IPSCO Steel.
|  |  | National Steel.
|  |  | US Steel.
|  |  | United Steelworkers of America.
C-475-830 | 701-TA-413 | Stainless Steel Bar/Italy | Carpenter Technology. Crucible Specialty Metals.
|  |  | Electralloy.
|  |  | Empire Specialty Steel.
|  |  | Republic Technologies International.
|  |  | Slater Steels.
|  |  | United Steelworkers of America.
C-489-502 | 701-TA-253 | Welded Carbon Steel Pipe and Tube/Turkey | Allied Tube & Conduit. American Tube.
|  |  | Bernard Epps.
|  |  | Bock Industries.
|  |  | Bull Moose Tube.
|  |  | Central Steel Tube.
|  |  | Century Tube.
|  |  | Copperweld Tubing.
|  |  | Cyclops.
|  |  | Hughes Steel & Tube.
|  |  | Kaiser Steel.
|  |  | Laclede Steel.
|  |  | Maruichi American.
|  |  | Maverick Tube.
|  |  | Merchant Metals.
|  |  | Phoenix Steel.
|  |  | Pittsburgh Tube.
|  |  | Quanex.
|  |  | Sharon Tube.
|  |  | Southwestern Pipe.
|  |  | UNR-Leavitt.
|  |  | Welded Tube.
|  |  | Western Tube & Conduit.
|  |  | Wheatland Tube.
C-489-806 | 701-TA-366 | Pasta/Turkey | A Zerega's Sons. American Italian Pasta.
|  |  | Borden.
|  |  | D Merlino & Sons.
|  |  | Dakota Growers Pasta.
|  |  | Foulds.
|  |  | Gilster-Mary Lee.
|  |  | Gooch Foods.
|  |  | Hershey Foods.
|  |  | LaRinascente Macaroni Co.
|  |  | Pasta USA.
|  |  | Philadelphia Macaroni.
|  |  | ST Specialty Foods.
C-507-501 | N/A | Raw In-Shell Pistachios/Iran | Blackwell Land Co. Cal Pure Pistachios Inc.
|  |  | California Pistachio Commission.
|  |  | California Pistachio Orchards.
|  |  | Keenan Farms Inc.
|  |  | Kern Pistachio Hulling & Drying Co-Op.
|  |  | Los Rancheros de Poco Pedro.
|  |  | Pistachio Producers of California.
|  |  | TM Duche Nut Co Inc.
C-507-601 | N/A | Roasted In-Shell Pistachios/Iran | Cal Pure Pistachios Inc. California Pistachio Commission.
|  |  | Keenan Farms Inc.
|  |  | Kern Pistachio Hulling & Drying Co-Op.
|  |  | Pistachio Producers of California.
|  |  | TM Duche Nut Co Inc.
C-508-605 | 701-TA-286 | Industrial Phosphoric Acid/Israel. | Albright & Wilson. FMC.
|  |  | Hydrite Chemical.
|  |  | Monsanto.
|  |  | Stauffer Chemical.
C-533-063 | 303-TA-13 | Iron Metal Castings/India | Campbell Foundry. Le Baron Foundry.
|  |  | Municipal Castings.
|  |  | Neenah Foundry.
|  |  | Pinkerton Foundry.
|  |  | US Foundry & Manufacturing.
|  |  | Vulcan Foundry.
C-533-807 | 701-TA-318 | Sulfanilic Acid/India | R-M Industries.
C-533-818 | 701-TA-388 | Cut-to-Length Carbon Steel Plate/India | Bethlehem Steel. CitiSteel USA Inc.
|  |  | Geneva Steel.
|  |  | Gulf States Steel.
|  |  | IPSCO Steel.
|  |  | National Steel.
|  |  | Tuscaloosa Steel.
|  |  | US Steel.
|  |  | United Steelworkers of America.
C-533-821 | 701-TA-405 | Hot-Rolled Steel Products/India | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
C-533-825 | 701-TA-415 | Polyethylene Terephthalate Film, Sheet and Strip (PET Film)/India | DuPont Teijin Films. Mitsubishi Polyester Film LLC. SKC America Inc.
|  |  | Toray Plastics (America).
C-533-829 | 701-TA-432 | Prestressed Concrete Steel Wire Strand/India | American Spring Wire Corp. Insteel Wire Products Co.
|  |  | Sivaco Georgia LLC.
|  |  | Strand Tech Martin Inc.
|  |  | Sumiden Wire Products Corp.
C-533-839 | 701-TA-437 | Carbazole Violet Pigment 23/India | Allegheny Color Corp. Barker Fine Color Inc.
|  |  | Clariant Corp.
|  |  | Nation Ford Chemical Co.
|  |  | Sun Chemical Co.
C-533-844 | 701-TA-442 | Certain Lined Paper School Supplies/India | Fay Paper Products Inc. MeadWestvaco Consumer & Office Products.
|  |  | Norcom Inc.
|  |  | Pacon Corp.
|  |  | Roaring Spring Blank Book Co.
|  |  | Top Flight Inc.
|  |  | United Steel, Paper and Forestry, Rubber, Manufacturing, Energy, Allied Industrial and Service Workers International Union, AFL-CIO-CLC (USW).
C-535-001 | 701-TA-202 | Cotton Shop Towels/Pakistan | Milliken.
C-549-818 | 701-TA-408 | Hot-Rolled Steel Products/Thailand | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
C-560-806 | 701-TA-389 | Cut-to-Length Carbon Steel Plate/Indonesia | Bethlehem Steel. CitiSteel USA Inc.
|  |  | Geneva Steel.
|  |  | Gulf States Steel.
|  |  | IPSCO Steel.
|  |  | National Steel.
|  |  | Tuscaloosa Steel.
|  |  | US Steel.
|  |  | United Steelworkers of America.
C-560-813 | 701-TA-406 | Hot-Rolled Steel Products/Indonesia | Bethlehem Steel Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
C-560-819 | 701-TA-443 | Certain Lined Paper School Supplies/Indonesia | Fay Paper Products Inc. MeadWestvaco Consumer & Office Products.
|  |  | Norcom Inc.
|  |  | Pacon Corp.
|  |  | Roaring Spring Blank Book Co.
|  |  | Top Flight Inc.
|  |  | United Steel, Paper and Forestry, Rubber, Manufacturing, Energy, Allied Industrial and Service Workers International Union, AFL-CIO-CLC (USW).
C-580-602 | 701-TA-267 | Top-of-the-Stove Stainless Steel Cooking Ware/Korea | Farberware. Regal Ware.
|  |  | Revere Copper & Brass.
|  |  | WearEver/Proctor Silex.
C-580-818 | 701-TA-342 | Cold-Rolled Carbon Steel Flat Products/Korea | Armco Steel. Bethlehem Steel.
|  |  | California Steel Industries.
|  |  | Gulf States Steel.
|  |  | Inland Steel Industries.
|  |  | LTV Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
C-580-818 | 701-TA-350 | Corrosion-Resistant Carbon Steel Flat Products/ Korea | Armco Steel. Bethlehem Steel.
|  |  | California Steel Industries.
|  |  | Geneva Steel.
|  |  | Gulf States Steel.
|  |  | Inland Steel Industries.
|  |  | LTV Steel.
|  |  | Lukens Steel.
|  |  | National Steel.
|  |  | Nextech.
|  |  | Rouge Steel Co.
|  |  | Sharon Steel.
|  |  | Theis Precision Steel.
|  |  | Thompson Steel.
|  |  | US Steel.
|  |  | United Steelworkers of America.
|  |  | WCI Steel.
|  |  | Weirton Steel.
C-580-835 | 701-TA-382 | Stainless Steel Sheet and Strip/Korea | Allegheny Ludlum. Armco Steel.
|  |  | Bethlehem Steel.
|  |  | Butler Armco Independent Union.
|  |  | Carpenter Technology Corp.
|  |  | J&L Specialty Steel.
|  |  | North American Stainless.
|  |  | United Steelworkers of America.
|  |  | Zanesville Armco Independent Organization.
C-580-837 | 701-TA-391 | Cut-to-Length Carbon Steel Plate/Korea | Bethlehem Steel. CitiSteel USA Inc.
|  |  | Geneva Steel.
|  |  | Gulf States Steel.
|  |  | IPSCO Steel.
|  |  | National Steel.
|  |  | Tuscaloosa Steel.
|  |  | US Steel.
|  |  | United Steelworkers of America.
C-580-842 | 701-TA-401 | Structural Steel Beams/Korea | Northwestern Steel and Wire. Nucor.
|  |  | Nucor-Yamato Steel.
|  |  | TXI-Chaparral Steel.
|  |  | United Steelworkers of America.
C-580-851 | 701-TA-431 | DRAMs and DRAM Modules/Korea | Dominion Semiconductor LLC/Micron Technology Inc. Infineon Technologies Richmond LP.
|  |  | Micron Technology Inc.
C-583-604 | 701-TA-268 | Top-of-the-Stove Stainless Steel Cooking Ware/Taiwan | Farberware. Regal Ware.
|  |  | Revere Copper & Brass.
|  |  | WearEver/Proctor Silex.
C-791-806 | 701-TA-379 | Stainless Steel Plate in Coils/South Africa | Allegheny Ludlum. Armco Steel.
|  |  | J&L Specialty Steel.
|  |  | Lukens Steel.
|  |  | North American Stainless.
|  |  | United Steelworkers of America.
C-791-810 | 701-TA-407 | Hot-Rolled Steel Products/South Africa | Bethlehem Steel. Gallatin Steel.
|  |  | Independent Steelworkers.
|  |  | IPSCO.
|  |  | LTV Steel.
|  |  | National Steel.
|  |  | Nucor.
|  |  | Rouge Steel Co.
|  |  | Steel Dynamics.
|  |  | US Steel.
|  |  | United Steelworkers of America.
|  |  | WCI Steel Inc.
|  |  | Weirton Steel.
|  |  | Wheeling-Pittsburgh Steel Corp.
A-331-802 | 731-TA-1065 | Certain Frozen Warmwater Shrimp and Prawns/Ecuador | Petitioners/Supporters for all six cases listed: Abadie, Al J.
A-351-838 | 731-TA-1063 | Certain Frozen Warmwater Shrimp and Prawns/Brazil | Abadie, Anthony. Abner, Charles.
A-533-840 | 731-TA-1066 | Certain Frozen Warmwater Shrimp and Prawns/ India | Abraham, Steven. Abshire, Gabriel J.
A-549-822 | 731-TA-1067 | Certain Frozen Warmwater Shrimp and Prawns/ Thailand | Ackerman, Dale J. Acosta, Darryl L.
A-552-802 | 731-TA-1068 | Certain Frozen Warmwater Shrimp and Prawns/Vietnam | Acosta, Jerry J Sr. Acosta, Leonard C.
A-570-893 | 731-TA-1064 | Certain Frozen Warmwater Shrimp and Prawns/China | Acosta, Wilson Pula Sr. Adam, Denise T.
|  |  | Adam, Michael A.
|  |  | Adam, Richard B Jr.
|  |  | Adam, Sherry P.
|  |  | Adam, William E.
|  |  | Adam, Alcide J Jr.
|  |  | Adams, Dudley.
|  |  | Adams, Elizabeth L.
|  |  | Adams, Ervin.
|  |  | Adams, Ervin.
|  |  | Adams, George E.
|  |  | Adams, Hursy J.
|  |  | Adams, James Arthur.
|  |  | Adams, Kelly
|  |  | Adams, Lawrence J Jr.
|  |  | Adams, Randy.
|  |  | Adams, Ritchie.
|  |  | Adams, Steven A.
|  |  | Adams, Ted J.
|  |  | Adams, Tim.
|  |  | Adams, Whitney P Jr.
|  |  | Agoff, Ralph J.
|  |  | Aguilar, Rikardo.
|  |  | Aguillard, Roddy G.
|  |  | Alario, Don Ray.
|  |  | Alario, Nat.
|  |  | Alario, Pete J.
|  |  | Alario, Timmy
|  |  | Albert, Craig J.
|  |  | Albert, Junior J.
|  |  | Alexander, Everett O.
|  |  | Alexander, Robert F Jr.
|  |  | Alexie, Benny J.
|  |  | Alexie, Corkey A.
|  |  | Alexie, Dolphy.
|  |  | Alexie, Felix Jr.
|  |  | Alexie, Gwendolyn.
|  |  | Alexie, John J.
|  |  | Alexie, John V.
|  |  | Alexie, Larry J Sr.
|  |  | Alexie, Larry Jr.
|  |  | Alexie, Vincent L Jr.
|  |  | Alexis, Barry S.
|  |  | Alexis, Craig W.
|  |  | Alexis, Micheal.
|  |  | Alexis, Monique.
|  |  | Alfonso, Anthony E Jr.
|  |  | Alfonso, Jesse.
|  |  | Alfonso, Nicholas.
|  |  | Alfonso, Paul Anthony.
|  |  | Alfonso, Randy.
|  |  | Alfonso, Terry S Jr.
|  |  | Alfonso, Vernon Jr.
|  |  | Alfonso, Yvette
|  |  | Alimia, Angelo A Jr.
|  |  | Allemand, Dean J.
|  |  | Allen, Annie.
|  |  | Allen, Carolyn Sue.
|  |  | Allen, Jackie.
|  |  | Allen, Robin
|  |  | Allen, Wayne.
|  |  | Allen, Wilbur L.
|  |  | Allen, Willie J III.
|  |  | Allen, Willie Sr.
|  |  | Alphonso, John
|  |  | Ancalade, Leo J.
|  |  | Ancar, Claudene.
|  |  | Ancar, Jerry T.
|  |  | Ancar, Joe C.
|  |  | Ancar, Merlin Sr.
|  |  | Ancar, William Sr.
|  |  | Ancelet, Gerald Ray
|  |  | Anderson, Andrew David.
|  |  | Anderson, Ernest W.
|  |  | Anderson, Jerry.
|  |  | Anderson, John.
|  |  | Anderson, Lynwood.
|  |  | Anderson, Melinda Rene.
|  |  | Anderson, Michael Brian.
|  |  | Anderson, Ronald L Sr.
|  |  | Anderson, Ronald Louis Jr.
|  |  | Andonie, Miguel.
|  |  | Andrews, Anthony R.
|  |  | Andry, Janice M.
|  |  | Andry, Rondey S.
|  |  | Angelle, Louis.
|  |  | Anglada, Eugene Sr.
|  |  | Ansardi, Lester.
|  |  | Anselmi, Darren.
|  |  | Aparicio, Alfred.
|  |  | Aparicio, David.
|  |  | Aparicio, Ernest.
|  |  | Arabie, Georgia P.
|  |  | Arabie, Joseph.
|  |  | Arcement, Craig J.
|  |  | Arcement, Lester C.
|  |  | Arcemont, Donald Sr.
|  |  | Arceneaux, Matthew J.
|  |  | Arceneaux, Michael K.
|  |  | Areas, Christopher J.
|  |  | Armbruster, John III.
|  |  | Armbruster, Paula D.
|  |  | Armstrong, Jude Jr.
|  |  | Arnesen, George.
|  |  | Arnold, Lonnie L Jr.
|  |  | Arnona, Joseph T.
|  |  | Arnondin, Robert.
|  |  | Arthur, Brenda J.
|  |  | Assavedo, Floyd.
|  |  | Atwood, Gregory Kenneth.
|  |  | Au, Chow D.
|  |  | Au, Robert.
|  |  | Aucoin, Dewey F.
|  |  | Aucoin, Earl.
|  |  | Aucoin, Laine A.
|  |  | Aucoin, Perry J.
|  |  | Austin, Dennis.
|  |  | Austin, Dennis J.
|  |  | Authement, Brice.
|  |  | Authement, Craig L.
|  |  | Authement, Dion J.
|  |  | Authement, Gordon.
|  |  | Authement, Lance M.
|  |  | Authement, Larry.
|  |  | Authement, Larry Sr.
|  |  | Authement, Roger J.
|  |  | Authement, Sterling P.
|  |  | Autin, Bobby.
|  |  | Autin, Bruce J.
|  |  | Autin, Kenneth D.
|  |  | Autin, Marvin J.
|  |  | Autin, Paul F Jr.
|  |  | Autin, Roy.
|  |  | Avenel, Albert J Jr.
|  |  | Ba Wells, Tran Thi.
|  |  | Babb, Conny.
|  |  | Babin, Brad.
|  |  | Babin, Joey L.
|  |  | Babin, Klint.
|  |  | Babin, Molly.
|  |  | Babin, Norman J.
|  |  | Babineaux, Kirby.
|  |  | Babineaux, Vicki.
|  |  | Bach, Ke Van.
|  |  | Bach, Reo Long.
|  |  | Backman, Benny.
|  |  | Badeaux, Todd.
|  |  | Baham, Dewayne.
|  |  | Bailey, Albert.
|  |  | Bailey, Antoine III.
|  |  | Bailey, David B Sr.
|  |  | Bailey, Don.
|  |  | Baker, Clarence.
|  |  | Baker, Donald Earl.
|  |  | Baker, James.
|  |  | Baker, Kenneth.
|  |  | Baker, Ronald J.
|  |  | Balderas, Antonio.
|  |  | Baldwin, Richard Prentiss.
|  |  | Ballard, Albert.
|  |  | Ballas, Barbara A.
|  |  | Ballas, Charles J.
|  |  | Baltz, John F.
|  |  | Ban, John.
|  |  | Bang, Bruce K.
|  |  | Barbaree, Joe W.
|  |  | Barbe, Mark A and Cindy.
|  |  | Barber, Louie W Jr.
|  |  | Barber, Louie W Sr.
|  |  | Barbier, Percy T.
|  |  | Barbour, Raymond A.
|  |  | Bargainear, James E.
|  |  | Barisich, George A.
|  |  | Barisich, Joseph J.
|  |  | Barnette, Earl.
|  |  | Barnhill, Nathan.
|  |  | Barrios, Clarence.
|  |  | Barrios, Corbert J.
|  |  | Barrios, Corbert M
|  |  | Barrios, David.
|  |  | Barrios, John.
|  |  | Barrios, Shane James.
|  |  | Barrois, Angela Gail.
|  |  | Barrois, Dana A.
|  |  | Barrois, Tracy James.
|  |  | Barrois, Wendell Jude Jr.
|  |  | Barthe, Keith Sr.
|  |  | Barthelemy, Allen M.
|  |  | Barthelemy, John A.
|  |  | Barthelemy, Rene T Sr.
|  |  | Barthelemy, Walter A Jr.
|  |  | Bartholomew, Mitchell.
|  |  | Bartholomew, Neil W.
|  |  | Bartholomew, Thomas E.
|  |  | Bartholomew, Wanda C.
|  |  | Basse, Donald J Sr.
|  |  | Bates, Mark
|  |  | Bates, Ted Jr.
|  |  | Bates, Vernon Jr.
|  |  | Battle, Louis.
|  |  | Baudoin, Drake J.
|  |  | Baudoin, Murphy A.
|  |  | Baudouin, Stephen.
|  |  | Bauer, Gary.
|  |  | Baye, Glen P.
|  |  | Bean, Charles A.
|  |  | Beazley, William E.
|  |  | Becnel, Glenn J.
|  |  | Becnel, Kent.
|  |  | Beecher, Carold F.
|  |  | Beechler, Ronald.
|  |  | Bell, James E.
|  |  | Bell, Ronald A.
|  |  | Bellanger, Arnold.
|  |  | Bellanger, Clifton.
|  |  | Bellanger, Scott J.
|  |  | Belsome, Derrell M.
|  |  | Belsome, Karl M.
|  |  | Bennett, Cecil A Jr.
|  |  | Bennett, Gary Lynn.
|  |  | Bennett, Irin Jr.
|  |  | Bennett, James W Jr.
|  |  | Bennett, Louis.
|  |  | Benoit, Francis J.
|  |  | Benoit, Nicholas L.
|  |  | Benoit, Paula T.
|  |  | Benoit, Tenna J Jr.
|  |  | Benton, Walter T.
|  |  | Berger, Ray W.
|  |  | Bergeron, Alfred Scott
|  |  | Bergeron, Jeff
|  |  | Bergeron, Nolan A.
|  |  | Bergeron, Ulysses J.
|  |  | Bernard, Lamont L.
|  |  | Berner, Mark J.
|  |  | Berthelot, Gerard J Sr.
|  |  | Berthelot, James A.
|  |  | Berthelot, Myron J.
|  |  | Bertrand, Jerl C.
|  |  | Beverung, Keith J.
|  |  | Bianchini, Raymond W.
|  |  | Bickham, Leo E.
|  |  | Bienvenu, Charles.
|  |  | Biggs, Jerry W Sr.
|  |  | Bigler, Delbert.
|  |  | Billington, Richard.
|  |  | Billiot, Alfredia.
|  |  | Billiot, Arthur.
|  |  | Billiot, Aubrey.
|  |  | Billiot, Barell J.
|  |  | Billiot, Betty.
|  |  | Billiot, Bobby J.
|  |  | Billiot, Brian K.
|  |  | Billiot, Cassidy.
|  |  | Billiot, Charles Sr.
|  |  | Billiot, Chris J Sr.
|  |  | Billiot, E J E.
|  |  | Billiot, Earl W Sr.
|  |  | Billiot, Ecton L.
|  |  | Billiot, Emary.
|  |  | Billiot, Forest Jr.
|  |  | Billiot, Gerald
|  |  | Billiot, Harold J.
|  |  | Billiot, Jacco A.
|  |  | Billiot, Jake A.
|  |  | Billiot, James Jr.
|  |  | Billiot, Joseph S Jr.
|  |  | Billiot, Laurence V.
|  |  | Billiot, Leonard F Jr.
|  |  | Billiot, Lisa.
|  |  | Billiot, Mary L.
|  |  | Billiot, Paul J Sr.
|  |  | Billiot, Shirley L.
|  |  | Billiot, Steve M.
|  |  | Billiot, Thomas Adam.
|  |  | Billiot, Thomas Sr.
|  |  | Billiot, Wenceslaus Jr.
|  |  | Billiott, Alexander J.
|  |  | Biron, Yale.
|  |  | Black, William C.
|  |  | Blackston, Larry E.
|  |  | Blackwell, Wade H III.
|  |  | Blackwell, Wade H Jr.
|  |  | Blanchard, Albert.
|  |  | Blanchard, Andrew J.
|  |  | Blanchard, Billy J.
|  |  | Blanchard, Cyrus.
|  |  | Blanchard, Daniel A.
|  |  | Blanchard, Dean.
|  |  | Blanchard, Douglas Jr.
|  |  | Blanchard, Dwayne.
|  |  | Blanchard, Elgin.
|  |  | Blanchard, Gilbert.
|  |  | Blanchard, Jade.
|  |  | Blanchard, James.
|  |  | Blanchard, John F Jr.
|  |  | Blanchard, Katie.
|  |  | Blanchard, Kelly.
|  |  | Blanchard, Matt Joseph.
|  |  | Blanchard, Michael.
|  |  | Blanchard, Quentin Timothy.
|  |  | Blanchard, Roger Sr.
|  |  | Blanchard, Walton H Jr.
|  |  | Bland, Quyen T.
|  |  | Blouin, Roy A.
|  |  | Blume, Jack Jr.
|  |  | Bodden, Arturo.
|  |  | Bodden, Jasper.
|  |  | Bollinger, Donald E.
|  |  | Bolotte, Darren W.
|  |  | Bolton, Larry F.
|  |  | Bondi, Paul J.
|  |  | Bonvillain, Jimmy J.
|  |  | Bonvillian, Donna M.
|  |  | Boone, Clifton Felix
|  |  | Boone, Donald F II.
|  |  | Boone, Donald F III (Ricky).
|  |  | Boone, Gregory T.
|  |  | Boquet, Noriss P Jr.
|  |  | Boquet, Wilfred Jr.
|  |  | Bordelon, Glenn Sr.
|  |  | Bordelon, James P.
|  |  | Bordelon, Shelby P.
|  |  | Borden, Benny.
|  |  | Borne, Crystal.
|  |  | Borne, Dina L.
|  |  | Borne, Edward Joseph Jr.
|  |  | Borne, Edward Sr.
|  |  | Bosarge, Hubert Lawrence.
|  |  | Bosarge, Robert.
|  |  | Bosarge, Sandra.
|  |  | Bosarge, Steve.
|  |  | Boudlauch, Durel A Jr.
|  |  | Boudoin, Larry Terrell.
|  |  | Boudoin, Nathan.
|  |  | Boudreaux, Brent J.
|  |  | Boudreaux, Elvin J III.
|  |  | Boudreaux, James C Jr.
|  |  | Boudreaux, James N.
|  |  | Boudreaux, Jessie.
|  |  | Boudreaux, Leroy A.
|  |  | Boudreaux, Mark.
|  |  | Boudreaux, Paul Sr.
|  |  | Boudreaux, Richard D.
|  |  | Boudreaux, Ronald Sr.
|  |  | Boudreaux, Sally.
|  |  | Boudreaux, Veronica.
|  |  | Boudwin, Dwayne.
|  |  | Boudwin, Jewel James Sr.
|  |  | Boudwin, Wayne.
|  |  | Bouise, Norman.
|  |  | Boulet, Irwin J Jr.
|  |  | Boullion, Debra.
|  |  | Bourg, Allen T.
|  |  | Bourg, Benny.
|  |  | Bourg, Chad J.
|  |  | Bourg, Channon.
|  |  | Bourg, Chris.
|  |  | Bourg, Douglas.
|  |  | Bourg, Glenn A.
|  |  | Bourg, Jearmie Sr.
|  |  | Bourg, Kent A.
|  |  | Bourg, Mark.
|  |  | Bourg, Nolan P.
|  |  | Bourg, Ricky J.
|  |  | Bourgeois, Albert P.
|  |  | Bourgeois, Brian J Jr.
|  |  | Bourgeois, Daniel.
|  |  | Bourgeois, Dwayne.
|  |  | Bourgeois, Jake.
|  |  | Bourgeois, Johnny M.
|  |  | Bourgeois, Johnny M Jr.
|  |  | Bourgeois, Leon A.
|  |  | Bourgeois, Louis A.
|  |  | Bourgeois, Merrie E.
|  |  | Bourgeois, Randy P.
|  |  | Bourgeois, Reed.
|  |  | Bourgeois, Webley
|  |  | Bourn, Chris.
|  |  | Bourque, Murphy Paul.
|  |  | Bourque, Ray.
|  |  | Bousegard, Duvic Jr.
|  |  | Boutte, Manuel J Jr.
|  |  | Bouvier, Colbert A II.
|  |  | Bouzigard, Dale J.
|  |  | Bouzigard, Edgar J III.
|  |  | Bouzigard, Eeris.
|  |  | Bowers, Harold.
|  |  | Bowers, Tommy.
|  |  | Boyd, David E Sr.
|  |  | Boyd, Elbert.
|  |  | Boykin, Darren L.
|  |  | Boykin, Thomas Carol.
|  |  | Bradley, James.
|  |  | Brady, Brian.
|  |  | Brandhurst, Kay.
|  |  | Brandhurst, Ray E Sr.
|  |  | Brandhurst, Raymond J
|  |  | Braneff, David G.
|  |  | Brannan, William P.
|  |  | Branom, Donald James Jr.
|  |  | Braud, James M.
|  |  | Brazan, Frank J.
|  |  | Breaud, Irvin F Jr.
|  |  | Breaux, Barbara.
|  |  | Breaux, Brian J.
|  |  | Breaux, Charlie M.
|  |  | Breaux, Clifford.
|  |  | Breaux, Colin E.
|  |  | Breaux, Daniel Jr.
|  |  | Breaux, Larry J.
|  |  | Breaux, Robert J Jr.
|  |  | Breaux, Shelby.
|  |  | Briscoe, Robert F Jr.
|  |  | Britsch, L D Jr.
|  |  | Broussard, Dwayne E.
|  |  | Broussard, Eric.
|  |  | Broussard, Keith.
|  |  | Broussard, Larry.
|  |  | Broussard, Mark A.
|  |  | Broussard, Roger David.
|  |  | Broussard, Roger R.
|  |  | Broussard, Steve P.
|  |  | Brown, Cindy B.
|  |  | Brown, Colleen.
|  |  | Brown, Donald G.
|  |  | Brown, John W.
|  |  | Brown, Paul R.
|  |  | Brown, Ricky.
|  |  | Brown, Toby H.
|  |  | Bruce, Adam J.
|  |  | Bruce, Adam J Jr.
|  |  | Bruce, Bob R.
|  |  | Bruce, Daniel M Sr.
|  |  | Bruce, Eli T Sr.
|  |  | Bruce, Emelda L.
|  |  | Bruce, Gary J Sr.
|  |  | Bruce, James P.
|  |  | Bruce, Lester J Jr.
|  |  | Bruce, Margie L.
|  |  | Bruce, Mary P.
|  |  | Bruce, Nathan.
|  |  | Bruce, Robert.
|  |  | Bruce, Russell.
|  |  | Brudnock, Peter Sr.
|  |  | Brunet, Elton J.
|  |  | Brunet, Joseph A.
|  |  | Brunet, Joseph A.
|  |  | Brunet, Levy J Jr.
|  |  | Brunet, Raymond Sr.
|  |  | Bryan, David N.
|  |  | Bryant, Ina Fay V.
|  |  | Bryant, Jack D Sr.
|  |  | Bryant, James Larry.
|  |  | Buford, Ernest.
|  |  | Bui, Ben.
|  |  | Bui, Dich.
|  |  | Bui, Dung Thi.
|  |  | Bui, Huong T.
|  |  | Bui, Ngan.
|  |  | Bui, Nhuan.
|  |  | Bui, Nuoi Van.
|  |  | Bui, Tai.
|  |  | Bui, Tien.
|  |  | Bui, Tommy.
|  |  | Bui, Xuan and De Nguyen.
|  |  | Bui, Xuanmai.
|  |  | Bull, Delbert E.
|  |  | Bundy, Belvina (Kenneth).
|  |  | Bundy, Kenneth Sr.
|  |  | Bundy, Nicky.
|  |  | Bundy, Ronald J.
|  |  | Bundy, Ronnie J.
|  |  | Buquet, John Jr.
|  |  | Buras, Clayton M.
|  |  | Buras, Leander.
|  |  | Buras, Robert M Jr.
|  |  | Buras, Waylon J.
|  |  | Burlett, Elliott C.
|  |  | Burlett, John C Jr.
|  |  | Burnell, Charles B.
|  |  | Burnell, Charles R.
|  |  | Burnham, Deanna Lea.
|  |  | Burns, Stuart E.
|  |  | Burroughs, Lindsey Hilton Jr.
|  |  | Burton, Ronnie.
|  |  | Busby, Hardy E.
|  |  | Busby, Tex H.
|  |  | Busch, RC.
|  |  | Bush, Robert A.
|  |  | Bussey, Tyler.
|  |  | Butcher, Dorothy.
|  |  | Butcher, Rocky J.
|  |  | Butler, Albert A.
|  |  | Butler, Aline M.
|  |  | Bychurch, Johnny.
|  |  | Bychurch, Johnny Jr.
|  |  | Cabanilla, Alex.
|  |  | Caboz, Jose Santos.
|  |  | Cacioppo, Anthony Jr.
|  |  | Caddell, David.
|  |  | Cadiere, Mae Quick.
|  |  | Cadiere, Ronald J.
|  |  | Cahill, Jack.
|  |  | Caillouet, Stanford Jr.
|  |  | Caison, Jerry Lane Jr.
|  |  | Calcagno, Stephen Paul Sr.
|  |  | Calderone, John S.
|  |  | Callahan, Gene P Sr.
|  |  | Callahan, Michael J.
|  |  | Callahan, Russell.
|  |  | Callais, Ann.
|  |  | Callais, Franklin D.
|  |  | Callais, Gary D.
|  |  | Callais, Michael.
|  |  | Callais, Michael.
|  |  | Callais, Sandy.
|  |  | Callais, Terrence.
|  |  | Camardelle, Anna M.
|  |  | Camardelle, Chris J.
|  |  | Camardelle, David.
|  |  | Camardelle, Edward J III.
|  |  | Camardelle, Edward J Jr.
|  |  | Camardelle, Harris A.
|  |  | Camardelle, Knowles.
|  |  | Camardelle, Noel T.
|  |  | Camardelle, Tilman J.
|  |  | Caminita, John A III.
|  |  | Campo, Donald Paul.
|  |  | Campo, Kevin.
|  |  | Campo, Nicholas J.
|  |  | Campo, Roy.
|  |  | Campo, Roy Sr.
|  |  | Camus, Ernest M Jr.
|  |  | Canova, Carl.
|  |  | Cantrelle, Alvin.
|  |  | Cantrelle, Eugene J.
|  |  | Cantrelle, Otis A Sr.
|  |  | Cantrelle, Otis Jr (Buddy).
|  |  | Cantrelle, Philip A.
|  |  | Cantrelle, Tate Joseph.
|  |  | Canty, Robert Jamies.
|  |  | Cao, Anna.
|  |  | Cao, Billy.
|  |  | Cao, Billy Viet.
|  |  | Cao, Binh Quang.
|  |  | Cao, Chau.
|  |  | Cao, Dan Dien.
|  |  | Cao, Dung Van.
|  |  | Cao, Gio Van.
|  |  | Cao, Hiep A.
|  |  | Cao, Linh Huyen.
|  |  | Cao, Nghia Thi.
|  |  | Cao, Nhieu V.
|  |  | Cao, Si-Van.
|  |  | Cao, Thanh Kim.
|  |  | Cao, Tuong Van.
|  |  | Carinhas, Jack G Jr.
|  |  | Carl, Joseph Allen.
|  |  | Carlos, Gregory.
|  |  | Carlos, Irvin.
|  |  | Carmadelle, David J.
|  |  | Carmadelle, Larry G.
|  |  | Carmadelle, Rudy J.
|  |  | Carrere, Anthony T Jr.
|  |  | Carrier, Larry J.
|  |  | Caruso, Michael.
|  |  | Casanova, David W Sr.
|  |  | Cassagne, Alphonse G III.
|  |  | Cassagne, Alphonse G IV.
|  |  | Cassidy, Mark.
|  |  | Casso, Joseph.
|  |  | Castelin, Gilbert.
|  |  | Castelin, Sharon.
|  |  | Castellanos, Raul L.
|  |  | Castelluccio, John A Jr.
|  |  | Castille, Joshua.
|  |  | Caulfield, Adolph Jr.
|  |  | Caulfield, Hope.
|  |  | Caulfield, James M Jr.
|  |  | Caulfield, Jean.
|  |  | Cepriano, Salvador.
|  |  | Cerdes, Julius W Jr.
|  |  | Cerise, Marla.
|  |  | Chabert, John.
|  |  | Chaisson, Dean J.
|  |  | Chaisson, Henry.
|  |  | Chaisson, Vincent A.
|  |  | Chaix, Thomas B III.
|  |  | Champagne, Brian.
|  |  | Champagne, Harold P.
|  |  | Champagne, Kenton.
|  |  | Champagne, Leon J.
|  |  | Champagne, Leroy A.
|  |  | Champagne, Lori.
|  |  | Champagne, Timmy D.
|  |  | Champagne, Willard.
|  |  | Champlin, Kim J.
|  |  | Chance, Jason R.
|  |  | Chancey, Jeff.
|  |  | Chapa, Arturo.
|  |  | Chaplin Robert G Sr.
|  |  | Chaplin, Saxby Stowe.
|  |  | Charles, Christopher.
|  |  | Charpentier, Allen J.
|  |  | Charpentier, Alvin J.
|  |  | Charpentier, Daniel J.
|  |  | Charpentier, Lawrence.
|  |  | Charpentier, Linton.
|  |  | Charpentier, Melanie.
|  |  | Charpentier, Murphy Jr.
|  |  | Charpentier, Robert J.
|  |  | Chartier, Michelle.
|  |  | Chau, Minh Huu.
|  |  | Chauvin, Anthony.
|  |  | Chauvin, Anthony P Jr.
|  |  | Chauvin, Carey M.
|  |  | Chauvin, David James.
|  |  | Chauvin, James E.
|  |  | Chauvin, Kimberly Kay.
|  |  | Cheeks, Alton Bruce.
|  |  | Cheers, Elwood.
|  |  | Chenier, Ricky.
|  |  | Cheramie, Alan.
|  |  | Cheramie, Alan J Jr.
|  |  | Cheramie, Alton J.
|  |  | Cheramie, Berwick Jr.
|  |  | Cheramie, Berwick Sr.
|  |  | Cheramie, Daniel James Sr.
|  |  | Cheramie, Danny.
|  |  | Cheramie, David J.
|  |  | Cheramie, David P.
|  |  | Cheramie, Dickey J.
|  |  | Cheramie, Donald.
|  |  | Cheramie, Enola.
|  |  | Cheramie, Flint.
|  |  | Cheramie, Harold L.
|  |  | Cheramie, Harry J Sr.
|  |  | Cheramie, Harry Jr.
|  |  | Cheramie, Harvey Jr.
|  |  | Cheramie, Harvey Sr.
|  |  | Cheramie, Henry J Sr.
|  |  | Cheramie, James A.
|  |  | Cheramie, James P.
|  |  | Cheramie, Jody P.
|  |  | Cheramie, Joey J.
|  |  | Cheramie, Johnny.
|  |  | Cheramie, Joseph A.
|  |  | Cheramie, Lee Allen.
|  |  | Cheramie, Linton J.
|  |  | Cheramie, Mark A.
|  |  | Cheramie, Murphy J.
|  |  | Cheramie, Nathan A Sr.
|  |  | Cheramie, Neddy P.
|  |  | Cheramie, Nicky J.
|  |  | Cheramie, Ojess M.
|  |  | Cheramie, Paris P.
|  |  | Cheramie, Robbie.
|  |  | Cheramie, Rodney E Jr.
|  |  | Cheramie, Ronald.
|  |  | Cheramie, Roy.
|  |  | Cheramie, Roy A.
|  |  | Cheramie, Sally K.
|  |  | Cheramie, Terry J.
|  |  | Cheramie, Terry Jr.
|  |  | Cheramie, Timmy.
|  |  | Cheramie, Tina.
|  |  | Cheramie, Todd M.
|  |  | Cheramie, Tommy.
|  |  | Cheramie, Wayne A.
|  |  | Cheramie, Wayne A Jr.
|  |  | Cheramie, Wayne F Sr.
|  |  | Cheramie, Wayne J.
|  |  | Cheramie, Webb Jr.
|  |  | Chevalier, Mitch.
|  |  | Chew, Thomas J.
|  |  | Chhun, Samantha.
|  |  | Chiasson, Jody J.
|  |  | Chiasson, Manton P Jr.
|  |  | Chiasson, Michael P.
|  |  | Childress, Gordon.
|  |  | Chisholm, Arthur.
|  |  | Chisholm, Henry Jr.
|  |  | Christen, David Jr.
|  |  | Christen, Vernon.
|  |  | Christmas, John T Jr.
|  |  | Chung, Long V.
|  |  | Ciaccio, Vance.
|  |  | Cibilic, Bozidar.
|  |  | Cieutat, John.
|  |  | Cisneros, Albino.
|  |  | Ciuffi, Michael L.
|  |  | Clark, James M.
|  |  | Clark, Jennings.
|  |  | Clark, Mark A.
|  |  | Clark, Ricky L.
|  |  | Cobb, Michael A.
|  |  | Cochran, Jimmy.
|  |  | Coleman, Ernest.
|  |  | Coleman, Freddie Jr.
|  |  | Colletti, Rodney A.
|  |  | Collier, Ervin J.
|  |  | Collier, Wade.
|  |  | Collins, Bernard J.
|  |  | Collins, Bruce J Jr.
|  |  | Collins, Donald.
|  |  | Collins, Earline.
|  |  | Collins, Eddie F Jr.
|  |  | Collins, Jack.
|  |  | Collins, Jack.
|  |  | Collins, Julius.
|  |  | Collins, Lawson Bruce Sr.
|  |  | Collins, Lindy S Jr.
|  |  | Collins, Logan A Jr.
|  |  | Collins, Robert.
|  |  | Collins, Timmy P.
|  |  | Collins, Vendon Jr.
|  |  | Collins, Wilbert Jr.
|  |  | Collins, Woodrow.
|  |  | Colson, Chris and Michelle.
|  |  | Comardelle, Michael J.
|  |  | Comeaux, Allen J.
|  |  | Compeaux, Curtis J.
|  |  | Compeaux, Gary P.
|  |  | Compeaux, Harris.
|  |  | Cone, Jody.
|  |  | Contreras, Mario.
|  |  | Cook, Edwin A Jr.
|  |  | Cook, Edwin A Sr.
|  |  | Cook, Joshua.
|  |  | Cook, Larry R Sr.
|  |  | Cook, Scott.
|  |  | Cook, Theodore D.
|  |  | Cooksey, Ernest Neal.
|  |  | Cooper, Acy J III.
|  |  | Cooper, Acy J Jr.
|  |  | Cooper, Acy Sr.
|  |  | Cooper, Christopher W.
|  |  | Cooper, Jon C.
|  |  | Cooper, Marla F.
|  |  | Cooper, Vincent J.
|  |  | Copeman, John R.
|  |  | Corley, Ronald E.
|  |  | Cornett, Eddie.
|  |  | Cornwall, Roger.
|  |  | Cortez, Brenda M.
|  |  | Cortez, Cathy.
|  |  | Cortez, Curtis.
|  |  | Cortez, Daniel P.
|  |  | Cortez, Edgar.
|  |  | Cortez, Keith J.
|  |  | Cortez, Leslie J.
|  |  | Cosse, Robert K.
|  |  | Coston, Clayton.
|  |  | Cotsovolos, John Gordon.
|  |  | Coulon, Allen J Jr.
|  |  | Coulon, Allen J Sr.
|  |  | Coulon, Amy M.
|  |  | Coulon, Cleveland F.
|  |  | Coulon, Darrin M.
|  |  | Coulon, Don.
|  |  | Coulon, Earline N.
|  |  | Coulon, Ellis Jr.
|  |  | Coursey, John W.
|  |  | Courville, Ronnie P.
|  |  | Cover, Darryl L.
|  |  | Cowdrey, Michael Dudley.
|  |  | Cowdrey, Michael Nelson.
|  |  | Crain, Michael T.
|  |  | Crawford, Bryan D.
|  |  | Crawford, Steven J.
|  |  | Creamer, Quention.
|  |  | Credeur, Todd A Sr.
|  |  | Credeur, Tony J.
|  |  | Creppel, Carlton.
|  |  | Creppel, Catherine.
|  |  | Creppel, Craig Anthony.
|  |  | Creppel, Freddy.
|  |  | Creppel, Isadore Jr.
|  |  | Creppel, Julinne G III.
|  |  | Creppel, Kenneth.
|  |  | Creppel, Kenneth.
|  |  | Creppel, Nathan J Jr.
|  |  | Creppell, Michel P.
|  |  | Cristina, Charles J.
|  |  | Crochet, Sterling James.
|  |  | Crochet, Tony J.
|  |  | Crosby, Benjy J.
|  |  | Crosby, Darlene.
|  |  | Crosby, Leonard W Jr.
|  |  | Crosby, Ted J.
|  |  | Crosby, Thomas.
|  |  | Crum, Lonnie.
|  |  | Crum, Tommy Lloyd.
|  |  | Cruz, Jesus.
|  |  | Cubbage, Melinda T.
|  |  | Cuccia, Anthony J.
|  |  | Cuccia, Anthony J Jr.
|  |  | Cuccia, Kevin.
|  |  | Cumbie, Bryan E.
|  |  | Cure, Mike.
|  |  | Curole, Keith J.
|  |  | Curole, Kevin P.
|  |  | Curole, Margaret B.
|  |  | Curole, Willie P Jr.
|  |  | Cutrer, Jason C.
|  |  | Cvitanovich, T.
|  |  | Daigle, Alfred.
|  |  | Daigle, Cleve and Nona.
|  |  | Daigle, David John.
|  |  | Daigle, EJ.
|  |  | Daigle, Glenn.
|  |  | Daigle, Jamie J.
|  |  | Daigle, Jason.
|  |  | Daigle, Kirk.
|  |  | Daigle, Leonard P.
|  |  | Daigle, Lloyd.
|  |  | Daigle, Louis J.
|  |  | Daigle, Melanie.
|  |  | Daigle, Michael J.
|  |  | Daigle, Michael Wayne and JoAnn.
|  |  | Daisy, Jeff.
|  |  | Dale, Cleveland L.
|  |  | Dang, Ba.
|  |  | Dang, Dap.
|  |  | Dang, David.
|  |  | Dang, Duong.
|  |  | Dang, Khang.
|  |  | Dang, Khang and Tam Phan.
|  |  | Dang, Loan Thi.
|  |  | Dang, Minh.
|  |  | Dang, Minh Van.
|  |  | Dang, Son.
|  |  | Dang, Tao Kevin.
|  |  | Dang, Thang Duc.
|  |  | Dang, Thien Van.
|  |  | Dang, Thuong.
|  |  | Dang, Thuy.
|  |  | Dang, Van D.
|  |  | Daniels, David.
|  |  | Daniels, Henry.
|  |  | Daniels, Leslie.
|  |  | Danos, Albert Sr.
|  |  | Danos, James A.
|  |  | Danos, Jared.
|  |  | Danos, Oliver J.
|  |  | Danos, Ricky P.
|  |  | Danos, Rodney.
|  |  | Danos, Timothy A.
|  |  | d'Antignac, Debi.
|  |  | d'Antignac, Jack.
|  |  | Dantin, Archie A.
|  |  | Dantin, Mark S Sr.
|  |  | Dantin, Stephen Jr.
|  |  | Dao, Paul.
|  |  | Dao, Vang.
|  |  | Dao-Nguyen, Chrysti.
|  |  | Darda, Albert L Jr.
|  |  | Darda, Gertrude.
|  |  | Darda, Herbert.
|  |  | Darda, J C.
|  |  | Darda, Jeremy.
|  |  | Darda, Tammy.
|  |  | Darda, Trudy.
|  |  | Dardar, Alvin.
|  |  | Dardar, Basile J.
|  |  | Dardar, Basile Sr.
|  |  | Dardar, Cindy.
|  |  | Dardar, David.
|  |  | Dardar, Donald S.
|  |  | Dardar, Edison J Sr.
|  |  | Dardar, Gayle Picou.
|  |  | Dardar, Gilbert B.
|  |  | Dardar, Gilbert Sr.
|  |  | Dardar, Isadore J Jr.
|  |  | Dardar, Jacqueline.
|  |  | Dardar, Jonathan M.
|  |  | Dardar, Lanny.
|  |  | Dardar, Larry J.
|  |  | Dardar, Many.
|  |  | Dardar, Neal A.
|  |  | Dardar, Norbert.
|  |  | Dardar, Patti V.
|  |  | Dardar, Percy B Sr.
|  |  | Dardar, Rose.
|  |  | Dardar, Rusty J.
|  |  | Dardar, Samuel.
|  |  | Dardar, Summersgill.
|  |  | Dardar, Terry P.
|  |  | Dardar, Toney M Jr.
|  |  | Dardar, Toney Sr.
|  |  | Dargis, Stephen M.
|  |  | Dassau, Louis.
|  |  | David, Philip J Jr.
|  |  | Davis, Cliff.
|  |  | Davis, Daniel A.
|  |  | Davis, Danny A.
|  |  | Davis, James.
|  |  | Davis, John W.
|  |  | Davis, Joseph D.
|  |  | Davis, Michael Steven.
|  |  | Davis, Ronald B.
|  |  | Davis, William T Jr.
|  |  | Davis, William Theron.
|  |  | Dawson, JT.
|  |  | de la Cruz, Avery T.
|  |  | Dean, Ilene L.
|  |  | Dean, John N.
|  |  | Dean, Stephen.
|  |  | DeBarge, Brian K.
|  |  | DeBarge, Sherry.
|  |  | DeBarge, Thomas W.
|  |  | Decoursey, John.
|  |  | Dedon, Walter.
|  |  | Deere, Daryl.
|  |  | Deere, David E.
|  |  | Deere, Dennis H.
|  |  | Defelice, Robin.
|  |  | Defelice, Tracie L.
|  |  | DeHart, Ashton J Sr.
|  |  | Dehart, Bernard J.
|  |  | Dehart, Blair.
|  |  | Dehart, Clevis.
|  |  | Dehart, Clevis Jr.
|  |  | DeHart, Curtis P Sr.
|  |  | Dehart, Eura Sr.
|  |  | Dehart, Ferrell John.
|  |  | Dehart, Leonard M.
|  |  | DeHart, Troy.
|  |  | DeJean, Chris N Jr.
|  |  | DeJean, Chris N Sr.
|  |  | Dekemel, Bonnie D.
|  |  | Dekemel, Wm J Jr.
|  |  | Delande, Paul.
|  |  | Delande, Ten Chie.
|  |  | Delatte, Michael J Sr.
|  |  | Delaune, Kip M.
|  |  | Delaune, Thomas J.
|  |  | Delaune, Todd J.
|  |  | Delcambre, Carroll A.
|  |  | Delgado, Jesse.
|  |  | Delino, Carlton.
|  |  | Delino, Lorene.
|  |  | Deloach, Stephen W Jr.
|  |  | DeMoll, Herman J Jr.
|  |  | DeMoll, Herman J Sr.
|  |  | DeMoll, James C Jr.
|  |  | DeMoll, Ralph.
|  |  | DeMoll, Robert C.
|  |  | DeMoll, Terry R.
|  |  | DeMolle, Freddy.
|  |  | DeMolle, Otis.
|  |  | Dennis, Fred.
|  |  | Denty, Steve.
|  |  | Deroche, Barbara H.
|  |  | Derouen, Caghe.
|  |  | Deshotel, Rodney.
|  |  | DeSilvey, David.
|  |  | Despaux, Byron J.
|  |  | Despaux, Byron J Jr.
|  |  | Despaux, Glen A.
|  |  | Despaux, Ken.
|  |  | Despaux, Kerry.
|  |  | Despaux, Suzanna.
|  |  | Detillier, David E.
|  |  | DeVaney, Bobby C Jr.
|  |  | Dickey, Wesley Frank.
|  |  | Diep, Vu.
|  |  | Dinger, Anita.
|  |  | Dinger, Corbert Sr.
|  |  | Dinger, Eric.
|  |  | Dingler, Mark H.
|  |  | Dinh, Chau Thanh.
|  |  | Dinh, Khai Duc.
|  |  | Dinh, Lien.
|  |  | Dinh, Toan.
|  |  | Dinh, Vincent.
|  |  | Dion, Ernest.
|  |  | Dion, Paul A.
|  |  | Dion, Thomas Autry.
|  |  | Disalvo, Paul A.
|  |  | Dismuke, Robert E Sr.
|  |  | Ditcharo, Dominick III.
|  |  | Dixon, David.
|  |  | Do, Cuong V.
|  |  | Do, Dan C.
|  |  | Do, Dung V.
|  |  | Do, Hai Van.
|  |  | Do, Hieu.
|  |  | Do, Hung V.
|  |  | Do, Hung V.
|  |  | Do, Johnny.
|  |  | Do, Kiet Van.
|  |  | Do, Ky Hong.
|  |  | Do, Ky Quoc.
|  |  | Do, Lam.
|  |  | Do, Liet Van.
|  |  | Do, Luong Van.
|  |  | Do, Minh Van.
|  |  | Do, Nghiep Van.
|  |  | Do, Ta.
|  |  | Do, Ta Phon.
|  |  | Do, Than Viet.
|  |  | Do, Thanh V.
|  |  | Do, Theo Van.
|  |  | Do, Thien Van.
|  |  | Do, Tinh A.
|  |  | Do, Tri.
|  |  | Do, Vi V.
|  |  | Doan, Anh Thi.
|  |  | Doan, Joseph.
|  |  | Doan, Mai.
|  |  | Doan, Minh.
|  |  | Doan, Ngoc.
|  |  | Doan, Tran Van.
|  |  | Domangue, Darryl.
|  |  | Domangue, Emile.
|  |  | Domangue, Mary.
|  |  | Domangue, Michael.
|  |  | Domangue, Paul.
|  |  | Domangue, Ranzell Sr.
|  |  | Domangue, Stephen.
|  |  | Domangue, Westley.
|  |  | Domingo, Carolyn.
|  |  | Dominique, Amy R.
|  |  | Dominque, Gerald R.
|  |  | Donini, Ernest N.
|  |  | Donnelly, David C.
|  |  | Donohue, Holly M.
|  |  | Dooley, Denise F.
|  |  | Dopson, Craig B.
|  |  | Dore, Presley J.
|  |  | Dore, Preston J Jr.
|  |  | Dorr, Janthan C Jr.
|  |  | Doucet, Paul J Sr.
|  |  | Downey, Colleen.
|  |  | Doxey, Robert Lee Sr.
|  |  | Doxey, Ruben A.
|  |  | Doxey, William L.
|  |  | Doyle, John T.
|  |  | Drawdy, John Joseph.
|  |  | Drury, Bruce W Jr.
|  |  | Drury, Bruce W Sr.
|  |  | Drury, Bryant J.
|  |  | Drury, Eric S.
|  |  | Drury, Helen M.
|  |  | Drury, Jeff III.
|  |  | Drury, Kevin.
|  |  | Drury, Kevin S Sr.
|  |  | Drury, Steve R.
|  |  | Drury, Steven J.
|  |  | Dubberly, James F.
|  |  | Dubberly, James Michael.
|  |  | Dubberly, James Michael Jr.
|  |  | Dubberly, John J.
|  |  | Dubois, Euris A.
|  |  | Dubois, John D Jr.
|  |  | Dubois, Lonnie J.
|  |  | Duck, Kermit Paul.
|  |  | Dudenhefer, Anthony.
|  |  | Dudenhefer, Connie S.
|  |  | Dudenhefer, Eugene A.
|  |  | Dudenhefer, Milton J Jr.
|  |  | Duet, Brad J.
|  |  | Duet, Darrel A.
|  |  | Duet, Guy J.
|  |  | Duet, Jace J.
|  |  | Duet, Jay.
|  |  | Duet, John P.
|  |  | Duet, Larson.
|  |  | Duet, Ramie.
|  |  | Duet, Raymond J.
|  |  | Duet, Tammy B.
|  |  | Duet, Tyrone.
|  |  | Dufrene, Archie.
|  |  | Dufrene, Charles.
|  |  | Dufrene, Curt F.
|  |  | Dufrene, Elson A.
|  |  | Dufrene, Eric F.
|  |  | Dufrene, Eric F Jr.
|  |  | Dufrene, Eric John.
|  |  | Dufrene, Golden J.
|  |  | Dufrene, Jeremy M.
|  |  | Dufrene, Juliette B.
|  |  | Dufrene, Leroy J.
|  |  | Dufrene, Milton J.
|  |  | Dufrene, Ronald A Jr.
|  |  | Dufrene, Ronald A Sr.
|  |  | Dufrene, Scottie M.
|  |  | Dufrene, Toby.
|  |  | Dugar, Edward A II.
|  |  | Dugas, Donald John.
|  |  | Dugas, Henri J IV.
|  |  | Duhe, Greta.
|  |  | Duhe, Robert.
|  |  | Duhon, Charles.
|  |  | Duhon, Douglas P.
|  |  | Duncan, Faye E.
|  |  | Duncan, Gary.
|  |  | Duncan, Loyde C.
|  |  | Dunn, Bob.
|  |  | Duong, Billy.
|  |  | Duong, Chamroeun.
|  |  | Duong, EM.
|  |  | Duong, Ho Tan Phi.
|  |  | Duong, Kong.
|  |  | Duong, Mau.
|  |  | Duplantis, Blair P.
|  |  | Duplantis, David.
|  |  | Duplantis, Frankie J.
|  |  | Duplantis, Maria.
|  |  | Duplantis, Teddy W.
|  |  | Duplantis, Wedgir J Jr.
|  |  | Duplessis, Anthony James Sr.
|  |  | Duplessis, Bonnie S.
|  |  | Duplessis, Clarence R.
|  |  | Dupre, Brandon P.
|  |  | Dupre, Cecile.
|  |  | Dupre, David A.
|  |  | Dupre, Davis J Jr.
|  |  | Dupre, Easton J.
|  |  | Dupre, Jimmie Sr.
|  |  | Dupre, Linward P.
|  |  | Dupre, Mary L.
|  |  | Dupre, Michael J.
|  |  | Dupre, Michael J Jr.
|  |  | Dupre, Randall P.
|  |  | Dupre, Richard A.
|  |  | Dupre, Rudy P.
|  |  | Dupre, Ryan A.
|  |  | Dupre, Tony J.
|  |  | Dupre, Troy A.
|  |  | Dupree, Bryan.
|  |  | Dupree, Derrick.
|  |  | Dupree, Malcolm J Sr.
|  |  | Dupuis, Clayton J.
|  |  | Durand, Walter Y.
|  |  | Dusang, Melvin A.
|  |  | Duval, Denval H Sr.
|  |  | Duval, Wayne.
|  |  | Dyer, Nadine D.
|  |  | Dyer, Tony.
|  |  | Dykes, Bert L.
|  |  | Dyson, Adley L Jr.
|  |  | Dyson, Adley L Sr.
|  |  | Dyson, Amy.
|  |  | Dyson, Casandra.
|  |  | Dyson, Clarence III.
|  |  | Dyson, Jimmy Jr.
|  |  | Dyson, Jimmy L Sr.
|  |  | Dyson, Kathleen.
|  |  | Dyson, Maricela.
|  |  | Dyson, Phillip II.
|  |  | Dyson, Phillip Sr.
|  |  | Dyson, William.
|  |  | Eckerd, Bill.
|  |  | Edens, Angela Blake.
|  |  | Edens, Donnie.
|  |  | Edens, Jeremy Donald.
|  |  | Edens, Nancy M.
|  |  | Edens, Steven L.
|  |  | Edens, Timothy Dale.
|  |  | Edgar, Daniel.
|  |  | Edgar, Joey.
|  |  | Edgerson, Roosevelt.
|  |  | Edwards,Tommy W III.
|  |  | Ellerbee, Jody Duane.
|  |  | Ellison, David Jr.
|  |  | Encalade, Alfred Jr.
|  |  | Encalade, Anthony T.
|  |  | Encalade, Cary.
|  |  | Encalade, Joshua C.
|  |  | Encalade, Stanley A.
|  |  | Enclade, Joseph L.
|  |  | Enclade, Michael Sr and Jeannie Pitre.
|  |  | Enclade, Rodney J.
|  |  | Englade, Alfred.
|  |  | Ennis, A L Jr.
|  |  | Erickson, Grant G.
|  |  | Erlinger, Carroll.
|  |  | Erlinger, Gary R.
|  |  | Eschete, Keith A.
|  |  | Esfeller, Benny A.
|  |  | Eskine, Kenneth.
|  |  | Esponge, Ernest J.
|  |  | Estaves, David Sr.
|  |  | Estaves, Ricky Joseph.
|  |  | Estay, Allen J.
|  |  | Estay, Wayne.
|  |  | Esteves, Anthony E Jr.
|  |  | Estrada, Orestes.
|  |  | Evans, Emile J Jr.
|  |  | Evans, Kevin J.
|  |  | Evans, Lester.
|  |  | Evans, Lester J Jr.
|  |  | Evans, Tracey J Sr.
|  |  | Everson, George C.
|  |  | Eymard, Brian P Sr.
|  |  | Eymard, Jervis J and Carolyn B.
|  |  | Fabiano, Morris C.
|  |  | Fabra, Mark.
|  |  | Fabre, Alton Jr.
|  |  | Fabre, Ernest J.
|  |  | Fabre, Kelly V.
|  |  | Fabre, Peggy B.
|  |  | Fabre, Sheron.
|  |  | Fabre, Terry A.
|  |  | Fabre, Wayne M.
|  |  | Falcon, Mitchell J.
|  |  | Falgout, Barney.
|  |  | Falgout, Jerry P.
|  |  | Falgout, Leroy J.
|  |  | Falgout, Timothy J.
|  |  | Fanguy, Barry G.
|  |  | Fanning, Paul Jr.
|  |  | Farris, Thomas J.
|  |  | Fasone, Christopher J.
|  |  | Fasone, William J.
|  |  | Faulk, Lester J.
|  |  | Favaloro, Thomas J.
|  |  | Favre, Michael Jr.
|  |  | Fazende, Jeffery.
|  |  | Fazende, Thomas.
|  |  | Fazende, Thomas G.
|  |  | Fazzio, Anthony.
|  |  | Fazzio, Douglas P.
|  |  | Fazzio, Maxine J.
|  |  | Fazzio, Steve.
|  |  | Felarise, EJ.
|  |  | Felarise, Wayne A Sr.
|  |  | Fernandez, John.
|  |  | Fernandez, Laudelino.
|  |  | Ferrara, Audrey B.
|  |  | Ficarino, Dominick Jr.
|  |  | Fields, Bryan.
|  |  | Fillinich, Anthony.
|  |  | Fillinich, Anthony Sr.
|  |  | Fillinich, Jack.
|  |  | Fincher, Penny.
|  |  | Fincher, William.
|  |  | Fisch, Burton E.
|  |  | Fisher, Kelly.
|  |  | Fisher, Kirk.
|  |  | Fisher, Kirk A.
|  |  | Fitch, Adam.
|  |  | Fitch, Clarence J Jr.
|  |  | Fitch, Hanson.
|  |  | Fitzgerald, Burnell.
|  |  | Fitzgerald, Kirk.
|  |  | Fitzgerald, Kirk D.
|  |  | Fitzgerald, Ricky J Jr.
|  |  | Fleming, John M.
|  |  | Fleming, Meigs F.
|  |  | Fleming, Mike.
|  |  | Flick, Dana.
|  |  | Flores, Helena D.
|  |  | Flores, Thomas.
|  |  | Flowers, Steve W.
|  |  | Flowers, Vincent F.
|  |  | Folse, David M.
|  |  | Folse, Heath.
|  |  | Folse, Mary L.
|  |  | Folse, Ronald B.
|  |  | Fonseca, Francis Sr.
|  |  | Fontaine, William S.
|  |  | Fontenot, Peggy D.
|  |  | Ford, Judy.
|  |  | Ford, Warren Wayne.
|  |  | Foreman, Ralph Jr.
|  |  | Foret, Alva J.
|  |  | Foret, Billy J.
|  |  | Foret, Brent J.
|  |  | Foret, Glenn.
|  |  | Foret, Houston.
|  |  | Foret, Jackie P.
|  |  | Foret, Kurt J Sr.
|  |  | Foret, Lovelace A Sr.
|  |  | Foret, Loveless A Jr.
|  |  | Foret, Mark M.
|  |  | Foret, Patricia C.
|  |  | Forrest, David P.
|  |  | Forsyth, Hunter.
|  |  | Forsythe, John.
|  |  | Fortune, Michael A.
|  |  | France, George J.
|  |  | Francis, Albert.
|  |  | Franklin, James K.
|  |  | Frankovich, Anthony.
|  |  | Franks, Michael.
|  |  | Frauenberger, Richard Wayne.
|  |  | Frazier, David J.
|  |  | Frazier, David M.
|  |  | Frazier, James.
|  |  | Frazier, Michael.
|  |  | Frederick, Davis.
|  |  | Frederick, Johnnie and Jeannie.
|  |  | Fredrick, Michael.
|  |  | Freeman, Arthur D.
|  |  | Freeman, Darrel P Sr.
|  |  | Freeman, Kenneth F.
|  |  | Freeman, Larry Scott.
|  |  | Frelich, Charles P.
|  |  | Frelich, Floyd J.
|  |  | Frelich, Kent.
|  |  | Frerics, Doug.
|  |  | Frerks, Albert R Jr.
|  |  | Frickey, Darell.
|  |  | Frickey, Darren.
|  |  | Frickey, Dirk I.
|  |  | Frickey, Eric J.
|  |  | Frickey, Harry J Jr.
|  |  | Frickey, Jimmy.
|  |  | Frickey, Rickey J.
|  |  | Frickey, Westley J.
|  |  | Friloux, Brad.
|  |  | Frisella, Jeanette M.
|  |  | Frisella, Jerome A Jr.
|  |  | Frost, Michael R.
|  |  | Fruge, Wade P.
|  |  | Gadson, James.
|  |  | Gaines, Dwayne.
|  |  | Gala, Christine.
|  |  | Galjour, Jess J.
|  |  | Galjour, Reed.
|  |  | Gallardo, John W.
|  |  | Gallardo, Johnny M.
|  |  | Galliano, Anthony.
|  |  | Galliano, Horace J.
|  |  | Galliano, Joseph Sr.
|  |  | Galliano, Logan J.
|  |  | Galliano, Lynne L.
|  |  | Galliano, Moise Jr.
|  |  | Galloway, AT Jr.
|  |  | Galloway, Jimmy D.
|  |  | Galloway, Judy L.
|  |  | Galloway, Mark D.
|  |  | Galt, Giles F.
|  |  | Gambarella, Luvencie J.
|  |  | Ganoi, Kristine.
|  |  | Garcia, Ana Maria.
|  |  | Garcia, Anthony.
|  |  | Garcia, Edward.
|  |  | Garcia, Kenneth.
|  |  | Garner, Larry S.
|  |  | Gary, Dalton J.
|  |  | Gary, Ernest J.
|  |  | Gary, Leonce Jr.
|  |  | Garza, Andres.
|  |  | Garza, Jose H.
|  |  | Gaskill, Elbert Clinton and Sandra.
|  |  | Gaspar, Timothy.
|  |  | Gaspard, Aaron and Hazel C.
|  |  | Gaspard, Dudley A Jr.
|  |  | Gaspard, Leonard J.
|  |  | Gaspard, Michael A.
|  |  | Gaspard, Michael Sr.
|  |  | Gaspard, Murry.
|  |  | Gaspard, Murry A Jr.
|  |  | Gaspard, Murry Sr.
|  |  | Gaspard, Murvin.
|  |  | Gaspard, Ronald Sr.
|  |  | Gaspard, Ronald Wayne Jr.
|  |  | Gaubert, Elizabeth.
|  |  | Gaubert, Gregory M.
|  |  | Gaubert, Melvin.
|  |  | Gaudet, Allen J IV.
|  |  | Gaudet, Ricky Jr.
|  |  | Gauthier, Hewitt J Sr.
|  |  | Gautreaux, William A.
|  |  | Gay, Norman F.
|  |  | Gay, Robert G.
|  |  | Gazzier, Daryl G.
|  |  | Gazzier, Emanuel A.
|  |  | Gazzier, Wilfred E.
|  |  | Gegenheimer, William F.
|  |  | Geiling, James.
|  |  | Geisman, Tony.
|  |  | Gentry, Robert.
|  |  | Gentry, Samuel W Jr.
|  |  | George, James J Jr.
|  |  | Gerica, Clara.
|  |  | Gerica, Peter.
|  |  | Giambrone, Corey P.
|  |  | Gibson, Eddie E.
|  |  | Gibson, Joseph.
|  |  | Gibson, Ronald F.
|  |  | Gilden, Eddie Jr.
|  |  | Gilden, Eddie Sr.
|  |  | Gilden, Inez W.
|  |  | Gilden, Wayne.
|  |  | Gillikin, James D.
|  |  | Girard, Chad Paul.
|  |  | Giroir, Mark S.
|  |  | Gisclair, Anthony J.
|  |  | Gisclair, Anthony Joseph Sr.
|  |  | Gisclair, August.
|  |  | Gisclair, Dallas J Sr.
|  |  | Gisclair, Doyle A.
|  |  | Gisclair, Kip J.
|  |  | Gisclair, Ramona D.
|  |  | Gisclair, Wade.
|  |  | Gisclair, Walter.
|  |  | Glover, Charles D.
|  |  | Glynn, Larry.
|  |  | Goetz, George.
|  |  | Goings, Robert Eugene.
|  |  | Golden, George T.
|  |  | Golden, William L.
|  |  | Gollot, Brian.
|  |  | Gollot, Edgar R.
|  |  | Gonzales, Arnold Jr.
|  |  | Gonzales, Mrs Cyril E Jr.
|  |  | Gonzales, Rene R.
|  |  | Gonzales, Rudolph S Jr.
|  |  | Gonzales, Rudolph S Sr.
|  |  | Gonzales, Sylvia A.
|  |  | Gonzales, Tim J.
|  |  | Gonzalez, Jorge Jr.
|  |  | Gonzalez, Julio.
|  |  | Gordon, Donald E.
|  |  | Gordon, Patrick Alvin.
|  |  | Gore, Henry H.
|  |  | Gore, Isabel.
|  |  | Gore, Pam.
|  |  | Gore, Thomas L.
|  |  | Gore, Timothy Ansel.
|  |  | Gottschalk, Gregory.
|  |  | Gourgues, Harold C Jr.
|  |  | Goutierrez, Tony C.
|  |  | Govea, Joaquin.
|  |  | Graham, Darrell.
|  |  | Graham, Steven H.
|  |  | Granger, Albert J Sr.
|  |  | Granich, James.
|  |  | Granier, Stephen J.
|  |  | Grass, Michael.
|  |  | Graves, Robert N Sr.
|  |  | Gray, Jeannette.
|  |  | Gray, Monroe.
|  |  | Gray, Shirley E.
|  |  | Gray, Wayne A Sr.
|  |  | Graybill, Ruston.
|  |  | Green, Craig X.
|  |  | Green, James W.
|  |  | Green, James W Jr.
|  |  | Green, Shaun.
|  |  | Greenlaw, W C Jr.
|  |  | Gregoire, Ernest L.
|  |  | Gregoire, Rita M.
|  |  | Gregory, Curtis B.
|  |  | Gregory, Mercedes E.
|  |  | Grice, Raymond L Jr.
|  |  | Griffin, Alden J Sr.
|  |  | Griffin, Craig.
|  |  | Griffin, David D.
|  |  | Griffin, Elvis Joseph Jr.
|  |  | Griffin, Faye.
|  |  | Griffin, Faye Ann.
|  |  | Griffin, Jimmie J.
|  |  | Griffin, Nolty J.
|  |  | Griffin, Rickey.
|  |  | Griffin, Sharon.
|  |  | Griffin, Timothy.
|  |  | Griffin, Troy D.
|  |  | Groff, Alfred A.
|  |  | Groff, John A.
|  |  | Groover, Hank.
|  |  | Gros, Brent J Sr.
|  |  | Gros, Craig J.
|  |  | Gros, Danny A.
|  |  | Gros, Gary Sr.
|  |  | Gros, Junius A Jr.
|  |  | Gros, Keven.
|  |  | Gros, Michael A.
|  |  | Gross, Homer.
|  |  | Grossie, Janet M.
|  |  | Grossie, Shane A.
|  |  | Grossie, Tate.
|  |  | Grow, Jimmie C.
|  |  | Guenther, John J.
|  |  | Guenther, Raphael.
|  |  | Guerra, Bruce.
|  |  | Guerra, Chad L.
|  |  | Guerra, Fabian C.
|  |  | Guerra, Guy A.
|  |  | Guerra, Jerry V Sr.
|  |  | Guerra, Kurt P Sr.
|  |  | Guerra, Ricky J Sr.
|  |  | Guerra, Robert.
|  |  | Guerra, Ryan.
|  |  | Guerra, Troy A.
|  |  | Guerra, William Jr.
|  |  | Guidroz, Warren J.
|  |  | Guidry, Alvin A.
|  |  | Guidry, Andy J.
|  |  | Guidry, Arthur.
|  |  | Guidry, Bud.
|  |  | Guidry, Calvin P.
|  |  | Guidry, Carl J.
|  |  | Guidry, Charles J.
|  |  | Guidry, Chris J.
|  |  | Guidry, Clarence P.
|  |  | Guidry, Clark.
|  |  | Guidry, Clint.
|  |  | Guidry, Clinton P Jr.
|  |  | Guidry, Clyde A.
|  |  | Guidry, David.
|  |  | Guidry, Dobie.
|  |  | Guidry, Douglas J Sr.
|  |  | Guidry, Elgy III.
|  |  | Guidry, Elgy Jr.
|  |  | Guidry, Elwin A Jr.
|  |  | Guidry, Gerald A.
|  |  | Guidry, Gordon Jr.
|  |  | Guidry, Guillaume A.
|  |  | Guidry, Harold.
|  |  | Guidry, Jason.
|  |  | Guidry, Jessie J.
|  |  | Guidry, Jessie Joseph.
|  |  | Guidry, Jonathan B.
|  |  | Guidry, Joseph T Jr.
|  |  | Guidry, Keith M.
|  |  | Guidry, Kenneth J.
|  |  | Guidry, Kerry A.
|  |  | Guidry, Marco.
|  |  | Guidry, Maurin T and Tamika.
|  |  | Guidry, Michael J.
|  |  | Guidry, Nolan J Sr.
|  |  | Guidry, Randy Peter Sr.
|  |  | Guidry, Rhonda S.
|  |  | Guidry, Robert C.
|  |  | Guidry, Robert Joseph.
|  |  | Guidry, Robert Wayne.
|  |  | Guidry, Roger.
|  |  | Guidry, Ronald.
|  |  | Guidry, Roy Anthony.
|  |  | Guidry, Roy J.
|  |  | Guidry, Tammy.
|  |  | Guidry, Ted.
|  |  | Guidry, Thomas P.
|  |  | Guidry, Timothy.
|  |  | Guidry, Troy.
|  |  | Guidry, Troy.
|  |  | Guidry, Ulysses.
|  |  | Guidry, Vicki.
|  |  | Guidry, Wayne J.
|  |  | Guidry, Wyatt.
|  |  | Guidry, Yvonne.
|  |  | Guidry-Calva, Holly A.
|  |  | Guilbeaux, Donald J.
|  |  | Guilbeaux, Lou.
|  |  | Guillie, Shirley.
|  |  | Guillory, Horace H.
|  |  | Guillot, Benjamin J Jr.
|  |  | Guillot, Rickey A.
|  |  | Gulledge, Lee.
|  |  | Gutierrez, Anita.
|  |  | Guy, Jody.
|  |  | Guy, Kimothy Paul.
|  |  | Guy, Wilson.
|  |  | Ha, Cherie Lan.
|  |  | Ha, Co Dong.
|  |  | Ha, Lai Thuy Thi.
|  |  | Ha, Lyanna.
|  |  | Hadwall, John R.
|  |  | Hafford, Johnny.
|  |  | Hagan, Jules.
|  |  | Hagan, Marianna.
|  |  | Haiglea, Robbin Richard.
|  |  | Hales, William E.
|  |  | Halili, Rhonda L.
|  |  | Hall, Byron S.
|  |  | Hall, Darrel T Sr.
|  |  | Hall, Lorrie A.
|  |  | Hammer, Michael P.
|  |  | Hammock, Julius Michael.
|  |  | Hancock, Jimmy L.
|  |  | Handlin, William Sr.
|  |  | Hang, Cam T.
|  |  | Hansen, Chris.
|  |  | Hansen, Eric P.
|  |  | Hanson, Edmond A.
|  |  | Harbison, Louis.
|  |  | Hardee, William P.
|  |  | Hardison, Louis.
|  |  | Hardy, John C.
|  |  | Hardy, Sharon.
|  |  | Harmon, Michelle.
|  |  | Harrington, George J.
|  |  | Harrington, Jay.
|  |  | Harris, Bobby D.
|  |  | Harris, Buster.
|  |  | Harris, Jimmy Wayne Sr.
|  |  | Harris, Johnny Ray.
|  |  | Harris, Kenneth A.
|  |  | Harris, Ronnie.
|  |  | Harris, Susan D.
|  |  | Harris, William.
|  |  | Harrison, Daniel L.
|  |  | Hartmann, Leon M Jr.
|  |  | Hartmann, Walter Jr.
|  |  | Hattaway, Errol Henry.
|  |  | Haycock, Kenneth.
|  |  | Haydel, Gregory.
|  |  | Hayes, Clinton.
|  |  | Hayes, Katherine F.
|  |  | Hayes, Lod Jr.
|  |  | Hean, Hong.
|  |  | Heathcock, Walter Jr.
|  |  | Hebert, Albert Joseph.
|  |  | Hebert, Bernie.
|  |  | Hebert, Betty Jo.
|  |  | Hebert, Chris.
|  |  | Hebert, Craig J.
|  |  | Hebert, David.
|  |  | Hebert, David Jr.
|  |  | Hebert, Earl J.
|  |  | Hebert, Eric J.
|  |  | Hebert, Jack M.
|  |  | Hebert, Johnny Paul.
|  |  | Hebert, Jonathan.
|  |  | Hebert, Jules J.
|  |  | Hebert, Kim M.
|  |  | Hebert, Lloyd S III.
|  |  | Hebert, Michael J.
|  |  | Hebert, Myron A.
|  |  | Hebert, Norman.
|  |  | Hebert, Patrick.
|  |  | Hebert, Patrick A.
|  |  | Hebert, Pennington Jr.
|  |  | Hebert, Philip.
|  |  | Hebert, Robert A.
|  |  | Hebert, Terry W.
|  |  | Hedrick, Gerald J Jr.
|  |  | Helmer, Claudia A.
|  |  | Helmer, Gerry J.
|  |  | Helmer, Herman C Jr.
|  |  | Helmer, Kenneth.
|  |  | Helmer, Larry J Sr.
|  |  | Helmer, Michael A Sr.
|  |  | Helmer, Rusty L.
|  |  | Helmer, Windy.
|  |  | Hemmenway, Jack.
|  |  | Henderson, Brad.
|  |  | Henderson, Curtis.
|  |  | Henderson, David A Jr.
|  |  | Henderson, David A Sr.
|  |  | Henderson, Johnny.
|  |  | Henderson, Olen.
|  |  | Henderson, P Loam.
|  |  | Henry, Joanne.
|  |  | Henry, Rodney.
|  |  | Herbert, Patrick and Terry.
|  |  | Hereford, Rodney O Jr.
|  |  | Hereford, Rodney O Sr.
|  |  | Hernandez, Corey.
|  |  | Herndon, Mark.
|  |  | Hertel, Charles W.
|  |  | Hertz, Edward C Sr.
|  |  | Hess, Allen L Sr.
|  |  | Hess, Henry D Jr.
|  |  | Hess, Jessica R.
|  |  | Hess, Wayne B.
|  |  | Hewett, Emma.
|  |  | Hewett, James.
|  |  | Hickman, John.
|  |  | Hickman, Marvin.
|  |  | Hicks, Billy M.
|  |  | Hicks, James W.
|  |  | Hicks, Larry W.
|  |  | Hicks, Walter R.
|  |  | Hien, Nguyen.
|  |  | Higgins, Joseph J III.
|  |  | Hill, Darren S.
|  |  | Hill, Joseph R.
|  |  | Hill, Sharon.
|  |  | Hill, Willie E Jr.
|  |  | Hills, Herman W.
|  |  | Hingle, Barbara E.
|  |  | Hingle, Rick A.
|  |  | Hingle, Roland T Jr.
|  |  | Hingle, Roland T Sr.
|  |  | Hingle, Ronald J.
|  |  | Hinojosa, R.
|  |  | Hinojosa, Randy.
|  |  | Hinojosa, Ricky A.
|  |  | Hipps, Nicole Marie.
|  |  | Ho, Dung Tan.
|  |  | Ho, Hung.
|  |  | Ho, Jennifer.
|  |  | Ho, Jimmy.
|  |  | Ho, Lam.
|  |  | Ho, Nam.
|  |  | Ho, Nga T.
|  |  | Ho, O.
|  |  | Ho, Sang N.
|  |  | Ho, Thanh Quoc.
|  |  | Ho, Thien Dang.
|  |  | Ho, Tien Van.
|  |  | Ho, Tri Tran.
|  |  | Hoang, Dung T.
|  |  | Hoang, Hoa T and Tam Hoang.
|  |  | Hoang, Huy Van.
|  |  | Hoang, Jennifer Vu.
|  |  | Hoang, John.
|  |  | Hoang, Julie.
|  |  | Hoang, Kimberly.
|  |  | Hoang, Linda.
|  |  | Hoang, Loan.
|  |  | Hoang, San Ngoc.
|  |  | Hoang, Tro Van.
|  |  | Hoang, Trung Kim.
|  |  | Hoang, Trung Tuan.
|  |  | Hoang, Vincent Huynh.
|  |  | Hodges, Ralph W.
|  |  | Hoffpaviiz, Harry K.
|  |  | Holland, Vidal.
|  |  | Holler, Boyce Dwight Jr.
|  |  | Hollier, Dennis J.
|  |  | Holloway, Carl D.
|  |  | Hong, Tai Van.
|  |  | Hood, Malcolm.
|  |  | Hopton, Douglas.
|  |  | Horaist, Shawn P.
|  |  | Hostetler, Warren L II.
|  |  | Hotard, Claude.
|  |  | Hotard, Emile J Jr.
|  |  | Howard, Jeff.
|  |  | Howerin, Billy Sr.
|  |  | Howerin, Wendell Sr.
|  |  | Hubbard, Keith.
|  |  | Hubbard, Perry III.
|  |  | Huber, Berry T.
|  |  | Huber, Charles A.
|  |  | Huck, Irma Elaine.
|  |  | Huck, Steven R.
|  |  | Huckabee, Harold.
|  |  | Hue, Patrick A.
|  |  | Hughes, Brad J.
|  |  | Hults, Thomas.
|  |  | Hutcherson, Daniel J.
|  |  | Hutchinson, Douglas.
|  |  | Hutchinson, George D.
|  |  | Hutchinson, William H.
|  |  | Hutto, Cynthia E.
|  |  | Hutto, Henry G Jr.
|  |  | Huynh, Chien Thi.
|  |  | Huynh, Dong Xuan.
|  |  | Huynh, Dung.
|  |  | Huynh, Dung V.
|  |  | Huynh, Hai.
|  |  | Huynh, Hai.
|  |  | Huynh, Hai Van.
|  |  | Huynh, Hoang D.
|  |  | Huynh, Hoang Van.
|  |  | Huynh, Hung.
|  |  | Huynh, James N.
|  |  | Huynh, Johhny Hiep.
|  |  | Huynh, Johnnie.
|  |  | Huynh, Kim.
|  |  | Huynh, Lay.
|  |  | Huynh, Long.
|  |  | Huynh, Mack Van.
|  |  | Huynh, Mau Van.
|  |  | Huynh, Minh.
|  |  | Huynh, Minh Van.
|  |  | Huynh, Nam Van.
|  |  | Huynh, Thai.
|  |  | Huynh, Tham Thi.
|  |  | Huynh, Thanh.
|  |  | Huynh, Thanh.
|  |  | Huynh, The V.
|  |  | Huynh, Tri.
|  |  | Huynh, Truc.
|  |  | Huynh, Tu.
|  |  | Huynh, Tu.
|  |  | Huynh, Tung Van.
|  |  | Huynh, Van X.
|  |  | Huynh, Viet Van.
|  |  | Huynh, Vuong Van.
|  |  | Hymel, Joseph Jr.
|  |  | Hymel, Michael D.
|  |  | Hymel, Nolan J Sr.
|  |  | Ingham, Herbert W.
|  |  | Inglis, Richard M.
|  |  | Ingraham, Joseph S.
|  |  | Ingraham, Joyce.
|  |  | Ipock, Billy.
|  |  | Ipock, William B.
|  |  | Ireland, Arthur Allen.
|  |  | Iver, George Jr.
|  |  | Jackson, Alfred M.
|  |  | Jackson, Carl John.
|  |  | Jackson, David.
|  |  | Jackson, Eugene O.
|  |  | Jackson, Glenn C Jr.
|  |  | Jackson, Glenn C Sr.
|  |  | Jackson, James Jerome.
|  |  | Jackson, John D.
|  |  | Jackson, John Elton Sr.
|  |  | Jackson, Levi.
|  |  | Jackson, Nancy L.
|  |  | Jackson, Robert W.
|  |  | Jackson, Shannon.
|  |  | Jackson, Shaun C.
|  |  | Jackson, Steven A.
|  |  | Jacob, Ronald R.
|  |  | Jacob, Warren J Jr.
|  |  | Jacobs, L Anthony.
|  |  | Jacobs, Lawrence F.
|  |  | Jarreau, Billy and Marilyn.
|  |  | Jarvis, James D.
|  |  | Jaye, Emma.
|  |  | Jeanfreau, Vincent R.
|  |  | Jefferies, William.
|  |  | Jemison, Timothy Michael Sr.
|  |  | Jennings, Jacob.
|  |  | Joffrion, Harold J Jr.
|  |  | Johnson, Albert F.
|  |  | Johnson, Ashley Lamar.
|  |  | Johnson, Bernard Jr.
|  |  | Johnson, Brent W.
|  |  | Johnson, Bruce Warem.
|  |  | Johnson, Carl S.
|  |  | Johnson, Carolyn.
|  |  | Johnson, Clyde Sr.
|  |  | Johnson, David G.
|  |  | Johnson, David Paul.
|  |  | Johnson, Gary Allen Sr.
|  |  | Johnson, George D.
|  |  | Johnson, Michael A.
|  |  | Johnson, Randy J.
|  |  | Johnson, Regenia.
|  |  | Johnson, Robert.
|  |  | Johnson, Ronald Ray Sr.
|  |  | Johnson, Steve.
|  |  | Johnson, Thomas Allen Jr.
|  |  | Johnston, Ronald.
|  |  | Joly, Nicholas J Jr.
|  |  | Jones, Charles.
|  |  | Jones, Clinton.
|  |  | Jones, Daisy Mae.
|  |  | Jones, Jeffery E.
|  |  | Jones, Jerome N Sr.
|  |  | Jones, John W.
|  |  | Jones, Larry.
|  |  | Jones, Len.
|  |  | Jones, Michael G Sr.
|  |  | Jones, Paul E.
|  |  | Jones, Perry T Sr.
|  |  | Jones, Ralph William.
|  |  | Jones, Richard G Sr.
|  |  | Jones, Stephen K.
|  |  | Jones, Wayne.
|  |  | Joost, Donald F.
|  |  | Jordan, Dean.
|  |  | Jordan, Hubert William III (Bert).
|  |  | Jordan, Hurbert W Jr.
|  |  | Judalet, Ramon G.
|  |  | Judy, William Roger.
|  |  | Julian, Ida.
|  |  | Julian, John I Sr.
|  |  | Juneau, Anthony Sr.
|  |  | Juneau, Bruce.
|  |  | Juneau, Robert A Jr and Laura K.
|  |  | Jurjevich, Leander J.
|  |  | Kain, Jules B Sr.
|  |  | Kain, Martin A.
|  |  | Kalliainen, Dale.
|  |  | Kalliainen, Richard.
|  |  | Kang, Chamroeun.
|  |  | Kang, Sambo.
|  |  | Kap, Brenda.
|  |  | Keen, Robert Steven.
|  |  | Keenan, Robert M.
|  |  | Kellum, Kenneth Sr.
|  |  | Kellum, Larry Gray Sr.
|  |  | Kellum, Roxanne.
|  |  | Kelly, Roger B.
|  |  | Kelly, Thomas E.
|  |  | Kendrick, Chuck J.
|  |  | Kennair, Michael S.
|  |  | Kennedy, Dothan.
|  |  | Kenney, David Jr.
|  |  | Kenney, Robert W.
|  |  | Kent, Michael A.
|  |  | Keo, Bunly.
|  |  | Kerchner, Steve.
|  |  | Kern, Thurmond.
|  |  | Khin, Sochenda.
|  |  | Khui, Lep and Nga Ho.
|  |  | Kidd, Frank.
|  |  | Kiesel, Edward C and Lorraine T.
|  |  | Kiff, Hank J.
|  |  | Kiff, Melvin.
|  |  | Kiffe, Horace.
|  |  | Kim, Puch.
|  |  | Kimbrough, Carson.
|  |  | Kim-Tun, Soeun.
|  |  | King, Andy A.
|  |  | King, Donald Jr.
|  |  | King, James B.
|  |  | King, Thornell.
|  |  | King, Wesley.
|  |  | Kit, An.
|  |  | Kizer, Anthony J.
|  |  | Kleimann, Robert.
|  |  | Knapp, Alton P Jr.
|  |  | Knapp, Alton P Sr.
|  |  | Knapp, Ellis L Jr.
|  |  | Knapp, Melvin L.
|  |  | Knapp, Theresa.
|  |  | Knecht, Frederick Jr.
|  |  | Knezek, Lee.
|  |  | Knight, George.
|  |  | Knight, Keith B.
|  |  | Knight, Robert E.
|  |  | Koch, Howard J.
|  |  | Kong, Seng.
|  |  | Konitz, Bobby.
|  |  | Koo, Herman.
|  |  | Koonce, Curtis S.
|  |  | Koonce, Howard N.
|  |  | Kopszywa, Mark L.
|  |  | Kopszywa, Stanley J.
|  |  | Kotulja, Stejepan.
|  |  | Kraemer, Bridget.
|  |  | Kraemer, Wilbert J.
|  |  | Kraemer, Wilbert Jr.
|  |  | Kramer, David.
|  |  | Krantz, Arthur Jr.
|  |  | Krantz, Lori.
|  |  | Kraver, C W.
|  |  | Kreger, Ronald A Sr.
|  |  | Kreger, Roy J Sr.
|  |  | Kreger, Ryan A.
|  |  | Krennerich, Raymond A.
|  |  | Kroke, Stephen E.
|  |  | Kruth, Frank D.
|  |  | Kuchler, Alphonse L III.
|  |  | Kuhn, Bruce A Sr.
|  |  | Kuhn, Gerard R Jr.
|  |  | Kuhn, Gerard R Sr.
|  |  | Kuhns, Deborah.
|  |  | LaBauve, Kerry.
|  |  | LaBauve, Sabrina.
|  |  | LaBauve, Terry.
|  |  | LaBiche, Todd A.
|  |  | LaBove, Carroll.
|  |  | LaBove, Frederick P.
|  |  | Lachica, Jacqueline.
|  |  | Lachico, Douglas.
|  |  | Lacobon, Tommy W Jr.
|  |  | Lacobon, Tony C.
|  |  | LaCoste, Broddie.
|  |  | LaCoste, Carl.
|  |  | LaCoste, Dennis E.
|  |  | LaCoste, Grayland J.
|  |  | LaCoste, Malcolm Jr.
|  |  | LaCoste, Melvin.
|  |  | LaCoste, Melvin W Jr.
|  |  | LaCoste, Ravin J Jr.
|  |  | LaCoste, Ravin Sr.
|  |  | Ladner, Clarence J III.
|  |  | Ladson, Earlene G.
|  |  | LaFont, Douglas A Sr.
|  |  | LaFont, Edna S.
|  |  | LaFont, Jackin.
|  |  | LaFont, Noces J Jr.
|  |  | LaFont, Weyland J Sr.
|  |  | LaFrance, Joseph T.
|  |  | Lagarde, Frank N.
|  |  | Lagarde, Gary Paul.
|  |  | Lagasse, Michael F.
|  |  | Lai, Hen K.
|  |  | Lai, Then.
|  |  | Lam, Cang Van.
|  |  | Lam, Cui.
|  |  | Lam, Dong Van.
|  |  | Lam, Hiep Tan.
|  |  | Lam, Lan Van.
|  |  | Lam, Lee Phenh.
|  |  | Lam, Phan.
|  |  | Lam, Qui.
|  |  | Lam, Sochen.
|  |  | Lam, Tai.
|  |  | Lam, Tinh Huu.
|  |  | Lambas, Jessie J Sr.
|  |  | Lanclos, Paul.
|  |  | Landry, David A.
|  |  | Landry, Dennis J.
|  |  | Landry, Edward N Jr.
|  |  | Landry, George.
|  |  | Landry, George M.
|  |  | Landry, James F.
|  |  | Landry, Jude C.
|  |  | Landry, Robert E.
|  |  | Landry, Ronald J.
|  |  | Landry, Samuel J Jr.
|  |  | Landry, Tracy.
|  |  | Lane, Daniel E.
|  |  | Lapeyrouse, Lance M.
|  |  | Lapeyrouse, Rosalie.
|  |  | Lapeyrouse, Tillman Joseph.
|  |  | LaRive, James L Jr.
|  |  | LaRoche, Daniel S.
|  |  | Lasseigne, Betty.
|  |  | Lasseigne, Blake.
|  |  | Lasseigne, Floyd.
|  |  | Lasseigne, Frank.
|  |  | Lasseigne, Harris Jr.
|  |  | Lasseigne, Ivy Jr.
|  |  | Lasseigne, Jefferson.
|  |  | Lasseigne, Jefferson P Jr.
|  |  | Lasseigne, Johnny J.
|  |  | Lasseigne, Marlene.
|  |  | Lasseigne, Nolan J.
|  |  | Lasseigne, Trent.
|  |  | Lat, Chhiet.
|  |  | Latapie, Charlotte A.
|  |  | Latapie, Crystal.
|  |  | Latapie, Jerry.
|  |  | Latapie, Joey G.
|  |  | Latapie, Joseph.
|  |  | Latapie, Joseph F Sr.
|  |  | Latapie, Travis.
|  |  | Latiolais, Craig J.
|  |  | Latiolais, Joel.
|  |  | Lau, Ho Thanh.
|  |  | Laughlin, James G.
|  |  | Laughlin, James Mitchell.
|  |  | Laurent, Yvonne M.
|  |  | Lavergne, Roger.
|  |  | Lawdros, Terrance Jr.
|  |  | Layrisson, Michael A III.
|  |  | Le, Amanda.
|  |  | Le, An Van.
|  |  | Le, Ben.
|  |  | Le, Binh T.
|  |  | Le, Cheo Van.
|  |  | Le, Chinh Thanh.
|  |  | Le, Chinh Thanh and Yen Vo.
|  |  | Le, Cu Thi.
|  |  | Le, Dai M.
|  |  | Le, Dale.
|  |  | Le, David Rung.
|  |  | Le, Du M.
|  |  | Le, Duc V.
|  |  | Le, Duoc M.
|  |  | Le, Hien V.
|  |  | Le, Houston T.
|  |  | Le, Hung.
|  |  | Le, Jimmy.
|  |  | Le, Jimmy and Hoang.
|  |  | Le, Khoa.
|  |  | Le, Kim.
|  |  | Le, Ky Van.
|  |  | Le, Lang Van.
|  |  | Le, Lily.
|  |  | Le, Lisa Tuyet Thi.
|  |  | Le, Loi.
|  |  | Le, Minh Van.
|  |  | Le, Muoi Van.
|  |  | Le, My.
|  |  | Le, My V.
|  |  | Le, Nam and Xhan-Minh Le.
|  |  | Le, Nam Van.
|  |  | Le, Nhieu T.
|  |  | Le, Nhut Hoang.
|  |  | Le, Nu Thi.
|  |  | Le, Phuc Van.
|  |  | Le, Que V.
|  |  | Le, Quy.
|  |  | Le, Robert.
|  |  | Le, Sam Van.
|  |  | Le, Sau V.
|  |  | Le, Son.
|  |  | Le, Son.
|  |  | Le, Son H.
|  |  | Le, Son Quoc.
|  |  | Le, Son Van.
|  |  | Le, Su.
|  |  | Le, Tam V.
|  |  | Le, Thanh Huong.
|  |  | Le, Tong Minh.
|  |  | Le, Tony.
|  |  | Le, Tracy Lan Chi.
|  |  | Le, Tuan Nhu.
|  |  | Le, Viet Hoang.
|  |  | Le, Vui.
|  |  | Leaf, Andrew Scott.
|  |  | Leary, Roland.
|  |  | LeBeauf, Thomas.
|  |  | LeBlanc, Donnie.
|  |  | LeBlanc, Edwin J.
|  |  | LeBlanc, Enoch P.
|  |  | LeBlanc, Gareth R III.
|  |  | LeBlanc, Gareth R Jr.
|  |  | LeBlanc, Gerald E.
|  |  | LeBlanc, Hubert C.
|  |  | LeBlanc, Jerald.
|  |  | LeBlanc, Jesse Jr.
|  |  | LeBlanc, Keenon Anthony.
|  |  | LeBlanc, Lanvin J.
|  |  | LeBlanc, Luke A.
|  |  | LeBlanc, Marty J.
|  |  | LeBlanc, Marty J Jr.
|  |  | LeBlanc, Mickel J.
|  |  | LeBlanc, Robert Patrick.
|  |  | LeBlanc, Scotty M.
|  |  | LeBlanc, Shelton.
|  |  | LeBlanc, Terry J.
|  |  | LeBoeuf, Brent J.
|  |  | LeBoeuf, Emery J.
|  |  | LeBoeuf, Joseph R.
|  |  | LeBoeuf, Tammy Y.
|  |  | LeBouef, Dale.
|  |  | LeBouef, Edward J.
|  |  | LeBouef, Ellis J Jr.
|  |  | LeBouef, Gillis.
|  |  | LeBouef, Jimmie.
|  |  | LeBouef, Leslie.
|  |  | LeBouef, Lindy J.
|  |  | LeBouef, Micheal J.
|  |  | LeBouef, Raymond.
|  |  | LeBouef, Tommy J.
|  |  | LeBouef, Wiley Sr.
|  |  | LeBourgeois, Stephen A.
|  |  | LeCompte, Alena.
|  |  | LeCompte, Aubrey J.
|  |  | LeCompte, Etha.
|  |  | LeCompte, Jesse C Jr.
|  |  | LeCompte, Jesse Jr.
|  |  | LeCompte, Jesse Sr.
|  |  | LeCompte, Lyle.
|  |  | LeCompte, Patricia F.
|  |  | LeCompte, Todd.
|  |  | LeCompte, Troy A Sr.
|  |  | Ledet, Brad.
|  |  | Ledet, Bryan.
|  |  | Ledet, Carlton.
|  |  | Ledet, Charles J.
|  |  | Ledet, Jack A.
|  |  | Ledet, Kenneth A.
|  |  | Ledet, Mark.
|  |  | Ledet, Maxine B.
|  |  | Ledet, Mervin.
|  |  | Ledet, Phillip John.
|  |  | Ledoux, Dennis.
|  |  | Ledwig, Joe J.
|  |  | Lee, Carl.
|  |  | Lee, James K.
|  |  | Lee, Marilyn.
|  |  | Lee, Otis M Jr.
|  |  | Lee, Raymond C.
|  |  | Lee, Robert E.
|  |  | Lee, Steven J.
|  |  | Leek, Mark A.
|  |  | LeGaux, Roy J Jr.
|  |  | Legendre, Kerry.
|  |  | Legendre, Paul.
|  |  | Leger, Andre.
|  |  | LeGros, Alex M.
|  |  | LeJeune, Philip Jr.
|  |  | LeJeune, Philip Sr.
|  |  | LeJeune, Ramona V.
|  |  | LeJeunee, Debbie.
|  |  | LeJuine, Eddie R.
|  |  | LeLand, Allston Bochet.
|  |  | Leland, Rutledge B III.
|  |  | Leland, Rutledge B Jr.
|  |  | LeLeaux, David.
|  |  | Leleux, Kevin J.
|  |  | Lemoine, Jeffery Jr.
|  |  | Leonard, Dan.
|  |  | Leonard, Dexter J Jr.
|  |  | Leonard, Micheal A.
|  |  | Lepine, Leroy L.
|  |  | Lesso, Rudy Jr.
|  |  | Lester, Shawn.
|  |  | Levron, Dale T.
|  |  | Levy, Patrick T.
|  |  | Lewis, Kenneth.
|  |  | Lewis, Mark Steven.
|  |  | Libersat, Anthony R.
|  |  | Libersat, Kim.
|  |  | Licatino, Daniel Jr.
|  |  | Lichenstein, Donald L.
|  |  | Lilley, Douglas P.
|  |  | Lim, Chhay.
|  |  | Lim, Koung.
|  |  | Lim, Tav Seng.
|  |  | Linden, Eric L.
|  |  | Liner, Claude J Jr.
|  |  | Liner, Harold.
|  |  | Liner, Jerry.
|  |  | Liner, Kevin.
|  |  | Liner, Michael B Sr.
|  |  | Liner, Morris T Jr.
|  |  | Liner, Morris T Sr.
|  |  | Liner, Tandy M.
|  |  | Linh, Pham.
|  |  | Linwood, Dolby.
|  |  | Lirette, Alex J Sr.
|  |  | Lirette, Bobby and Sheri.
|  |  | Lirette, Chester Patrick.
|  |  | Lirette, Daniel J.
|  |  | Lirette, Dean J.
|  |  | Lirette, Delvin J Jr.
|  |  | Lirette, Delvin Jr.
|  |  | Lirette, Desaire J.
|  |  | Lirette, Eugis P Sr.
|  |  | Lirette, Guy A.
|  |  | Lirette, Jeannie.
|  |  | Lirette, Kern A.
|  |  | Lirette, Ron C.
|  |  | Lirette, Russell (Chico) Jr.
|  |  | Lirette, Shaun Patrick.
|  |  | Lirette, Terry J Sr.
|  |  | Little, William A.
|  |  | Little, William Boyd.
|  |  | Liv, Niem S.
|  |  | Livaudais, Ernest J.
|  |  | Liverman, Harry R.
|  |  | LoBue, Michael Anthony Sr.
|  |  | Locascio, Dustin.
|  |  | Lockhart, William T.
|  |  | Lodrigue, Jimmy A.
|  |  | Lodrigue, Kerry.
|  |  | Lombardo, Joseph P.
|  |  | Lombas, James A Jr.
|  |  | Lombas, Kim D.
|  |  | Londrie, Harley.
|  |  | Long, Cao Thanh.
|  |  | Long, Dinh.
|  |  | Long, Robert.
|  |  | Longo, Ronald S Jr.
|  |  | Longwater, Ryan Heath.
|  |  | Loomer, Rhonda.
|  |  | Lopez, Celestino.
|  |  | Lopez, Evelio.
|  |  | Lopez, Harry N.
|  |  | Lopez, Ron.
|  |  | Lopez, Scott.
|  |  | Lopez, Stephen R Jr.
|  |  | Lord, Michael E Sr.
|  |  | Loupe, George Jr.
|  |  | Loupe, Ted.
|  |  | Lovell, Billy.
|  |  | Lovell, Bobby Jason.
|  |  | Lovell, Bradford John.
|  |  | Lovell, Charles J Jr.
|  |  | Lovell, Clayton.
|  |  | Lovell, Douglas P.
|  |  | Lovell, Jacob G.
|  |  | Lovell, Lois.
|  |  | Lovell, Slade M.
|  |  | Luke, Bernadette C.
|  |  | Luke, David.
|  |  | Luke, Dustan.
|  |  | Luke, Henry.
|  |  | Luke, Jeremy Paul.
|  |  | Luke, Keith J.
|  |  | Luke, Patrick A.
|  |  | Luke, Patrick J.
|  |  | Luke, Paul Leroy.
|  |  | Luke, Rudolph J.
|  |  | Luke, Samantha.
|  |  | Luke, Sidney Jr.
|  |  | Luke, Terry Patrick Jr.
|  |  | Luke, Terry Patrick Sr.
|  |  | Luke, Timothy.
|  |  | Luke, Wiltz J.
|  |  | Lund, Ora G.
|  |  | Luneau, Ferrell J.
|  |  | Luong, Kevin.
|  |  | Luong, Thu X.
|  |  | Luscy, Lydia.
|  |  | Luscy, Richard.
|  |  | Lutz, William A.
|  |  | Luu, Binh.
|  |  | Luu, Vinh.
|  |  | Luu, Vinh V.
|  |  | Ly, Bui.
|  |  | Ly, Hen.
|  |  | Ly, Hoc.
|  |  | Ly, Kelly D.
|  |  | Ly, Nu.
|  |  | Ly, Sa.
|  |  | Ly, Ven.
|  |  | Lyall, Rosalie.
|  |  | Lycett, James A.
|  |  | Lyons, Berton J.
|  |  | Lyons, Berton J Sr.
|  |  | Lyons, Jack.
|  |  | Lyons, Jerome M.
|  |  | Mackey, Marvin Sr.
|  |  | Mackie, Kevin L.
|  |  | Maggio, Wayne A.
|  |  | Magwood, Edwin Wayne.
|  |  | Mai, Danny V.
|  |  | Mai, Lang V.
|  |  | Mai, Tai.
|  |  | Mai, Trach Xuan.
|  |  | Maise, Rubin J.
|  |  | Maise, Todd.
|  |  | Majoue, Ernest J.
|  |  | Majoue, Nathan L.
|  |  | Malcombe, David.
|  |  | Mallett, Irvin Ray.
|  |  | Mallett, Jimmie.
|  |  | Mallett, Lawrence J.
|  |  | Mallett, Mervin B.
|  |  | Mallett, Rainbow.
|  |  | Mallett, Stephney.
|  |  | Malley, Ned F Jr.
|  |  | Mamolo, Charles H Sr.
|  |  | Mamolo, Romeo C Jr.
|  |  | Mamolo, Terry A.
|  |  | Mancera, Jesus.
|  |  | Manuel, Joseph R.
|  |  | Manuel, Shon.
|  |  | Mao, Chandarasy.
|  |  | Mao, Kim.
|  |  | Marcel, Michelle.
|  |  | Marchese, Joe Jr.
|  |  | Mareno, Ansley.
|  |  | Mareno, Brent J.
|  |  | Mareno, Kenneth L.
|  |  | Marie, Allen J.
|  |  | Marie, Marty.
|  |  | Marmande, Al.
|  |  | Marmande, Alidore.
|  |  | Marmande, Denise.
|  |  | Marquize, Heather.
|  |  | Marquize, Kip.
|  |  | Marris, Roy C Jr.
|  |  | Martin, Darren.
|  |  | Martin, Dean J.
|  |  | Martin, Dennis.
|  |  | Martin, Jody W.
|  |  | Martin, John F III.
|  |  | Martin, Michael A.
|  |  | Martin, Nora S.
|  |  | Martin, Rod J.
|  |  | Martin, Roland J Jr.
|  |  | Martin, Russel J Sr.
|  |  | Martin, Sharon J.
|  |  | Martin, Tanna G.
|  |  | Martin, Wendy.
|  |  | Martinez, Carl R.
|  |  | Martinez, Henry.
|  |  | Martinez, Henry Joseph.
|  |  | Martinez, Lupe.
|  |  | Martinez, Michael.
|  |  | Martinez, Rene J.
|  |  | Mason, James F Jr.
|  |  | Mason, Johnnie W.
|  |  | Mason, Luther.
|  |  | Mason, Mary Lois.
|  |  | Mason, Percy D Jr.
|  |  | Mason, Walter.
|  |  | Matherne, Anthony.
|  |  | Matherne, Blakland Sr.
|  |  | Matherne, Bradley J.
|  |  | Matherne, Claude I Jr.
|  |  | Matherne, Clifford P.
|  |  | Matherne, Curlis J.
|  |  | Matherne, Forest J.
|  |  | Matherne, George J.
|  |  | Matherne, Glenn A.
|  |  | Matherne, Grace L.
|  |  | Matherne, James C.
|  |  | Matherne, James J Jr.
|  |  | Matherne, James J Sr.
|  |  | Matherne, Joey A.
|  |  | Matherne, Keith.
|  |  | Matherne, Larry Jr.
|  |  | Matherne, Louis M Sr.
|  |  | Matherne, Louis Michael.
|  |  | Matherne, Nelson.
|  |  | Matherne, Thomas G.
|  |  | Matherne, Thomas G Jr.
|  |  | Matherne, Thomas Jr.
|  |  | Matherne, Thomas M Sr.
|  |  | Matherne, Wesley J.
|  |  | Mathews, Patrick.
|  |  | Mathurne, Barry.
|  |  | Matte, Martin J Sr.
|  |  | Mauldin, Johnny.
|  |  | Mauldin, Mary.
|  |  | Mauldin, Shannon.
|  |  | Mavar, Mark D.
|  |  | Mayeux, Lonies A Jr.
|  |  | Mayeux, Roselyn P.
|  |  | Mayfield, Gary.
|  |  | Mayfield, Henry A Jr.
|  |  | Mayfield, James J III.
|  |  | Mayon, Allen J.
|  |  | Mayon, Wayne Sr.
|  |  | McAnespy, Henry.
|  |  | McAnespy, Louis.
|  |  | McCall, Marcus H.
|  |  | McCall, R Terry Sr.
|  |  | McCarthy, Carliss.
|  |  | McCarthy, Michael.
|  |  | McCauley, Byron Keith.
|  |  | McCauley, Katrina.
|  |  | McClantoc, Robert R and Debra.
|  |  | McClellan, Eugene Gardner.
|  |  | McCormick, Len.
|  |  | McCuiston, Denny Carlton.
|  |  | McDonald, Allan.
|  |  | McElroy, Harry J.
|  |  | McFarlain, Merlin J Jr.
|  |  | McGuinn, Dennis.
|  |  | McIntosh, James Richard.
|  |  | McIntyre, Michael D.
|  |  | McIver, John H Jr.
|  |  | McKendree, Roy.
|  |  | McKenzie, George B.
|  |  | McKinzie, Bobby E.
|  |  | McKoin, Robert.
|  |  | McKoin, Robert F Jr.
|  |  | McLendon, Jonathon S.
|  |  | McNab, Robert Jr.
|  |  | McQuaig, Don W.
|  |  | McQuaig, Oliver J.
|  |  | Medine, David P.
|  |  | Mehaffey, John P.
|  |  | Melancon, Brent K.
|  |  | Melancon, Neva.
|  |  | Melancon, Rickey.
|  |  | Melancon, Roland Jr.
|  |  | Melancon, Roland T Jr.
|  |  | Melancon, Sean P.
|  |  | Melancon, Terral J.
|  |  | Melancon, Timmy J.
|  |  | Melanson, Ozimea J III.
|  |  | Melerine, Angela.
|  |  | Melerine, Brandon T.
|  |  | Melerine, Claude A.
|  |  | Melerine, Claude A Jr.
|  |  | Melerine, Dean J.
|  |  | Melerine, Eric W Jr.
|  |  | Melerine, John D Sr.
|  |  | Melerine, Linda C.
|  |  | Melerine, Raymond Joseph.
|  |  | Melford, Daniel W Sr.
|  |  | Mello, Nelvin.
|  |  | Men, Sophin.
|  |  | Menendez, Wade E.
|  |  | Menesses, Dennis.
|  |  | Menesses, James H.
|  |  | Menesses, Jimmy.
|  |  | Menesses, Louis.
|  |  | Menge, Lionel A.
|  |  | Menge, Vincent J.
|  |  | Mercy, Dempsey.
|  |  | Merrick, Harold A.
|  |  | Merrick, Kevin Sr.
|  |  | Merritt, Darren Sr.
|  |  | Messer, Chase.
|  |  | Meyers, Otis J.
|  |  | Miarm, Soeum.
|  |  | Michel, Steven D.
|  |  | Middleton, Dan Sr.
|  |  | Migues, Henry.
|  |  | Migues, Kevin L Sr.
|  |  | Milam, Ricky.
|  |  | Miles, Ricky David.
|  |  | Miley, Donna J.
|  |  | Militello, Joseph.
|  |  | Miller, David W.
|  |  | Miller, Fletcher N.
|  |  | Miller, James A.
|  |  | Miller, Larry B.
|  |  | Miller, Mabry Allen Jr.
|  |  | Miller, Michael E.
|  |  | Miller, Michele K.
|  |  | Miller, Randy A.
|  |  | Miller, Rhonda E.
|  |  | Miller, Wayne.
|  |  | Millet, Leon B.
|  |  | Millington, Donnie.
|  |  | Millington, Ronnie.
|  |  | Millis, Moses.
|  |  | Millis, Raeford.
|  |  | Millis, Timmie Lee.
|  |  | Mine, Derrick.
|  |  | Miner, Peter G.
|  |  | Minh, Kha.
|  |  | Minh, Phuc-Truong.
|  |  | Mitchell, Ricky Allen.
|  |  | Mitchell, Todd.
|  |  | Mitchum, Francis Craig.
|  |  | Mixon, G C.
|  |  | Mobley, Bryan A.
|  |  | Mobley, Jimmy Sr.
|  |  | Mobley, Robertson.
|  |  | Mock, Frank Sr.
|  |  | Mock, Frankie E Jr.
|  |  | Mock, Jesse R II.
|  |  | Mock, Terry Lyn.
|  |  | Molero, Louis F III.
|  |  | Molero, Louis Frank.
|  |  | Molinere, Al L.
|  |  | Molinere, Floyd.
|  |  | Molinere, Roland Jr.
|  |  | Molinere, Stacey.
|  |  | Moll, Angela.
|  |  | Moll, Jerry J Jr.
|  |  | Moll, Jonathan P.
|  |  | Moll, Julius J.
|  |  | Moll, Randall Jr.
|  |  | Mollere, Randall.
|  |  | Mones, Philip J Jr.
|  |  | Mones, Tino.
|  |  | Moody, Guy D.
|  |  | Moore, Carl Stephen.
|  |  | Moore, Curtis L.
|  |  | Moore, Kenneth.
|  |  | Moore, Richard.
|  |  | Moore, Willis.
|  |  | Morales, Anthony.
|  |  | Morales, Clinton A.
|  |  | Morales, Daniel Jr.
|  |  | Morales, Daniel Sr.
|  |  | Morales, David.
|  |  | Morales, Elwood J Jr.
|  |  | Morales, Eugene J Jr.
|  |  | Morales, Eugene J Sr.
|  |  | Morales, Kimberly.
|  |  | Morales, Leonard L.
|  |  | Morales, Phil J Jr.
|  |  | Morales, Raul.
|  |  | Moran, Scott.
|  |  | Moreau, Allen Joseph.
|  |  | Moreau, Berlin J Sr.
|  |  | Moreau, Daniel R.
|  |  | Moreau, Hubert J.
|  |  | Moreau, Mary.
|  |  | Moreau, Rickey J Sr.
|  |  | Morehead, Arthur B Jr.
|  |  | Moreno, Ansley.
|  |  | Morgan, Harold R.
|  |  | Morici, John.
|  |  | Morris, Herbert Eugene.
|  |  | Morris, Jesse A.
|  |  | Morris, Jesse A Sr.
|  |  | Morris, Preston.
|  |  | Morrison, Stephen D Jr.
|  |  | Morton, Robert A.
|  |  | Morvant, Keith M.
|  |  | Morvant, Patsy Lishman.
|  |  | Moschettieri, Chalam.
|  |  | Moseley, Kevin R.
|  |  | Motley, Michele.
|  |  | Mouille, William L.
|  |  | Mouton, Ashton J.
|  |  | Moveront, Timothy.
|  |  | Mund, Mark.
|  |  | Murphy, Denis R.
|  |  | Muth, Gary J Sr.
|  |  | Myers, Joseph E Jr.
|  |  | Na, Tran Van.
|  |  | Naccio, Andrew.
|  |  | Nacio, Lance M.
|  |  | Nacio, Noel.
|  |  | Nacio, Philocles J Sr.
|  |  | Naquin, Alton J.
|  |  | Naquin, Andrew J Sr.
|  |  | Naquin, Antoine Jr.
|  |  | Naquin, Autry James.
|  |  | Naquin, Bobby J and Sheila.
|  |  | Naquin, Bobby Jr.
|  |  | Naquin, Christine.
|  |  | Naquin, Dean J.
|  |  | Naquin, Donna P.
|  |  | Naquin, Earl.
|  |  | Naquin, Earl L.
|  |  | Naquin, Freddie.
|  |  | Naquin, Gerald.
|  |  | Naquin, Henry.
|  |  | Naquin, Irvin J.
|  |  | Naquin, Jerry Joseph Jr.
|  |  | Naquin, Kenneth J Jr.
|  |  | Naquin, Kenneth J Sr.
|  |  | Naquin, Linda L.
|  |  | Naquin, Lionel A Jr.
|  |  | Naquin, Mark D Jr.
|  |  | Naquin, Marty J Sr.
|  |  | Naquin, Milton H IV.
|  |  | Naquin, Oliver A.
|  |  | Naquin, Robert.
|  |  | Naquin, Roy A.
|  |  | Naquin, Vernon.
|  |  | Navarre, Curtis J.
|  |  | Navero, Floyd G Jr.
|  |  | Neal, Craig A.
|  |  | Neal, Roy J Jr.
|  |  | Neely, Bobby H.
|  |  | Nehlig, Raymond E Sr.
|  |  | Neil, Dean.
|  |  | Neil, Jacob.
|  |  | Neil, Julius.
|  |  | Neil, Robert J Jr.
|  |  | Neil, Tommy Sr.
|  |  | Nelson, Billy J Sr.
|  |  | Nelson, Deborah.
|  |  | Nelson, Elisha W.
|  |  | Nelson, Ernest R.
|  |  | Nelson, Faye.
|  |  | Nelson, Fred H Sr.
|  |  | Nelson, Gordon Kent Sr.
|  |  | Nelson, Gordon W III.
|  |  | Nelson, Gordon W Jr.
|  |  | Nelson, John Andrew.
|  |  | Nelson, William Owen Jr.
|  |  | Nelton, Aaron J Jr.
|  |  | Nelton, Steven J.
|  |  | Nettleton, Cody.
|  |  | Newell, Ronald B.
|  |  | Newsome, Thomas E.
|  |  | Newton, Paul J.
|  |  | Nghiem, Billy.
|  |  | Ngo, Chuong Van.
|  |  | Ngo, Duc.
|  |  | Ngo, Hung V.
|  |  | Ngo, Liem Thanh.
|  |  | Ngo, Maxie.
|  |  | Ngo, The T.
|  |  | Ngo, Truong Dinh.
|  |  | Ngo, Van Lo.
|  |  | Ngo, Vu Hoang.
|  |  | Ngoc, Lam Lam.
|  |  | Ngu, Thoi.
|  |  | Nguyen, Amy.
|  |  | Nguyen, An Hoang.
|  |  | Nguyen, Andy Dung.
|  |  | Nguyen, Andy T.
|  |  | Nguyen, Anh and Thanh D Tiet.
|  |  | Nguyen, Ba.
|  |  | Nguyen, Ba Van.
|  |  | Nguyen, Bac Van.
|  |  | Nguyen, Bao Q.
|  |  | Nguyen, Bay Van.
|  |  | Nguyen, Be.
|  |  | Nguyen, Be.
|  |  | Nguyen, Be.
|  |  | Nguyen, Be Em.
|  |  | Nguyen, Bich Thao.
|  |  | Nguyen, Bien V.
|  |  | Nguyen, Binh.
|  |  | Nguyen, Binh Cong.
|  |  | Nguyen, Binh V.
|  |  | Nguyen, Binh Van.
|  |  | Nguyen, Binh Van.
|  |  | Nguyen, Binh Van.
|  |  | Nguyen, Bui Van.
|  |  | Nguyen, Ca Em.
|  |  | Nguyen, Can.
|  |  | Nguyen, Can Van.
|  |  | Nguyen, Canh V.
|  |  | Nguyen, Charlie.
|  |  | Nguyen, Chien.
|  |  | Nguyen, Chien Van.
|  |  | Nguyen, Chin.
|  |  | Nguyen, Chinh Van.
|  |  | Nguyen, Christian.
|  |  | Nguyen, Chuc.
|  |  | Nguyen, Chung.
|  |  | Nguyen, Chung Van.
|  |  | Nguyen, Chuong Hoang.
|  |  | Nguyen, Chuong V.
|  |  | Nguyen, Chuyen.
|  |  | Nguyen, Coolly Dinh.
|  |  | Nguyen, Cuong.
|  |  | Nguyen, Dai.
|  |  | Nguyen, Dan T.
|  |  | Nguyen, Dan Van.
|  |  | Nguyen, Dan Van.
|  |  | Nguyen, Dang.
|  |  | Nguyen, Danny.
|  |  | Nguyen, David.
|  |  | Nguyen, Day Van.
|  |  | Nguyen, De Van.
|  |  | Nguyen, Den.
|  |  | Nguyen, Diem.
|  |  | Nguyen, Dien.
|  |  | Nguyen, Diep.
|  |  | Nguyen, Dinh.
|  |  | Nguyen, Dinh V.
|  |  | Nguyen, Dong T.
|  |  | Nguyen, Dong Thi.
|  |  | Nguyen, Dong X.
|  |  | Nguyen, Duc.
|  |  | Nguyen, Duc Van.
|  |  | Nguyen, Dung.
|  |  | Nguyen, Dung Anh and Xuan Duong.
|  |  | Nguyen, Dung Ngoc.
|  |  | Nguyen, Dung Van.
|  |  | Nguyen, Dung Van.
|  |  | Nguyen, Duoc.
|  |  | Nguyen, Duong V.
|  |  | Nguyen, Duong Van.
|  |  | Nguyen, Duong Xuan.
|  |  | Nguyen, Francis N.
|  |  | Nguyen, Frank.
|  |  | Nguyen, Gary.
|  |  | Nguyen, Giang T.
|  |  | Nguyen, Giang Truong.
|  |  | Nguyen, Giau Van.
|  |  | Nguyen, Ha T.
|  |  | Nguyen, Ha Van.
|  |  | Nguyen, Hai Van.
|  |  | Nguyen, Hai Van.
|  |  | Nguyen, Han Van.
|  |  | Nguyen, Han Van.
|  |  | Nguyen, Hang.
|  |  | Nguyen, Hanh T.
|  |  | Nguyen, Hao Van.
|  |  | Nguyen, Harry H.
|  |  | Nguyen, Henri Hiep.
|  |  | Nguyen, Henry-Trang.
|  |  | Nguyen, Hien.
|  |  | Nguyen, Hien V.
|  |  | Nguyen, Hiep.
|  |  | Nguyen, Ho.
|  |  | Nguyen, Ho V.
|  |  | Nguyen, Hoa.
|  |  | Nguyen, Hoa.
|  |  | Nguyen, Hoa N.
|  |  | Nguyen, Hoa Van.
|  |  | Nguyen, Hoang.
|  |  | Nguyen, Hoang.
|  |  | Nguyen, Hoang T.
|  |  | Nguyen, Hoi.
|  |  | Nguyen, Hon Xuong.
|  |  | Nguyen, Huan.
|  |  | Nguyen, Hung.
|  |  | Nguyen, Hung.
|  |  | Nguyen, Hung.
|  |  | Nguyen, Hung M.
|  |  | Nguyen, Hung Manh.
|  |  | Nguyen, Hung Van.
|  |  | Nguyen, Hung-Joseph.
|  |  | Nguyen, Huu Nghia.
|  |  | Nguyen, Hy Don N.
|  |  | Nguyen, Jackie Tin.
|  |  | Nguyen, James.
|  |  | Nguyen, James N.
|  |  | Nguyen, Jefferson.
|  |  | Nguyen, Jennifer.
|  |  | Nguyen, Jimmy.
|  |  | Nguyen, Jimmy.
|  |  | Nguyen, Joachim.
|  |  | Nguyen, Joe.
|  |  | Nguyen, John R.
|  |  | Nguyen, John Van.
|  |  | Nguyen, Johnny.
|  |  | Nguyen, Joseph Minh.
|  |  | Nguyen, Kenny Hung Mong.
|  |  | Nguyen, Kevin.
|  |  | Nguyen, Khai.
|  |  | Nguyen, Khanh.
|  |  | Nguyen, Khanh and Viet Dinh.
|  |  | Nguyen, Khanh Q.
|  |  | Nguyen, Khiem.
|  |  | Nguyen, Kien Phan.
|  |  | Nguyen, Kim.
|  |  | Nguyen, Kim Mai.
|  |  | Nguyen, Kim Thoa.
|  |  | Nguyen, Kinh V.
|  |  | Nguyen, Lai.
|  |  | Nguyen, Lai.
|  |  | Nguyen, Lai Tan.
|  |  | Nguyen, Lam.
|  |  | Nguyen, Lam Van.
|  |  | Nguyen, Lam Van.
|  |  | Nguyen, Lam Van.
|  |  | Nguyen, Lan.
|  |  | Nguyen, Lang.
|  |  | Nguyen, Lang.
|  |  | Nguyen, Lanh.
|  |  | Nguyen, Lap Van.
|  |  | Nguyen, Lap Van.
|  |  | Nguyen, Le.
|  |  | Nguyen, Lien and Hang Luong.
|  |  | Nguyen, Lien Thi.
|  |  | Nguyen, Linda Oan.
|  |  | Nguyen, Linh Thi.
|  |  | Nguyen, Linh Van.
|  |  | Nguyen, Lintt Danny.
|  |  | Nguyen, Lluu.
|  |  | Nguyen, Loc.
|  |  | Nguyen, Loi.
|  |  | Nguyen, Loi.
|  |  | Nguyen, Long Phi.
|  |  | Nguyen, Long T.
|  |  | Nguyen, Long Viet.
|  |  | Nguyen, Luom T.
|  |  | Nguyen, Mai Van.
|  |  | Nguyen, Man.
|  |  | Nguyen, Mao-Van.
|  |  | Nguyen, Mary.
|  |  | Nguyen, Mary.
|  |  | Nguyen, Melissa.
|  |  | Nguyen, Minh.
|  |  | Nguyen, Minh.
|  |  | Nguyen, Minh.
|  |  | Nguyen, Minh.
|  |  | Nguyen, Minh.
|  |  | Nguyen, Minh Ngoc.
|  |  | Nguyen, Minh Van.
|  |  | Nguyen, Moot.
|  |  | Nguyen, Mui Van.
|  |  | Nguyen, Mung T.
|  |  | Nguyen, Muoi.
|  |  | Nguyen, My Le Thi.
|  |  | Nguyen, My Tan.
|  |  | Nguyen, My V.
|  |  | Nguyen, Nam Van.
|  |  | Nguyen, Nam Van.
|  |  | Nguyen, Nam Van.
|  |  | Nguyen, Nam Van.
|  |  | Nguyen, Nancy.
|  |  | Nguyen, Nancy.
|  |  | Nguyen, Nghi.
|  |  | Nguyen, Nghi Q.
|  |  | Nguyen, Nghia.
|  |  | Nguyen, Nghiep.
|  |  | Nguyen, Ngoc Tim.
|  |  | Nguyen, Ngoc Van.
|  |  | Nguyen, Nguyet.
|  |  | Nguyen, Nhi.
|  |  | Nguyen, Nho Van.
|  |  | Nguyen, Nina.
|  |  | Nguyen, Nuong.
|  |  | Nguyen, Peter.
|  |  | Nguyen, Peter Thang.
|  |  | Nguyen, Peter V.
|  |  | Nguyen, Phe.
|  |  | Nguyen, Phong.
|  |  | Nguyen, Phong Ngoc.
|  |  | Nguyen, Phong T.
|  |  | Nguyen, Phong Xuan.
|  |  | Nguyen, Phu Huu.
|  |  | Nguyen, Phuc.
|  |  | Nguyen, Phuoc H.
|  |  | Nguyen, Phuoc Van.
|  |  | Nguyen, Phuong.
|  |  | Nguyen, Phuong.
|  |  | Nguyen, Quang.
|  |  | Nguyen, Quang.
|  |  | Nguyen, Quang Dang.
|  |  | Nguyen, Quang Dinh.
|  |  | Nguyen, Quang Van.
|  |  | Nguyen, Quoc Van.
|  |  | Nguyen, Quyen Minh.
|  |  | Nguyen, Quyen T.
|  |  | Nguyen, Quyen-Van.
|  |  | Nguyen, Ran T.
|  |  | Nguyen, Randon.
|  |  | Nguyen, Richard.
|  |  | Nguyen, Richard Nghia.
|  |  | Nguyen, Rick Van.
|  |  | Nguyen, Ricky Tinh.
|  |  | Nguyen, Roe Van.
|  |  | Nguyen, Rose.
|  |  | Nguyen, Sam.
|  |  | Nguyen, Sandy Ha.
|  |  | Nguyen, Sang Van.
|  |  | Nguyen, Sau V.
|  |  | Nguyen, Si Ngoc.
|  |  | Nguyen, Son.
|  |  | Nguyen, Son Thanh.
|  |  | Nguyen, Son Van.
|  |  | Nguyen, Song V.
|  |  | Nguyen, Steve.
|  |  | Nguyen, Steve Q.
|  |  | Nguyen, Steven Giap.
|  |  | Nguyen, Sung.
|  |  | Nguyen, Tai.
|  |  | Nguyen, Tai The.
|  |  | Nguyen, Tai Thi.
|  |  | Nguyen, Tam.
|  |  | Nguyen, Tam Minh.
|  |  | Nguyen, Tam Thanh.
|  |  | Nguyen, Tam V.
|  |  | Nguyen, Tam Van.
|  |  | Nguyen, Tan.
|  |  | Nguyen, Ten Tan.
|  |  | Nguyen, Thach.
|  |  | Nguyen, Thang.
|  |  | Nguyen, Thanh.
|  |  | Nguyen, Thanh.
|  |  | Nguyen, Thanh.
|  |  | Nguyen, Thanh Phuc.
|  |  | Nguyen, Thanh V.
|  |  | Nguyen, Thanh Van.
|  |  | Nguyen, Thanh Van.
|  |  | Nguyen, Thanh Van.
|  |  | Nguyen, Thanh Van.
|  |  | Nguyen, Thao.
|  |  | Nguyen, Thi Bich Hang.
|  |  | Nguyen, Thiet.
|  |  | Nguyen, Thiet.
|  |  | Nguyen, Tho Duke.
|  |  | Nguyen, Thoa D.
|  |  | Nguyen, Thoa Thi.
|  |  | Nguyen, Thomas.
|  |  | Nguyen, Thu.
|  |  | Nguyen, Thu and Rose.
|  |  | Nguyen, Thu Duc.
|  |  | Nguyen, Thu Van.
|  |  | Nguyen, Thuan.
|  |  | Nguyen, Thuan.
|  |  | Nguyen, Thuong.
|  |  | Nguyen, Thuong Van.
|  |  | Nguyen, Thuy.
|  |  | Nguyen, Thuyen.
|  |  | Nguyen, Thuyen.
|  |  | Nguyen, Tinh.
|  |  | Nguyen, Tinh Van.
|  |  | Nguyen, Toan.
|  |  | Nguyen, Toan Van.
|  |  | Nguyen, Tommy.
|  |  | Nguyen, Tony.
|  |  | Nguyen, Tony.
|  |  | Nguyen, Tony.
|  |  | Nguyen, Tony D.
|  |  | Nguyen, Tony Hong.
|  |  | Nguyen, Tony Si.
|  |  | Nguyen, Tra.
|  |  | Nguyen, Tra.
|  |  | Nguyen, Tracy T.
|  |  | Nguyen, Tri D.
|  |  | Nguyen, Trich Van.
|  |  | Nguyen, Trung Van.
|  |  | Nguyen, Tu Van.
|  |  | Nguyen, Tuan.
|  |  | Nguyen, Tuan A.
|  |  | Nguyen, Tuan H.
|  |  | Nguyen, Tuan Ngoc.
|  |  | Nguyen, Tuan Q.
|  |  | Nguyen, Tuan Van.
|  |  | Nguyen, Tung.
|  |  | Nguyen, Tuyen Duc.
|  |  | Nguyen, Tuyen Van.
|  |  | Nguyen, Ty and Ngoc Ngo.
|  |  | Nguyen, Van H.
|  |  | Nguyen, Van Loi.
|  |  | Nguyen, Vang Van.
|  |  | Nguyen, Viet.
|  |  | Nguyen, Viet.
|  |  | Nguyen, Viet V.
|  |  | Nguyen, Viet Van.
|  |  | Nguyen, Vinh Van.
|  |  | Nguyen, Vinh Van.
|  |  | Nguyen, Vinh Van.
|  |  | Nguyen, VT.
|  |  | Nguyen, Vu Minh.
|  |  | Nguyen, Vu T.
|  |  | Nguyen, Vu Xuan.
|  |  | Nguyen, Vui.
|  |  | Nguyen, Vuong V.
|  |  | Nguyen, Xuong Kim.
|  |  | Nhan, Tran Quoc.
|  |  | Nhon, Seri.
|  |  | Nichols, Steve Anna.
|  |  | Nicholson, Gary.
|  |  | Nixon, Leonard.
|  |  | Noble, Earl.
|  |  | Noland, Terrel W.
|  |  | Normand, Timothy.
|  |  | Norris, Candace P.
|  |  | Norris, John A.
|  |  | Norris, Kenneth L.
|  |  | Norris, Kevin J.
|  |  | Nowell, James E.
|  |  | Noy, Phen.
|  |  | Nunez, Conrad.
|  |  | Nunez, Jody.
|  |  | Nunez, Joseph Paul.
|  |  | Nunez, Randy.
|  |  | Nunez, Wade Joseph.
|  |  | Nyuyen, Toan.
|  |  | Oberling, Darryl.
|  |  | O'Blance, Adam.
|  |  | O'Brien, Gary S.
|  |  | O'Brien, Mark.
|  |  | O'Brien, Michele.
|  |  | Ogden, John M.
|  |  | Oglesby, Henry.
|  |  | Oglesby, Phyllis.
|  |  | O'Gwynn, Michael P Sr.
|  |  | Ohmer, Eva G.
|  |  | Ohmer, George J.
|  |  | Olander, Hazel.
|  |  | Olander, Rodney.
|  |  | Olander, Roland J.
|  |  | Olander, Russell J.
|  |  | Olander, Thomas.
|  |  | Olano, Kevin.
|  |  | Olano, Owen J.
|  |  | Olano, Shelby F.
|  |  | Olds, Malcolm D Jr.
|  |  | Olinde, Wilfred J Jr.
|  |  | Oliver, Charles.
|  |  | O'Neil, Carey.
|  |  | Oracoy, Brad R.
|  |  | Orage, Eugene.
|  |  | Orlando, Het.
|  |  | Oteri, Robert F.
|  |  | Oubre, Faron P.
|  |  | Oubre, Thomas W.
|  |  | Ourks, SokHoms K.
|  |  | Owens, Larry E.
|  |  | Owens, Sheppard.
|  |  | Owens, Timothy.
|  |  | Pacaccio, Thomas Jr.
|  |  | Padgett, Kenneth J.
|  |  | Palmer, Gay Ann P.
|  |  | Palmer, John W.
|  |  | Palmer, Mack.
|  |  | Palmisano, Daniel P.
|  |  | Palmisano, Dwayne Jr.
|  |  | Palmisano, Kim.
|  |  | Palmisano, Larry J.
|  |  | Palmisano, Leroy J.
|  |  | Palmisano, Robin G.
|  |  | Pam, Phuong Bui.
|  |  | Parfait, Antoine C Jr.
|  |  | Parfait, Jerry Jr.
|  |  | Parfait, John C.
|  |  | Parfait, Joshua K.
|  |  | Parfait, Mary F.
|  |  | Parfait, Mary S.
|  |  | Parfait, Olden G Jr.
|  |  | Parfait, Robert C Jr.
|  |  | Parfait, Robert C Sr.
|  |  | Parfait, Rodney.
|  |  | Parfait, Shane A.
|  |  | Parfait, Shelton J.
|  |  | Parfait, Timmy J.
|  |  | Parker, Clyde A.
|  |  | Parker, Franklin L.
|  |  | Parker, Paul A.
|  |  | Parker, Percy Todd.
|  |  | Parks, Daniel Duane.
|  |  | Parks, Ellery Doyle Jr.
|  |  | Parrett, Joseph D Jr.
|  |  | Parria, Danny.
|  |  | Parria, Gavin C Sr.
|  |  | Parria, Gillis F Jr.
|  |  | Parria, Gillis F Sr.
|  |  | Parria, Jerry D.
|  |  | Parria, Kip G.
|  |  | Parria, Lionel J Sr.
|  |  | Parria, Louis III.
|  |  | Parria, Louis J Sr.
|  |  | Parria, Louis Jr.
|  |  | Parria, Michael.
|  |  | Parria, Ronald.
|  |  | Parria, Ross.
|  |  | Parria, Troy M.
|  |  | Parrish, Charles.
|  |  | Parrish, Walter L.
|  |  | Passmore, Penny.
|  |  | Pate, Shane.
|  |  | Paterbaugh, Richard.
|  |  | Patingo, Roger D.
|  |  | Paul, Robert Emmett.
|  |  | Payne, John Francis.
|  |  | Payne, Stuart.
|  |  | Peatross, David A.
|  |  | Pelas, James Curtis.
|  |  | Pelas, Jeffery.
|  |  | Pellegrin, Corey P.
|  |  | Pellegrin, Curlynn.
|  |  | Pellegrin, James A Jr.
|  |  | Pellegrin, Jordey.
|  |  | Pellegrin, Karl.
|  |  | Pellegrin, Karl J.
|  |  | Pellegrin, Randy.
|  |  | Pellegrin, Randy Sr.
|  |  | Pellegrin, Rodney J Sr.
|  |  | Pellegrin, Samuel.
|  |  | Pellegrin, Troy Sr.
|  |  | Peltier, Clyde.
|  |  | Peltier, Rodney J.
|  |  | Pena, Bartolo Jr.
|  |  | Pena, Israel.
|  |  | Pendarvis, Gracie.
|  |  | Pennison, Elaine.
|  |  | Pennison, Milton G.
|  |  | Pequeno, Julius.
|  |  | Percle, David P.
|  |  | Perez, Allen M.
|  |  | Perez, David J.
|  |  | Perez, David P.
|  |  | Perez, Derek.
|  |  | Perez, Edward Jr.
|  |  | Perez, Henry Jr.
|  |  | Perez, Joe B.
|  |  | Perez, Tilden A Jr.
|  |  | Perez, Warren A Jr.
|  |  | Perez, Warren A Sr.
|  |  | Perez, Wesley.
|  |  | Perrin, Dale.
|  |  | Perrin, David M.
|  |  | Perrin, Edward G Sr.
|  |  | Perrin, Errol Joseph Jr.
|  |  | Perrin, Jerry J.
|  |  | Perrin, Kenneth V.
|  |  | Perrin, Kevin.
|  |  | Perrin, Kline J Sr.
|  |  | Perrin, Kurt M.
|  |  | Perrin, Michael.
|  |  | Perrin, Michael A.
|  |  | Perrin, Murphy P.
|  |  | Perrin, Nelson C Jr.
|  |  | Perrin, Pershing J Jr.
|  |  | Perrin, Robert.
|  |  | Perrin, Tim J.
|  |  | Perrin, Tony.
|  |  | Persohn, William T.
|  |  | Peshoff, Kirk Lynn.
|  |  | Pete, Alfred F Jr.
|  |  | Pete, Alfred F Sr.
|  |  | Pfleeger, William A.
|  |  | Pham, An V.
|  |  | Pham, Anh My.
|  |  | Pham, Bob.
|  |  | Pham, Cho.
|  |  | Pham, Cindy.
|  |  | Pham, David.
|  |  | Pham, Dung.
|  |  | Pham, Dung Phuoc.
|  |  | Pham, Dung Phuoc.
|  |  | Pham, Duong Van.
|  |  | Pham, Gai.
|  |  | Pham, Hai.
|  |  | Pham, Hai Hong.
|  |  | Pham, Hien.
|  |  | Pham, Hien C.
|  |  | Pham, Hiep.
|  |  | Pham, Hieu.
|  |  | Pham, Huan Van.
|  |  | Pham, Hung.
|  |  | Pham, Hung V.
|  |  | Pham, Hung V.
|  |  | Pham, Huynh.
|  |  | Pham, John.
|  |  | Pham, Johnny.
|  |  | Pham, Joseph S.
|  |  | Pham, Kannin.
|  |  | Pham, Nga T.
|  |  | Pham, Nhung T.
|  |  | Pham, Osmond.
|  |  | Pham, Paul P.
|  |  | Pham, Phong-Thanh.
|  |  | Pham, Phung.
|  |  | Pham, Quoc V.
|  |  | Pham, Steve Ban.
|  |  | Pham, Steve V.
|  |  | Pham, Thai Van.
|  |  | Pham, Thai Van.
|  |  | Pham, Thanh.
|  |  | Pham, Thanh.
|  |  | Pham, Thanh V.
|  |  | Pham, Thinh.
|  |  | Pham, Thinh V.
|  |  | Pham, Tommy V.
|  |  | Pham, Tran and Thu Quang.
|  |  | Pham, Ut Van.
|  |  | Phan, Anh Thi.
|  |  | Phan, Banh Van.
|  |  | Phan, Cong Van.
|  |  | Phan, Dan T.
|  |  | Phan, Hoang.
|  |  | Phan, Hung Thanh.
|  |  | Phan, Johnny.
|  |  | Phan, Lam.
|  |  | Phan, Luyen Van.
|  |  | Phan, Nam V.
|  |  | Phan, Thong.
|  |  | Phan, Tien V.
|  |  | Phan, Toan.
|  |  | Phan, Tu Van.
|  |  | Phat, Lam Mau.
|  |  | Phelps, John D.
|  |  | Phillips, Bruce A.
|  |  | Phillips, Danny D.
|  |  | Phillips, Gary.
|  |  | Phillips, Harry Louis.
|  |  | Phillips, James C Jr.
|  |  | Phillips, Kristrina W.
|  |  | Phipps, AW.
|  |  | Phonthaasa, Khaolop.
|  |  | Phorn, Phen.
|  |  | Pickett, Kathy.
|  |  | Picou, Calvin Jr.
|  |  | Picou, Gary M.
|  |  | Picou, Jennifer.
|  |  | Picou, Jerome J.
|  |  | Picou, Jordan J.
|  |  | Picou, Randy John.
|  |  | Picou, Ricky Sr.
|  |  | Picou, Terry.
|  |  | Pierce, Aaron.
|  |  | Pierce, Dean.
|  |  | Pierce, Elwood.
|  |  | Pierce, Imogene.
|  |  | Pierce, Stanley.
|  |  | Pierce, Taffie Boone.
|  |  | Pierre, Ivy.
|  |  | Pierre, Joseph.
|  |  | Pierre, Joseph C Jr.
|  |  | Pierre, Paul J.
|  |  | Pierre, Ronald J.
|  |  | Pierron, Jake.
|  |  | Pierron, Patsy H.
|  |  | Pierron, Roger D.
|  |  | Pinell, Ernie A.
|  |  | Pinell, Harry J Jr.
|  |  | Pinell, Jody J.
|  |  | Pinell, Randall James.
|  |  | Pinnell, Richard J.
|  |  | Pinnell, Robert.
|  |  | Pitre, Benton J.
|  |  | Pitre, Carol.
|  |  | Pitre, Claude A Sr.
|  |  | Pitre, Elrod.
|  |  | Pitre, Emily B.
|  |  | Pitre, Glenn P.
|  |  | Pitre, Herbert.
|  |  | Pitre, Jeannie.
|  |  | Pitre, Leo P.
|  |  | Pitre, Robert Jr.
|  |  | Pitre, Robin.
|  |  | Pitre, Ryan P.
|  |  | Pitre, Ted J.
|  |  | Pittman, Roger.
|  |  | Pizani, Bonnie.
|  |  | Pizani, Craig.
|  |  | Pizani, Jane.
|  |  | Pizani, Terrill J.
|  |  | Pizani, Terry M.
|  |  | Pizani, Terry M Jr.
|  |  | Plaisance, Arthur E.
|  |  | Plaisance, Burgess.
|  |  | Plaisance, Darren.
|  |  | Plaisance, Dean J Sr.
|  |  | Plaisance, Dorothy B.
|  |  | Plaisance, Dwayne.
|  |  | Plaisance, Earl J Jr.
|  |  | Plaisance, Errance H.
|  |  | Plaisance, Evans P.
|  |  | Plaisance, Eves A III.
|  |  | Plaisance, Gideons.
|  |  | Plaisance, Gillis S.
|  |  | Plaisance, Henry A Jr.
|  |  | Plaisance, Jacob.
|  |  | Plaisance, Jimmie J.
|  |  | Plaisance, Joyce.
|  |  | Plaisance, Keith.
|  |  | Plaisance, Ken G.
|  |  | Plaisance, Lawrence J.
|  |  | Plaisance, Lucien Jr.
|  |  | Plaisance, Peter A Sr.
|  |  | Plaisance, Peter Jr.
|  |  | Plaisance, Richard J.
|  |  | Plaisance, Russel P.
|  |  | Plaisance, Russell P Sr.
|  |  | Plaisance, Thomas.
|  |  | Plaisance, Thomas J.
|  |  | Plaisance, Wayne P.
|  |  | Plaisance, Whitney III.
|  |  | Plork, Phan.
|  |  | Poche, Glenn J Jr.
|  |  | Poche, Glenn J Sr.
|  |  | Pockrus, Gerald.
|  |  | Poiencot, Russell Jr.
|  |  | Poillion, Charles A.
|  |  | Polito, Gerald.
|  |  | Polkey, Gary J.
|  |  | Polkey, Richard R Jr.
|  |  | Polkey, Ronald.
|  |  | Polkey, Shawn Michael.
|  |  | Pollet, Lionel J Sr.
|  |  | Pomgoria, Mario.
|  |  | Ponce, Ben.
|  |  | Ponce, Lewis B.
|  |  | Poon, Raymond.
|  |  | Pope, Robert.
|  |  | Popham, Winford A.
|  |  | Poppell, David M.
|  |  | Porche, Ricky J.
|  |  | Portier, Bobby.
|  |  | Portier, Chad.
|  |  | Portier, Corinne L.
|  |  | Portier, Penelope J.
|  |  | Portier, Robbie.
|  |  | Portier, Russel A Sr.
|  |  | Portier, Russell.
|  |  | Potter, Hubert Edward Jr.
|  |  | Potter, Robert D.
|  |  | Potter, Robert J.
|  |  | Pounds, Terry Wayne.
|  |  | Powers, Clyde T.
|  |  | Prejean, Dennis J.
|  |  | Price, Carl.
|  |  | Price, Curtis.
|  |  | Price, Edwin J.
|  |  | Price, Franklin J.
|  |  | Price, George J Sr.
|  |  | Price, Norris J Sr.
|  |  | Price, Steve J Jr.
|  |  | Price, Timmy T.
|  |  | Price, Wade J.
|  |  | Price, Warren J.
|  |  | Prihoda, Steve.
|  |  | Primeaux, Scott.
|  |  | Pritchard, Dixie J.
|  |  | Pritchard, James Ross Jr.
|  |  | Prosperie, Claude J Jr.
|  |  | Prosperie, Myron.
|  |  | Prout, Rollen.
|  |  | Prout, Sharonski K.
|  |  | Prum, Thou.
|  |  | Pugh, Charles D Jr.
|  |  | Pugh, Charles Sr.
|  |  | Pugh, Cody.
|  |  | Pugh, Deanna.
|  |  | Pugh, Donald.
|  |  | Pugh, Nickolas.
|  |  | Punch, Alvin Jr.
|  |  | Punch, Donald J.
|  |  | Punch, Todd M.
|  |  | Punch, Travis J.
|  |  | Purata, Maria.
|  |  | Purse, Emil.
|  |  | Purvis, George.
|  |  | Quach, Duc.
|  |  | Quach, James D.
|  |  | Quach, Joe.
|  |  | Quach, Si Tan.
|  |  | Quinn, Dora M.
|  |  | Racca, Charles.
|  |  | Racine, Sylvan P Jr.
|  |  | Radulic, Igor.
|  |  | Ragas, Albert G.
|  |  | Ragas, Gene.
|  |  | Ragas, John D.
|  |  | Ragas, Jonathan.
|  |  | Ragas, Richard A.
|  |  | Ragas, Ronda S.
|  |  | Ralph, Lester B.
|  |  | Ramirez, Alfred J Jr.
|  |  | Randazzo, John A Jr.
|  |  | Randazzo, Rick A.
|  |  | Rando, Stanley D.
|  |  | Ranko, Ellis Gerald.
|  |  | Rapp, Dwayne.
|  |  | Rapp, Leroy and Sedonia.
|  |  | Rawlings, John H Sr.
|  |  | Rawlings, Ralph E.
|  |  | Rawls, Norman E.
|  |  | Ray, Leo.
|  |  | Ray, William C Jr.
|  |  | Raynor, Steven Earl.
|  |  | Readenour, Kelty O.
|  |  | Reagan, Roy.
|  |  | Reason, Patrick W.
|  |  | Reaux, Paul S Sr.
|  |  | Reaves, Craig A.
|  |  | Reaves, Laten.
|  |  | Rebert, Paul J Sr.
|  |  | Rebert, Steve M Jr.
|  |  | Rebstock, Charles.
|  |  | Rector, Lance Jr.
|  |  | Rector, Warren L.
|  |  | Redden, Yvonne.
|  |  | Regnier, Leoncea B.
|  |  | Remondet, Garland Jr.
|  |  | Renard, Lanny.
|  |  | Reno, Edward.
|  |  | Reno, George C.
|  |  | Reno, George H.
|  |  | Reno, George T.
|  |  | Reno, Harry.
|  |  | Revell, Ben David.
|  |  | Reyes, Carlton.
|  |  | Reyes, Dwight D Sr.
|  |  | Reynon, Marcello Jr.
|  |  | Rhodes, Randolph N.
|  |  | Rhoto, Christopher L.
|  |  | Ribardi, Frank A.
|  |  | Rich, Wanda Heafner.
|  |  | Richard, Bruce J.
|  |  | Richard, David L.
|  |  | Richard, Edgar J.
|  |  | Richard, James Ray.
|  |  | Richard, Melissa.
|  |  | Richard, Randall K.
|  |  | Richardson, James T.
|  |  | Richert, Daniel E.
|  |  | Richo, Earl Sr.
|  |  | Richoux, Dudley Donald Jr.
|  |  | Richoux, Irvin J Jr.
|  |  | Richoux, Judy.
|  |  | Richoux, Larry.
|  |  | Richoux, Mary A.
|  |  | Riego, Raymond A.
|  |  | Riffle, Josiah B.
|  |  | Rigaud, Randall Ryan.
|  |  | Riggs, Jeffrey B.
|  |  | Riley, Jackie Sr.
|  |  | Riley, Raymond.
|  |  | Rinkus, Anthony J III.
|  |  | Rios, Amado.
|  |  | Ripp, Norris M.
|  |  | Robbins, Tony.
|  |  | Robert, Dan S.
|  |  | Roberts, Michael A.
|  |  | Robertson, Kevin.
|  |  | Robeson, Richard S Jr.
|  |  | Robichaux, Craig J.
|  |  | Robin, Alvin G.
|  |  | Robin, Cary Joseph.
|  |  | Robin, Charles R III.
|  |  | Robin, Danny J.
|  |  | Robin, Donald.
|  |  | Robin, Floyd A.
|  |  | Robin, Kenneth J Sr.
|  |  | Robin, Ricky R.
|  |  | Robinson, Johnson P III.
|  |  | Robinson, Walter.
|  |  | Roccaforte, Clay.
|  |  | Rodi, Dominick R.
|  |  | Rodi, Rhonda.
|  |  | Rodrigue, Brent J.
|  |  | Rodrigue, Carrol Sr.
|  |  | Rodrigue, Glenn.
|  |  | Rodrigue, Lerlene.
|  |  | Rodrigue, Reggie Sr.
|  |  | Rodrigue, Sonya.
|  |  | Rodrigue, Wayne.
|  |  | Rodriguez, Barry.
|  |  | Rodriguez, Charles V Sr.
|  |  | Rodriguez, Gregory.
|  |  | Rodriguez, Jesus.
|  |  | Rodriguez, Joseph C Jr.
|  |  | Roeum, Orn.
|  |  | Rogers, Barry David.
|  |  | Rogers, Chad.
|  |  | Rogers, Chad M.
|  |  | Rogers, Kevin J.
|  |  | Rogers, Nathan J.
|  |  | Rojas, Carlton J Sr.
|  |  | Rojas, Curtis Sr.
|  |  | Rojas, Dennis J Jr.
|  |  | Rojas, Dennis J Sr.
|  |  | Rojas, Gordon V.
|  |  | Rojas, Kerry D.
|  |  | Rojas, Kerry D Jr.
|  |  | Rojas, Randy J Sr.
|  |  | Rojas, Raymond J Jr.
|  |  | Roland, Brad.
|  |  | Roland, Mathias C.
|  |  | Roland, Vincent.
|  |  | Rollins, Theresa.
|  |  | Rollo, Wayne A.
|  |  | Rome, Victor J IV.
|  |  | Romero, D H.
|  |  | Romero, Kardel J.
|  |  | Romero, Norman.
|  |  | Romero, Philip J.
|  |  | Ronquille, Glenn.
|  |  | Ronquille, Norman C.
|  |  | Ronquillo, Earl.
|  |  | Ronquillo, Richard J.
|  |  | Ronquillo, Timothy.
|  |  | Roseburrough, Charles R Jr.
|  |  | Ross, Dorothy.
|  |  | Ross, Edward Danny Jr.
|  |  | Ross, Leo L.
|  |  | Ross, Robert A.
|  |  | Roth, Joseph F Jr.
|  |  | Roth, Joseph M Jr.
|  |  | Rotolo, Carolyn.
|  |  | Rotolo, Feliz.
|  |  | Rouse, Jimmy.
|  |  | Roussel, Michael D Jr.
|  |  | Roy, Henry Lee Jr.
|  |  | Rudolph, Chad A.
|  |  | Ruiz, Donald W.
|  |  | Ruiz, James L.
|  |  | Ruiz, Paul E.
|  |  | Ruiz, Paul R.
|  |  | Russell, Bentley R.
|  |  | Russell, Casey.
|  |  | Russell, Daniel.
|  |  | Russell, James III.
|  |  | Russell, Julie Ann.
|  |  | Russell, Michael J.
|  |  | Russell, Nicholas M.
|  |  | Russell, Paul.
|  |  | Rustick, Kenneth.
|  |  | Ruttley, Adrian K.
|  |  | Ruttley, Ernest T Jr.
|  |  | Ruttley, JT.
|  |  | Ryan, James C Sr.
|  |  | Rybiski, Rhebb R.
|  |  | Ryder, Luther V.
|  |  | Sadler, Stewart.
|  |  | Sagnes, Everett.
|  |  | Saha, Amanda K.
|  |  | Saling, Don M.
|  |  | Saltalamacchia, Preston J.
|  |  | Saltalamacchia, Sue A.
|  |  | Salvato, Lawrence Jr.
|  |  | Samanie, Caroll J.
|  |  | Samanie, Frank J.
|  |  | Samsome, Don.
|  |  | Sanamo, Troy P.
|  |  | Sanchez, Augustine.
|  |  | Sanchez, Jeffery A.
|  |  | Sanchez, Juan.
|  |  | Sanchez, Robert A.
|  |  | Sanders, William Shannon.
|  |  | Sandras, R J.
|  |  | Sandras, R J Jr.
|  |  | Sandrock, Roy R III.
|  |  | Santini, Lindberg W Jr.
|  |  | Santiny, James.
|  |  | Santiny, Patrick.
|  |  | Sapia, Carroll J Jr.
|  |  | Sapia, Eddie J Jr.
|  |  | Sapia, Willard.
|  |  | Saturday, Michael Rance.
|  |  | Sauce, Carlton Joseph.
|  |  | Sauce, Joseph C Jr.
|  |  | Saucier, Houston J.
|  |  | Sauls, Russell.
|  |  | Savage, Malcolm H.
|  |  | Savant, Raymond.
|  |  | Savoie, Allen.
|  |  | Savoie, Brent T.
|  |  | Savoie, James.
|  |  | Savoie, Merlin F Jr.
|  |  | Savoie, Reginald M II.
|  |  | Sawyer, Gerald.
|  |  | Sawyer, Rodney.
|  |  | Scarabin, Clifford.
|  |  | Scarabin, Michael J.
|  |  | Schaffer, Kelly.
|  |  | Schaubhut, Curry A.
|  |  | Schellinger, Lester B Jr.
|  |  | Schexnaydre, Michael.
|  |  | Schirmer, Robert Jr.
|  |  | Schjott, Joseph J Sr.
|  |  | Schlindwein, Henry.
|  |  | Schmit, Paul A Jr.
|  |  | Schmit, Paul A Sr.
|  |  | Schmit, Victor J Jr.
|  |  | Schouest, Ellis J III.
|  |  | Schouest, Ellis Jr.
|  |  | Schouest, Juston.
|  |  | Schouest, Mark.
|  |  | Schouest, Noel.
|  |  | Schrimpf, Robert H Jr.
|  |  | Schultz, Troy A.
|  |  | Schwartz, Sidney.
|  |  | Scott, Aaron J.
|  |  | Scott, Audie B.
|  |  | Scott, James E III.
|  |  | Scott, Milford P.
|  |  | Scott, Paul.
|  |  | Seabrook, Terry G.
|  |  | Seal, Charles T.
|  |  | Seal, Joseph G.
|  |  | Seaman, Garry.
|  |  | Seaman, Greg.
|  |  | Seaman, Ollie L Jr.
|  |  | Seaman, Ollie L Sr.
|  |  | Seang, Meng.
|  |  | Sehon, Robert Craig.
|  |  | Sekul, Morris G.
|  |  | Sekul, S George.
|  |  | Sellers, Isaac Charles.
|  |  | Seng, Sophan.
|  |  | Serigne, Adam R.
|  |  | Serigne, Elizabeth.
|  |  | Serigne, James J III.
|  |  | Serigne, Kimmie J.
|  |  | Serigne, Lisa M.
|  |  | Serigne, Neil.
|  |  | Serigne, O'Neil N.
|  |  | Serigne, Richard J Sr.
|  |  | Serigne, Rickey N.
|  |  | Serigne, Ronald Raymond.
|  |  | Serigne, Ronald Roch.
|  |  | Serigne, Ross.
|  |  | Serigny, Gail.
|  |  | Serigny, Wayne A.
|  |  | Serpas, Lenny Jr.
|  |  | Sessions, William O III.
|  |  | Sessions, William O Jr.
|  |  | Sevel, Michael D.
|  |  | Sevin, Carl Anthony.
|  |  | Sevin, Earline.
|  |  | Sevin, Janell A.
|  |  | Sevin, Joey.
|  |  | Sevin, Nac J.
|  |  | Sevin, O'Neil and Symantha.
|  |  | Sevin, Phillip T.
|  |  | Sevin, Shane.
|  |  | Sevin, Shane Anthony.
|  |  | Sevin, Stanley J.
|  |  | Sevin, Willis.
|  |  | Seymour, Janet A.
|  |  | Shackelford, David M.
|  |  | Shaffer, Curtis E.
|  |  | Shaffer, Glynnon D.
|  |  | Shay, Daniel A.
|  |  | Shilling, Jason.
|  |  | Shilling, L E.
|  |  | Shugars, Robert L.
|  |  | Shutt, Randy.
|  |  | Sifuentes, Esteban.
|  |  | Sifuentes, Fernando.
|  |  | Silver, Curtis A Jr.
|  |  | Simon, Curnis.
|  |  | Simon, John.
|  |  | Simon, Leo.
|  |  | Simpson, Mark.
|  |  | Sims, Donald L.
|  |  | Sims, Mike.
|  |  | Singley, Charlie Sr.
|  |  | Singley, Glenn.
|  |  | Singley, Robert Joseph.
|  |  | Sirgo, Jace.
|  |  | Sisung, Walter.
|  |  | Sisung, Walter Jr.
|  |  | Skinner, Gary M Sr.
|  |  | Skinner, Richard.
|  |  | Skipper, Malcolm W.
|  |  | Skrmetta, Martin J.
|  |  | Smelker, Brian H.
|  |  | Smith, Brian.
|  |  | Smith, Carl R Jr.
|  |  | Smith, Clark W.
|  |  | Smith, Danny.
|  |  | Smith, Danny M Jr.
|  |  | Smith, Donna.
|  |  | Smith, Elmer T Jr.
|  |  | Smith, Glenda F.
|  |  | Smith, James E.
|  |  | Smith, Margie T.
|  |  | Smith, Mark A.
|  |  | Smith, Nancy F.
|  |  | Smith, Raymond C Sr.
|  |  | Smith, Tim.
|  |  | Smith, Walter M Jr.
|  |  | Smith, William T.
|  |  | Smithwick, Ted Wayne.
|  |  | Smoak, Bill.
|  |  | Smoak, William W III.
|  |  | Snell, Erick.
|  |  | Snodgrass, Sam.
|  |  | Soeung, Phat.
|  |  | Soileau, John C Sr.
|  |  | Sok, Kheng.
|  |  | Sok, Montha.
|  |  | Sok, Nhip.
|  |  | Solet, Darren.
|  |  | Solet, Donald M.
|  |  | Solet, Joseph R.
|  |  | Solet, Raymond J.
|  |  | Solorzano, Marilyn.
|  |  | Son, Kim.
|  |  | Son, Sam Nang.
|  |  | Son, Samay.
|  |  | Son, Thuong Cong.
|  |  | Soprano, Daniel.
|  |  | Sork, William.
|  |  | Sou, Mang.
|  |  | Soudelier, Louis Jr.
|  |  | Soudelier, Shannon.
|  |  | Sour, Yem Kim.
|  |  | Southerland, Robert.
|  |  | Speir, Barbara Kay.
|  |  | Spell, Jeffrey B.
|  |  | Spell, Mark A.
|  |  | Spellmeyer, Joel F Sr.
|  |  | Spencer, Casey.
|  |  | Spiers, Donald A.
|  |  | Sprinkle, Avery M.
|  |  | Sprinkle, Emery Shelton Jr.
|  |  | Sprinkle, Joseph Warren.
|  |  | Squarsich, Kenneth J.
|  |  | Sreiy, Siphan.
|  |  | St Amant, Dana A.
|  |  | St Ann, Mr and Mrs Jerome K.
|  |  | St Pierre, Darren.
|  |  | St Pierre, Scott A.
|  |  | Staves, Patrick.
|  |  | Stechmann, Chad.
|  |  | Stechmann, Karl J.
|  |  | Stechmann, Todd.
|  |  | Steele, Arnold D Jr.
|  |  | Steele, Henry H III.
|  |  | Steen, Carl L.
|  |  | Steen, James D.
|  |  | Steen, Kathy G.
|  |  | Stein, Norris J Jr.
|  |  | Stelly, Adlar.
|  |  | Stelly, Carl A.
|  |  | Stelly, Chad P.
|  |  | Stelly, Delores.
|  |  | Stelly, Sandrus J Sr.
|  |  | Stelly, Sandrus Jr.
|  |  | Stelly, Toby J.
|  |  | Stelly, Veronica G.
|  |  | Stelly, Warren.
|  |  | Stephenson, Louis.
|  |  | Stevens, Alvin.
|  |  | Stevens, Curtis D.
|  |  | Stevens, Donald.
|  |  | Stevens, Glenda.
|  |  | Stewart, Chester Jr.
|  |  | Stewart, Derald.
|  |  | Stewart, Derek.
|  |  | Stewart, Fred.
|  |  | Stewart, Jason F.
|  |  | Stewart, Ronald G.
|  |  | Stewart, William C.
|  |  | Stiffler, Thanh.
|  |  | Stipelcovich, Lawrence L.
|  |  | Stipelcovich, Todd J.
|  |  | Stockfett, Brenda.
|  |  | Stokes, Todd.
|  |  | Stone-Rinkus, Pamela.
|  |  | Strader, Steven R.
|  |  | Strickland, Kenneth.
|  |  | Strickland, Rita G.
|  |  | Stuart, James Vernon.
|  |  | Stutes, Rex E.
|  |  | Sulak, Billy W.
|  |  | Sun, Hong Sreng.
|  |  | Surmik, Donald D.
|  |  | Swindell, Keith M.
|  |  | Sylve, Dennis A.
|  |  | Sylve, James L.
|  |  | Sylve, Nathan.
|  |  | Sylve, Scott.
|  |  | Sylvesr, Paul A.
|  |  | Ta, Ba Van.
|  |  | Ta, Chris.
|  |  | Tabb, Calvin.
|  |  | Taliancich, Andrew.
|  |  | Taliancich, Ivan.
|  |  | Taliancich, Joseph M.
|  |  | Taliancich, Srecka.
|  |  | Tan, Ho Dung.
|  |  | Tan, Hung.
|  |  | Tan, Lan T.
|  |  | Tan, Ngo The.
|  |  | Tang, Thanh.
|  |  | Tanner, Robert Charles.
|  |  | Taravella, Raymond.
|  |  | Tassin, Alton J.
|  |  | Tassin, Keith P.
|  |  | Tate, Archie P.
|  |  | Tate, Terrell.
|  |  | Tauzier, Kevin M.
|  |  | Taylor, Doyle L.
|  |  | Taylor, Herman R.
|  |  | Taylor, Herman R Jr.
|  |  | Taylor, J P Jr.
|  |  | Taylor, John C.
|  |  | Taylor, Leander J Sr.
|  |  | Taylor, Leo Jr.
|  |  | Taylor, Lewis.
|  |  | Taylor, Nathan L.
|  |  | Taylor, Robert L.
|  |  | Taylor, Robert M.
|  |  | Teap, Phal.
|  |  | Tek, Heng.
|  |  | Templat, Paul.
|  |  | Terluin, John L III.
|  |  | Terrebonne, Adrein Scott.
|  |  | Terrebonne, Alphonse J.
|  |  | Terrebonne, Alton S Jr.
|  |  | Terrebonne, Alton S Sr.
|  |  | Terrebonne, Carol.
|  |  | Terrebonne, Carroll.
|  |  | Terrebonne, Chad.
|  |  | Terrebonne, Chad Sr.
|  |  | Terrebonne, Daniel J.
|  |  | Terrebonne, Donavon J.
|  |  | Terrebonne, Gary J Sr.
|  |  | Terrebonne, Jimmy Jr.
|  |  | Terrebonne, Jimmy Sr.
|  |  | Terrebonne, Kline A.
|  |  | Terrebonne, Lanny.
|  |  | Terrebonne, Larry F Jr.
|  |  | Terrebonne, Scott.
|  |  | Terrebonne, Steven.
|  |  | Terrebonne, Steven.
|  |  | Terrebonne, Toby J.
|  |  | Terrel, Chad J Sr.
|  |  | Terrell, C Todd.
|  |  | Terrio, Brandon James.
|  |  | Terrio, Harvey J Jr.
|  |  | Terry, Eloise P.
|  |  | Tesvich, Kuzma D.
|  |  | Thac, Dang Van.
|  |  | Thach, Phuong.
|  |  | Thai, Huynh Tan.
|  |  | Thai, Paul.
|  |  | Thai, Thomas.
|  |  | Thanh, Thien.
|  |  | Tharpe, Jack.
|  |  | Theriot, Anthony.
|  |  | Theriot, Carroll A Jr.
|  |  | Theriot, Clay J Jr.
|  |  | Theriot, Craig A.
|  |  | Theriot, Dean P.
|  |  | Theriot, Donnie.
|  |  | Theriot, Jeffery C.
|  |  | Theriot, Larry J.
|  |  | Theriot, Lynn.
|  |  | Theriot, Mark A.
|  |  | Theriot, Roland P Jr.
|  |  | Theriot, Wanda J.
|  |  | Thibodaux, Jared.
|  |  | Thibodeaux, Bart James.
|  |  | Thibodeaux, Brian A.
|  |  | Thibodeaux, Brian M.
|  |  | Thibodeaux, Calvin A Jr.
|  |  | Thibodeaux, Fay F.
|  |  | Thibodeaux, Glenn P.
|  |  | Thibodeaux, Jeffrey.
|  |  | Thibodeaux, Jonathan.
|  |  | Thibodeaux, Josephine.
|  |  | Thibodeaux, Keith.
|  |  | Thibodeaux, Tony J.
|  |  | Thibodeaux, Warren J.
|  |  | Thidobaux, James V Sr.
|  |  | Thiet, Tran.
|  |  | Thomas, Alvin.
|  |  | Thomas, Brent.
|  |  | Thomas, Dally S.
|  |  | Thomas, Janie G.
|  |  | Thomas, John Richard.
|  |  | Thomas, Kenneth Ward.
|  |  | Thomas, Monica P.
|  |  | Thomas, Ralph L Jr.
|  |  | Thomas, Ralph Lee Jr.
|  |  | Thomas, Randall.
|  |  | Thomas, Robert W.
|  |  | Thomas, Willard N Jr.
|  |  | Thomassie, Gerard.
|  |  | Thomassie, Nathan A.
|  |  | Thomassie, Philip A.
|  |  | Thomassie, Ronald J.
|  |  | Thomassie, Tracy Joseph.
|  |  | Thompson, Bobbie.
|  |  | Thompson, David W.
|  |  | Thompson, Edwin A.
|  |  | Thompson, George.
|  |  | Thompson, James D Jr.
|  |  | Thompson, James Jr.
|  |  | Thompson, John E.
|  |  | Thompson, John R.
|  |  | Thompson, Randall.
|  |  | Thompson, Sammy.
|  |  | Thompson, Shawn.
|  |  | Thong, R.
|  |  | Thonn, John J Jr.
|  |  | Thonn, Victor J.
|  |  | Thorpe, Robert Lee Jr.
|  |  | Thurman, Charles E.
|  |  | Tiet, Thanh Duc.
|  |  | Tilghman, Gene E.
|  |  | Tillett, Billy Carl.
|  |  | Tillman, Lewis A Jr.
|  |  | Tillman, Timothy P and Yvonne M.
|  |  | Tillotson, Pat.
|  |  | Tinney, Mark A.
|  |  | Tisdale, Georgia W.
|  |  | Tiser, Oscar.
|  |  | Tiser, Thomas C Jr.
|  |  | Tiser, Thomas C Sr.
|  |  | To, Cang Van.
|  |  | To, Du Van.
|  |  | Todd, Fred Noel.
|  |  | Todd, Patricia J.
|  |  | Todd, Rebecca G.
|  |  | Todd, Robert C and Patricia J.
|  |  | Todd, Vonnie Frank Jr.
|  |  | Tompkins, Gerald Paul II.
|  |  | Toney, George Jr.
|  |  | Tong, Hai V.
|  |  | Tong, Linh C.
|  |  | Toomer, Christina Abbott.
|  |  | Toomer, Christy.
|  |  | Toomer, Frank G Jr.
|  |  | Toomer, Jeffrey E.
|  |  | Toomer, Kenneth.
|  |  | Toomer, Lamar K.
|  |  | Toomer, Larry Curtis and Tina.
|  |  | Toomer, William Kemp.
|  |  | Torrible, David P.
|  |  | Torrible, Jason.
|  |  | Touchard, Anthony H.
|  |  | Touchard, John B Jr.
|  |  | Touchard, Paul V Jr.
|  |  | Touchet, Eldridge III.
|  |  | Touchet, Eldridge Jr.
|  |  | Toups, Anthony G.
|  |  | Toups, Bryan.
|  |  | Toups, Jeff.
|  |  | Toups, Jimmie J.
|  |  | Toups, Kim.
|  |  | Toups, Manuel.
|  |  | Toups, Ted.
|  |  | Toups, Tommy.
|  |  | Toureau, James.
|  |  | Tower, H Melvin.
|  |  | Townsend, Harmon Lynn.
|  |  | Townsend, Marion Brooks.
|  |  | Tra, Hop T.
|  |  | Trabeau, James D.
|  |  | Trahan, Allen A Jr.
|  |  | Trahan, Alvin Jr.
|  |  | Trahan, Druby.
|  |  | Trahan, Dudley.
|  |  | Trahan, Elie J.
|  |  | Trahan, Eric J.
|  |  | Trahan, James.
|  |  | Trahan, Karen C.
|  |  | Trahan, Lynn P Sr.
|  |  | Trahan, Ricky.
|  |  | Trahan, Ronald J.
|  |  | Trahan, Tracey L.
|  |  | Trahan, Wayne Paul.
|  |  | Tran, Allen Hai.
|  |  | Tran, Andana.
|  |  | Tran, Anh.
|  |  | Tran, Anh.
|  |  | Tran, Anh N.
|  |  | Tran, Bay V.
|  |  | Tran, Bay Van.
|  |  | Tran, Binh.
|  |  | Tran, Binh Van.
|  |  | Tran, Ca Van.
|  |  | Tran, Cam Van.
|  |  | Tran, Chau V.
|  |  | Tran, Chau Van.
|  |  | Tran, Chau Van.
|  |  | Tran, Chi T.
|  |  | Tran, Christina Phuong.
|  |  | Tran, Chu V.
|  |  | Tran, Cuong.
|  |  | Tran, Cuong.
|  |  | Tran, Danny Duc.
|  |  | Tran, Den.
|  |  | Tran, Dien.
|  |  | Tran, Dinh M.
|  |  | Tran, Dinh Q.
|  |  | Tran, Doan.
|  |  | Tran, Dung Van.
|  |  | Tran, Duoc.
|  |  | Tran, Duoc.
|  |  | Tran, Duong.
|  |  | Tran, Eric.
|  |  | Tran, Francis.
|  |  | Tran, Francis.
|  |  | Tran, Giang.
|  |  | Tran, Giao.
|  |  | Tran, Ha Mike.
|  |  | Tran, Hai.
|  |  | Tran, Hien H.
|  |  | Tran, Hiep Phuoc.
|  |  | Tran, Hieu.
|  |  | Tran, Hoa.
|  |  | Tran, Hoa.
|  |  | Tran, Hue T.
|  |  | Tran, Huey.
|  |  | Tran, Hung.
|  |  | Tran, Hung.
|  |  | Tran, Hung.
|  |  | Tran, Hung P.
|  |  | Tran, Hung Van.
|  |  | Tran, Hung Van.
|  |  | Tran, Hung Viet.
|  |  | Tran, James N.
|  |  | Tran, John.
|  |  | Tran, Johnny Dinh.
|  |  | Tran, Joseph.
|  |  | Tran, Joseph T.
|  |  | Tran, Khan Van.
|  |  | Tran, Khanh.
|  |  | Tran, Kim.
|  |  | Tran, Kim Chi Thi.
|  |  | Tran, Lan Tina.
|  |  | Tran, Le and Phat Le.
|  |  | Tran, Leo Van.
|  |  | Tran, Loan.
|  |  | Tran, Long.
|  |  | Tran, Long Van.
|  |  | Tran, Luu Van.
|  |  | Tran, Ly.
|  |  | Tran, Ly Van.
|  |  | Tran, Mai Thi.
|  |  | Tran, Mary.
|  |  | Tran, Miel Van.
|  |  | Tran, Mien.
|  |  | Tran, Mike.
|  |  | Tran, Mike Dai.
|  |  | Tran, Minh Huu.
|  |  | Tran, Muoi.
|  |  | Tran, My T.
|  |  | Tran, Nam Van.
|  |  | Tran, Nang Van.
|  |  | Tran, Nghia and T Le Banh.
|  |  | Tran, Ngoc.
|  |  | Tran, Nhanh Van.
|  |  | Tran, Nhieu T.
|  |  | Tran, Nhieu Van.
|  |  | Tran, Nho.
|  |  | Tran, Peter.
|  |  | Tran, Phu Van.
|  |  | Tran, Phuc D.
|  |  | Tran, Phuc V.
|  |  | Tran, Phung.
|  |  | Tran, Quan Van.
|  |  | Tran, Quang Quang.
|  |  | Tran, Quang T.
|  |  | Tran, Quang Van.
|  |  | Tran, Qui V.
|  |  | Tran, Quy Van.
|  |  | Tran, Ran Van.
|  |  | Tran, Sarah T.
|  |  | Tran, Sau.
|  |  | Tran, Scotty.
|  |  | Tran, Son.
|  |  | Tran, Son Van.
|  |  | Tran, Steven Tuan.
|  |  | Tran, Tam.
|  |  | Tran, Te Van.
|  |  | Tran, Than.
|  |  | Tran, Thang Van.
|  |  | Tran, Thanh.
|  |  | Tran, Thanh.
|  |  | Tran, Thanh Van.
|  |  | Tran, Theresa.
|  |  | Tran, Thi.
|  |  | Tran, Thich Van.
|  |  | Tran, Thien.
|  |  | Tran, Thien Van.
|  |  | Tran, Thiet.
|  |  | Tran, Tommy.
|  |  | Tran, Tony.
|  |  | Tran, Tri.
|  |  | Tran, Trinh.
|  |  | Tran, Trung.
|  |  | Tran, Trung Van.
|  |  | Tran, Tu.
|  |  | Tran, Tuan.
|  |  | Tran, Tuan.
|  |  | Tran, Tuan Minh.
|  |  | Tran, Tuong Van.
|  |  | Tran, Tuyet Thi.
|  |  | Tran, Van T.
|  |  | Tran, Victor.
|  |  | Tran, Vinh.
|  |  | Tran, Vinh Q.
|  |  | Tran, Vinh Q.
|  |  | Tran, Vui Kim.
|  |  | Trang, Tan.
|  |  | Trapp, Tommy.
|  |  | Treadaway, Michael.
|  |  | Tregle, Curtis.
|  |  | Treloar, William Paul.
|  |  | Treuil, Gary J.
|  |  | Trevino, Manuel.
|  |  | Treybig, E H “Buddy” Jr.
|  |  | Triche, Donald G.
|  |  | Trieu, Hiep and Jackie.
|  |  | Trieu, Hung Hoa.
|  |  | Trieu, Jasmine and Ly.
|  |  | Trieu, Lorie and Tam.
|  |  | Trieu, Tam.
|  |  | Trinh, Christopher B.
|  |  | Trinh, Philip P.
|  |  | Trosclair, Clark K.
|  |  | Trosclair, Clark P.
|  |  | Trosclair, Eugene P.
|  |  | Trosclair, James J.
|  |  | Trosclair, Jerome.
|  |  | Trosclair, Joseph.
|  |  | Trosclair, Lori.
|  |  | Trosclair, Louis V.
|  |  | Trosclair, Patricia.
|  |  | Trosclair, Randy.
|  |  | Trosclair, Ricky.
|  |  | Trosclair, Wallace Sr.
|  |  | Truong, Andre.
|  |  | Truong, Andre V.
|  |  | Truong, Be Van.
|  |  | Truong, Benjamin.
|  |  | Truong, Dac.
|  |  | Truong, Huan.
|  |  | Truong, Kim.
|  |  | Truong, Nhut Van.
|  |  | Truong, Steve.
|  |  | Truong, Tham T.
|  |  | Truong, Thanh Minh.
|  |  | Truong, Them Van.
|  |  | Truong, Thom.
|  |  | Truong, Timmy.
|  |  | Trutt, George W Sr.
|  |  | Trutt, Wanda.
|  |  | Turlich, Mervin A.
|  |  | Turner, Calvin L.
|  |  | Tyre, John.
|  |  | Upton, Terry R.
|  |  | Valentino, J G Jr.
|  |  | Valentino, James.
|  |  | Vallot, Christopher A.
|  |  | Vallot, Nancy H.
|  |  | Valure, Hugh P.
|  |  | Van Alsburg, Charles.
|  |  | Van Gordstnoven, Jean J.
|  |  | Van Nguyen, Irving.
|  |  | Van, Than.
|  |  | Van, Vui.
|  |  | Vanacor, Kathy D.
|  |  | Vanacor, Malcolm J Sr.
|  |  | Vanicor, Bobbie.
|  |  | VanMeter, Matthew T.
|  |  | VanMeter, William Earl.
|  |  | Varney, Randy L.
|  |  | Vath, Raymond S.
|  |  | Veasel, William E III.
|  |  | Vegas, Brien J.
|  |  | Vegas, Percy J.
|  |  | Vegas, Terry J.
|  |  | Vegas, Terry J Jr.
|  |  | Vegas, Terry Jr.
|  |  | Vela, Peter.
|  |  | Verdin, Aaron.
|  |  | Verdin, Av.
|  |  | Verdin, Bradley J.
|  |  | Verdin, Brent A.
|  |  | Verdin, Charles A.
|  |  | Verdin, Charles E.
|  |  | Verdin, Coy P.
|  |  | Verdin, Curtis A Jr.
|  |  | Verdin, Delphine.
|  |  | Verdin, Diana A.
|  |  | Verdin, Ebro W.
|  |  | Verdin, Eric P.
|  |  | Verdin, Ernest Joseph Sr.
|  |  | Verdin, Jeff C.
|  |  | Verdin, Jeffrey A.
|  |  | Verdin, Jessie J.
|  |  | Verdin, John P.
|  |  | Verdin, Joseph.
|  |  | Verdin, Joseph A Jr.
|  |  | Verdin, Joseph Cleveland.
|  |  | Verdin, Joseph D Jr.
|  |  | Verdin, Joseph S.
|  |  | Verdin, Joseph W Jr.
|  |  | Verdin, Justilien G.
|  |  | Verdin, Matthew W Sr.
|  |  | Verdin, Michel A.
|  |  | Verdin, Paul E.
|  |  | Verdin, Perry Anthony.
|  |  | Verdin, Rodney.
|  |  | Verdin, Rodney P.
|  |  | Verdin, Rodney P.
|  |  | Verdin, Skylar.
|  |  | Verdin, Timmy J.
|  |  | Verdin, Toby.
|  |  | Verdin, Tommy P.
|  |  | Verdin, Tony J.
|  |  | Verdin, Troy.
|  |  | Verdin, Vincent.
|  |  | Verdin, Viness Jr.
|  |  | Verdin, Wallace P.
|  |  | Verdin, Webb A Sr.
|  |  | Verdin, Wesley D Sr.
|  |  | Verdine, Jimmy R.
|  |  | Vermeulen, Joseph Thomas.
|  |  | Verret, Darren L.
|  |  | Verret, Donald J.
|  |  | Verret, Ernest J Sr.
|  |  | Verret, James A.
|  |  | Verret, Jean E.
|  |  | Verret, Jimmy J Sr.
|  |  | Verret, Johnny R.
|  |  | Verret, Joseph L.
|  |  | Verret, Paul L.
|  |  | Verret, Preston.
|  |  | Verret, Quincy.
|  |  | Verret, Ronald Paul Sr.
|  |  | Versaggi, Joseph A.
|  |  | Versaggi, Salvatore J.
|  |  | Vicknair, Brent J Sr.
|  |  | Vicknair, Duane P.
|  |  | Vicknair, Henry Dale.
|  |  | Vicknair, Ricky A.
|  |  | Vidrine, Bill and Kathi.
|  |  | Vidrine, Corey.
|  |  | Vidrine, Richard.
|  |  | Vila, William F.
|  |  | Villers, Joseph A.
|  |  | Vincent, Gage Tyler.
|  |  | Vincent, Gene.
|  |  | Vincent, Gene B.
|  |  | Vincent, Robert N.
|  |  | Vise, Charles E III.
|  |  | Vizier, Barry A.
|  |  | Vizier, Christopher.
|  |  | Vizier, Clovis J III.
|  |  | Vizier, Douglas M.
|  |  | Vizier, Tommie Jr.
|  |  | Vo, Anh M.
|  |  | Vo, Chin Van.
|  |  | Vo, Dam.
|  |  | Vo, Dan M.
|  |  | Vo, Dany.
|  |  | Vo, Day V.
|  |  | Vo, Duong V.
|  |  | Vo, Dustin.
|  |  | Vo, Hai Van.
|  |  | Vo, Hanh Xuan.
|  |  | Vo, Hien Van.
|  |  | Vo, Hoang The.
|  |  | Vo, Hong.
|  |  | Vo, Hung Thanh.
|  |  | Vo, Huy K.
|  |  | Vo, Johnny.
|  |  | Vo, Kent.
|  |  | Vo, Lien Van.
|  |  | Vo, Man.
|  |  | Vo, Mark Van.
|  |  | Vo, Minh Hung.
|  |  | Vo, Minh Ngoc.
|  |  | Vo, Minh Ray.
|  |  | Vo, Mong V.
|  |  | Vo, My Dung Thi.
|  |  | Vo, My Lynn.
|  |  | Vo, Nga.
|  |  | Vo, Nhon Tai.
|  |  | Vo, Nhu Thanh.
|  |  | Vo, Quang Minh.
|  |  | Vo, Sang M.
|  |  | Vo, Sanh M.
|  |  | Vo, Song V.
|  |  | Vo, Tan Thanh.
|  |  | Vo, Tan Thanh.
|  |  | Vo, Thanh Van.
|  |  | Vo, Thao.
|  |  | Vo, Thuan Van.
|  |  | Vo, Tien Van.
|  |  | Vo, Tom.
|  |  | Vo, Tong Ba.
|  |  | Vo, Trao Van.
|  |  | Vo, Truong.
|  |  | Vo, Van Van.
|  |  | Vo, Vi Viet.
|  |  | Vodopija, Benjamin S.
|  |  | Vogt, James L.
|  |  | Voisin, Eddie James.
|  |  | Voisin, Joyce.
|  |  | Voison, Jamie.
|  |  | Von Harten, Harold L.
|  |  | Vona, Michael A.
|  |  | Vongrith, Richard.
|  |  | Vossler, Kirk.
|  |  | Vu, Hung.
|  |  | Vu, John H.
|  |  | Vu, Khanh.
|  |  | Vu, Khoi Van.
|  |  | Vu, Quan Quoc.
|  |  | Vu, Ruyen Viet.
|  |  | Vu, Sac.
|  |  | Vu, Sean.
|  |  | Vu, Tam.
|  |  | Vu, Thiem Ngoc.
|  |  | Vu, Thuy.
|  |  | Vu, Tom.
|  |  | Vu, Tu Viet.
|  |  | Vu, Tuyen Jack.
|  |  | Vu, Tuyen Viet.
|  |  | Wade, Calvin J Jr.
|  |  | Wade, Gerard.
|  |  | Waguespack, David M Sr.
|  |  | Waguespack, Randy P II.
|  |  | Wainwright, Vernon.
|  |  | Walker, Jerry.
|  |  | Walker, Rogers H.
|  |  | Wallace, Dennis.
|  |  | Wallace, Edward.
|  |  | Wallace, John A.
|  |  | Wallace, John K.
|  |  | Wallace, Trevis L.
|  |  | Waller, Jack Jr.
|  |  | Waller, John M.
|  |  | Waller, Mike.
|  |  | Wallis, Craig A.
|  |  | Wallis, Keith.
|  |  | Walters, Samuel G.
|  |  | Walton, Marion M.
|  |  | Wannage, Edward Joseph.
|  |  | Wannage, Fred Jr.
|  |  | Wannage, Frederick W Sr.
|  |  | Ward, Clarence Jr.
|  |  | Ward, Olan B.
|  |  | Ward, Walter M.
|  |  | Washington, Clifford.
|  |  | Washington, John Emile III.
|  |  | Washington, Kevin.
|  |  | Washington, Louis N.
|  |  | Wattigney, Cecil K Jr.
|  |  | Wattigney, Michael.
|  |  | Watts, Brandon A.
|  |  | Watts, Warren.
|  |  | Webb, Bobby.
|  |  | Webb, Bobby N.
|  |  | Webb, Josie M.
|  |  | Webre, Donald.
|  |  | Webre, Dudley A.
|  |  | Webster, Harold.
|  |  | Weeks, Don Franklin.
|  |  | Weems, Laddie E.
|  |  | Weinstein, Barry C.
|  |  | Weiskopf, Rodney.
|  |  | Weiskopf, Rodney Sr.
|  |  | Weiskopf, Todd.
|  |  | Welch, Amos J.
|  |  | Wells, Douglas E.
|  |  | Wells, Stephen Ray.
|  |  | Wendling, Steven W.
|  |  | Wescovich, Charles W.
|  |  | Wescovich, Wesley Darryl.
|  |  | Whatley, William J.
|  |  | White, Allen Sr.
|  |  | White, Charles.
|  |  | White, Charles Fulton.
|  |  | White, David L.
|  |  | White, Gary Farrell.
|  |  | White, James Hugh.
|  |  | White, Perry J.
|  |  | White, Raymond.
|  |  | White, Robert Sr.
|  |  | Wicher, John.
|  |  | Wiggins, Chad M Sr.
|  |  | Wiggins, Ernest.
|  |  | Wiggins, Harry L.
|  |  | Wiggins, Kenneth A.
|  |  | Wiggins, Matthew.
|  |  | Wilbur, Gerald Anthony.
|  |  | Wilcox, Robert.
|  |  | Wiles, Alfred Adam.
|  |  | Wiles, Glen Gilbert.
|  |  | Wiles, Sonny Joel Sr.
|  |  | Wilkerson, Gene Dillard and Judith.
|  |  | Wilkinson, William Riley.
|  |  | Williams, Allen Jr.
|  |  | Williams, Andrew.
|  |  | Williams, B Dean.
|  |  | Williams, Clyde L.
|  |  | Williams, Dale A.
|  |  | Williams, Emmett J.
|  |  | Williams, Herman J Jr.
|  |  | Williams, J T.
|  |  | Williams, John A.
|  |  | Williams, Johnny Paul.
|  |  | Williams, Joseph H.
|  |  | Williams, Kirk.
|  |  | Williams, Leopold A.
|  |  | Williams, Mark A.
|  |  | Williams, Mary Ann C.
|  |  | Williams, Melissa A.
|  |  | Williams, Nina.
|  |  | Williams, Oliver Kent.
|  |  | Williams, Parish.
|  |  | Williams, Roberto.
|  |  | Williams, Ronnie.
|  |  | Williams, Scott A.
|  |  | Williams, Steven.
|  |  | Williams, Thomas D.
|  |  | Williamson, Richard L Sr.
|  |  | Willyard, Derek C.
|  |  | Willyard, Donald R.
|  |  | Wilson, Alward.
|  |  | Wilson, Hosea.
|  |  | Wilson, Joe R.
|  |  | Wilson, Jonathan.
|  |  | Wilson, Katherine.
|  |  | Wiltz, Allen.
|  |  | Wing, Melvin.
|  |  | Wiseman, Allen.
|  |  | Wiseman, Clarence J Jr.
|  |  | Wiseman, Jean P.
|  |  | Wiseman, Joseph A.
|  |  | Wiseman, Michael T Jr.
|  |  | Wiseman, Michael T Sr.
|  |  | Wolfe, Charles.
|  |  | Woods, John T III.
|  |  | Wright, Curtis.
|  |  | Wright, Leonard.
|  |  | Wright, Randy D.
|  |  | Yeamans, Douglas.
|  |  | Yeamans, Neil.
|  |  | Yeamans, Ronnie.
|  |  | Yoeuth, Peon.
|  |  | Yopp, Harold.
|  |  | Yopp, Jonathon.
|  |  | Yopp, Milton Thomas.
|  |  | Young, James.
|  |  | Young, Taing.
|  |  | Young, Willie.
|  |  | Yow, Patricia D.
|  |  | Yow, Richard C.
|  |  | Zanca, Anthony V Sr.
|  |  | Zar, Ashley A.
|  |  | Zar, Carl J.
|  |  | Zar, John III.
|  |  | Zar, Steve.
|  |  | Zar, Steven.
|  |  | Zar, Troy A.
|  |  | Zerinque, John S Jr.
|  |  | Zirlott, Curtis.
|  |  | Zirlott, Jason D.
|  |  | Zirlott, Jeremy.
|  |  | Zirlott, Kimberly.
|  |  | Zirlott, Milton.
|  |  | Zirlott, Perry.
|  |  | Zirlott, Rosa H.
|  |  | Zito, Brian C.
|  |  | Zuvich, Michael A Jr.
|  |  | Ad Hoc Shrimp Trade Action Committee.
|  |  | Bryan Fishermens' Co-Op Inc.
|  |  | Louisiana Shrimp Association.
|  |  | South Carolina Shrimpers Association.
|  |  | Vietnamese-American Commerical Fisherman's Union.
|  |  | 3-G Enterprize dba Griffin's Seafood.
|  |  | A & G Trawlers Inc.
|  |  | A & T Shrimping.
|  |  | A Ford Able Seafood.
|  |  | A J Horizon Inc.
|  |  | A&M Inc.
|  |  | A&R Shrimp Co.
|  |  | A&T Shrimping.
|  |  | AAH Inc.
|  |  | AC Christopher Sea Food Inc.
|  |  | Ace of Trade LLC.
|  |  | Adriana Corp.
|  |  | AJ Boats Inc.
|  |  | AJ Horizon Inc.
|  |  | AJ's Seafood.
|  |  | Alario Inc.
|  |  | Alcide J Adams Jr.
|  |  | Aldebaran Inc.
|  |  | Aldebran Inc.
|  |  | Alexander and Dola.
|  |  | Alfred Englade Inc.
|  |  | Alfred Trawlers Inc.
|  |  | Allen Hai Tran dba Kien Giang.
|  |  | Al's Shrimp Co.
|  |  | Al's Shrimp Co LLC.
|  |  | Al's Shrimp Co LLC.
|  |  | Al's Whosale & Retail.
|  |  | Alton Cheeks.
|  |  | Amada Inc.
|  |  | Amber Waves.
|  |  | Amelia Isle.
|  |  | American Beauty.
|  |  | American Beauty Inc.
|  |  | American Eagle Enterprise Inc.
|  |  | American Girl.
|  |  | American Seafood.
|  |  | Americana Shrimp.
|  |  | Amvina II.
|  |  | Amvina II.
|  |  | Amy D Inc.
|  |  | Amy's Seafood Mart.
|  |  | An Kit.
|  |  | Andy Boy.
|  |  | Andy's SFD.
|  |  | Angel Annie Inc.
|  |  | Angel Leigh.
|  |  | Angel Seafood Inc.
|  |  | Angela Marie Inc.
|  |  | Angela Marie Inc.
|  |  | Angelina Inc.
|  |  | Anna Grace LLC.
|  |  | Anna Grace LLC.
|  |  | Annie Thornton Inc.
|  |  | Annie Thornton Inc.
|  |  | Anthony Boy I.
|  |  | Anthony Boy I.
|  |  | Anthony Fillinich Sr.
|  |  | Apalachee Girl Inc.
|  |  | Aparicio Trawlers Inc dba Marcosa.
|  |  | Apple Jack Inc.
|  |  | Aquila Seafood Inc.
|  |  | Aquillard Seafood.
|  |  | Argo Marine .
|  |  | Arnold's Seafood.
|  |  | Arroya Cruz Inc.
|  |  | Art & Red Inc.
|  |  | Arthur Chisholm.
|  |  | A-Seafood Express.
|  |  | Ashley Deeb Inc.
|  |  | Ashley W 648675.
|  |  | Asian Gulf Corp.
|  |  | Atlantic.
|  |  | Atocha Troy A LeCompte Sr.
|  |  | Atwood Enterprises.
|  |  | B & B Boats Inc.
|  |  | B & B Seafood.
|  |  | B&J Seafood.
|  |  | BaBe Inc.
|  |  | Baby Ruth.
|  |  | Bailey, David B Sr—Bailey's Seafood.
|  |  | Bailey's Seafood of Cameron Inc.
|  |  | Bait Inc.
|  |  | Bait Inc.
|  |  | Baker Shrimp.
|  |  | Bama Love Inc.
|  |  | Bama Sea Products Inc.
|  |  | Bao Hung Inc.
|  |  | Bao Hung Inc.
|  |  | Bar Shrimp.
|  |  | Barbara Brooks Inc.
|  |  | Barbara Brooks Inc.
|  |  | Barisich Inc.
|  |  | Barisich Inc.
|  |  | Barnacle-Bill Inc.
|  |  | Barney's Bait & Seafood.
|  |  | Barrios Seafood.
|  |  | Bay Boy.
|  |  | Bay Islander Inc.
|  |  | Bay Sweeper Nets.
|  |  | Baye's Seafood 335654.
|  |  | Bayou Bounty Seafood LLC.
|  |  | Bayou Caddy Fisheries Inc.
|  |  | Bayou Carlin Fisheries.
|  |  | Bayou Carlin Fisheries Inc.
|  |  | Bayou Shrimp Processors Inc.
|  |  | BBC Trawlers Inc.
|  |  | BBS Inc.
|  |  | Beachcomber Inc.
|  |  | Beachcomber Inc.
|  |  | Bea's Corp.
|  |  | Beecher's Seafood.
|  |  | Believer Inc.
|  |  | Bennett's Seafood.
|  |  | Benny Alexie.
|  |  | Bergeron's Seafood.
|  |  | Bertileana Corp.
|  |  | Best Sea-Pack of Texas Inc.
|  |  | Beth Lomonte Inc.
|  |  | Beth Lomonte Inc.
|  |  | Betty B.
|  |  | Betty H Inc.
|  |  | Bety Inc.
|  |  | BF Millis & Sons Seafood.
|  |  | Big Daddy Seafood Inc.
|  |  | Big Grapes Inc.
|  |  | Big Kev.
|  |  | Big Oak Seafood.
|  |  | Big Oak Seafood.
|  |  | Big Oaks Seafood.
|  |  | Big Shrimp Inc.
|  |  | Billy J Foret—BJF Inc.
|  |  | Billy Sue Inc.
|  |  | Billy Sue Inc.
|  |  | Biloxi Freezing & Processing.
|  |  | Binh Duong.
|  |  | BJB LLC.
|  |  | Blain & Melissa Inc.
|  |  | Blanca Cruz Inc.
|  |  | Blanchard & Cheramie Inc.
|  |  | Blanchard Seafood.
|  |  | Blazing Sun Inc.
|  |  | Blazing Sun Inc.
|  |  | Blue Water Seafood.
|  |  | Bluewater Shrimp Co.
|  |  | Bluffton Oyster Co.
|  |  | Boat Josey Wales.
|  |  | Boat Josey Wales LLC.
|  |  | Boat Monica Kiff.
|  |  | Boat Warrior.
|  |  | Bob-Rey Fisheries Inc.
|  |  | Bodden Trawlers Inc.
|  |  | Bolillo Prieto Inc.
|  |  | Bon Secour Boats Inc.
|  |  | Bon Secour Fisheries Inc.
|  |  | Bon Secur Boats Inc.
|  |  | Bonnie Lass Inc.
|  |  | Boone Seafood.
|  |  | Bosarge Boats.
|  |  | Bosarge Boats.
|  |  | Bosarge Boats Inc.
|  |  | Bottom Verification LLC.
|  |  | Bowers Shrimp.
|  |  | Bowers Shrimp Farm.
|  |  | Bowers Valley Shrimp Inc.
|  |  | Brad Friloux.
|  |  | Brad Nicole Seafood.
|  |  | Bradley John Inc.
|  |  | Bradley's Seafood Mkt.
|  |  | Brava Cruz Inc.
|  |  | Brenda Darlene Inc.
|  |  | Brett Anthony.
|  |  | Bridgeside Marina.
|  |  | Bridgeside Seafood.
|  |  | Bridget's Seafood Service Inc.
|  |  | Bridget's Seafood Service Inc.
|  |  | BRS Seafood.
|  |  | BRS Seafood.
|  |  | Bruce W Johnson Inc.
|  |  | Bubba Daniels Inc.
|  |  | Bubba Tower Shrimp Co.
|  |  | Buccaneer Shrimp Co.
|  |  | Buchmer Inc.
|  |  | Buck & Peed Inc.
|  |  | Buddy Boy Inc.
|  |  | Buddy's Seafood.
|  |  | Bumble Bee Seafoods LLC.
|  |  | Bumble Bee Seafoods LLC.
|  |  | Bundy Seafood.
|  |  | Bundy's Seafood.
|  |  | Bunny's Shrimp.
|  |  | Burgbe Gump Seafood.
|  |  | Burnell Trawlers Inc.
|  |  | Burnell Trawlers Inc/Mamacita/Swamp Irish.
|  |  | Buster Brown Inc.
|  |  | By You Seafood.
|  |  | C & R Trawlers Inc.
|  |  | CA Magwood Enterprises Inc.
|  |  | Cajun Queen of LA LLC.
|  |  | Calcasien Point Bait N More Inc.
|  |  | Cam Ranh Bay.
|  |  | Camardelle's Seafood.
|  |  | Candy Inc.
|  |  | Cao Family Inc.
|  |  | Cap Robear.
|  |  | Cap'n Bozo Inc.
|  |  | Capn Jasper's Seafood Inc.
|  |  | Capt Aaron.
|  |  | Capt Adam.
|  |  | Capt Anthony Inc.
|  |  | Capt Bean (Richard A Ragas).
|  |  | Capt Beb Inc.
|  |  | Capt Bill Jr Inc.
|  |  | Capt Brother Inc.
|  |  | Capt Bubba.
|  |  | Capt Buck.
|  |  | Capt Carl.
|  |  | Capt Carlos Trawlers Inc.
|  |  | Capt Chance Inc.
|  |  | Capt Christopher Inc.
|  |  | Capt Chuckie.
|  |  | Capt Craig.
|  |  | Capt Craig Inc.
|  |  | Capt Crockett Inc.
|  |  | Capt Darren Hill Inc.
|  |  | Capt Dennis Inc.
|  |  | Capt Dickie Inc.
|  |  | Capt Dickie V Inc.
|  |  | Capt Doug.
|  |  | Capt Eddie Inc.
|  |  | Capt Edward Inc.
|  |  | Capt Eli's.
|  |  | Capt Elroy Inc.
|  |  | Capt Ernest LLC.
|  |  | Capt Ernest LLC.
|  |  | Capt GDA Inc.
|  |  | Capt George.
|  |  | Capt H & P Corp.
|  |  | Capt Havey Seafood.
|  |  | Capt Henry Seafood Dock.
|  |  | Capt Huy.
|  |  | Capt JDL Inc.
|  |  | Capt Jimmy Inc.
|  |  | Capt Joe.
|  |  | Capt Johnny II.
|  |  | Capt Jonathan.
|  |  | Capt Jonathan Inc.
|  |  | Capt Joshua Inc.
|  |  | Capt Jude 520556 13026.
|  |  | Capt Ken.
|  |  | Capt Kevin Inc.
|  |  | Capt Ko Inc.
|  |  | Capt Koung Lim.
|  |  | Capt Larry Seafood Market.
|  |  | Capt Larry's Inc.
|  |  | Capt LC Corp.
|  |  | Capt LD Seafood Inc.
|  |  | Capt Linton Inc.
|  |  | Capt Mack Inc.
|  |  | Capt Marcus Inc.
|  |  | Capt Morris.
|  |  | Capt Opie.
|  |  | Capt P Inc.
|  |  | Capt Pappie Inc.
|  |  | Capt Pat.
|  |  | Capt Paw Paw.
|  |  | Capt Pete Inc.
|  |  | Capt Peter Long Inc.
|  |  | Capt Pool Bear II's Seafood.
|  |  | Capt Quang.
|  |  | Capt Quina Inc.
|  |  | Capt Richard.
|  |  | Capt Ross Inc.
|  |  | Capt Roy.
|  |  | Capt Russell Jr Inc.
|  |  | Capt Ryan Inc.
|  |  | Capt Ryan's.
|  |  | Capt Sam.
|  |  | Capt Sang.
|  |  | Capt Scar Inc.
|  |  | Capt Scott.
|  |  | Capt Scott 5.
|  |  | Capt Scott Seafood.
|  |  | Capt Sparkers Shrimp.
|  |  | Capt St Peter.
|  |  | Capt T&T Corp.
|  |  | Capt Thien.
|  |  | Capt Tommy Inc.
|  |  | Capt Two Inc.
|  |  | Capt Van's Seafood.
|  |  | Capt Walley Inc.
|  |  | Capt Zoe Inc.
|  |  | Captain Allen's Bait & Tackle.
|  |  | Captain Arnulfo Inc.
|  |  | Captain Blair Seafood.
|  |  | Captain Dexter Inc.
|  |  | Captain D's.
|  |  | Captain Homer Inc.
|  |  | Captain Jeff.
|  |  | Captain JH III Inc.
|  |  | Captain Joshua.
|  |  | Captain Larry'O.
|  |  | Captain Miss Cammy Nhung.
|  |  | Captain Regis.
|  |  | Captain Rick.
|  |  | Captain T/Thiet Nguyen.
|  |  | Captain Tony.
|  |  | Captain Truong Phi Corp.
|  |  | Captain Vinh.
|  |  | Cap't-Brandon.
|  |  | Captian Thomas Trawler Inc.
|  |  | Carlino Seafood.
|  |  | Carly Sue Inc.
|  |  | Carmelita Inc.
|  |  | Carolina Lady Inc.
|  |  | Carolina Sea Foods Inc.
|  |  | Caroline and Calandra Inc.
|  |  | Carson & Co.
|  |  | Carson & Co Inc.
|  |  | Cary Encalade Trawling.
|  |  | Castellano's Corp.
|  |  | Cathy Cheramie Inc.
|  |  | CBS Seafood & Catering LLC.
|  |  | CBS Seafood & Catering LLC.
|  |  | Cecilia Enterprise Inc.
|  |  | CF Gollot & Son Sfd Inc.
|  |  | CF Gollott and Son Seafood Inc.
|  |  | Chackbay Lady.
|  |  | Chad & Chaz LLC.
|  |  | Challenger Shrimp Co Inc.
|  |  | Chalmette Marine Supply Co Inc.
|  |  | Chalmette Net & Trawl.
|  |  | Chapa Shrimp Trawlers.
|  |  | Chaplin Seafood.
|  |  | Charlee Girl.
|  |  | Charles Guidry Inc.
|  |  | Charles Sellers.
|  |  | Charles White.
|  |  | Charlotte Maier Inc.
|  |  | Charlotte Maier Inc.
|  |  | Chef Seafood Ent LLC.
|  |  | Cheramies Landing.
|  |  | Cherry Pt Seafood.
|  |  | Cheryl Lynn Inc.
|  |  | Chez Francois Seafood.
|  |  | Chilling Pride Inc.
|  |  | Chin Nguyen Co.
|  |  | Chin Nguyen Co.
|  |  | Chinatown Seafood Co Inc.
|  |  | Chines Cajun Net Shop.
|  |  | Chris Hansen Seafood.
|  |  | Christian G Inc.
|  |  | Christina Leigh Shrimp Co.
|  |  | Christina Leigh Shrimp Company Inc.
|  |  | Christina Leigh Shrimp Company Inc.
|  |  | Cieutat Trawlers.
|  |  | Cinco de Mayo Inc.
|  |  | Cindy Lynn Inc.
|  |  | Cindy Mae Inc.
|  |  | City Market Inc.
|  |  | CJ Seafood.
|  |  | CJs Seafood.
|  |  | Clifford Washington.
|  |  | Clinton Hayes—C&S Enterprises of Brandon Inc.
|  |  | Cochran's Boat Yard.
|  |  | Colorado River Seafood.
|  |  | Colson Marine.
|  |  | Comm Fishing.
|  |  | Commercial Fishing Service CFS Seafoods.
|  |  | Cong Son.
|  |  | Cong-An Inc.
|  |  | Country Girl Inc.
|  |  | Country Inc.
|  |  | Courtney & Ory Inc.
|  |  | Cowdrey Fish.
|  |  | Cptn David.
|  |  | Crab-Man Bait Shop.
|  |  | Craig A Wallis, Keith Wallis dba W&W Dock & 10 boats.
|  |  | Cristina Seafood.
|  |  | CRJ Inc.
|  |  | Cruillas Inc.
|  |  | Crusader Inc.
|  |  | Crustacean Frustration.
|  |  | Crystal Gayle Inc.
|  |  | Crystal Light Inc.
|  |  | Crystal Light Inc.
|  |  | Curtis Henderson.
|  |  | Custom Pack Inc.
|  |  | Custom Pack Inc.
|  |  | Cyril's Ice House & Supplies.
|  |  | D & A Seafood.
|  |  | D & C Seafood Inc.
|  |  | D & J Shrimping LLC.
|  |  | D & M Seafood & Rental LLC.
|  |  | D Ditcharo Jr Seafoods.
|  |  | D G & R C Inc.
|  |  | D S L & R Inc.
|  |  | D&T Marine Inc.
|  |  | Daddys Boys.
|  |  | DaHa Inc/Cat'Sass.
|  |  | DAHAPA Inc.
|  |  | Dale's Seafood Inc.
|  |  | Dang Nguyen.
|  |  | Daniel E Lane.
|  |  | Danny Boy Inc.
|  |  | Danny Max.
|  |  | David & Danny Inc.
|  |  | David C Donnelly.
|  |  | David Daniels.
|  |  | David Ellison Jr.
|  |  | David Gollott Sfd Inc.
|  |  | David W Casanova's Seafood.
|  |  | David White.
|  |  | David's Shrimping Co.
|  |  | Davis Seafood.
|  |  | Davis Seafood.
|  |  | Davis Seafood Inc.
|  |  | Dawn Marie.
|  |  | Deana Cheramie Inc.
|  |  | Deanna Lea.
|  |  | Dean's Seafood.
|  |  | Deau Nook.
|  |  | Debbe Anne Inc.
|  |  | Deep Sea Foods Inc/Jubilee Foods Inc.
|  |  | Delcambre Seafood.
|  |  | Dell Marine Inc.
|  |  | Dennis Menesses Seafood.
|  |  | Dennis' Seafood Inc.
|  |  | Dennis Shrimp Co Inc.
|  |  | Desperado.
|  |  | DFS Inc.
|  |  | Diamond Reef Seafood.
|  |  | Diem Inc.
|  |  | Dinh Nguyen.
|  |  | Dixie General Store LLC.
|  |  | Dixie Twister.
|  |  | Dominick's Seafood Inc.
|  |  | Don Paco Inc.
|  |  | Donald F Boone II.
|  |  | Dong Nguyen.
|  |  | Donini Seafoods Inc.
|  |  | Donna Marie.
|  |  | Donovan Tien I & II.
|  |  | Dopson Seafood.
|  |  | Dorada Cruz Inc.
|  |  | Double Do Inc.
|  |  | Double Do Inc.
|  |  | Doug and Neil Inc.
|  |  | Douglas Landing.
|  |  | Doxey's Oyster & Shrimp.
|  |  | Dragnet II.
|  |  | Dragnet Inc.
|  |  | Dragnet Seafood LLC.
|  |  | Dubberly's Mobile Seafood.
|  |  | Dudenhefer Seafood.
|  |  | Dugas Shrimp Co LLC.
|  |  | Dunamis Towing Inc.
|  |  | Dupree's Seafood.
|  |  | Duval & Duval Inc.
|  |  | Dwayne's Dream Inc.
|  |  | E & M Seafood.
|  |  | E & T Boating.
|  |  | E Gardner McClellan.
|  |  | E&E Shrimp Co Inc.
|  |  | East Coast Seafood.
|  |  | East Coast Seafood.
|  |  | East Coast Seafood.
|  |  | East Coast Seafood.
|  |  | Edisto Queen LLC.
|  |  | Edward Garcia Trawlers.
|  |  | EKV Inc.
|  |  | El Pedro Fishing & Trading Co Inc.
|  |  | Eliminator Inc.
|  |  | Elizabeth Nguyen.
|  |  | Ellerbee Seafoods.
|  |  | Ellie May.
|  |  | Elmira Pflueckhahn Inc.
|  |  | Elmira Pflueckhahn Inc.
|  |  | Elvira G Inc.
|  |  | Emily's SFD.
|  |  | Emmanuel Inc.
|  |  | Ensenada Cruz Inc.
|  |  | Enterprise.
|  |  | Enterprise Inc.
|  |  | Equalizer Shrimp Co Inc.
|  |  | Eric F Dufrene Jr LLC.
|  |  | Erica Lynn Inc.
|  |  | Erickson & Jensen Seafood Packers.
|  |  | Ethan G Inc.
|  |  | Excalibur LLC.
|  |  | F/V Apalachee Warrior.
|  |  | F/V Atlantis I.
|  |  | F/V Capt Walter B.
|  |  | F/V Captain Andy.
|  |  | F/V Eight Flags.
|  |  | F/V Mary Ann.
|  |  | F/V Miss Betty.
|  |  | F/V Morning Star.
|  |  | F/V Nam Linh.
|  |  | F/V Olivia B.
|  |  | F/V Phuoc Thanh Mai II.
|  |  | F/V Sea Dolphin.
|  |  | F/V Southern Grace.
|  |  | F/V Steven Mai.
|  |  | F/V Steven Mai II.
|  |  | Famer Boys Catfish Kitchens.
|  |  | Family Thing.
|  |  | Father Casimir Inc.
|  |  | Father Dan Inc.
|  |  | Father Mike Inc.
|  |  | Fiesta Cruz Inc.
|  |  | Fine Shrimp Co.
|  |  | Fire Fox Inc.
|  |  | Fisherman's Reef Shrimp Co.
|  |  | Fishermen IX Inc.
|  |  | Fishing Vessel Enterprise Inc.
|  |  | Five Princesses Inc.
|  |  | FKM Inc.
|  |  | Fleet Products Inc.
|  |  | Flower Shrimp House.
|  |  | Flowers Seafood Co.
|  |  | Floyd's Wholesale Seafood Inc.
|  |  | Fly By Night Inc.
|  |  | Forest Billiot Jr.
|  |  | Fortune Shrimp Co Inc.
|  |  | FP Oubre.
|  |  | Francis Brothers Inc.
|  |  | Francis Brothers Inc.
|  |  | Francis III.
|  |  | Frank Toomer Jr.
|  |  | Fran-Tastic Too.
|  |  | Frederick-Dan.
|  |  | Freedom Fishing Inc.
|  |  | Freeman Seafood.
|  |  | Frelich Seafood Inc.
|  |  | Frenchie D-282226.
|  |  | Fripp Point Seafood.
|  |  | G & L Trawling Inc.
|  |  | G & O Shrimp Co Inc.
|  |  | G & O Trawlers Inc.
|  |  | G & S Trawlers Inc.
|  |  | G D Ventures II Inc.
|  |  | G G Seafood.
|  |  | G R LeBlanc Trawlers Inc.
|  |  | Gail's Bait Shop.
|  |  | Gale Force Inc.
|  |  | Gambler Inc.
|  |  | Gambler Inc.
|  |  | Garijak Inc.
|  |  | Gary F White.
|  |  | Gator's Seafood.
|  |  | Gay Fish Co.
|  |  | Gay Fish Co.
|  |  | GeeChee Fresh Seafood.
|  |  | Gemita Inc.
|  |  | Gene P Callahan Inc.
|  |  | George J Price Sr Ent Inc.
|  |  | Georgia Shrimp Co LLC.
|  |  | Gerica Marine.
|  |  | Gilden Enterprises.
|  |  | Gillikin Marine Railways Inc.
|  |  | Gina K Inc.
|  |  | Gisco Inc.
|  |  | Gisco Inc.
|  |  | Glenda Guidry Inc.
|  |  | Gloria Cruz Inc.
|  |  | Go Fish Inc.
|  |  | God's Gift.
|  |  | God's Gift Shrimp Vessel.
|  |  | Gogie.
|  |  | Gold Coast Seafood Inc.
|  |  | Golden Gulf Coast Pkg Co Inc.
|  |  | Golden Phase Inc.
|  |  | Golden Text Inc.
|  |  | Golden Text Inc.
|  |  | Golden Text Inc.
|  |  | Goldenstar.
|  |  | Gollott Brothers Sfd Co Inc.
|  |  | Gollott's Oil Dock & Ice House Inc.
|  |  | Gonzalez Trawlers Inc.
|  |  | Gore Enterprises Inc.
|  |  | Gore Enterprizes Inc.
|  |  | Gore Seafood Co.
|  |  | Gore Seafood Inc.
|  |  | Gove Lopez.
|  |  | Graham Fisheries Inc.
|  |  | Graham Shrimp Co Inc.
|  |  | Graham Shrimp Co Inc.
|  |  | Gramps Shrimp Co.
|  |  | Grandma Inc.
|  |  | Grandpa's Dream.
|  |  | Grandpa's Dream.
|  |  | Granny's Garden and Seafood.
|  |  | Green Flash LLC.
|  |  | Greg Inc.
|  |  | Gregory Mark Gaubert.
|  |  | Gregory Mark Gaubert.
|  |  | Gregory T Boone.
|  |  | Gros Tete Trucking Inc.
|  |  | Guidry's Bait Shop.
|  |  | Guidry's Net Shop.
|  |  | Gulf Central Seaood Inc.
|  |  | Gulf Crown Seafood Co Inc.
|  |  | Gulf Fish Inc.
|  |  | Gulf Fisheries Inc.
|  |  | Gulf Island Shrimp & Seafood II LLC.
|  |  | Gulf King Services Inc.
|  |  | Gulf Pride Enterprises Inc.
|  |  | Gulf Seaway Seafood Inc.
|  |  | Gulf Shrimp.
|  |  | Gulf South Inc.
|  |  | Gulf Stream Marina LLC.
|  |  | Gulf Sweeper Inc (Trawler Gulf Sweeper).
|  |  | Gypsy Girl Inc.
|  |  | H & L Seafood.
|  |  | Hack Berry Seafood.
|  |  | Hagen & Miley Inc.
|  |  | Hailey Marie Inc.
|  |  | Hanh Lai Inc.
|  |  | Hannah Joyce Inc.
|  |  | Hardy Trawlers.
|  |  | Hardy Trawlers.
|  |  | Harrington Fish Co Inc.
|  |  | Harrington Seafood & Supply Inc.
|  |  | Harrington Shrimp Co Inc.
|  |  | Harrington Trawlers Inc.
|  |  | Harris Fisheries Inc.
|  |  | Hazel's Hustler.
|  |  | HCP LLC.
|  |  | Heather Lynn Inc.
|  |  | Heavy Metal Inc.
|  |  | Hebert Investments Inc.
|  |  | Hebert's Mini Mart LLC.
|  |  | Helen E Inc.
|  |  | Helen Kay Inc.
|  |  | Helen Kay Inc.
|  |  | Helen W Smith Inc.
|  |  | Henderson Seafood.
|  |  | Henry Daniels Inc.
|  |  | Hermosa Cruz Inc.
|  |  | Hi Seas of Dulac Inc.
|  |  | Hien Le Van Inc.
|  |  | High Hope Inc.
|  |  | Hoang Anh.
|  |  | Hoang Long I, II.
|  |  | Holland Enterprises.
|  |  | Holly Beach Seafood.
|  |  | Holly Marie's Seafood Market.
|  |  | Hombre Inc.
|  |  | Home Loving Care Co.
|  |  | Hondumex Ent Inc.
|  |  | Hong Nga Inc.
|  |  | Hongri Inc.
|  |  | Houston Foret Seafood.
|  |  | Howerin Trawlers Inc.
|  |  | HTH Marine Inc.
|  |  | Hubbard Seafood.
|  |  | Hurricane Emily Seafood Inc.
|  |  | Hutcherson Christian Shrimp Inc.
|  |  | Huyen Inc.
|  |  | Icy Seafood II Inc.
|  |  | ICY Seafood Inc.
|  |  | Icy Seafood Inc.
|  |  | Ida's Seafood Rest & Market.
|  |  | Ike & Zack Inc.
|  |  | Independent Fish Company Inc.
|  |  | Inflation Inc.
|  |  | Integrity Fisheries Inc.
|  |  | Integrity Fishing Inc.
|  |  | International Oceanic Ent.
|  |  | Interstate Vo LLC.
|  |  | Intracoastal Seafood Inc.
|  |  | Iorn Will Inc.
|  |  | Irma Trawlers Inc.
|  |  | Iron Horse Inc.
|  |  | Isabel Maier Inc.
|  |  | Isabel Maier Inc.
|  |  | Isla Cruz Inc.
|  |  | J & J Rentals Inc.
|  |  | J & J Trawler's Inc.
|  |  | J & R Seafood.
|  |  | J Collins Trawlers.
|  |  | J D Land Co.
|  |  | Jackie & Hiep Trieu.
|  |  | Jacob A Inc.
|  |  | Jacquelin Marie Inc.
|  |  | Jacquelin Marie Inc.
|  |  | James D Quach Inc.
|  |  | James E Scott III.
|  |  | James F Dubberly.
|  |  | James Gadson.
|  |  | James J Matherne Jr.
|  |  | James J Matherne Sr.
|  |  | James Kenneth Lewis Sr.
|  |  | James LaRive Jr.
|  |  | James W Green Jr dba Miss Emilie Ann.
|  |  | James W Hicks.
|  |  | Janet Louise Inc.
|  |  | Jani Marie.
|  |  | JAS Inc.
|  |  | JBS Packing Co Inc.
|  |  | JBS Packing Inc.
|  |  | JCM.
|  |  | Jean's Bait.
|  |  | Jeff Chancey.
|  |  | Jemison Trawler's Inc.
|  |  | Jenna Dawn LLC.
|  |  | Jennifer Nguyen—Capt T.
|  |  | Jensen Seafood Pkg Co Inc.
|  |  | Jesse LeCompte Jr.
|  |  | Jesse LeCompte Sr.
|  |  | Jesse Shantelle Inc.
|  |  | Jessica Ann Inc.
|  |  | Jessica Inc.
|  |  | Jesus G Inc.
|  |  | Jimmy and Valerie Bonvillain.
|  |  | Jimmy Le Inc.
|  |  | Jim's Cajen Shrimp.
|  |  | Joan of Arc Inc.
|  |  | JoAnn and Michael W Daigle.
|  |  | Jody Martin.
|  |  | Joe Quach.
|  |  | Joel's Wild Oak Bait Shop & Fresh Seafood.
|  |  | John A Norris.
|  |  | John J Alexie.
|  |  | John Michael E Inc.
|  |  | John V Alexie.
|  |  | Johnny & Joyce's Seafood.
|  |  | Johnny O Co.
|  |  | Johnny's Seafood.
|  |  | John's Seafood.
|  |  | Joker's Wild.
|  |  | Jones—Kain Inc.
|  |  | Joni John Inc (Leon J Champagne).
|  |  | Jon's C Seafood Inc.
|  |  | Joseph Anthony.
|  |  | Joseph Anthony Inc.
|  |  | Joseph Garcia.
|  |  | Joseph Martino.
|  |  | Joseph Martino Corp.
|  |  | Joseph T Vermeulen.
|  |  | Josh & Jake Inc.
|  |  | Joya Cruz Inc.
|  |  | JP Fisheries.
|  |  | Julie Ann LLC.
|  |  | Julie Hoang.
|  |  | Julie Shrimp Co Inc (Trawler Julie).
|  |  | Julio Gonzalez Boat Builders Inc.
|  |  | Justin Dang.
|  |  | JW Enterprise.
|  |  | K & J Trawlers.
|  |  | K&D Boat Company.
|  |  | K&S Enterprises Inc.
|  |  | Kalliainen Seafoods Inc.
|  |  | KAM Fishing.
|  |  | Kandi Sue Inc.
|  |  | Karl M Belsome LLC.
|  |  | KBL Corp.
|  |  | KDH Inc.
|  |  | Keith M Swindell.
|  |  | Kellum's Seafood.
|  |  | Kellum's Seafood.
|  |  | Kelly Marie Inc.
|  |  | Ken Lee's Dock LLC.
|  |  | Kenneth Guidry.
|  |  | Kenny-Nancy Inc.
|  |  | Kentucky Fisheries Inc.
|  |  | Kentucky Trawlers Inc.
|  |  | Kevin & Bryan (M/V).
|  |  | Kevin Dang.
|  |  | Khang Dang.
|  |  | Khanh Huu Vu.
|  |  | Kheng Sok Shrimping.
|  |  | Kim & James Inc.
|  |  | Kim Hai II Inc.
|  |  | Kim Hai Inc.
|  |  | Kim's Seafood.
|  |  | Kingdom World Inc.
|  |  | Kirby Seafood.
|  |  | Klein Express.
|  |  | KMB Inc.
|  |  | Knight's Seafood Inc.
|  |  | Knight's Seafood Inc.
|  |  | Knowles Noel Camardelle.
|  |  | Kramer's Bait Co.
|  |  | Kris & Cody Inc.
|  |  | KTC Fishery LLC.
|  |  | L & M.
|  |  | L & N Friendship Corp.
|  |  | L & O Trawlers Inc.
|  |  | L & T Inc.
|  |  | L&M.
|  |  | LA—3184 CA.
|  |  | La Belle Idee.
|  |  | La Macarela Inc.
|  |  | La Pachita Inc.
|  |  | LA-6327-CA.
|  |  | LaBauve Inc.
|  |  | LaBauve Inc.
|  |  | Lade Melissa Inc.
|  |  | Lady Agnes II.
|  |  | Lady Agnes III.
|  |  | Lady Amelia Inc.
|  |  | Lady Anna I.
|  |  | Lady Anna II.
|  |  | Lady Barbara Inc.
|  |  | Lady Carolyn Inc.
|  |  | Lady Catherine.
|  |  | Lady Chancery Inc.
|  |  | Lady Chelsea Inc.
|  |  | Lady Danielle.
|  |  | Lady Debra Inc.
|  |  | Lady Dolcina Inc.
|  |  | Lady Gail Inc.
|  |  | Lady Katherine Inc.
|  |  | Lady Kelly Inc.
|  |  | Lady Kelly Inc.
|  |  | Lady Kristie.
|  |  | Lady Lavang LLC.
|  |  | Lady Liberty Seafood Co.
|  |  | Lady Lynn Ltd.
|  |  | Lady Marie Inc.
|  |  | Lady Melissa Inc.
|  |  | Lady Shelly.
|  |  | Lady Shelly.
|  |  | Lady Snow Inc.
|  |  | Lady Stephanie.
|  |  | Lady Susie Inc.
|  |  | Lady Kim T Inc.
|  |  | Lady TheLna.
|  |  | Lady Toni Inc.
|  |  | Lady Veronica.
|  |  | Lafitte Frozen Foods Corp.
|  |  | Lafont Inc.
|  |  | Lafourche Clipper Inc.
|  |  | Lafourche Clipper Inc.
|  |  | Lamarah Sue Inc.
|  |  | Lan Chi Inc.
|  |  | Lan Chi Inc.
|  |  | Lancero Inc.
|  |  | Lanny Renard and Daniel Bourque.
|  |  | Lapeyrouse Seafood Bar Groc Inc.
|  |  | Larry G Kellum Sr.
|  |  | Larry Scott Freeman.
|  |  | Larry W Hicks.
|  |  | Lasseigne & Sons Inc.
|  |  | Laura Lee.
|  |  | Lauren O.
|  |  | Lawrence Jacobs Sfd.
|  |  | Lazaretta Packing Inc.
|  |  | Le & Le Inc.
|  |  | Le Family Inc.
|  |  | Le Family Inc.
|  |  | Le Tra Inc.
|  |  | Leek & Millington Trawler Privateeer.
|  |  | Lee's Sales & Distribution.
|  |  | Leonard Shrimp Producers Inc.
|  |  | Leoncea B Regnier.
|  |  | Lerin Lane.
|  |  | Li Johnson.
|  |  | Liar Liar.
|  |  | Libertad Fisheries Inc.
|  |  | Liberty I.
|  |  | Lighthouse Fisheries Inc.
|  |  | Lil Aly.
|  |  | Lil Arthur Inc.
|  |  | Lil BJ LLC.
|  |  | Lil Robbie Inc.
|  |  | Lil Robbie Inc.
|  |  | Lil Robin.
|  |  | Lil Robin.
|  |  | Lilla.
|  |  | Lincoln.
|  |  | Linda & Tot Inc.
|  |  | Linda Cruz Inc.
|  |  | Linda Hoang Shrimp.
|  |  | Linda Lou Boat Corp.
|  |  | Linda Lou Boat Corp.
|  |  | Lisa Lynn Inc.
|  |  | Lisa Lynn Inc.
|  |  | Little Andrew Inc.
|  |  | Little Andy Inc.
|  |  | Little Arthur.
|  |  | Little David Gulf Trawler Inc.
|  |  | Little Ernie Gulf Trawler Inc.
|  |  | Little Ken Inc.
|  |  | Little Mark.
|  |  | Little William Inc.
|  |  | Little World.
|  |  | LJL Inc.
|  |  | Long Viet Nguyen.
|  |  | Longwater Seafood dba Ryan H Longwater.
|  |  | Louisiana Gulf Shrimp LLC.
|  |  | Louisiana Lady Inc.
|  |  | Louisiana Man.
|  |  | Louisiana Newpack Shrimp Co Inc.
|  |  | Louisiana Pride Seafood Inc.
|  |  | Louisiana Pride Seafood Inc.
|  |  | Louisiana Seafood Dist LLC.
|  |  | Louisiana Shrimp & Packing Inc.
|  |  | Louisiana Shrimp and Packing Co Inc.
|  |  | Lovely Daddy II & III.
|  |  | Lovely Jennie.
|  |  | Low Country Lady (Randolph N Rhodes).
|  |  | Low County Lady.
|  |  | Luchador Inc.
|  |  | Lucky.
|  |  | Lucky I.
|  |  | Lucky Jack Inc.
|  |  | Lucky Lady.
|  |  | Lucky Lady II.
|  |  | Lucky Leven Inc.
|  |  | Lucky MV.
|  |  | Lucky Ocean.
|  |  | Lucky Sea Star Inc.
|  |  | Lucky Star.
|  |  | Lucky World.
|  |  | Lucky's Seafood Market & Poboys LLC.
|  |  | Luco Drew's.
|  |  | Luisa Inc.
|  |  | Lupe Martinez Inc.
|  |  | LV Marine Inc.
|  |  | LW Graham Inc.
|  |  | Lyle LeCompte.
|  |  | Lynda Riley Inc.
|  |  | Lynda Riley Inc.
|  |  | M & M Seafood.
|  |  | M V Sherry D.
|  |  | M V Tony Inc.
|  |  | M&C Fisheries.
|  |  | M/V Baby Doll.
|  |  | M/V Chevo's Bitch.
|  |  | M/V Lil Vicki.
|  |  | M/V Loco-N Motion.
|  |  | M/V Patsy K #556871.
|  |  | M/V X L.
|  |  | Mabry Allen Miller Jr.
|  |  | Mad Max Seafood.
|  |  | Madera Cruz Inc.
|  |  | Madison Seafood.
|  |  | Madlin Shrimp Co Inc.
|  |  | Malibu.
|  |  | Malolo LLC.
|  |  | Mamacita Inc.
|  |  | Man Van Nguyen.
|  |  | Manteo Shrimp Co.
|  |  | Marco Corp.
|  |  | Marcos A.
|  |  | Maria Elena Inc.
|  |  | Maria Sandi.
|  |  | Mariachi Trawlers Inc.
|  |  | Mariah Jade Shrimp Company.
|  |  | Marie Teresa Inc.
|  |  | Marine Fisheries.
|  |  | Marisa Elida Inc.
|  |  | Mark and Jace.
|  |  | Marleann.
|  |  | Martin's Fresh Shrimp.
|  |  | Mary Bea Inc.
|  |  | Master Brandon Inc.
|  |  | Master Brock.
|  |  | Master Brock.
|  |  | Master Dylan.
|  |  | Master Gerald Trawlers Inc.
|  |  | Master Hai.
|  |  | Master Hai II.
|  |  | Master Henry.
|  |  | Master Jared Inc.
|  |  | Master Jhy Inc.
|  |  | Master John Inc.
|  |  | Master Justin Inc.
|  |  | Master Justin Inc.
|  |  | Master Ken Inc.
|  |  | Master Kevin Inc.
|  |  | Master Martin Inc.
|  |  | Master Mike Inc.
|  |  | Master NT Inc.
|  |  | Master Pee-Wee.
|  |  | Master Ronald Inc.
|  |  | Master Scott.
|  |  | Master Scott II.
|  |  | Master Seelos Inc.
|  |  | Master T.
|  |  | Master Tai LLC.
|  |  | Master Tai LLC.
|  |  | Mat Roland Seafood Co.
|  |  | Maw Doo.
|  |  | Mayflower.
|  |  | McQuaig Shrimp Co Inc.
|  |  | Me Kong.
|  |  | Melerine Seafood.
|  |  | Melody Shrimp Co.
|  |  | Mer Shrimp Inc.
|  |  | Michael Lynn.
|  |  | Michael Nguyen.
|  |  | Michael Saturday's Fresh Every Day South Carolina Shrimp.
|  |  | Mickey Nelson Net Shop.
|  |  | Mickey's Net.
|  |  | Midnight Prowler.
|  |  | Mike's Seafood Inc.
|  |  | Miley's Seafood Inc.
|  |  | Militello and Son Inc.
|  |  | Miller & Son Seafood Inc.
|  |  | Miller Fishing.
|  |  | Milliken & Son's.
|  |  | Milton J Dufrene and Son Inc.
|  |  | Milton Yopp—Capt'n Nathan & Thomas Winfield.
|  |  | Minh & Liem Doan.
|  |  | Mis Quynh Chi II.
|  |  | Miss Adrianna Inc.
|  |  | Miss Alice Inc.
|  |  | Miss Ann Inc.
|  |  | Miss Ann Inc.
|  |  | Miss Ashleigh.
|  |  | Miss Ashleigh Inc.
|  |  | Miss Barbara.
|  |  | Miss Barbara Inc.
|  |  | Miss Bernadette A Inc.
|  |  | Miss Bertha (M/V).
|  |  | Miss Beverly Kay.
|  |  | Miss Brenda.
|  |  | Miss Candace.
|  |  | Miss Candace Nicole Inc.
|  |  | Miss Carla Jean Inc.
|  |  | Miss Caroline Inc.
|  |  | Miss Carolyn Louise Inc.
|  |  | Miss Caylee.
|  |  | Miss Charlotte Inc.
|  |  | Miss Christine III.
|  |  | Miss Cleda Jo Inc.
|  |  | Miss Courtney Inc.
|  |  | Miss Courtney Inc.
|  |  | Miss Cynthia.
|  |  | Miss Danielle Gulf Trawler Inc.
|  |  | Miss Danielle LLC.
|  |  | Miss Dawn.
|  |  | Miss Ellie Inc.
|  |  | Miss Faye LLC.
|  |  | Miss Fina Inc.
|  |  | Miss Georgia Inc.
|  |  | Miss Hannah.
|  |  | Miss Hannah Inc.
|  |  | Miss Hazel Inc.
|  |  | Miss Hilary Inc.
|  |  | Miss Jennifer Inc.
|  |  | Miss Joanna Inc.
|  |  | Miss Julia.
|  |  | Miss Kandy Tran LLC.
|  |  | Miss Kandy Tran LLC.
|  |  | Miss Karen.
|  |  | Miss Kathi Inc.
|  |  | Miss Kathy.
|  |  | Miss Kaylyn LLC.
|  |  | Miss Khayla.
|  |  | Miss Lil.
|  |  | Miss Lillie Inc.
|  |  | Miss Liz Inc.
|  |  | Miss Loraine.
|  |  | Miss Loraine Inc.
|  |  | Miss Lori Dawn IV Inc.
|  |  | Miss Lori Dawn V Inc.
|  |  | Miss Lori Dawn VI Inc.
|  |  | Miss Lori Dawn VII Inc.
|  |  | Miss Lorie Inc.
|  |  | Miss Luana D Shrimp Co.
|  |  | Miss Luana D Shrimp Co.
|  |  | Miss Madeline Inc.
|  |  | Miss Madison.
|  |  | Miss Marie.
|  |  | Miss Marie Inc.
|  |  | Miss Marilyn Louis Inc.
|  |  | Miss Marilyn Louise.
|  |  | Miss Marilyn Louise Inc.
|  |  | Miss Marissa Inc.
|  |  | Miss Martha Inc.
|  |  | Miss Martha Inc.
|  |  | Miss Mary T.
|  |  | Miss Myle.
|  |  | Miss Narla.
|  |  | Miss Nicole.
|  |  | Miss Nicole Inc.
|  |  | Miss Plum Inc.
|  |  | Miss Quynh Anh I.
|  |  | Miss Quynh Anh I LLC.
|  |  | Miss Quynh Anh II LLC.
|  |  | Miss Redemption LLC.
|  |  | Miss Rhianna Inc.
|  |  | Miss Sambath.
|  |  | Miss Sandra II.
|  |  | Miss Sara Ann.
|  |  | Miss Savannah.
|  |  | Miss Savannah II.
|  |  | Miss Soriya.
|  |  | Miss Suzanne.
|  |  | Miss Sylvia.
|  |  | Miss Than.
|  |  | Miss Thom.
|  |  | Miss Thom Inc.
|  |  | Miss Tina Inc.
|  |  | Miss Trinh Trinh.
|  |  | Miss Trisha Inc.
|  |  | Miss Trisha Inc.
|  |  | Miss Verna Inc.
|  |  | Miss Vicki.
|  |  | Miss Victoria Inc.
|  |  | Miss Vivian Inc.
|  |  | Miss WillaDean.
|  |  | Miss Winnie Inc.
|  |  | Miss Yvette Inc.
|  |  | Miss Yvonne.
|  |  | Misty Morn Eat.
|  |  | Misty Star.
|  |  | MJM Seafood Inc.
|  |  | M'M Shrimp Co Inc.
|  |  | Mom & Dad Inc.
|  |  | Mona-Dianne Seafood.
|  |  | Montha Sok and Tan No Le.
|  |  | Moon River Inc.
|  |  | Moon Tillett Fish Co Inc.
|  |  | Moonlight.
|  |  | Moonlight Mfg.
|  |  | Moore Trawlers Inc.
|  |  | Morgan Creek Seafood.
|  |  | Morgan Rae Inc.
|  |  | Morning Star.
|  |  | Morrison Seafood.
|  |  | Mother Cabrini.
|  |  | Mother Teresa Inc.
|  |  | Mr & Mrs Inc.
|  |  | Mr & Mrs Inc.
|  |  | Mr Coolly.
|  |  | Mr Fox.
|  |  | Mr Fox.
|  |  | Mr G.
|  |  | Mr Gaget LLC.
|  |  | Mr Henry.
|  |  | Mr Natural Inc.
|  |  | Mr Neil.
|  |  | Mr Phil T Inc.
|  |  | Mr Sea Inc.
|  |  | Mr Verdin Inc.
|  |  | Mr Williams.
|  |  | Mrs Judy Too.
|  |  | Mrs Tina Lan Inc.
|  |  | Ms Alva Inc.
|  |  | Ms An.
|  |  | My Angel II.
|  |  | My Blues.
|  |  | My Dad Whitney Inc.
|  |  | My Girls LLC.
|  |  | My Thi Tran Inc.
|  |  | My Three Sons Inc.
|  |  | My V Le Inc.
|  |  | My-Le Thi Nguyen.
|  |  | Myron A Smith Inc.
|  |  | Nancy Joy.
|  |  | Nancy Joy Inc.
|  |  | Nancy Joy Inc.
|  |  | Nanny Granny Inc.
|  |  | Nanny Kat Seafood LLC.
|  |  | Napolean Seafoods.
|  |  | Napoleon II.
|  |  | Napoleon Seafood.
|  |  | Napoleon SF.
|  |  | Naquin's Seafood.
|  |  | Nautilus LLC.
|  |  | Nelma Y Lane.
|  |  | Nelson and Son.
|  |  | Nelson Trawlers Inc.
|  |  | Nelson's Quality Shrimp Company.
|  |  | Nevgulmarco Co Inc.
|  |  | New Deal Comm Fishing.
|  |  | New Way Inc.
|  |  | Nguyen Day Van.
|  |  | Nguyen Express.
|  |  | Nguyen Int'l Enterprises Inc.
|  |  | Nguyen Shipping Inc.
|  |  | NHU UYEN.
|  |  | Night Moves of Cut Off Inc.
|  |  | Night Shift LLC.
|  |  | Night Star.
|  |  | North Point Trawlers Inc.
|  |  | North Point Trawlers Inc.
|  |  | Nuestra Cruz Inc.
|  |  | Nunez Seafood.
|  |  | Oasis.
|  |  | Ocean Bird Inc.
|  |  | Ocean Breeze Inc.
|  |  | Ocean Breeze Inc.
|  |  | Ocean City Corp.
|  |  | Ocean Emperor Inc.
|  |  | Ocean Harvest Wholesale Inc.
|  |  | Ocean Pride Seafood Inc.
|  |  | Ocean Seafood.
|  |  | Ocean Select Seafood LLC.
|  |  | Ocean Springs Seafood Market Inc.
|  |  | Ocean Wind Inc.
|  |  | Oceanica Cruz Inc.
|  |  | Odin LLC.
|  |  | Old Maw Inc.
|  |  | Ole Holbrook's Fresh Fish Market LLC.
|  |  | Ole Nelle.
|  |  | One Stop Bait & Ice.
|  |  | Open Sea Inc.
|  |  | Orage Enterprises Inc.
|  |  | Orn Roeum Shrimping.
|  |  | Otis Cantrelle Jr.
|  |  | Otis M Lee Jr.
|  |  | Owens Shrimping.
|  |  | Palmetto Seafood Inc.
|  |  | Papa Rod Inc.
|  |  | Papa T.
|  |  | Pappy Inc.
|  |  | Pappy's Gold.
|  |  | Parfait Enterprises Inc.
|  |  | Paris/Asia.
|  |  | Parramore Inc.
|  |  | Parrish Shrimping Inc.
|  |  | Pascagoula Ice & Freezer Co Inc.
|  |  | Pat-Lin Enterprises Inc.
|  |  | Patricia Foret.
|  |  | Patrick Sutton Inc.
|  |  | Patty Trish Inc.
|  |  | Paul Piazza and Son Inc.
|  |  | Paw Paw Allen.
|  |  | Paw Paw Pride Inc.
|  |  | Pearl Inc dba Indian Ridge Shrimp Co.
|  |  | Pei Gratia Inc.
|  |  | Pelican Point Seafood Inc.
|  |  | Penny V LLC.
|  |  | Perlita Inc.
|  |  | Perseverance I LLC.
|  |  | Pete & Queenie Inc.
|  |  | Phat Le and Le Tran.
|  |  | Phi Long Inc.
|  |  | Phi-Ho LLC.
|  |  | Pip's Place Marina Inc.
|  |  | Plaisance Trawlers Inc.
|  |  | Plata Cruz Inc.
|  |  | Poc-Tal Trawlers Inc.
|  |  | Pointe-Aux-Chene Marina.
|  |  | Pontchautrain Blue Crab.
|  |  | Pony Express.
|  |  | Poppee.
|  |  | Poppy's Pride Seafood.
|  |  | Port Bolivar Fisheries Inc.
|  |  | Port Marine Supplies.
|  |  | Port Royal Seafood Inc.
|  |  | Poteet Seafood Co Inc.
|  |  | Potter Boats Inc.
|  |  | Price Seafood Inc.
|  |  | Prince of Tides.
|  |  | Princess Ashley Inc.
|  |  | Princess Celine Inc.
|  |  | Princess Cindy Inc.
|  |  | Princess Lorie LLC.
|  |  | Princess Mary Inc.
|  |  | Prosperity.
|  |  | PT Fisheries Inc.
|  |  | Punch's Seafood Mkt.
|  |  | Purata Trawlers Inc.
|  |  | Pursuer Inc.
|  |  | Quality Seafood.
|  |  | Quang Minh II Inc.
|  |  | Queen Lily Inc.
|  |  | Queen Mary.
|  |  | Queen Mary Inc.
|  |  | Quinta Cruz Inc.
|  |  | Quoc Bao Inc.
|  |  | Quynh NHU Inc.
|  |  | Quynh Nhu Inc.
|  |  | R & J Inc.
|  |  | R & K Fisheries LLC.
|  |  | R & L Shrimp Inc.
|  |  | R & P Fisheries.
|  |  | R & R Bait/Seafood.
|  |  | R & S Shrimping.
|  |  | R & T Atocha LLC.
|  |  | R & D Seafood.
|  |  | R & K Fisheries LLC.
|  |  | R & R Seafood.
|  |  | RA Lesso Brokerage Co Inc.
|  |  | RA Lesso Seafood Co Inc.
|  |  | Rachel-Jade.
|  |  | Ralph Lee Thomas Jr.
|  |  | Ralph W Jones.
|  |  | Ramblin Man Inc.
|  |  | Ranchero Trawlers Inc.
|  |  | Randall J Pinell Inc.
|  |  | Randall J Pinell Inc.
|  |  | Randall K and Melissa B Richard.
|  |  | Randall Pinell.
|  |  | Randy Boy Inc.
|  |  | Randy Boy Inc.
|  |  | Rang Dong.
|  |  | Raul L Castellanos.
|  |  | Raul's Seafood.
|  |  | Raul's Seafood.
|  |  | Rayda Cheramie Inc.
|  |  | Raymond LeBouef.
|  |  | RCP Seafood I II III.
|  |  | RDR Shrimp Inc.
|  |  | Reagan's Seafood.
|  |  | Rebecca Shrimp Co Inc.
|  |  | Rebel Seafood.
|  |  | Regulus.
|  |  | Rejimi Inc.
|  |  | Reno's Sea Food.
|  |  | Res Vessel.
|  |  | Reyes Trawlers Inc.
|  |  | Rick's Seafood Inc.
|  |  | Ricky B LLC.
|  |  | Ricky G Inc.
|  |  | Riffle Seafood.
|  |  | Rigolets Bait & Seafood LLC.
|  |  | Riverside Bait & Tackle.
|  |  | RJ's.
|  |  | Roatex Ent Inc.
|  |  | Robanie C Inc.
|  |  | Robanie C Inc.
|  |  | Robanie C Inc.
|  |  | Robert E Landry.
|  |  | Robert H Schrimpf.
|  |  | Robert Johnson.
|  |  | Robert Keenan Seafood.
|  |  | Robert Upton or Terry Upton.
|  |  | Robert White Seafood.
|  |  | Rockin Robbin Fishing Boat Inc.
|  |  | Rodney Hereford Jr.
|  |  | Rodney Hereford Sr.
|  |  | Rodney Hereford Sr.
|  |  | Roger Blanchard Inc.
|  |  | Rolling On Inc.
|  |  | Romo Inc.
|  |  | Ronald Louis Anderson Jr.
|  |  | Rosa Marie Inc.
|  |  | Rose Island Seafood.
|  |  | RPM Enterprises LLC.
|  |  | Rubi Cruz Inc.
|  |  | Ruf-N-Redy Inc.
|  |  | Ruttley Boys Inc.
|  |  | Sadie D Seafood.
|  |  | Safe Harbour Seafood Inc.
|  |  | Salina Cruz Inc.
|  |  | Sally Kim III.
|  |  | Sally Kim IV.
|  |  | Sam Snodgrass & Co.
|  |  | Samaira Inc.
|  |  | San Dia.
|  |  | Sand Dollar Inc.
|  |  | Sandy N.
|  |  | Sandy O Inc.
|  |  | Santa Fe Cruz Inc.
|  |  | Santa Maria I Inc.
|  |  | Santa Maria II.
|  |  | Santa Monica Inc.
|  |  | Scavanger.
|  |  | Scooby Inc.
|  |  | Scooby Inc.
|  |  | Scottie and Juliette Dufrene.
|  |  | Scottie and Juliette Dufrene.
|  |  | Sea Angel.
|  |  | Sea Angel Inc.
|  |  | Sea Bastion Inc.
|  |  | Sea Drifter Inc.
|  |  | Sea Durbin Inc.
|  |  | Sea Eagle.
|  |  | Sea Eagle Fisheries Inc.
|  |  | Sea Frontier Inc.
|  |  | Sea Gold Inc.
|  |  | Sea Gulf Fisheries Inc.
|  |  | Sea Gypsy Inc.
|  |  | Sea Hawk I Inc.
|  |  | Sea Horse Fisheries.
|  |  | Sea Horse Fisheries Inc.
|  |  | Sea King Inc.
|  |  | Sea Pearl Seafood Company Inc.
|  |  | Sea Queen IV.
|  |  | Sea Trawlers Inc.
|  |  | Sea World.
|  |  | Seabrook Seafood Inc.
|  |  | Seabrook Seafood Inc.
|  |  | Seafood & Us Inc.
|  |  | Seaman's Magic Inc.
|  |  | Seaman's Magic Inc.
|  |  | Seaside Seafood Inc.
|  |  | Seaweed 2000.
|  |  | Seawolf Seafood.
|  |  | Second Generation Seafood.
|  |  | Shark Co Seafood Inter Inc.
|  |  | Sharon—Ali Michelle Inc.
|  |  | Shelby & Barbara Seafood.
|  |  | Shelby & Barbara Seafood.
|  |  | Shelia Marie LLC.
|  |  | Shell Creek Seafood Inc.
|  |  | Shirley Elaine.
|  |  | Shirley Girl LLC.
|  |  | Shrimp Boat Patrice.
|  |  | Shrimp Boating Inc.
|  |  | Shrimp Express.
|  |  | Shrimp Man.
|  |  | Shrimp Networks Inc.
|  |  | Shrimp Trawler.
|  |  | Shrimper.
|  |  | Shrimper.
|  |  | Shrimpy's.
|  |  | Si Ky Lan Inc.
|  |  | Si Ky Lan Inc.
|  |  | Si Ky Lan Inc.
|  |  | Sidney Fisheries Inc.
|  |  | Silver Fox.
|  |  | Silver Fox LLC.
|  |  | Simon.
|  |  | Sims Shrimping.
|  |  | Skip Toomer Inc.
|  |  | Skip Toomer Inc.
|  |  | Skyla Marie Inc.
|  |  | Smith & Sons Seafood Inc.
|  |  | Snowdrift.
|  |  | Snowdrift.
|  |  | Sochenda.
|  |  | Soeung Phat.
|  |  | Son T Le Inc.
|  |  | Son's Pride Inc.
|  |  | Sophie Marie Inc.
|  |  | Soul Mama Inc.
|  |  | Souther Obsession Inc.
|  |  | Southern Lady.
|  |  | Southern Nightmare Inc.
|  |  | Southern Star.
|  |  | Southshore Seafood.
|  |  | Spencers Seafood.
|  |  | Sprig Co Inc.
|  |  | St Anthony Inc.
|  |  | St Daniel Phillip Inc.
|  |  | St Dominic.
|  |  | St Joseph.
|  |  | St Joseph.
|  |  | St Joseph II Inc.
|  |  | St Joseph III Inc.
|  |  | St Joseph IV Inc.
|  |  | St Martin.
|  |  | St Martyrs VN.
|  |  | St Mary Seafood.
|  |  | St Mary Seven.
|  |  | St Mary Tai.
|  |  | St Michael Fuel & Ice Inc.
|  |  | St Michael's Ice & Fuel.
|  |  | St Peter.
|  |  | St Peter 550775.
|  |  | St Teresa Inc.
|  |  | St Vincent Andrew Inc.
|  |  | St Vincent Gulf Shrimp Inc.
|  |  | St Vincent One B.
|  |  | St Vincent One B Inc.
|  |  | St Vincent SF.
|  |  | St Vincent Sfd Inc.
|  |  | Start Young Inc.
|  |  | Steamboat Bills Seafood.
|  |  | Stella Mestre Inc.
|  |  | Stephen Dantin Jr.
|  |  | Stephney's Seafood.
|  |  | Stipelcovich Marine Wks.
|  |  | Stone-Co Farms LP.
|  |  | Stone-Co Farms LP.
|  |  | Stormy Sean Inc.
|  |  | Stormy Seas Inc.
|  |  | Sun Star Inc.
|  |  | Sun Swift Inc.
|  |  | Sunshine.
|  |  | Super Coon Inc.
|  |  | Super Cooper Inc.
|  |  | Swamp Irish Inc.
|  |  | Sylvan P Racine Jr—Capt Romain.
|  |  | T & T Seafood.
|  |  | T Brothers.
|  |  | T Cvitanovich Seafood LLC.
|  |  | Ta Do.
|  |  | Ta T Vo Inc.
|  |  | Ta T Vo Inc.
|  |  | Tana Inc.
|  |  | Tanya Lea Inc.
|  |  | Tanya Lea Inc.
|  |  | Tanya Lea Inc.
|  |  | Tasha Lou.
|  |  | T-Brown Inc.
|  |  | Tee Frank Inc.
|  |  | Tee Tigre Inc.
|  |  | Tercera Cruz Inc.
|  |  | Terrebonne Seafood Inc.
|  |  | Terri Monica.
|  |  | Terry Luke Corp.
|  |  | Terry Luke Corp.
|  |  | Terry Luke Corp.
|  |  | Terry Lynn Inc.
|  |  | Te-Sam Inc.
|  |  | Texas 1 Inc.
|  |  | Texas 18 Inc.
|  |  | Texas Lady Inc.
|  |  | Texas Pack Inc.
|  |  | Tex-Mex Cold Storage Inc.
|  |  | Tex-Mex Cold Storage Inc.
|  |  | Thai & Tran Inc.
|  |  | Thai Bao Inc.
|  |  | Thanh Phong.
|  |  | The Boat Phat Tai.
|  |  | The Fishermans Dock.
|  |  | The Last One.
|  |  | The Light House Bait & Seafood Shack LLC.
|  |  | The Mayporter Inc.
|  |  | The NGO.
|  |  | The Seafood Shed.
|  |  | Thelma J Inc.
|  |  | Theresa Seafood Inc.
|  |  | Third Tower Inc.
|  |  | Thomas Winfield—Capt Nathan.
|  |  | Thompson Bros.
|  |  | Three C's.
|  |  | Three Dads.
|  |  | Three Sons.
|  |  | Three Sons Inc.
|  |  | Three Sons Inc.
|  |  | Thunder Roll.
|  |  | Thunderbolt Fisherman's Seafood Inc.
|  |  | Thy Tra Inc.
|  |  | Thy Tra Inc.
|  |  | Tidelands Seafood Co Inc.
|  |  | Tiffani Claire Inc.
|  |  | Tiffani Claire Inc.
|  |  | Tiger Seafood.
|  |  | Tikede Inc.
|  |  | Timmy Boy Corp.
|  |  | Tina Chow.
|  |  | Tina T LLC.
|  |  | Tino Mones Seafood.
|  |  | TJ's Seafood.
|  |  | Toan Inc.
|  |  | Todd Co.
|  |  | Todd's Fisheries.
|  |  | Tom LE LLC.
|  |  | Tom Le LLC.
|  |  | Tom N & Bill N Inc.
|  |  | Tommy Bui dba Mana II.
|  |  | Tommy Cheramie Inc.
|  |  | Tommy Gulf Sea Food Inc.
|  |  | Tommy's Seafood Inc.
|  |  | Tonya Jane Inc.
|  |  | Tony-N.
|  |  | Tookie Inc.
|  |  | Tot & Linda Inc.
|  |  | T-Pops Inc.
|  |  | Tran Phu Van.
|  |  | Tran's Express Inc.
|  |  | Travis—Shawn.
|  |  | Travis—Shawn.
|  |  | Trawler Azteca.
|  |  | Trawler Becky Lyn Inc.
|  |  | Trawler Capt GC.
|  |  | Trawler Capt GC II.
|  |  | Trawler Dalia.
|  |  | Trawler Doctor Bill.
|  |  | Trawler Gulf Runner.
|  |  | Trawler HT Seaman.
|  |  | Trawler Joyce.
|  |  | Trawler Kristi Nicole.
|  |  | Trawler Kyle & Courtney.
|  |  | Trawler Lady Catherine.
|  |  | Trawler Lady Gwen Doe.
|  |  | Trawler Linda B Inc.
|  |  | Trawler Linda June.
|  |  | Trawler Little Brothers.
|  |  | Trawler Little Gavino.
|  |  | Trawler Little Rookie Inc.
|  |  | Trawler Mary Bea.
|  |  | Trawler Master Alston.
|  |  | Trawler Master Jeffrey Inc.
|  |  | Trawler Michael Anthony Inc.
|  |  | Trawler Mildred Barr.
|  |  | Trawler Miss Alice Inc.
|  |  | Trawler Miss Jamie.
|  |  | Trawler Miss Kelsey.
|  |  | Trawler Miss Sylvia Inc.
|  |  | Trawler Mrs Viola.
|  |  | Trawler Nichols Dream.
|  |  | Trawler Raindear Partnership.
|  |  | Trawler Rhonda Kathleen.
|  |  | Trawler Rhonda Lynn.
|  |  | Trawler Sandra Kay.
|  |  | Trawler Sarah Jane.
|  |  | Trawler Sea Wolf.
|  |  | Trawler Sea Wolf.
|  |  | Trawler SS Chaplin.
|  |  | Trawler The Mexican.
|  |  | Trawler Wallace B.
|  |  | Trawler Wylie Milam.
|  |  | Triple C Seafood.
|  |  | Triple T Enterprises Inc.
|  |  | Triplets Production.
|  |  | Tropical SFD.
|  |  | Troy A LeCompte Sr.
|  |  | True World Foods Inc.
|  |  | T's Seafood.
|  |  | Tu Viet Vu.
|  |  | TVN Marine Inc.
|  |  | TVN Marine Inc.
|  |  | Two Flags Inc.
|  |  | Tyler James.
|  |  | Ultima Cruz Inc.
|  |  | UTK Enterprises Inc.
|  |  | V & B Shrimping LLC.
|  |  | Valona Sea Food.
|  |  | Valona Seafood Inc.
|  |  | Van Burren Shrimp Co.
|  |  | Vaquero Inc.
|  |  | Varon Inc.
|  |  | Venetian Isles Marina.
|  |  | Venice Seafood Exchange Inc.
|  |  | Venice Seafood LLC.
|  |  | Vera Cruz Inc.
|  |  | Veronica Inc.
|  |  | Versaggi Shrimp Corp.
|  |  | Victoria Rose Inc.
|  |  | Viet Giang Corp.
|  |  | Vigilante Trawlers Inc.
|  |  | Village Creek Seafood.
|  |  | Villers Seafood Co Inc.
|  |  | Vina Enterprises Inc.
|  |  | Vincent L Alexie Jr.
|  |  | Vincent Piazza Jr & Sons Seafood Inc.
|  |  | Vin-Penny.
|  |  | Vivian Lee Inc.
|  |  | Von Harten Shrimp Co Inc.
|  |  | VT & L Inc.
|  |  | Vu NGO.
|  |  | Vu-Nguyen Partners.
|  |  | W L & O Inc.
|  |  | Waccamaw Producers.
|  |  | Wait-N-Sea Inc.
|  |  | Waller Boat Corp.
|  |  | Walter R Hicks.
|  |  | Ward Seafood Inc.
|  |  | Washington Seafood.
|  |  | Watermen Industries Inc.
|  |  | Watermen Industries Inc.
|  |  | Waymaker Inc.
|  |  | Wayne Estay Shrimp Co Inc.
|  |  | WC Trawlers Inc.
|  |  | We Three Inc.
|  |  | We Three Inc.
|  |  | Webster's Inc.
|  |  | Weems Bros.
|  |  | Weems Bros.
|  |  | Weems Bros.
|  |  | Weems Bros.
|  |  | Weems Bros.
|  |  | Weems Bros.
|  |  | Weems Bros.
|  |  | Weems Bros.
|  |  | Weems Bros.
|  |  | Weems Bros.
|  |  | Weems Bros.
|  |  | Weems Bros.
|  |  | Weems Bros.
|  |  | Weems Bros.
|  |  | Weems Bros Seafood.
|  |  | Weems Bros Seafood Co.
|  |  | Weiskopf Fisheries LLC.
|  |  | Wendy & Eric Inc.
|  |  | Wescovich Inc.
|  |  | West Point Trawlers Inc.
|  |  | Westley J Domangue.
|  |  | WH Blanchard Inc.
|  |  | Whiskey Joe Inc.
|  |  | White and Black.
|  |  | White Bird.
|  |  | White Foam.
|  |  | White Gold.
|  |  | Wilcox Shrimping Inc.
|  |  | Wild Bill.
|  |  | Wild Eagle Inc.
|  |  | William E Smith Jr Inc.
|  |  | William Lee Inc.
|  |  | William O Nelson Jr.
|  |  | William Patrick Inc.
|  |  | William Smith Jr Inc.
|  |  | Willie Joe Inc.
|  |  | Wind Song Inc.
|  |  | Wonder Woman.
|  |  | Woods Fisheries Inc.
|  |  | Woody Shrimp Co Inc.
|  |  | Yeaman's Inc.
|  |  | Yen Ta.
|  |  | Yogi's Shrimp.
|  |  | You & Me Shrimp.
|  |  | Ysclaskey Seafood.
|  |  | Zirlott Trawlers Inc.
|  |  | Zirlott Trawlers Inc.

[FR Doc. 2019-10719 Filed 5-30-19; 8:45 am]

BILLING CODE 9111-14-P